OFFICE OF PERSONNEL MANAGEMENT

SES Positions That Were Career Reserved During CY 2018

AGENCY: Office of Personnel Management (OPM).

ACTION: Notice.

SUMMARY: As required by section 3132(b)(4) of title 5, United States Code, this gives notice of all positions in the Senior Executive Service (SES) that were career reserved during calendar year 2018.

FOR FURTHER INFORMATION CONTACT: Julia Alford, Senior Executive Resources Services, Senior Executive Services and Performance Management, Employee Services, 202-606-2246.

SUPPLEMENTARY INFORMATION: Below is a list of titles of SES positions that were career reserved at any time during calendar year 2018, regardless of whether those positions were still career reserved as of December 31, 2018. Section 3132(b)(4) of title 5, United States Code, requires that the head of each agency publish such lists by March 1 of the following year. The Office of Personnel Management is publishing a consolidated list for all agencies.

Positions That Were Career Reserved During Calendar Year 2018
Agency | Organization | Title
ADMINISTRATIVE CONFERENCE OF THE UNITED STATES | ADMINISTRATIVE CONFERENCE OF THE UNITED STATES | DIRECTOR OF FINANCE AND OPERATIONS. EXECUTIVE DIRECTOR. GENERAL COUNSEL.
ADVISORY COUNCIL ON HISTORIC PRESERVATION | OFFICE OF THE EXECUTIVE DIRECTOR | EXECUTIVE DIRECTOR.
DEPARTMENT OF AGRICULTURE | OFFICE OF COMMUNICATIONS | DEPUTY DIRECTOR, CREATIVE DEVELOPMENT.
| OFFICE OF THE CHIEF INFORMATION OFFICER | ASSOCIATE CHIEF INFORMATION OFFICER, INTERNATIONAL TECHNOLOGY SERVICES.
|  | DEPUTY CHIEF INFORMATION OFFICER FOR OPERATIONS AND INFRASTRUCTURE.
| OFFICE OF THE CHIEF FINANCIAL OFFICER | ASSOCIATE CHIEF FINANCIAL OFFICER FOR FINANCIAL POLICY AND PLANNING.
|  | ASSOCIATE CHIEF FINANCIAL OFFICER, FINANCIAL SYSTEMS PLANNING AND MANAGEMENT.
|  | DEPUTY CHIEF FINANCIAL OFFICER.
| NATIONAL FINANCE CENTER | DEPUTY DIRECTOR, NATIONAL FINANCE CENTER.
|  | DIRECTOR, FINANCIAL SERVICES DIVISION.
|  | DIRECTOR, INFORMATION TECHNOLOGY MANAGEMENT DIVISION.
| OFFICE OF THE GENERAL COUNSEL | ASSISTANT GENERAL COUNSEL, NATURAL RESOURCES AND ENVIRONMENT DIVISION.
|  | ASSOCIATE GENERAL COUNSEL, GENERAL LAW AND RESEARCH DIVISION.
| OFFICE OF THE CHIEF ECONOMIST | CHAIRPERSON. DEPUTY CHIEF ECONOMIST.
|  | DIRECTOR GLOBAL CHANGE PROGRAM OFFICE.
|  | DIRECTOR, OFFICE OF ENERGY POLICY AND NEW USES.
|  | DIRECTOR, OFFICE OF RISK ASSESSMENT AND COST-BENEFIT ANALYSIS.
| OFFICE OF HOMELAND SECURITY AND EMERGENCY COORDINATION | DEPUTY DIRECTOR OF HOMELAND SECURITY AND EMERGENCY COORDINATION.
| OFFICE OF HUMAN RESOURCES MANAGEMENT | EXECUTIVE DIRECTOR, EXECUTIVE RESOURCES MANAGEMENT DIVISION. PROVOST, USDA VIRTUAL UNIVERSITY.
| OFFICE OF ADVOCACY AND OUTREACH | DIRECTOR, OFFICE OF ADVOCACY AND OUTREACH.
| OFFICE OF OPERATIONS | DEPUTY DIRECTOR OF OPERATIONS. DIRECTOR, OFFICE OF OPERATIONS.
| PROCUREMENT AND PROPERTY MANAGEMENT | DEPUTY DIRECTOR, OFFICE OF PROCUREMENT AND PROPERTY MANAGEMENT.
|  | DIRECTOR, PROCUREMENT AND PROPERTY MANAGEMENT.
| RURAL BUSINESS SERVICE | DEPUTY ADMINISTRATOR, BUSINESS PROGRAMS.
|  | DEPUTY ADMINISTRATOR, ENERGY PROGRAMS.
| RURAL HOUSING SERVICE | CHIEF FINANCIAL OFFICER. DEPUTY ADMINISTRATOR FOR OPERATIONS AND MANAGEMENT.
|  | DEPUTY ADMINISTRATOR, CENTRALIZED SERVICING CENTER.
|  | DEPUTY ADMINISTRATOR, MULTI-FAMILY HOUSING.
|  | DIRECTOR, BUDGET DIVISION.
|  | DIRECTOR, HUMAN RESOURCES.
|  | DIRECTOR, RURAL HOUSING SERVICE.
| AGRICULTURAL MARKETING SERVICE | ASSOCIATE ADMINISTRATOR. DEPUTY ADMINISTARTOR, LIVESTOCK AND SEED PROGRAMS.
|  | DEPUTY ADMINISTRATOR FOR NATIONAL ORGANIC PROGRAMS.
|  | DEPUTY ADMINISTRATOR, COMPLIANCE AND ANALYSIS.
|  | DEPUTY ADMINISTRATOR, COTTON AND TOBACCO PROGRAMS.
|  | DEPUTY ADMINISTRATOR, DAIRY PROGRAMS.
|  | DEPUTY ADMINISTRATOR, FAIR TRADE PRACTICES PROGRAM.
|  | DEPUTY ADMINISTRATOR, INFORMATION TECHNOLOGY SERVICES.
|  | DEPUTY ADMINISTRATOR, SCIENCE AND TECHNOLOGY PROGRAMS.
|  | DEPUTY ADMINISTRATOR, SPECIALTY CROPS.
|  | DEPUTY ADMINISTRATOR, TRANSPORTATION AND MARKETING PROGRAMS.
| ANIMAL AND PLANT HEALTH INSPECTION SERVICE | ASSISTANT DEPUTY ADMINISTRATOR, PLANT PROTECTION AND QUARANTINE. ASSOCIATE DEPUTY ADMINISTRATOR FOR ANIMAL CARE.
|  | ASSOCIATE DEPUTY ADMINISTRATOR FOR MARKETING AND REGULATORY PROGRAMS—BUSNINESS SERVICES.
|  | ASSOCIATE DEPUTY ADMINISTRATOR, EMERGING AND INTERNATIONAL PROGRAMS.
|  | ASSOCIATE DEPUTY ADMINISTRATOR, NATIONAL IMPORT EXPORT SERVICES.
|  | ASSOCIATE DEPUTY ADMINISTRATOR, SURVEILLANCE, PREPAREDNESS, AND RESPONSE SERVICE.
|  | ASSOCIATE DEPUTY ADMINISTRATOR, VETERINARY SERVICES (2).
|  | ASSOCIATE DEPUTY ADMINISTRATOR, WILDLIFE SERVICES.
|  | CHIEF ADVISOR (GOVERNMENT, ACADEMIA AND INDUSTRY PARTNERSHIP).
|  | CHIEF FINANCIAL OFFICER.
|  | DEPUTY ADMINISTRATOR FOR INTERNATIONAL SERVICES.
|  | DEPUTY ADMINISTRATOR FOR MARKETING AND REGULATORY PROGRAMS—BUSINESS SERVICES.
|  | DEPUTY ADMINISTRATOR, ANIMAL CARE.
|  | DEPUTY ADMINISTRATOR, BIOTECHNOLOGY REGULATORY PROGRAMS.
|  | DEPUTY ADMINISTRATOR, LEGISLATIVE AND PUBLIC AFFAIRS.
|  | DEPUTY ADMINISTRATOR, WILDLIFE SERVICES.
|  | DIRECTOR, EASTERN REGION, WILDLIFE SERVICES.
|  | DIRECTOR, INFORMATION TECHNOLOGY DIVISION.
|  | DIRECTOR, INVESTIGATIVE AND ENFORCEMENT SERVICES.
|  | DIRECTOR, NATIONAL IMPORT EXPORT SERVICE.
|  | DIRECTOR, NATIONAL WILDLIFE RESEARCH CENTER.
|  | EXECUTIVE DIRECTOR, CENTER FOR PLANT HEALTH SCIENCE AND TECHNOLOGY.
|  | EXECUTIVE DIRECTOR, WESTERN REGION, WILDLIFE SERVICES.
|  | HUMAN RESOURCES OFFICER.
| VETERINARY SERVICES | ASSOCIATE DEPUTY ADMINISTRATOR, NATIONAL ANIMAL HEALTH POLICY PROGRAMS.
|  | DIRECTOR, WESTERN REGION, VETERINARY SERVICES.
|  | EXECUTIVE DIRECTOR, SCIENCE, TECHNOLOGY AND ANALYSIS SERVICE.
|  | EXECUTIVE DIRECTOR, SURVEILLANCE, PREPAREDNESS AND RESPONSE SERVICES, VETERINARY SERVICES.
| PLANT PROTECTION AND QUARANTINE SERVICE | EXECUTIVE DIRECTOR, EASTERN REGION, PLANT PROTECTION AND QUARANTINE. EXECUTIVE DIRECTOR, POLICY MANAGEMENT.
|  | EXECUTIVE DIRECTOR, WESTERN REGION, PLANT PROTECTION AND QUARANTINE.
| GRAIN INSPECTION, PACKERS AND STOCKYARDS ADMINISTRATION | DIRECTOR FIELD MANAGEMENT DIVISION.
| OFFICE OF THE UNDER SECRETARY FOR FOOD SAFETY | DEPUTY UNDER SECRETARY FOR FOOD SAFETY.
| FOOD SAFETY AND INSPECTION SERVICE | ASSISTANT ADMINISTRATOR, OFFICE OF DATA INTEGRATION AND FOOD PROTECTION. ASSISTANT ADMINISTRATOR, OFFICE OF FIELD OPERATIONS.
|  | ASSISTANT ADMINISTRATOR, OFFICE OF INVESTIGATION, ENFORCEMENT AND AUDITING.
|  | ASSISTANT ADMINISTRATOR, OFFICE OF MANAGEMENT.
|  | ASSISTANT ADMINISTRATOR, OFFICE OF POLICY AND PROGRAM DEVELOPMENT.
|  | ASSISTANT ADMINISTRATOR, OFFICE OF PUBLIC AFFAIRS AND CONSUMER EDUCATION.
|  | ASSISTANT ADMINISTRATOR, OFFICE OF OUTREACH, EMPLOYEE EDUCATION AND TRAINING.
|  | ASSISTANT CHIEF INFORMATION OFFICER.
|  | CHIEF FINANCIAL OFFICER.
|  | CHIEF OPERATING OFFICER.
|  | DEPUTY ADMINISTRATOR.
|  | DEPUTY ASSISTANT ADMINISTRATOR, OFFICE OF DATA INTEGRATION AND FOOD PROGRAM.
|  | DEPUTY ASSISTANT ADMINISTRATOR, OFFICE OF FIELD OPERATIONS.
|  | DEPUTY ASSISTANT ADMINISTRATOR, OFFICE OF MANAGEMENT.
|  | DEPUTY ASSISTANT ADMINISTRATOR, OFFICE OF POLICY AND PROGRAM DEVELOPMENT.
|  | DEPUTY ASSISTANT ADMINISTRATOR, OFFICE OF PUBLIC HEALTH SCIENCE.
|  | DEPUTY ASSISTANT ADMINISTRATOR, OFFICE OF INVESTIGATION, ENFORCEMENT AND AUDIT.
|  | EXECUTIVE ASSOCIATE FOR EMPLOYEE EXPERIENCE.
|  | EXECUTIVE ASSOCIATE FOR LABORATORY SERVICES, OFFICE OF PUBLIC HEALTH SCIENCE.
|  | EXECUTIVE ASSOCIATE FOR REGULATORY OPERATIONS, OFFICE OF FIELD OPERATIONS.
|  | INTERNATIONAL AFFAIRS LIAISON OFFICER.
|  | UNITED STATES MANAGER FOR CODEX.
| FOOD AND NUTRITION SERVICE | CHIEF OPERATING OFFICER. FINANCIAL MANAGER.
|  | PROGRAM MANAGER (ASSOCIATE ADMINISTRATOR FOR REGIONAL OPERATIONS AND SUPPORT).
|  | PROGRAM MANAGER (DEPUTY ADMINISTRATOR FOR MANAGEMENT).
| FOREIGN AGRICULTURAL SERVICE | ASSOCIATE ADMINISTRATOR (CHIEF OPERATING OFFICER). DEPUTY ADMINISTRATOR, OFFICE OF GLOBAL ANALYSIS.
| FARM SERVICE AGENCY | ASSISTANT DEPUTY ADMINISTRATOR FARM PROGRAMS.
|  | DEPUTY ADMINISTRATOR FOR FARM LOAN PROGRAMS.
|  | DEPUTY DIRECTOR, OFFICE OF BUDGET AND FINANCE.
|  | DIRECTOR, BUSINESS AND PROGRAM INTEGRATION.
|  | DIRECTOR, HUMAN RESOURCES DIVISION.
|  | DIRECTOR, OFFICE OF BUDGET AND FINANCE.
| RISK MANAGEMENT AGENCY | DEPUTY ADMINISTRATOR FOR INSURANCE SERVICES DIVISION. DEPUTY ADMINISTRATOR FOR PRODUCT MANAGEMENT.
| OFFICE OF THE UNDER SECRETARY FOR RESEARCH, EDUCATION, AND ECONOMICS | DIRECTOR OFFICE OF THE USDA CHIEF SCIENTIST.
| AGRICULTURAL RESEARCH SERVICE | ASSISTANT ADMINISTRATOR FOR TECHNOLOGY TRANSFER. ASSOCIATE ADMINISTRATOR, RESEARCH OPERATIONS AND MANAGEMENT.
|  | ASSOCIATE DEPUTY ADMINISTRATOR FOR ADMINISTRATIVE AND FINANCIAL MANAGEMENT.
|  | CHIEF FINANCIAL OFFICER.
|  | CHIEF INFORMATION OFFICER.
|  | DEPUTY ADMINISTRATOR FOR ADMINISTRATIVE AND FINANCIAL MANAGEMENT.
|  | DIRECTOR, OFFICE OF PEST MANAGEMENT POLICY.
| OFFICE OF NATIONAL PROGRAMS | ASSOCIATE ADMINISTRATOR, NATIONAL PROGRAMS. DEPUTY ADMINISTRATOR FOR NATURAL RESOURCES AND SUSTAINABLE ARGICULTURE SYSTEMS.
|  | DEPUTY ADMINISTRATOR, ANIMAL PRODUCTION AND PROTECTION.
|  | DEPUTY ADMINISTRATOR, CROP PRODUCTION AND PROTECTION.
|  | DEPUTY ADMINISTRATOR, NUTRITION, FOOD SAFETY AND QUALITY.
| NORTHEAST AREA OFFICE | ASSOCIATE DIRECTOR, NORTHEAST AREA. DIRECTOR NORTHEAST AREA OFFICE.
|  | DIRECTOR, BELTSVILLE AGRICULTURAL RESEARCH CENTER.
|  | DIRECTOR, EASTERN REGIONAL RESEARCH CENTER.
| SOUTHEAST AREA OFFICE | ASSOCIATE DIRECTOR, SOUTHEAST AREA.
|  | DIRECTOR, SOUTH EAST AREA.
|  | DIRECTOR, SOUTHERN REGIONAL RESEARCH CENTER.
| MIDWEST AREA OFFICE | ASSOCIATE DIRECTOR MIDWEST AREA (2). DIRECTOR, MIDWEST AREA.
|  | DIRECTOR, NATIONAL CENTER FOR AGRICULTURE UTILIZATION.
| PLAINS AREA OFFICE | ASSOCIATE DIRECTOR, PLAINS AREA OFFICE. DIRECTOR, PLAINS AREA.
|  | DIRECTOR, UNITED STATES MEAT ANIMAL RESEARCH CENTER.
| PACIFIC WEST AREA OFFICE | ASSOCIATE DIRECTOR, PACIFIC WEST AREA OFFICE. DIRECTOR, PACIFIC WEST AREA OFFICE.
|  | DIRECTOR, WESTERN HUMAN NUTRITION RESEARCH CENTER.
|  | DIRECTOR, WESTERN REGIONAL RESEARCH CENTER.
| NATIONAL INSTITUE OF FOOD AND AGRICULTURE | ASSISTANT DIRECTOR, INSTITUTE OF BIOENERGY, CLIMATE, AND ENVIRONMENT. ASSISTANT DIRECTOR, OFFICE OF GRANTS AND FINANCIAL MANAGEMENT.
|  | DEPUTY DIRECTOR, INSTITUTE OF FOOD SAFETY AND NUTRITION.
|  | DEPUTY DIRECTOR, OFFICE OF INFORMATION TECHNOLOGY.
| ECONOMIC RESEARCH SERVICE | ADMINISTRATOR, ECONOMIC RESEARCH SERVICE.
|  | ASSOCIATE ADMINISTRATOR, ECONOMIC RECEARCH SERVICE.
|  | DIRECTOR, FOOD ECONOMICS DIVISION.
|  | DIRECTOR, INFORMATION SERVICES DIVISION.
|  | DIRECTOR, MARKET AND TRADE ECONOMICS DIVISION.
|  | DIRECTOR, RESOURCE AND RURAL ECONOMICS DIVISION.
| NATIONAL AGRICULTURAL STATISTICS SERVICE | ADMINISTRATOR, NATIONAL AGRICULTURAL STATISTICS SERVICE. ASSOCIATE ADMINISTRATOR.
|  | DIRECTOR EASTERN FIELD OPERATIONS.
|  | DIRECTOR, CENSUS AND SURVEY DIVISION.
|  | DIRECTOR, INFORMATION TECHNOLOGY DIVISION.
|  | DIRECTOR, METHODOLOGY DIVISION.
|  | DIRECTOR, NATIONAL OPERATIONS CENTER.
|  | DIRECTOR, STATISTICS DIVISION.
|  | DIRECTOR, WESTERN FIELD OPERATIONS.
| NATURAL RESOURCES CONSERVATION SERVICE | ASSOCIATE CHIEF FOR OPERATIONS/CHIEF OPERATING OFFICER. CHIEF FINANCIAL OFFICER.
|  | CHIEF PROCUREMENT AND PROPERTY OFFICER.
|  | DEPUTY CHIEF FOR PROGRAMS.
|  | DEPUTY CHIEF FOR STRATEGIC PLANNING AND ACCOUNTABILITY.
|  | DIRECTOR ECOLOGICAL SCIENCES DIVISION.
|  | DIRECTOR, CONSERVATION ENGINEERING DIVISION.
|  | DIRECTOR, EASEMENT PROGRAMS DIVISION.
|  | DIRECTOR, FINANCIAL ASSISTANCE PROGRAMS DIVISION.
|  | DIRECTOR, RESOURCE ECONOMICS, ANALYSIS AND POLICY DIVISION.
|  | DIRECTOR, SOIL SCIENCE DIVISION.
|  | HUMAN RESOURCES OFFICER.
|  | REGIONAL CONSERVATIONIST (NORTHEAST).
|  | SPECIAL ASSISTANT TO CHIEF.
| FOREST SERVICE | ASSOCIATE DEPUTY CHIEF FOR BUSINESS OPERATIONS.
|  | ASSOCIATE DEPUTY CHIEF, RESEARCH AND DEVELOPMENT.
|  | CHIEF FINANCIAL OFFICER.
|  | DEPUTY CHIEF, BUSINESS OPERATIONS.
|  | DIRECTOR, ACQUISITION MANAGEMENT.
|  | DIRECTOR, FIRE AND AVIATION MANAGEMENT.
|  | DIRECTOR, LAW ENFORCEMENT AND INVESTIGATIONS.
| RESEARCH | DIRECTOR, ENVIRONMENTAL SCIENCES.
|  | DIRECTOR, INVENTORY, MONITORING AND ASSESSMENT.
|  | DIRECTOR, RESOURCE USE SCIENCES.
|  | DIRECTOR, SUSTAINABLE FOREST MANAGEMENT.
| NATIONAL FOREST SYSTEM | DIRECTOR, ECOSYSTEM MANAGEMENT COORINATION. DIRECTOR, ENGINEERING.
|  | DIRECTOR, FOREST MANAGEMENT STAFF.
|  | DIRECTOR, LANDS MANAGEMENT STAFF.
|  | DIRECTOR, MINERALS AND GEOLOGY MANAGEMENT STAFF.
|  | DIRECTOR, RANGELAND MANAGEMENT.
|  | DIRECTOR, WATER, FISH, WASTELAND, AIR AND RARE PLANTS.
| STATE AND PRIVATE FORESTRY | DIRECTOR COOPERATIVE FORESTRY. DIRECTOR, FOREST HEALTH PROTECTION.
|  | SENIOR ADVISOR TO THE DEPUTY CHIEF, STATE AND PRIVATE FORESTRY.
| FIELD UNITS | DIRECTOR, FOREST PRODUCTS LABORATORY (MADISON).
|  | DIRECTOR, NORTHERN RESEARCH STATION.
|  | DIRECTOR, PACIFIC NORTHWEST RESEARCH STATION.
|  | DIRECTOR, PACIFIC SOUTHWEST FOREST AND RANGE EXPERIMINT STATION (VALLEJO).
|  | DIRECTOR, ROCKY MOUNTAIN FOREST AND RANGE EXPERIMINT STATION (FORT COLLINS).
|  | DIRECTOR, SOUTHERN RESEARCH STATION (ASHEVILLE).
|  | NORTHEAST AREA DIRECTOR, STATE AND PRIVATE FORESTRY.
| INTERNATIONAL FOREST SYSTEM | DIRECTOR INTERNATIONAL INSTITUE OF TROPICAL FOREST (RIO PIEDRAS).
| OFFICE OF THE UNDER SECRETARY FOR FARM PRODUCTION AND CONSERVATION | DEPUTY ASSISTANT CHIEF INFORMATION OFFICER.
DEPARTMENT OF AGRICULTURE OFFICE OF THE INSPECTOR GENERAL | DEPARTMENT OF AGRICULTURE OFFICE OF THE INSPECTOR GENERAL | COUNSEL TO THE INSPECTOR GENERAL. DEPUTY INSPECTOR GENERAL.
| ASSISTANT INSPECTOR GENERAL FOR MANAGEMENT | ASSISTANT INSPECTOR GENERAL FOR MANAGEMENT.
| ASSISTANT INSPECTOR GENERAL FOR AUDIT | ASSISTANT INSPECTOR GENERAL FOR AUDIT. ASSISTANT INSPECTOR GENERAL FOR OFFICE OF DATA SCIENCES.
|  | DEPUTY ASSISTANT INSPECTOR GENERAL FOR AUDIT.
| ASSISTANT INSPECTOR GENERAL FOR INVESTIGATIONS | ASSISTANT INSPECTOR GENERAL FOR INVESTIGATIONS. DEPUTY ASSISTANT INSPECTOR GENERAL FOR INVESTIGATIONS.
AMERICAN BATTLE MONUMENTS COMMISSION | EXECUTIVE DIRECTOR | DEPUTY SECRETARY.
| DIRECTOR, EUROPEAN REGION | CHIEF OPERATIONS OFFICER.
ARCHITECTURAL AND TRANSPORTATION BARRIERS COMPLIANCE BOARD (UNITED STATES ACCESS BOARD) | ARCHITECTURAL AND TRANSPORTATION BARRIERS COMPLIANCE BOARD (UNITED STATES ACCESS BOARD) | DIRECTOR OFFICE OF TECHNICAL AND INFORMATION SERVICES. EXECUTIVE DIRECTOR.
UNITED STATES AGENCY FOR GLOBAL MEDIA | BOARD OF GOVERNORS | DEPUTY DIRECTOR FOR OPERATIONS.
| INTERNATIONAL BROADCASTING BUREAU | ASSOCIATE DIRECTOR FOR MANAGEMENT. CHIEF EXECUTIVE OFFICER.
|  | DEPUTY FOR ENGINEERING RESOURCE CONTROL.
|  | DEPUTY FOR NETWORK OPERATIONS.
|  | EXECUTIVE DIRECTOR.
CHEMICAL SAFETY AND HAZARD INVESTIGATION BOARD | CHEMICAL SAFETY AND HAZARD INVESTIGATION BOARD | CHIEF OPERATING OFFICER.
DEPARTMENT OF COMMERCE | OFFICE OF THE SECRETARY | DIRECTOR OFFICE OF SMALL AND DISADVANTAGED BUSINESS UTILIZATION.
| OFFICE OF THE DEPUTY SECRETARY | CHIEF FINANCIAL OFFICER AND DIRECTOR OF ADMINISTRATION. DEPUTY DIRECTOR FOR ENTERPRISE SERVICES FOR OPERATIONS.
|  | DEPUTY DIRECTOR FOR PLANNING, IMPLEMENTATION, AND STAKEHOLDER RELATIONS.
|  | DIRECTOR OF ACQUISITION SERVICES.
|  | DIRECTOR, HUMAN RESOURCES SERVICES, ENTERPRISE SERVICES.
| OFFICE OF THE CHIEF INFORMATION OFFICER | DEPUTY CHIEF INFORMATION OFFICER FOR POLICY AND BUSINESS MANAGEMENT. DEPUTY CHIEF INFORMATION OFFICER FOR SOLUTIONS AND SERVICE DELIVERY.
|  | DIRECTOR OF CYBER SECURITY AND CHIEF INFORMATION SECURITY OFFICER.
| OFFICE OF THE GENERAL COUNSEL | CHIEF, CONTRACT LAW DIVISION. CHIEF, ETHICS DIVISION.
| OFFICE OF THE CHIEF FINANICAL OFFICER AND ASSISTANT SECRETARY FOR ADMINISTRATION | DIRECTOR FOR ADMINISTRATIVE PROGRAMS.
| OFFICE OF THE DEPUTY ASSISTANT SECRETARY FOR RESOURCE MANAGEMENT | DEPUTY ASSISTANT SECRETARY FOR RESOURCE MANAGEMENT.
| OFFICE OF HUMAN RESOURCES MANAGEMENT | DEPUTY DIRECTOR FOR HUMAN RESOURCES MANAGEMENT AND DEPUTY CHIEF HUMAN CAPITAL OFFICER. DIRECTOR FOR HUMAN RESOURCES MANAGEMENT AND CHIEF HUMAN CAPITAL OFFICER.
|  | DIRECTOR, HUMAN CAPITAL CLIENT SERVICES.
|  | DIRECTOR, HUMAN CAPITAL STRATEGY AND DIVERSITY.
| OFFICE OF THE DEPUTY CHIEF FINANCIAL OFFICER FOR FINANCIAL MANAGEMENT | DEPUTY DIRECTOR, OFFICE OF FINANCIAL MANAGEMENT SYSTEMS. DIRECTOR FOR FINANCIAL MANAGEMENT AND DEPUTY CHIEF FINANCIAL OFFICER.
|  | DIRECTOR, FINANCIAL REPORTING AND INTERNAL CONTROLS.
|  | DIRECTOR, OS FINANCIAL MANAGEMENT.
| OFFICE OF BUDGET | DIRECTOR OF THE OFFICE OF BUDGET.
| OFFICE OF ACQUISITION MANAGEMENT | DEPUTY FOR ACQUISITION PROGRAM MANAGEMENT. DEPUTY FOR PROCUREMENT MANAGEMENT, POLICY AND PERFORMANCE EXCELLENCE.
|  | DIRECTOR, OFFICE OF ACQUISITION MANAGEMENT.
| OFFICE OF SECURITY | DEPUTY DIRECTOR, OFFICE OF SECURITY.
|  | DIRECTOR, OFFICE OF SECURITY.
| OFFICE OF FACILITIES AND ENVIRONMENTAL QUALITY | DEPUTY DIRECTOR FOR FACILITIES AND ENVIRONMENTAL QUALITY. DIRECTOR FOR FACILITIES AND ENVIRONMENTAL QUALITY (2).
| OFFICE OF THE INSPECTOR GENERAL | DEPUTY ASSISTANT INSPECTOR GENERAL FOR ECONOMIC AND STATISTICAL PROGRAM ASSESSMENT. ASSISTANT INSPECTOR GENERAL FOR ADMINISTRATION.
|  | ASSISTANT INSPECTOR GENERAL FOR SYSTEMS EVALUATION.
| OFFICE OF COUNSEL TO THE INSPECTOR GENERAL | COUNSEL TO THE INSPECTOR GENERAL.
| OFFICE OF INSPECTIONS AND PROGRAM EVALUATION | ASSISTANT INSPECTOR GENERAL FOR INSPECTIONS AND PROGRAM EVALUATION.
| OFFICE OF INVESTIGATIONS | ASSISTANT INSPECTOR GENERAL FOR INVESTIGATIONS.
| ECONOMICS AND STATISTICS ADMINISTRATION | CHIEF FINANCIAL OFFICER AND DIRECTOR FOR ADMINISTRATION. DIRECTOR FOR POLICY AND PLANNING.
| OFFICE OF THE DIRECTOR | ASSOCIATE DIRECTOR FOR PERFORMANCE IMPROVEMENT. CHIEF, OFFICE OF STRATEGIC PLANNING, INNOVATION AND COLLABORATION.
|  | SENIOR ADVISOR FOR PROJECT MANAGEMENT.
| ASSOCIATE DIRECTOR FOR INFORMATION TECHNOLOGY AND CHIEF INFORMATION OFFICER | ASSISTANT DIRECTOR FOR INFORMATION TECHNOLOGY AND DEPUTY CHIEF INFORMATION OFFICER. ASSOCIATE DIRECTOR FOR INFORMATION TECHNOLOGY AND CHIEF INFORMATION OFFICER.
|  | CHIEF TECHNOLOGY OFFICER.
|  | CHIEF, APPLICATION DEVELOPMENT AND SERVICES DIVISION.
|  | CHIEF, COMPUTER SERVICES DIVISION.
| ASSOCIATE DIRECTOR FOR ADMINISTRATION AND CHIEF FINANCIAL OFFICER | CHIEF ADMINISTRATIVE OFFICER. CHIEF FINANCIAL OFFICER.
|  | CHIEF, ACQUISITION DIVISION.
|  | CHIEF, BUDGET DIVISION.
|  | CHIEF, FINANCE DIVISION.
|  | CHIEF, HUMAN RESOURCES DIVISION.
| ASSOCIATE DIRECTOR FOR FIELD OPERATIONS | ASSISTANT DIRECTOR FOR FIELD OPERATIONS. ASSOCIATE DIRECTOR FOR FIELD OPERATIONS.
|  | CHIEF NATIONAL PROCESSING CENTER.
|  | CHIEF, FIELD DIVISION.
|  | CHIEF, OFFICE OF SURVEY AND CENSUS ANALYTICS.
| ASSOCIATE DIRECTOR FOR ECONOMIC PROGRAMS | ASSISTANT DIRECTOR FOR ECONOMIC PROGRAMS. ASSOCIATE DIRECTOR FOR ECONOMIC PROGRAMS.
|  | CHIEF, ECONOMIC APPLICATIONS DIVISION.
|  | CHIEF, ECONOMIC INDICATORS DIVISION.
|  | CHIEF, ECONOMIC MANAGEMENT DIVISION.
|  | CHIEF, ECONOMIC REIMBURSABLE SURVEYS DIVISION.
|  | CHIEF, ECONOMIC STATISTICAL METHODS AND RESEARCH DIVISION.
|  | CHIEF, ECONOMY-WIDE STATISTICS DIVISION.
|  | CHIEF, INTERNATIONAL TRADE MANAGEMENT DIVISION.
| ASSOCIATE DIRECTOR FOR DECENNIAL CENSUS | ASSISTANT DIRECTOR FOR DECENNIAL CENSUS PROGRAMS. ASSISTANT DIRECTOR FOR DECENNIAL CENSUS PROGRAMS (SYSTEMS AND CONTRACTS).
|  | ASSOCIATE DIRECTOR FOR DECENNIAL CENSUS.
|  | CHIEF DECENNIAL MANAGEMENT DIVISION.
|  | CHIEF, AMERICAN COMMUNITY SURVEY OFFICE.
|  | CHIEF, DECENNIAL COMMUNICATIONS AND STAKEHOLDER RELATIONSHIPS.
|  | CHIEF, DECENNIAL CONTRACTS EXECUTION OFFICE.
|  | CHIEF, DECENNIAL INFORMATION TECHNOLOGY DIVISION.
|  | CHIEF, DECENNIAL STATISTICAL STUDIES DIVISION.
|  | CHIEF, GEOGRAPHY DIVISION.
| ASSOCIATE DIRECTOR FOR DEMOGRAPHIC PROGRAMS | ASSISTANT DIRECTOR FOR DEMOGRAPHIC PROGRAMS. ASSOCIATE DIRECTOR FOR DEMOGRAPHIC PROGRAMS.
|  | CHIEF DEMOGRAPHIC SURVEYS DIVISION.
|  | CHIEF, DEMOGRAPHIC STATISTICAL METHODS DIVISION.
|  | CHIEF, POPULATION DIVISION.
|  | CHIEF, SOCIAL, ECONOMIC, AND HOUSING STATISTICS DIVISION.
| ASSOCIATE DIRECTOR FOR RESEARCH AND METHODOLOGY | ASSISTANT DIRECTOR FOR RESEARCH AND METHODOLOGY. ASSOCIATE DIRECTOR FOR RESEARCH AND METHODOLOGY.
|  | CHIEF STATISTICAL RESEARCH DIVISION.
|  | CHIEF, CENTER FOR ADAPTIVE DESIGN.
|  | CHIEF, CENTER FOR ADMINISTRATIVE RECORDS RESEARCH AND APPLICATIONS.
|  | CHIEF, CENTER FOR ECONOMIC STUDIES AND CHIEF ECONOMIST.
|  | CHIEF, CENTER FOR SURVEY MEASUREMENT.
| OFFICE OF THE UNDER SECRETARY FOR ECONOMIC AFFAIRS | CHIEF FINANCIAL OFFICER.
| OFFICE OF THE DIRECTOR | CHIEF ADMINISTRATIVE OFFICER. CHIEF ECONOMIST.
|  | CHIEF INFORMATION OFFICER.
|  | CHIEF INNOVATION OFFICER.
|  | DEPUTY DIRECTOR, BUREAU OF ECONOMIC ANALYSIS.
|  | DIRECTOR, BUREAU OF ECONOMIC ANALYSIS.
| ASSOCIATE DIRECTOR FOR REGIONAL ECONOMICS | ASSOCIATE DIRECTOR FOR REGIONAL ECONOMICS.
| ASSOCIATE DIRECTOR FOR INTERNATIONAL ECONOMICS | ASSOCIATE DIRECTOR FOR INTERNATIONAL ECONOMICS. CHIEF DIRECT INVESTMENT DIVISION.
|  | CHIEF, BALANCE OF PAYMENTS DIVISION.
| ASSOCIATE DIRECTOR FOR INDUSTRY ACCOUNTS | ASSOCIATE DIRECTOR FOR INDUSTRY ACCOUNTS.
| BUREAU OF ECONOMIC ANALYSIS | ASSOCIATE DIRECTOR FOR NATIONAL ECONOMIC ACCOUNTS. CHIEF NATIONAL INCOME AND WEALTH DIVISION.
| BUREAU OF INDUSTRY AND SECURITY | CHIEF FINANCIAL OFFICER AND DIRECTOR OF ADMINISTRATION. CHIEF INFORMATION OFFICER.
| OFFICE OF THE ASSISTANT SECRETARY FOR EXPORT ENFORCEMENT | DEPUTY ASSISTANT SECRETARY FOR EXPORT ENFORCEMENT. DEPUTY DIRECTOR, OFFICE OF EXPORT ENFORCEMENT.
|  | DIRECTOR OFFICE OF EXPORT ENFORCEMENT.
|  | DIRECTOR, OFFICE OF ENFORCEMENT ANALYSIS.
| OFFICE OF THE DEPUTY ASSISTANT SECRETARY | CHIEF FINANCIAL OFFICER AND CHIEF ADMINISTRATIVE OFFICER.
| OFFICE OF THE DEPUTY UNDER SECRETARY | CHIEF FINANCIAL AND ADMINISTRATIVE OFFICER. DEPUTY CHIEF FINANCIAL AND ADMINISTRATIVE OFFICER.
|  | DEPUTY CHIEF INFORMATION OFFICER.
| DEPUTY ASSISTANT SECRETARY FOR TRADE, POLICY AND ANALYSIS | DIRECTOR, OFFICE OF STANDARDS AND INVESTMENT POLICY.
| DEPUTY ASSISTANT SECRETARY FOR ANTIDUMPING DUTY/COUNTERVAILING DUTY OPERATIONS | ASSOCIATE DEPUTY ASSISTANT SECRETARY FOR ANTIDUMPING/COUNTERVAILING DUTY OPERATIONS. SENIOR DIRECTOR. SENIOR DIRECTOR, ANTIDUMPING DUTY/COUNTERVAILING DUTY OPERATIONS ENFORCEMENT OFFICE VII.
| DEPUTY ASSISTANT SECRETARY FOR CHINA | EXECUTIVE DIRECTOR FOR CHINA.
| MINORITY BUSINESS DEVELOPMENT AGENCY | ASSOCIATE DIRECTOR FOR MANAGEMENT.
| OFFICE OF MARINE AND AVIATION OPERATIONS | DEPUTY ASSISTANT ADMINISTRATOR FOR PROGRAMS AND ADMINISTRATION.
| OFFICE OF UNDER SECRETARY | CHIEF ADMINISTRATIVE OFFICER. CHIEF FINANCIAL OFFICER.
|  | DEPUTY DIRECTOR FOR WORKFORCE MANAGEMENT.
|  | DEPUTY DIRECTOR, ACQUISITION AND GRANTS OFFICE.
|  | DIRECTOR FOR WORKFORCE MANAGEMENT.
|  | DIRECTOR, ACQUISITION AND GRANTS OFFICE.
|  | DIRECTOR, BUDGET OFFICE.
|  | DIRECTOR, FINANCE OFFICE/COMPTROLLER.
|  | DIRECTOR, PROGRAM EVALUATION,PLANNING AND RISK MANAGEMENT OFFICE.
| OFFICE OF GENERAL COUNSEL | CHIEF, CONTRACT LAW DIVISION.
| OFFICE OF EDUCATION AND SUSTAINABLE DEVELOPMENT | DIRECTOR, OFFICE OF EDUCATION.
| OFFICE OF HIGH PERFORMANCE COMPUTING AND COMMUNICATIONS | CHIEF DATA OFFICER. CHIEF INFORMATION OFFICER AND DIRECTOR FOR HIGH PERFORMANCE COMPUTING AND COMMUNICATIONS.
|  | DEPUTY CHIEF INFORMATION OFFICER.
| NATIONAL OCEAN SERVICE | CHIEF FINANCIAL OFFICER/CHIEF ADMINISTRATIVE OFFICER. DEPUTY ASSISTANT ADMINISTRATOR FOR OCEAN SERVICE AND COASTAL ZONE MANAGEMENT.
|  | DIRECTOR, INTEGRATED OCEAN OBSERVING SYSTEM.
|  | DIRECTOR, OFFICE OF COASTAL MANAGEMENT.
| NATIONAL OCEANIC AND ATMOSPHERIC ADMINISTRATION COASTAL SERVICES CENTER | DIRECTOR, NATIONAL CENTERS FOR COASTAL OCEAN SCIENCE.
| OFFICE OF RESPONSE AND RESTORATION | DIRECTOR, OFFICE OF RESPONSE AND RESTORATON.
| CENTER FOR OPERATIONAL OCEANOGRAPHIC PRODUCTS AND SERVICES | DIRECTOR, CENTER FOR OPERATIONAL OCEANOGRAPHIC PRODUCTS AND SERVICES.
| OFFICE OF NATIONAL GEODETIC SURVEY | DIRECTOR, OFFICE OF NATIONAL GEODTIC SURVEY.
| OFFICE OF THE ASSISTANT ADMINISTRATOR FOR WEATHER SERVICES | CHIEF ENGINEER. CHIEF FINANCIAL OFFICER/CHIEF ADMINISTRATOR OFFICER.
|  | CHIEF OPERATING OFFICER.
|  | DEPUTY DIRECTOR, OFFICE OF WATER PREDICTION.
|  | DIRECTOR, ANALYZE, FORECAST AND SUPPORT OFFICE.
|  | DIRECTOR, OFFICE OF CENTRAL PROCESSING.
|  | DIRECTOR, OFFICE OF DISSEMINATION.
|  | DIRECTOR, OFFICE OF FACILITIES.
|  | DIRECTOR, OFFICE OF OBSERVATIONS.
|  | DIRECTOR, OFFICE OF ORGANIZATIONAL EXCELLENCE.
|  | DIRECTOR, OFFICE OF PLANNING AND PROGRAMMING FOR SERVICE DELIVERY.
|  | DIRECTOR, OFFICE OF SCIENCE AND TECHNOLOGY INTEGRATION.
|  | DIRECTOR, OFFICE OF WATER PREDICTION.
|  | OFFICE OF ORGANIZATIONAL EXCELLENCE.
| OFFICE OF THE CHIEF INFORMATION OFFICER | ASSISTANT CHIEF INFORMATION OFFICER FOR WEATHER SERVICE.
| METEOROLOGICAL DEVELOPMENT LABORATORY | DIRECTOR, METEOROLOGICAL DEVELOPMENT LABORATORY.
| RADAR OPERATIONS CENTER | DIRECTOR, RADAR OPERATIONS CENTER.
| NATIONAL DATA BUOY CENTER | DIRECTOR, NATIONAL DATA BUOY CENTER.
| EASTERN REGION | DIRECTOR EASTERN REGION.
| SOUTHERN REGION | DIRECTOR, SOUTHERN REGION.
| CENTERAL REGION | DIRECTOR CENTRAL REGION.
| WESTERN REGION | DIRECTOR, WESTERN REGION.
| ALASKA REGION | DIRECTOR, ALASKA REGION.
| NATIONAL CENTERS FOR ENVIRONMENTAL PREDICTION | DIRECTOR, AVIATION WEATHER CENTER.
|  | DIRECTOR, ENVIRONMENTAL MODELING CENTER.
|  | DIRECTOR, NATIONAL CENTERS FOR ENVIRONMENTAL PREDICTION.
|  | DIRECTOR, OCEAN PREDICTION CENTER.
|  | DIRECTOR, SPACE WEATHER PREDICTION CENTER.
|  | DIRECTOR, WEATHER PREDICTION CENTER.
| NATIONAL CENTERS FOR ENVIRONMENTAL PREDICTION CENTRAL OPERATIONS | DIRECTOR, CENTRAL OPERATIONS.
| CLIMATE PREDICTION CENTER | DIRECTOR, CLIMATE PREDICTION CENTER.
| STORM PREDICTION CENTER | DIRECTOR, STORM PREDICTION CENTER.
| TROPICAL PREDICTION CENTER | DIRECTOR, NATIONAL HURRICANE CENTER.
| NATIONAL MARINE FISHERIES SERVICE | CHIEF FINANCIAL OFFICER/CHIEF ADMINISTRATIVE OFFICER.
|  | DEPUTY ASSISTANT ADMINISTRATOR FOR OPERATIONS. DIRECTOR OFFICE OF SUSTAINABLE FISHERIES.
|  | DIRECTOR, OFFICE OF ENFORCEMENT.
|  | DIRECTOR, SCIENTIFIC PROGRAMS AND CHIEF SCIENCE ADVISOR.
| OFFICE OF SCIENCE AND TECHNOLOGY | DIRECTOR OFFICE OF SCIENCE AND TECHNOLOGY.
| REGIONAL OFFICES | SCIENCE AND RESEARCH DIRECTOR NORTHEAST REGION.
|  | SCIENCE AND RESEARCH DIRECTOR SOUTHWEST REGION.
|  | SCIENCE AND RESEARCH DIRECTOR, ALASKA REGION.
|  | SCIENCE AND RESEARCH DIRECTOR, NORTHWEST REGION.
|  | SCIENCE AND RESEARCH DIRECTOR, PACIFIC ISLAND REGION.
|  | SCIENCE AND RESEARCH DIRECTOR, SOUTHEAST REGION.
| OFFICE OF HABITAT CONSERVATION | DIRECTOR, OFFICE OF HABITAT CONSERVATION.
| OFFICE OF ASSISTANT ADMINISTRATOR SATELLITE, DATA INFORMATION SERVICE | ASSISTANT CHIEF INFORMATION OFFICER FOR NESDIS. CHIEF FINANCIAL OFFICER/CHIEF ADMINISTRATIVE OFFICER.
|  | DEPUTY ASSISTANT ADMINISTRATOR FOR SYSTEMS.
|  | DEPUTY DIRECTOR, NATIONAL CENTER FOR ENVIRONMENTAL INFORMATION.
|  | DIRECTOR SATELLITE GROUND SERVICES.
|  | DIRECTOR, JOINT POLAR SATELLITE SYSTEMS.
|  | DIRECTOR, NATIONAL CENTER FOR ENVIRONMENTAL INFORMATION.
|  | DIRECTOR, OFFICE OF PROJECTS, PARTNERSHIPS AND ANALYSIS.
|  | DIRECTOR, OFFICE OF SYSTEMS ARCHITECTURE AND ADVANCED PLANNING.
|  | SYSTEM PROGRAM DIRECTOR FOR GOES-R PROGRAM.
| OFFICE OF SATELLITE AND PRODUCT OPERATIONS | DEPUTY DIRECTOR, OFFICE OF SATELLITE AND PRODUCT OPERATIONS.
| OFFICE OF RESEARCH AND APPLICATIONS | DIRECTOR, CENTER FOR SATELLITE APPLICATIONS AND RESEARCH.
| OFFICE OF ASSISTANT ADMINISTRATOR, OCEAN AND ATMOSPHERIC RESEARCH | CHIEF FINANCIAL OFFICER/CHIEF ADMINISTRATIVE OFFICER. DEPUTY ASSISTANT ADMINISTRATOR FOR SCIENCE.
|  | DIRECTOR, OFFICE OF POLICY PLANNING AND EVALUATION.
|  | DIRECTOR, OFFICE OF WEATHER AIR QUALITY.
| OFFICE OF NATIONAL SEVERE STORMS LABORATORY | DIRECTOR NATIONAL SEVERE STORMS LABORATORY.
| EARTH SYSTEM RESEARCH LABORATORY | DIRECTOR, CHEMICAL SCIENCE DIVISION. DIRECTOR, GLOBAL MONITORING DIVISION.
|  | DIRECTOR, GLOBAL SYSTEMS DIVISION.
|  | DIRECTOR, PHYSICAL SCIENCE DIVISION.
| CLIMATE PROGRAM OFFICE | DIRECTOR, CLIMATE PROGRAM OFFICE.
| OFFICE OF OCEANIC EXPLORATION AND RESEARCH | DIRECTOR, OFFICE OF OCEAN EXPLORATION AND RESEARCH.
| NATIONAL SEA GRANT COLLEGE PROGRAM | DIRECTOR, NATIONAL SEA GRANT COLLEGE PROGRAM.
| ATLANTIC OCEAN AND METEOROLOGY LABORATORY | DIRECTOR, ATLANTIC OCEANOGRAPHIC AND METEOROLOGICAL.
| GEOPHYSICAL FLUID DYNAMICS LABORATORY | DIRECTOR, OFFICE OF GEOPHYSICAL FLUID DYNAMICS LABORATORY.
| GREAT LAKE ENVIRONMENTAL RESEARCH LABORATORY | DIRECTOR, OFFICE OF GREAT LAKES ENVIRONMENTAL RESEARCH LABORATORY.
| PACIFIC MARINE ENVIRONMENTAL RESEARCH LABORATORY | DIRECTOR, OFFICE OF PACIFIC MARINE ENVIRONMENTAL LABORATORY.
| OFFICE OF THE ASSISTANT SECRETARY FOR COMMUNICATIONS AND INFORMATION | CHIEF DIGITAL OFFICER. CHIEF FINANCIAL OFFICER AND DIRECTOR OF ADMINISTRATION.
|  | CHIEF INFORMATION OFFICER AND DEPUTY DIRECTOR FOR POLICY COORDINATION AND MANAGEMENT.
| FIRST RESPONDER NETWORK AUTHORITY | CHIEF ADMINISTRATIVE OFFICER, FIRST RESPONDER NETWORK AUTHORITY. CHIEF FINANCIAL OFFICER, FIRST RESPONDER NETWORK AUTHORITY.
|  | CHIEF INFORMATION OFFICER, FIRST RESPONDER NETWORK AUTHORITY.
|  | CHIEF PROCUREMENT OFFICER.
|  | CHIEF TECHNOLOGY OFFICER, FIRST RESPONDER NETWORK AUTHORITY.
| OFFICE OF INTERNATIONAL AFFAIRS | ASSOCIATE ADMINISTRATOR, OFFICE OF INTERNATIONAL AFFAIRS.
| INSTITUTE FOR TELECOMMUNICATION SCIENCES | ASSOCIATE ADMINISTRATOR FOR TELECOMMUNICATION SCIENCES AND DIRECTOR, INSTITUTE FOR TELECOMMUNICATION SCIENCES.
| OFFICE OF THE UNDER SECRETARY | ASSISTANT COMMISSIONER FOR EXTERNAL AFFAIRS. CHIEF ADMINISTRATIVE PATENT JUDGE.
|  | CHIEF ADMINISTRATIVE TRADEMARK JUDGE.
|  | DEPUTY CHIEF ADMINISTRATIVE PATENT JUDGE.
|  | DEPUTY CHIEF ADMINISTRATIVE TRADEMARK JUDGE.
|  | DIRECTOR, OFFICE OF EQUAL EMPLOYMENT OPPORTUNITY AND DIVERSITY.
|  | PATENT TRIAL AND APPEAL BOARD EXECUTIVE.
|  | REGIONAL DIRECTOR—DALLAS.
|  | REGIONAL DIRECTOR—DENVER.
|  | REGIONAL DIRECTOR—DETROIT.
|  | REGIONAL DIRECTOR—SAN JOSE.
|  | VICE CHIEF ADMINISTRATIVE PATENT JUDGE.
| OFFICE OF POLICY AND INTERNATIONAL AFFAIRS | DEPUTY CHIEF POLICY OFFICER. DEPUTY CHIEF POLICY OFFICER FOR OPERATIONS.
|  | DIRECTOR, GOVERNMENTAL AFFAIRS.
| OFFICE OF THE GENERAL COUNSEL | DEPUTY GENERAL COUNSEL FOR ENROLLMENT AND DISCIPLINE. DEPUTY GENERAL COUNSEL FOR GENERAL LAW.
|  | DEPUTY GENERAL COUNSEL FOR INTELLECTUAL PROPERTY LAW AND SOLICITOR.
|  | DEPUTY SOLICITOR AND ASSISTANT GENERAL COUNSEL FOR INTELLECTUAL PROPERY LAW.
| OFFICE OF THE CHIEF ADMINISTRATIVE OFFICER | DEPUTY CHIEF ADMINISTRATIVE OFFICER. DIRECTOR, HUMAN CAPITAL MANAGEMENT.
|  | DIRECTOR, OFFICE OF ADMINISTRATIVE SERVICES.
| OFFICE OF THE CHIEF FINANCIAL OFFICER | CHIEF FINANCIAL OFFICER. DEPUTY CHIEF FINANCIAL OFFICER.
|  | DIRECTOR, OFFICE OF FINANCE.
|  | DIRECTOR, OFFICE OF PLANNING AND BUDGET.
|  | DIRECTOR, OFFICE OF PROCUREMENT.
| OFFICE OF THE CHIEF INFORMATION OFFICER | CHIEF TECHNOLOGY OFFICER. DEPUTY CHIEF INFORMATION OFFICER.
|  | DIRECTOR OF ORGANIZATIONAL POLICY AND GOVERANCE.
|  | DIRECTOR, APPLICATION ENGINEERING AND DEVELOPMENT.
|  | DIRECTOR, OFFICE OF INFORMATION MANAGEMENT SERVICES.
|  | DIRECTOR, OFFICE OF INFRASTRUCTURE ENGINEERING AND OPERATIONS.
|  | DIRECTOR, OFFICE OF PROGRAM ADMINISTRATION ORGANIZATION.
| OFFICE OF THE COMMISSIONER FOR TRADEMARKS | DEPUTY COMMISSIONER FOR TRADEMARK ADMINISTRATION. DEPUTY COMMISSIONER FOR TRADEMARK EXAMINATION POLICY.
|  | DEPUTY COMMISSIONER FOR TRADEMARK OPERATIONS.
|  | GROUP DIRECTOR, TRADEMARK LAW OFFICES.
| OFFICE OF THE COMMISSIONER FOR PATENTS | ASSISTANT DEPUTY COMMISSIONER FOR PATENTS. ASSISTANT DEPUTY COMMISSIONER FOR PATENTS OPERATIONS.
|  | ASSOCIATE COMMISSIONER FOR INNOVATION AND DEVELOPMENT.
|  | ASSOCIATE COMMISSIONER FOR PATENT INFORMATION MANAGEMENT.
|  | ASSOCIATE COMMISSIONER FOR PATENT QUALITY.
|  | CHIEF PATENT ACADEMIC OFFICER.
|  | DEPUTY COMMISSIONER FOR INTERNATIONAL PATENT COOPERATION.
|  | DEPUTY COMMISSIONER FOR PATENT ADMINISTRATION.
|  | DEPUTY COMMISSIONER FOR PATENT EXAMINATION POLICY.
|  | DEPUTY COMMISSIONER FOR PATENT OPERATIONS.
|  | DEPUTY COMMISSIONER FOR PATENT QUALITY.
|  | DEPUTY DIRECTOR, PATENT TRAINING ACADEMY.
|  | DIRECTOR, OFFICE OF CENTRAL REEXAMINATION UNIT.
|  | DIRECTOR, OFFICE OF PATENT LEGAL ADMINISTRATION.
|  | DIRECTOR, OFFICE OF PATENT QUALITY ASSURANCE.
|  | PATENT EXAMINING GROUP DIRECTOR.
|  | PROGRAM DIRECTOR, INTERNATIONAL PATENT COOPERATION.
|  | SENIOR ADVISOR FOR PATENTS.
| GROUP DIRECTORS | GROUP DIRECTOR—1600. GROUP DIRECTOR—1700.
|  | GROUP DIRECTOR—2100.
|  | GROUP DIRECTOR—2400.
|  | GROUP DIRECTOR—2600.
|  | GROUP DIRECTOR—2800.
|  | GROUP DIRECTOR—2900.
|  | GROUP DIRECTOR—3600.
|  | GROUP DIRECTOR—3700.
| PATENT AND TRADEMARK OFFICE | GROUP DIRECTOR, TRADEMARK LAW OFFICES.
| MATERIAL MEASUREMENT LABORATORY | DIRECTOR, MATERIAL MEASUREMENT LABORATORY.
| OFFICE OF THE UNDER SECRETARY OF COMMERCE FOR STANDARDS AND TECHNOLOGY | ASSOCIATE DIRECTOR FOR INNOVATION AND INDUSTRY SERVICES. ASSOCIATE DIRECTOR FOR LABORATORY PROGRAMS.
|  | ASSOCIATE DIRECTOR FOR MANAGEMENT RESOURCES.
|  | CHIEF OF STAFF FOR NATIONAL INSTITUTE FOR STANDARDS AND TECHNOLOGY.
|  | CHIEF SCIENTIST.
|  | DIRECTOR, ADVANCED MANUFACTURING PROGRAM OFFICE.
|  | DIRECTOR, COMMUNICATIONS TECHNOLOGY LABORATORY.
|  | SENIOR ADVISOR TO THE UNDER SECRETARY OF COMMERCE FOR STANDARDS AND TECHNOLOGY.
|  | SENIOR SCIENCE ADVISOR.
| OFFICE OF INFORMATION SYSTEMS MANAGEMENT | CHIEF INFORMATION OFFICER FOR NATIONAL INSTITUTE OF STANDARDS AND TECHNOLOGY.
| OFFICE OF FACILITIES AND PROPERTY MANAGEMENT | CHIEF FACILITIES MANAGEMENT OFFICER.
| OFFICE OF FINANCIAL RESOURCE MANAGEMENT | CHIEF FINANCIAL OFFICER FOR NATIONAL INSTITUTE OF STANDARDS AND TECHNOLOGY. CHIEF FINANCIAL OFFICER FOR NATIONAL INSTITUTE OF STANDARDS AND TECHNOLOGY AND NATIONAL TECHNICAL SERVICES.
| OFFICE OF ACQUISITION AND AGREEMENTS MANAGEMENT | DIRECTOR, OFFICE OF ACQUISITION AND AGREEMENTS MANAGEMENT.
| OFFICE OF SAFETY, HEALTH AND ENVIRONMENT | CHIEF SAFETY OFFICER.
| SPECIAL PROGRAMS OFFICE | DEPUTY DIRECTOR, SPECIAL PROGRAMS OFFICE. DIRECTOR, SPECIAL PROGRAMS OFFICE.
| BOULDER SITE MANAGEMENT OFFICE | BOULDER LABORATORIES SITE MANAGER.
| STANDARDS COORDINATION OFFICE | DIRECTOR, STANDARDS COORDINATION OFFICE.
| BALDRIDGE PERFORMANCE EXCELLENCE PROGRAM | DIRECTOR, BALDRIGE PERFORMANCE EXCELLENCE PROGRAM.
| HOLLINGS MANUFACTURING EXTENSION PARTNER SHIP PROGRAM | DEPUTY DIRECTOR, MANUFACTURING EXTENSION PARTNERSHIP PROGRAM. DIRECTOR, MANUFACTURING EXTENSION PARTNERSHIP PROGRAMS.
| ENGINEERING LABORATORY | DEPUTY DIRECTOR ENGINEERING LABORATORY. DIRECTOR, ENGINEERING LABORATORY.
|  | DIRECTOR, SMART GRID AND CYBER-PHYSICAL SYSTEMS PROGAM OFFICE.
| PHYSICAL MEASUREMENT LABORATORY | DEPUTY DIRECTOR FOR MEASUREMENT SCIENCE. DEPUTY DIRECTOR, PHYSICAL MEASUREMENT LABORATORY.
|  | DIRECTOR, PHYSICAL MEASUREMENT LABORATORY.
|  | SENIOR ADVISOR TO THE DIRECTOR, PHYSICAL MEASUREMENT LABORATORY.
| CENTER FOR NANOSCALE SCIENCE AND TECHNOLOGY | DEPUTY DIRECTOR, CENTER FOR NANOSCALE SCIENCE AND TECHNOLOGY. DIRECTOR, CENTER FOR NANOSCALE SCIENCE AND TECHNOLOGY.
| NATIONAL INSTITUTE OF STANDARDS AND TECHNOLOGY CENTER FOR NEUTRON RESEARCH | DEPUTY DIRECTOR, NATIONAL INSTITUTE OF STANDARDS AND TECHNOLOGY CENTER FOR NEUTRON RESEARCH. DIRECTOR, NATIONAL INSTITUTE OF STANDARDS AND TECHNOLOGY CENTER FOR NEUTRON RESEARCH.
| NATIONAL TECHNICAL INFORMATION SERVICE | DEPUTY DIRECTOR, NATIONAL TECHNICAL INFORMATION SERVICE.
| INFORMATION TECHNOLOGY LABORATORY | DEPUTY DIRECTOR, INFORMATION TECHNOLOGY LABORATORY. DIRECTOR, INFORMATION TECHNOLOGY LABORATORY.
DEPARTMENT OF COMMERCE OFFICE OF THE INSPECTOR GENERAL | OFFICE OF INSPECTOR GENERAL | DEPUTY INSPECTOR GENERAL.
| IMMEDIATE OFFICE | CHIEF OF STAFF.
| OFFICE OF AUDIT AND EVALUATION | ASSISTANT INSPECTOR GENERAL FOR ACQUISITION AND SPECIAL PROGRAM AUDITS. ASSISTANT INSPECTOR GENERAL FOR AUDITS.
|  | PRINCIPAL ASSISTANT INSPECTOR GENERAL FOR AUDIT AND EVALUATION.
| OFFICE OF ECONOMIC AND STATISTICAL PROGRAM ASSESSMENT | ASSISTANT INSPECTOR GENERAL FOR ECONOMIC AND STATISTICAL PROGRAM ASSESSMENT.
| OFFICE OF AUDIT | ASSISTANT INSPECTOR GENERAL FOR AUDIT.
| OFFICE OF INVESTIGATIONS | ASSISTANT INSPECTOR GENERAL FOR INVESTIGATIONS.
| OFFICE OF COUNSEL | COUNSEL TO THE INSPECTOR GENERAL.
COMMITTEE FOR PURCHASE FROM PEOPLE WHO ARE BLIND OR SEVERELY DISABLED | COMMITTEE FOR PURCHASE FROM PEOPLE WHO ARE BLIND OR SEVERELY DISABLED | EXECUTIVE DIRECTOR.
CONSUMER PRODUCT SAFETY COMMISSION | OFFICE OF EXECUTIVE DIRECTOR | ASSISTANT EXECUTIVE DIRECTOR FOR COMPLIANCE AND FIELD OPERATIONS. ASSISTANT EXECUTIVE DIRECTOR FOR INFORMATION AND TECH SERVICES.
|  | DEPUTY EXECUTIVE DIRECTOR FOR OPERATIONS SUPPORT.
| OFFICE OF HAZARD IDENTIFICATION AND REDUCTION | ASSISTANT EXECUTIVE DIRECTOR FOR HAZARD IDENTIFICATION AND REDUCTION. ASSOCIATE EXECUTIVE DIRECTOR FOR ECONOMIC ANALYSIS.
|  | ASSOCIATE EXECUTIVE DIRECTOR FOR ENGINEERING SCIENCES.
|  | ASSOCIATE EXECUTIVE DIRECTOR FOR EPIDEMIOLOGY.
|  | DEPUTY ASSISTANT EXECUTIVE DIRECTOR FOR HAZARD IDENTIFICATION AND REDUCTION.
| OFFICE OF IMPORT SURVEILLANCE | DIRECTOR, OFFICE OF IMPORT SURVEILLANCE.
COURT SERVICES AND OFFENDER SUPERVISION AGENCY FOR THE DISTRICT OF COLUMBIA | COURT SERVICES AND OFFENDER SUPERVISION AGENCY FOR THE DISTRICT OF COLUMBIA | ASSOCIATE DIRECTOR FOR ADMINISTRATION. ASSOCIATE DIRECTOR FOR COMMUNITY JUSTICE PROGRAMS. ASSOCIATE DIRECTOR FOR COMMUNITY SUPERVISION.
|  | ASSOCIATE DIRECTOR FOR HUMAN RESOURCES.
|  | ASSOCIATE DIRECTOR FOR RESEARCH AND EVALUATION.
|  | ASSOCIATE DIRECTOR, LEGISLATIVE, INTERGOVERNMENTAL AND PUBLIC AFFAIRS.
|  | CHIEF FINANCIAL OFFICER.
|  | CHIEF INFORMATION OFFICER.
|  | DEPUTY DIRECTOR.
|  | MANAGEMENT AND PROGRAM ANALYSIS OFFICER CHIEF OF STAFF.
| PRETRIAL SERVICES AGENCY | ASSOCIATE DIRECTOR FOR OPERATIONS. DEPUTY DIRECTOR.
|  | DIRECTOR.
OFFICE OF THE SECRETARY OF DEFENSE | OFFICE OF THE DIRECTOR, OPERATIONAL TEST AND EVALUATION | DEPUTY DIRECTOR FOR LIVE FIRE TEST AND EVALUATION.
| OFFICE OF THE CHIEF MANAGEMENT OFFICER | DIRECTOR MANAGEMENT AND REQUIREMENTS ANALYSIS DIVISION. DIRECTOR OF ADMINISTRATION.
|  | DIRECTOR POLICY AND DECISION SUPPORT DIVISION.
|  | DIRECTOR, MANAGEMENT POLICY AND ANALYSIS DIRECTORATE.
|  | DIRECTOR, OVERSIGHT AND COMPLIANCE.
|  | DIRECTOR, PLANNING, PERFORMANCE AND ASSESSMENT DIRECTORATE.
|  | DEPARTMENT OF DEFENSE SENIOR INTELLIGENCE OVERSIGHT OFFICIAL AND DEPUTY DIRECTOR OVERSIGHT AND COMPLIANCE.
| OFFICE OF THE INSPECTOR GENERAL | ASSISTANT INSPECTOR GENERAL FOR READINESS AND OPERATIONS SUPPORT. ASSISTANT INSPECTOR GENERAL, DEFENSE FINANCIAL AUDITING SERVICE.
|  | DEPUTY DIRECTOR, DEFENSE CRIMINAL INVESTIGATIVE SERVICE.
|  | DIRECTOR, DEFENSE CRIMINAL INVESTIGATIVE SERVICE—ASSISTANT INSPECTOR GENERAL FOR INVESTIGATIONS.
| OFFICE OF THE UNDER SECRETARY OF DEFENSE (PERSONNEL AND READINESS) | CHIEF OF STAFF.
| OFFICE OF THE UNDER SECRETARY OF DEFENSE (COMPTROLLER) | DEPUTY CHIEF FINANCIAL OFFICER.
| WASHINGTON HEADQUARTERS SERVICES | DEPUTY DIRECTOR, HUMAN RESOURCES DIRECTORATE. DIRECTOR, ACQUISITION DIRECTORATE.
|  | DIRECTOR, DEPARTMENT OF DEFENSE CONSOLIDATED ADJUDICATIONS FACILITY.
|  | DIRECTOR, FACILITIES SERVICES DIRECTORATE.
|  | DIRECTOR, HUMAN RESOURCES DIRECTORATE.
|  | DIRECTOR, POLICY, PLANS AND REQUIREMENTS.
|  | EXECUTIVE DIRECTOR, ACQUISITION/HCA NGB.
|  | PRINCIPAL ASSISTANT RESPONSIBLE FOR CONTRACTING.
| PENTAGON FORCE PROTECTION AGENCY | DIRECTOR, LAW ENFORCEMENT. DIRECTOR, PENTAGON FORCE PROTECTION AGENCY.
|  | PRINCIPAL DEPUTY DIRECTOR, PENTAGON FORCE PROTECTION AGENCY.
| OFFICE OF THE GENERAL COUNSEL | DIRECTOR DEFENSE OFFICE OF HEARINGS AND APPEALS. DIRECTOR, OFFICE OF LITIGATION.
| OFFICE OF THE DEPARTMENT OF DEFENSE CHIEF INFORMATION OFFICER | JFHQ-DODIN EXECUTIVE.
| OFFICE OF THE UNDER SECRETARY OF DEFENSE (ACQUISITION, TECHNOLOGY, AND LOGISTICS) | DEPUTY DIRECTOR FOR PROGRAM DEVELOPMENT AND IMPLEMENTATION. DEPUTY DIRECTOR, ENTERPRISE INFORMATION. DEPUTY DIRECTOR, OFFICE OF THE UNDER SECRETARY OF DEFENSE STUDIES AND FEDERALLY FUNDED RESEARCH AND DEVELOPMENT CENTER MANAGEMENT.
|  | DIRECTOR , STRATEGIC SYSTEMS AND TREATY COMPLIANCE.
|  | DIRECTOR FOR ADMINISTRATION.
|  | PRINCIPAL DEPUTY, ACQUISITION RESOURCES AND ANALYSIS.
| OFFICE OF THE ASSISTANT SECRETARY OF DEFENSE (ACQUISITION) | DEPUTY DIRECTOR, ASSESSMENTS AND SUPPORT. DEPUTY DIRECTOR, CONTRACT POLICY AND INTERNATIONAL CONTRACTING.
|  | DEPUTY DIRECTOR, DEFENSE ACQUISITION REGULATIONS SYSTEM.
|  | DEPUTY DIRECTOR, NAVAL WARFARE.
|  | DEPUTY DIRECTOR, PROGRAM ACQUISITION AND STRATEGIC SOURCING.
|  | TECHNICAL DIRECTOR, FORCE DEVELOPMENT.
| OFFICE OF THE ASSISTANT SECRETARY OF DEFENSE (NUCLEAR, CHEMICAL AND BIOLOGICAL DEFENSE PROGRAMS) | DEPUTY ASSISTANT SECRETARY OF DEFENSE (NUCLEAR MATTERS).
| OFFICE OF THE DIRECTOR OF DEFENSE RESEARCH AND ENGINEERING | DEPUTY DIRECTOR, INFORMATION SYSTEMS AND CYBER TECHNOLOGIES.
| DEFENSE ADVANCED RESEARCH PROJECTS AGENCY | DIRECTOR, CONTRACTS MANAGEMENT OFFICE. DIRECTOR, STRATEGIC RESOURCES.
|  | DIRECTOR, SUPPORT SERVICES OFFICE.
|  | GENERAL COUNSEL.
| OFFICE OF THE JOINT CHIEFS OF STAFF | EXECUTIVE DIRECTOR. VICE DEPUTY DIRECTOR REGIONAL OPERATIONS AND FORCE MANAGEMENT.
|  | VICE DIRECTOR C4 CYBER.
|  | VICE DIRECTOR, MANPOWER AND PERSONNEL.
| MISSILE DEFENSE AGENCY | CHIEF ENGINEER. DEPUTY DIRECTOR, MISSILE DEFENSE INTEGRATION OPERATIONS CENTER/CHIEF INFORMATION OFFICER.
|  | DEPUTY FOR ENGINEERING.
|  | DEPUTY PROGRAM DIRECTOR, AEGIS BALLISTIC MISSILE DEFENSE.
|  | DEPUTY PROGRAM DIRECTOR, BC.
|  | DEPUTY PROGRAM MANAGER FOR ASSESSMENT AND INTEGRATIONS, BALLISTIC MISSILE DEFENSE SYSTEM.
|  | DIRECTOR FOR ACQUISITION.
|  | DIRECTOR FOR ADVANCED TECHNOLOGY.
|  | DIRECTOR FOR OPERATIONS.
|  | DIRECTOR FOR SYSTEMS ENGINEERING AND INTEGRATION.
|  | DIRECTOR, CONTRACTING.
|  | PROGRAM DIRECTOR FOR BATTLE MANAGEMENT, COMMAND AND CONTROL.
|  | PROGRAM DIRECTOR, GROUND-BASED MIDCOURSE DEFENSE.
|  | PROGRAM DIRECTOR, TARGETS AND COUNTERMEASURES.
| DEFENSE CONTRACT AUDIT AGENCY | ASSISTANT DIRECTOR, HUMAN CAPITAL AND RESOURCE MANAGEMENT. ASSISTANT DIRECTOR, OPERATIONS.
|  | ASSISTANT DIRECTOR, POLICY AND PLANS.
|  | CORPORATE AUDIT DIRECTOR.
|  | CORPORATE AUDIT DIRECTOR (C).
|  | CORPORATE AUDIT DIRECTOR (D).
|  | DEPUTY REGIONAL DIRECTOR EASTERN REGION.
|  | DEPUTY REGIONAL DIRECTOR, CENTRAL.
|  | DEPUTY REGIONAL DIRECTOR, WESTERN REGION.
|  | DIRECTOR, DEFENSE CONTRACT AUDIT AGENCY.
|  | DIRECTOR, FIELD DETACHMENT.
|  | REGIONAL DIRECTOR, CENTRAL.
|  | REGIONAL DIRECTOR, EASTERN.
|  | REGIONAL DIRECTOR, WESTERN.
| REGIONAL MANAGERS | ASSISTANT DIRECTOR, INTEGRITY AND QUALITY ASSURANCE.
| DEFENSE LOGISTICS AGENCY (DLA) | CHIEF OF STAFF. DEPUTY COMMANDER, DEFENSE SUPPLY CENTER PHILADELPHIA.
|  | DEPUTY COMMANDER, DLA AVIATION.
|  | DEPUTY COMMANDER, DLA DISTRIBUTION.
|  | DEPUTY COMMANDER, DLA ENERGY.
|  | DEPUTY COMMANDER, DLA LAND AND MARITIME.
|  | DEPUTY DIRECTOR, DLA ACQUISITION.
|  | DEPUTY DIRECTOR, DLA FINANCE.
|  | DEPUTY DIRECTOR, INFORMATION OPERATIONS/CHIEF TECHNICAL OFFICER.
|  | DEPUTY GENERAL COUNSEL, DLA.
|  | DIRECTOR, DLA ACQUISITION (J-7).
|  | DIRECTOR, DLA DISPOSITION SERVICES.
|  | DIRECTOR, DLA FINANCE.
|  | DIRECTOR, DLA HUMAN RESOURCES.
|  | DIRECTOR, DLA INFORMATION OPERATION.
|  | EXECUTIVE DIRECTOR OPERATIONS AND SUSTAINMENT.
|  | EXECUTIVE DIRECTOR, AVIATION CONTRACTING AND ACQUISITION MANAGEMENT.
|  | EXECUTIVE DIRECTOR, CONTRACTING AND ACQUISITION MANAGEMENT.
|  | EXECUTIVE DIRECTOR, JOINT CONTINGENCY ACQUISITION SUPPORT OFFICE.
|  | EXECUTIVE DIRECTOR, SUPPORT—POLICY AND STRATEGIC PROGRAMS.
|  | EXECUTIVE DIRECTOR, TROOP SUPPORT CONTRACTING AND ACQUISITION MANAGEMENT.
|  | GENERAL COUNSEL.
|  | PROGRAM EXECUTIVE OFFICER, DEFENSE LOGISTICS AGENCY INFORMATION OPERATIONS.
|  | VICE DIRECTOR, DEFENSE LOGISTICS AGENCY.
| DEFENSE HUMAN RESOURCES ACTIVITY | CHIEF ACTUARY, DEFENSE HUMAN RESOURCES ACTIVITY. DEPUTY DIRECTOR, DEFENSE HUMAN RESOURCES ACTIVITY.
|  | DEPUTY DIRECTOR, DEFENSE MANPOWER DATA CENTER.
|  | SENIOR ADVISOR TO THE DIRECTOR, DEFENSE HUMAN RESOURCES ACTIVITY.
| DEFENSE CONTRACT MANAGEMENT AGENCY | DEPUTY DIRECTOR, DEFENSE CONTRACT MANAGEMENT AGENCY. DEPUTY GENERAL COUNSEL.
|  | EXECUTIVE DIRECTOR, CONTRACTS.
|  | EXECUTIVE DIRECTOR, COST AND PRICING CENTER.
|  | EXECUTIVE DIRECTOR, FINANCIAL AND BUSINESS OPERATIONS AND COMPTROLLER.
|  | EXECUTIVE DIRECTOR, INFORMATION TECHNOLOGY AND CHIEF INFORMATION OFFICER.
|  | EXECUTIVE DIRECTOR, PORTFOLIO MGMT & BUSINESS INTEGRATION.
|  | EXECUTIVE DIRECTOR, QUALITY ASSURANCE.
|  | EXECUTIVE DIRECTOR, TECHNICAL DIRECTORATE.
|  | GENERAL COUNSEL.
| DEFENSE INFORMATION SYSTEMS AGENCY | CHIEF FINANCIAL OFFICER/COMPTROLLER. CYBER DEVELOPMENT EXECUTIVE.
|  | CYBER SECURITY RISK MANAGEMENT AND AUTHORIZING OFFICIAL EXECUTIVE.
|  | CYBER SECURITY, RISK MANAGEMENT AND AUTHORIZING OFFICIAL EXECUTIVE.
|  | DEPUTY DIRECTOR, JOINT SERVICE PROVIDER.
|  | DIRECTOR, CENTER FOR OPERATIONS.
|  | DIRECTOR, DEFENSE SPECTRUM ORGANIZATION.
|  | DIRECTOR, DEVELOPMENT AND BUSINESS CENTER.
|  | EXECUTIVE DEPUTY DIRECTOR.
|  | INFRASTRUCTURE EXECUTIVE.
|  | NATIONAL LEADERSHIP COMMAND CAPABILITIES EXECUTIVE.
|  | NATIONAL BACKGROUND INVESTIGATIONS SERVICE EXECUTIVE.
|  | OPERATIONS EXECUTIVE.
|  | PROCUREMENT SERVICES EXECUTIVE AND HEAD OF CONTRACTING ACTIVITY.
|  | SERVICES EXECUTIVE.
|  | VICE DIRECTOR, CENTER FOR OPERATIONS.
|  | VICE DIRECTOR, REGULAR MILITARY COMPENSATION/DEPUTY COMPTROLLER.
|  | VICE PROCUREMENT SERVICES EXECUTIVE/DEPUTY CHIEF, DEFENSE INFORMATION TECHNOLOGY CONTRACTING ORGANIZATION.
|  | WORKFORCE MANAGEMENT EXECUTIVE.
| DEFENSE THREAT REDUCTION AGENCY | DIRECTOR INFORMATION OPERATIONS DIRECTORATE. DIRECTOR TREATIES AND PARTNERSHIPS DEPARTMENT.
|  | DIRECTOR, ACQUISITION, FINANCE AND LOGISTICS DIRECTORATE.
|  | DIRECTOR, BASIC AND APPLIED SCIENCES DEPARTMENT.
|  | DIRECTOR, CHEMICAL AND BIOLOGICAL TECHNOLOGIES DEPARTMENT.
|  | DIRECTOR, COMBATANT COMMAND SUPPORT.
|  | DIRECTOR, COOPERATIVE THREAT REDUCTION DEPARTMENT.
|  | DIRECTOR, COUNTER WEAPONS OF MASS DESTRUCTION TECHNOLOGIES DEPARTMENT.
|  | DIRECTOR, INTELLIGENCE, PLANS AND RESOURCE INTEGRATION DIRECTORATE.
|  | DIRECTOR, NUCLEAR TECHNOLOGIES DEPARTMENT.
|  | DIRECTOR, OPERATIONS, READINESS AND EXERCISES DIRECTORATE.
|  | DIRECTOR, RESEARCH AND DEVELOPMENT DIRECTORATE.
|  | GENERAL COUNSEL.
| DEFENSE COMMISSARY AGENCY | DIRECTOR.
DEPARTMENT OF THE AIR FORCE | DEPARTMENT OF THE AIR FORCE | AIR FORCE PROGRAM EXECUTIVE OFFICER FOR COMBAT AND MISSION SUPPORT. ASSOCIATE DEPUTY ASSISTANT SECRETARY FOR PROGRAMS.
|  | CHIEF INFORMATION OFFICER AND DEPUTY DIRECTOR, PLANS AND INTEGRATION.
|  | CHIEF INFORMATION SECURITY OFFICER (CISO).
|  | DEPUTY ASSISTANT SECRETARY (LOGISTICS).
|  | DEPUTY DIRECTOR LEGISLATIVE LIAISON.
|  | DEPUTY DIRECTOR OF LOGISTICS.
|  | DEPUTY DIRECTOR OF OPERATIONS.
|  | DEPUTY DIRECTOR OF POLICY, PROGRAMS AND STRATEGY, INTERNATIONAL AFFAIRS.
|  | DEPUTY DIRECTOR, INFORMATION DOMINANCE.
|  | DEPUTY DIRECTOR, SECURITY FORCES.
|  | DEPUTY DIRECTOR, SECURITY, SPECIAL PROGRAM OVERSIGHT, AND INFORMATION PROTECTION.
|  | DEPUTY DIRECTOR, STRATEGIC PLANNING.
|  | DEPUTY DIRECTOR, STRATEGY, CONCEPTS AND ASSESSMENTS.
|  | DIRECTOR OF COMMUNICATIONS.
|  | DIRECTOR OF POLICY, PROGRAMS AND STRATEGY, INTERNATIONAL AFFAIRS.
|  | DIRECTOR, CIVILIAN FORCE MANAGEMENT.
|  | DIRECTOR, CYBER CAPABILITIES AND COMPLIANCE.
|  | DIRECTOR, DIVERSITY AND INCLUSION.
|  | DIRECTOR, HEADQUARTERS AIR FORCE INFORMATION MANAGEMENT.
|  | DIRECTOR, INSTALLATION, LOGISTICS AND MISSION SUPPORT.
|  | DIRECTOR, LOGISTICS, ENGINEERING AND FORCE PROTECTION.
|  | DIRECTOR, SPACE SECURITY AND DEFENSE PROGRAM.
|  | EXECUTIVE DIRECTOR.
|  | EXECUTIVE DIRECTOR, AIR NATIONAL GUARD.
| OFFICE OF THE SECRETARY | DEPUTY DIRECTOR, AIR FORCE RAPID CAPABILITIES OFFICE.
|  | DEPUTY DIRECTOR, AIR FORCE REVIEW BOARDS AGENCY.
|  | DIRECTOR, AIR FORCE RAPID CAPABILITIES OFFICE.
| OFFICE OF THE UNDER SECRETARY | ASSOCIATE DEPUTY UNDER SECRETARY OF THE AIR FORCE (SPACE) AND DEPUTY DIRECTOR PRINCIPAL DEPARTMENT OF DEFENSE SPACE ADVISOR STAFF.
| OFFICE OF ADMINISTRATIVE ASSISTANT TO THE SECRETARY | ADMINISTRATIVE ASSISTANT. DEPUTY ADMINISTRATIVE ASSISTANT. DIRECTOR SECURITY, SPEC PRGM OVERSIGHT AND INFORMATION PROTECTION.
|  | EXECUTIVE DIRECTOR, OFFICE OF SPECIAL INVESTIGATIONS.
| OFFICE OF SMALL AND DISADVANTAGED BUSINESS UTILIZATION | DIRECTOR, OFFICE OF SMALL AND DISADVANTAGED BUSINESS UTILIZATION.
| OFFICE OF PUBLIC AFFAIRS | DEPUTY DIRECTOR, PUBLIC AFFAIRS.
| AUDITOR GENERAL | ASSISTANT AUDITOR GENERAL, FIELD OFFICES DIRECTORATE.
|  | AUDITOR GENERAL OF THE AIR FORCE.
| AIR FORCE AUDIT AGENCY (FIELD OPERATING AGENCY) | ASSISTANT AUDITOR GENERAL, ACQUISTION, LOGISTICS AND FINANCIAL AUDITS. ASSISTANT AUDITOR GENERAL, OPERATIONS AND SUPPORT AUDITS.
| AIR FORCE OFFICE OF SPECIAL INVESTIGATIONS (FIELD OPERATING AGENCY) | EXECUTIVE DIRECTOR, DEFENSE CYBER CRIME CENTER.
| OFFICE OF ASSISTANT SECRETARY AIR FORCE FOR FINANCIAL MANAGEMENT AND COMPTROLLER | CHIEF INFORMATION OFFICER.
| OFFICE DEPUTY ASSISTANT SECRETARY BUDGET | ASSOCIATE DEPUTY ASSISTANT SECRETARY FOR BUDGET. DIRECTOR, BUDGET INVESTMENT.
| OFFICE DEPUTY ASSISTANT SECRETARY COST AND ECONOMICS | ASSOCIATE DEPUTY ASSISTANT SECRETARY (COST AND ECONOMICS). DEPUTY ASSISTANT SECRETARY (COST AND ECONOMICS).
| OFFICE DEPUTY ASSISTANT SECRETARY FINANCIAL OPERATIONS | ASSOCIATE DEPUTY ASSISTANT SECRETARY (FINANCIAL OPERATIONS). DEPUTY ASSISTANT SECRETARY (PLANS, SYSTEMS AND ANALYSIS).
| OFFICE OF ASSISTANT SECRETARY AIR FORCE FOR ACQUISITION | ASSOCIATION DEPUTY ASSISTANT SECRETARY OF THE AIR FORCE FOR SCIENCE, TECHNOLOGY AND ENGINEERING. ASSOCIATE DEPUTY ASSISTANT SECRETARY (ACQUISITION INTEGRATION).
|  | DEPUTY ASSISTANT SECRETARY (ACQUISITION INTEGRATION).
|  | DEPUTY ASSISTANT SECRETARY (SCIENCE, TECHNOLOGY AND ENGINEERING).
|  | DIRECTOR OF CONTRACTING (SPECIAL ACCESS PROGRAMS).
|  | DIRECTOR OF CONTRACTING, AIR FORCE RAPID CAPABILITIES OFFICE.
|  | DIRECTOR, INFORMATION DOMINANCE PROGRAMS.
| OFFICE DEPUTY ASSISTANT SECRETARY SCIENCE, TECHNOLOGY AND ENGINEERING | SPECIAL ASSISTANT TO THE DEPUTY ASSISTANT SECRETARY SCIENCE, TECHNOLOGY AND ENGINEERING.
| OFFICE DEPUTY ASSISTANT SECRETARY CONTRACTING | ASSOCIATE DEPUTY ASSISTANT SECRETARY (CONTRACTING).
| DIRECTORATE OF SPACE AND NUCLEAR DETERRENCE | ASSOCIATE ASSISTANT CHIEF OF STAFF STRATEGIC DETERRENCE AND NUCLEAR INTEGRATION. DEPUTY ASSISTANT CHIEF OF STAFF, STRATEGIC DETERRENCE AND NUCLEAR INTEGRATION.
| OFFICE OF ASSISTANT SECRETARY OF THE AIR FORCE FOR MANPOWER AND RESERVE AFFAIRS | DEPUTY ASSISTANT SECRETARY FOR RESERVE AFFAIRS.
| AIR FORCE REVIEW BOARDS AGENCY (AIR FORCE REVIEW BOARDS AGENCY)—FIELD OPERATING AGENCY | DEPUTY FOR AIR FORCE REVIEW BOARDS.
| OFFICE OF THE CHIEF OF STAFF | DEPUTY DIRECTOR OF STAFF, HEADQUARTERS UNITED STATES AIR FORCE.
| AIR FORCE OFFICE OF SAFETY AND AIR FORCE SAFETY CENTER (FIELD OPERATING AGENCY) | DEPUTY CHIEF OF SAFETY.
| JUDGE ADVOCATE GENERAL | DIRECTOR, ADMINISTRATIVE LAW.
| TEST AND EVALUATION | DEPUTY DIRECTOR, TEST AND EVALUATION. DIRECTOR, TEST AND EVALUATION.
| AIR FORCE STUDIES AND ANALYSES AGENCY (DIRECT REPORTING UNIT (DRU)) | DIRECTOR, AIR FORCE STUDIES AND ANALYSES, ASSESSMENTS AND LESSONS LEARNED. PRINCIPLE DEPUTY DIRECTOR, STUDIES AND ANALYSES, ASSESSMENTS AND LESSONS LEARNED.
| CIVIL ENGINEER | DEPUTY DIRECTOR OF CIVIL ENGINEERS.
| RESOURCES | DIRECTOR OF RESOURCE INTEGRATION.
| DEPUTY CHIEF OF STAFF, PLANS AND PROGRAMS | ASSISTANT DEPUTY CHIEF OF STAFF, STRATEGIC PLANS AND REQUIREMENTS. ASSOCIATE DEPUTY DIRECTOR FOR PROGRAMS.
|  | DEPUTY DIRECTOR OF STRATEGIC PLANNING.
| DEPUTY CHIEF OF STAFF, PERSONNEL | ASSISTANT DEPUTY CHIEF OF STAFF MANPOWER AND PERSONNEL.
|  | DEPUTY DIRECTOR OF SERVICES.
|  | DEPUTY DIRECTOR, MANPOWER, ORGANIZATION AND RESOURCES.
|  | DEPUTY DIRECTOR, MILITARY FORCE MANAGEMENT.
|  | DIRECTOR FORCE DEVELOPMENT.
|  | DIRECTOR, PLANS AND INTEGRATION.
| AIR FORCE PERSONNEL CENTER (FIELD OPERATING AGENCY) | DIRECTOR OF PERSONNEL OPERATIONS. EXECUTIVE DIRECTOR, AIR FORCE PERSONNEL CENTER.
| DEPUTY CHIEF OF STAFF, AIR AND SPACE OPERATIONS | ASSOCIATE DEPUTY CHIEF OF STAFF OPERATIONS, PLANS AND REQUIREMENTS. DEPUTY DIRECTOR OF OPERATIONAL REQUIREMENTS.
|  | DEPUTY DIRECTOR, OPERATIONS AND READINESS.
|  | DIRECTOR OF WEATHER.
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE.
| AIR FORCE OPERATIONAL TEST AND EVALUATION CENTER (DIRECT REPORTING UNIT) | EXECUTIVE DIRECTOR, AIR FORCE OPERATIONAL TEST AND EVALUATION CENTER.
| AIR FORCE SPECIAL OPERATIONS COMMAND | DEPUTY CHIEF FINANCIAL OFFICER. EXECUTIVE DIRECTOR AIR FORCE SPECIAL OPERATIONS COMMAND.
| AIR FORCE MATERIEL COMMAND | DEPUTY DIRECTOR, AIR, SPACE AND CYBERSPACE OPERATIONS. DEPUTY DIRECTOR, STRATEGIC PLANS, PROGRAMS, REQUIREMENTS AND ANALYSES.
|  | DIRECTOR FINANCIAL MANAGEMENT AND COMPTROLLER.
|  | DIRECTOR INSTALLATIONS.
|  | DIRECTOR OF CONTRACTING.
|  | DIRECTOR OF ENGINEERING AND TECHNICAL MANAGEMENT, F-35 LIGHTNING II JOINT PROGRAM OFFICE.
|  | DIRECTOR OF LOGISTICS AND LOGISTICS SERVICES.
|  | DIRECTOR OF PROPULSION.
|  | DIRECTOR, AIR FORCE CIVIL ENGINEER CENTER.
|  | DIRECTOR, ENGINEERING AND TECHNICAL MANAGEMENT.
|  | DIRECTOR, FINANCIAL MANAGEMENT.
|  | DIRECTOR, HYBRID PRODUCT SUPPORT INTEGRATOR TRANSITION OPS.
|  | DIRECTOR, INSTALLATION SUPPORT.
|  | DIRECTOR, MANPOWER, PERSONNEL AND SERVICES.
|  | DIRECTOR, NATIONAL MUSEUM OF THE UNITED STATES AIR FORCE.
|  | DIRECTOR, RESOURCES.
|  | EXECUTIVE DIRECTOR.
|  | EXECUTIVE DIRECTOR, AIR FORCE INSTALLATION AND MISSION SUPPORT CENTER.
|  | EXECUTIVE DIRECTOR, AIR FORCE MATERIEL COMMAND.
|  | EXECUTIVE DIRECTOR, AIR FORCE NUCLEAR WEAPONS CENTER.
|  | EXECUTIVE DIRECTOR, AIR FORCE SUSTAINMENT CENTER.
|  | PROGRAM EXECUTIVE OFFICER FOR BUSINESS ENTERPRISE SYSTEMS.
| CONTRACTING | DIRECTOR, MILSATCOM DIRECTORATE.
| LOGISTICS | DEPUTY DIRECTOR, LOGISTICS, INSTALLATIONS AND MISSION SUPPORT.
| ENGINEERING AND TECHNICAL MANAGEMENT | DIRECTOR, ENGINEERING AND TECHNICAL MANAGEMENT.
| FINANCIAL MANAGEMENT AND COMPTROLLER | DEPUTY DIRECTOR, FINANCIAL MANAGEMENT.
| AIR FORCE MATERIEL COMMAND LAW OFFICE | COMMAND COUNSEL. DIRECTOR, AIR FORCE MATERIEL COMMAND LAW OFFICE.
| AIR FORCE OFFICE OF SCIENTIFIC RESEARCH | DIRECTOR AIR FORCE OFFICE OF SCIENTIFIC RESEARCH.
| ELECTRONIC SYSTEMS CENTER | DIRECTOR, ENGINEERING AND TECHNICAL MANAGEMENT. PROGRAM EXECUTIVE OFFICER, BATTLE MANAGEMENT.
| AERONAUTICAL SYSTEMS CENTER | EXECUTIVE DIRECTOR, AIR FORCE LIFE CYCLE MANAGEMENT CENTER. PROGRAM EXECUTIVE OFFICER FOR AGILE COMBAT SUPPORT.
|  | PROGRAM EXECUTIVE OFFICER, MOBILITY AIRCRAFT.
| AIR FORCE RESEARCH LABORATORY | DIRECTOR, AEROSPACE SYSTEMS. DIRECTOR, MATERIALS AND MANUFACTURING.
|  | DIRECTOR, PLANS AND PROGRAMS.
|  | DIRECTOR, STRATEGIC DEVELOPMENT AND PLANNING.
|  | EXECUTIVE DIRECTOR, AIR FORCE RESEARCH LABORATORY.
| DIRECTED ENERGY DIRECTORATE | DIRECTOR, DIRECTED ENERGY.
| SENSORS DIRECTORATE | DIRECTOR SENSORS.
| HUMAN EFFECTIVENESS DIRECTORATE | DIRECTOR, HUMAN EFFECTIVENESS DIRECTORATE.
| AIR FORCE FLIGHT TEST CENTER | EXECUTIVE DIRECTOR, AIR FORCE TEST CENTER.
| AIR LOGISTICS CENTER, OKLAHOMA CITY | DIRECTOR OF CONTRACTING. DIRECTOR OF ENGINEERING AND TECHNICAL MANAGEMENT.
|  | DIRECTOR OF LOGISTICS, AIR FORCE SUSTAINMENT CENTER.
|  | DIRECTOR, 448TH SUPPLY CHAIN MANAGEMENT WING.
| AIR LOGISTICS CENTER, WARNER ROBINS | DIRECTOR OF CONTRACTING.
| AIR LOGISTICS CENTER, OGDEN | DIRECTOR OF CONTRACTING. DIRECTOR, ENGINEERING AND TECHNICAL MANAGEMENT.
| AIR COMBAT COMMAND | DEPUTY DIRECTOR OF LOGISTICS, ENGINEERING, AND FORCE PROTECTION. DEPUTY DIRECTOR, REQUIREMENTS.
|  | DIRECTOR, ACQUISITION MANAGEMENT AND INTEGRATION CENTER.
| AIR MOBILITY COMMAND | DEPUTY DIRECTOR OR LOGISTICS.
| AIR EDUCATION AND TRAINING COMMAND | DIRECTOR, INTERNATIONAL TRAINING AND EDUCATION.
|  | DIRECTOR, LOGISTICS, INSTALLATIONS AND MISSION SUPPORT.
| AIR FORCE RESERVE COMMAND | DIRECTOR OF STAFF.
| UNITED STATES CENTRAL COMMAND | DEPUTY DIRECTOR OF LOGISTICS AND ENGINEERING. DEPUTY DIRECTOR OF OPERATIONS INTERAGENCY ACTION GROUP.
|  | DIRECTOR OF RESOURCES, REQUIREMENTS, BUDGET AND ASSESSMENT.
| AIR FORCE SPACE COMMAND | DIRECTOR OF CONTRACTING, SPACE AND MISSILE SYSTEMS CENTER (SMC). EXECUTIVE DIRECTOR, AIR FORCE SPACE COMMAND.
| UNITED STATES SPECIAL OPERATIONS COMMAND | CHIEF FINANCIAL OFFICER. DEPUTY CHIEF OF STAFF.
|  | DEPUTY DIRECTOR, CENTER FOR SPECIAL OPERATIONS ACQUISITION AND LOGISTICS.
|  | DIRECTOR AND CHIEF INFOMATION OFFICER FOR SPECIAL OPERATIONS NETWORKS AND COMMUNICATIONS CENTER.
|  | DIRECTOR COMMUNICATIONS SYSTEMS/CIO (J6).
|  | DIRECTOR FOR ACQUISITION.
|  | DIRECTOR, PLANS, POLICY AND STRATEGY.
|  | PRESIDENT, JOINT SPECIAL OPERATIONS UNIVERSITY.
| SPACE AND MISSLE SYSTEMS CENTER | DIRECTOR, LAUNCH ENTERPRISE. DIRECTOR, MILITARY SATELLITE COMMUNICATIONS DIRECTORATE.
| UNITED STATES STRATEGIC COMMAND | ASSOCIATE DIRECTOR CAPABILITY AND RESOURCE. DEPUTY DIRECTOR, CAPABILITY AND RESOURCE INTEGRATION.
|  | DEPUTY DIRECTOR, CAPABILITY DEVELOPMENTAL GROUP COMMAND ACQUISITION EXECUTIVE.
|  | DEPUTY DIRECTOR, PLANS AND POLICY.
|  | DEPUTY DIRECTOR, PLANS AND POLICY, USSTRATCOM.
|  | DIRECTOR, CAPABILITY AND RESOURCE INTEGRATION, USSTRATCOM C2 FAC MGMT PMO.
|  | DIRECTOR, COMMAND, CONTROL, COMMUNICATIONS AND COMPUTER SYSTEMS.
|  | DIRECTOR, GLOBAL INNOVATION STRATEGY CENTER.
|  | DIRECTOR, JOINT EXCERCISES AND TRAINING.
|  | TECHNICAL DIRECTOR, JOINT WARFARE ANALYSIS CENTER.
| UNITED STATES TRANSPORTATION COMMAND | DEPUTY DIRECTOR, ACQUISITION. DEPUTY DIRECTOR, STRATEGY, CAPABILITIES, POLICY AND LOGISTICS.
|  | DIRECTOR, ACQUISTION.
|  | DIRECTOR, PROGRAM ANALYSIS AND FINANCIAL MANAGEMENT.
|  | EXECUTIVE DIRECTOR.
|  | EXECUTIVE DIRECTOR AND DEPUTY CHIEF INFORMATION OFFICER.
| JOINT STAFF | DIRECTOR, JOINT INFORMATION OPERATIONS WARFARE CENTER.
| UNITED STATES NORTHERN COMMAND | DEPUTY COMMANDER, JOINT FORCES HEADQUARTERS—NATIONAL CAPITAL REGION. DIRECTOR OF INTERAGENCY.
|  | DIRECTOR, JOINT EXERCISES AND TRAINING.
|  | DIRECTOR, PROGRAMS AND RESOURCES.
|  | NORTHCOM, DEPUTY DIRECTOR OF OPERATIONS FOR SPECIAL ACTIVITIES.
DEPARTMENT OF THE ARMY | UNITED STATES ARMY NATIONAL MILITARY CEMETERIES | EXECUTIVE DIRECTOR OF THE ARMY NATIONAL CENETERIES PROGRAM. SUPERINTENDENT, ARLINGTON NATIONAL CEMETERY.
| OFFICE DEPUTY UNDER SECRETARY OF ARMY | ASSISTANT TO THE DEPUTY UNDER SECRETARY ARMY/DIRECTOR OF TEST AND EVALUATION. DIRECTOR CIVILIAN SENIOR LEADER MANAGEMENT OFFICE.
|  | DIRECTOR, BUSINESS TRANSFORMATION DIRECTORATE.
|  | SPECIAL ADVISOR TO DEPUTY UNDER SECRETARY ARMY.
| OFFICE OF BUSINESS TRANSFORMATION | DEPUTY CHIEF MANAGEMENT OFFICER. DEPUTY DIRECTOR, OFFICE OF BUSINESS TRANSFORMATION, OFFICE OF THE UNDER SECRETARY OF THE ARMY.
|  | DIRECTOR, BUSINESS TRANSFORMATION DIRECTORATE.
| OFFICE ADMINSTRATIVE ASSISTANT TO THE SECRETARY OF ARMY | ADMINISTRATIVE ASSISTANT TO THE SECRETARY OF THE ARMY. DEPUTY ADMINISTRATIVE ASSISTANT TO THE SECRETARY OF THE ARMY/DIRECTOR FOR SHARED SERVICES.
|  | EXECUTIVE ADVISOR TO THE ADMINISTRATIVE ASSISTANT TO THE SECRETARY OF THE ARMY.
|  | EXECUTIVE DIRECTOR, UNITED STATES ARMY HEADQUARTERS SERVICES.
| ARMY CENTER OF MILITARY HISTORY (HEADQUARTERS, DEPARTMENT OF THE ARMY FIELD OPERATING AGENCY AND STAFF SUPPORT AGENCY)) | DIRECTOR, UNITED STATES ARMY CENTER OF MILITARY HISTORY/CHIEF OF MILITARY HISTORY.
| OFFICE ASSISTANT SECRETARY ARMY (CIVIL WORKS) | DEPUTY ASSISTANT SECRETARY OF THE ARMY (MANAGEMENT AND BUDGET). SPECIAL ADVISOR TO ASSISTANT SECRETARY ARMY (CIVIL WORKS).
| OFFICE ASSISTANT SECRETARY ARMY (FINANCIAL MANAGEMENT AND COMPTROLLER) | DEPUTY ASSISTANT SECRETARY OF THE ARMY (COST AND ECONOMICS). DEPUTY ASSISTANT SECRETARY OF THE ARMY (FINANCIAL OPERATIONS).
|  | DEPUTY DIRECTOR AND SENIOR ADVISOR FOR ARMY BUDGET (BUDGET).
|  | DIRECTOR FOR ACCOUNTABILITY AND AUDIT READINESS.
|  | DIRECTOR OF INVESTMENT.
|  | DIRECTOR OF MANAGEMENT AND CONTROL.
|  | DIRECTOR, FINANCIAL INFORMATION MANAGEMENT.
|  | DIRECTOR, MILITARY PERSONNEL AND FACILITIES.
|  | DIRECTOR, PROGRAMS AND STRATEGY.
| UNITED STATES ARMY FINANCIAL MANAGEMENT COMMAND | DEPUTY TO THE COMMANDER FOR FINANCIAL MANAGEMENT OPERATIONS.
| OFFICE ASSISTANT SECRETARY ARMY (INSTALLATIONS, ENERGY AND ENVIRONMENT) | DEPUTY ASSISTANT SECRETARY OF ARMY (STRATEGIC INTEGRATION). DEPUTY ASSISTANT SECRETARY OF THE ARMY (ENVIRONMENT, SAFETY AND OCCUPATIONAL HEALTH).
| OFFICE ASSISTANT SECRETARY ARMY (MANPOWER AND RESERVE AFFAIRS) | DEPUTY ASSISTANT SECRETARY OF ARMY FOR MARKETING/DIRECTOR, ARMY MARKETING RESEARCH GROUP. DEPUTY ASSISTANT SECRETARY OF THE ARMY (ARMY REVIEW BOARDS AGENCY).
|  | DEPUTY ASSISTANT SECRETARY OF THE ARMY (CIVILIAN PERSONNEL).
|  | DEPUTY ASSISTANT SECRETARY OF THE ARMY (DIVERSITY AND LEADERSHIP).
|  | DEPUTY ASSISTANT SECRETARY OF THE ARMY (MILITARY PERSONNEL/QUALITY OF LIFE).
| OFFICE ASSISTANT SECRETARY ARMY (ACQUISITION, LOGISTICS AND TECHNOLOGY) | CHIEF SYSTEMS ENGINEER, ACQUISITION SECRETARY ARMY. DEPUTY ASSISTANT SECRETARY FOR RESEARCH AND TECHNOLOGY/CHIEF SCIENTIST.
|  | DEPUTY ASSISTANT SECRETARY OF THE ARMY (ACQUISITION POLICY AND LOGISTICS), ASSISTANT SECRETARY OF THE ARMY (ACQUISITION, LOGISTICS AND TECHNOLOGY).
|  | DEPUTY ASSISTANT SECRETARY OF THE ARMY (POLICY AND PROCUREMENT).
|  | DEPUTY ASSISTANT SECRETARY OF THE ARMY FOR DEFENSE EXPORTS AND COOPERATION.
|  | DEPUTY ASSISTANT SECRETARY OF THE ARMY FOR PLANS, PROGRAMS AND RESOURCES.
|  | DIRECTOR FOR RESEARCH AND TECHNOLOGY.
|  | DIRECTOR, SYSTEM OF SYSTEM ENGINEERING INTEGRATION.
|  | EXECUTIVE DIRECTOR FOR ACQUISITION SERVICES, ASA (ALT).
|  | EXECUTIVE DIRECTOR, RAPID CAPABILITIES OFFICE.
|  | SPECIAL ASSISTANT TO THE ASSISTANT SECRETARY OF ARMY (ACQUISITION, LOGISTICS AND TECHNOLOGY).
| ARMY ACQUISITION EXECUTIVE | DEPUTY JOINT PROGRAM EXECUTIVE OFFICER FOR CHEMICAL AND BIOLOGICAL DEFENSE.
|  | DEPUTY PROGRAM EXECTUIVE OFFICER GROUND COMBAT SYSTEMS. DEPUTY PROGRAM EXECUTIVE OFFICER (SIMULATION, TRAINING AND INSTRUMENTATION).
|  | DEPUTY PROGRAM EXECUTIVE OFFICER AMMUNITION.
|  | DEPUTY PROGRAM EXECUTIVE OFFICER FOR AVIATION.
|  | DEPUTY PROGRAM EXECUTIVE OFFICER FOR SOLDIER.
|  | DEPUTY PROGRAM EXECUTIVE OFFICER, COMBAT SUPPORT AND COMBAT SERVICE SUPPORT.
|  | DEPUTY PROGRAM EXECUTIVE OFFICER, COMMAND CONTROL AND COMMUNICATIONS TACTICAL.
|  | DEPUTY PROGRAM EXECUTIVE OFFICER, ENTERPRISE INFORMATION SYSTEMS.
|  | DEPUTY PROGRAM EXECUTIVE OFFICER, INTELLIGENCE, ELECTRONIC WARFARE AND SENSORS.
|  | DEPUTY PROGRAM EXECUTIVE OFFICER, MISSILES AND SPACE.
|  | JOINT PROGRAM EXECUTIVE OFFICER FOR CHEMICAL AND BIOLOGICAL DEFENSE.
|  | PROGRAM EXECUTIVE OFFICER—AMMUNITION.
|  | PROGRAM EXECUTIVE OFFICER—COMMAND CONTROL AND COMMUNICATIONS (TACTICAL).
|  | PROGRAM EXECUTIVE OFFICER ASSEMBLED CHEMICAL WEAPONS ALTERNATIVE.
|  | PROGRAM EXECUTIVE OFFICER COMBAT SUPPORT AND COMBAT SERVICE SUPPORT.
|  | PROGRAM EXECUTIVE OFFICER ENTERPRISE INFORMATION SYSTEMS.
|  | PROGRAM EXECUTIVE OFFICER MISSILES AND SPACE.
|  | PROGRAM EXECUTIVE OFFICER, INTELLIGENCE, ELECTRONIC WARFARE AND SENSORS.
| OFFICE OF THE INSPECTOR GENERAL | PRINCIPAL DIRECTOR TO THE INSPECTOR GENERAL (INSPECTIONS).
| CHIEF INFORMATION OFFICER/G-6 | DEPUTY CHIEF INFORMATION OFFICER/G-6. DIRECTOR FOR ARMY ARCHITECTURE INTEGRATION CELL.
|  | DIRECTOR, CYBERSECURITY.
|  | PRINCIPAL DIRECTOR, POLICY AND RESOURCES/CHIEF FINANCIAL OFFICER, CHIEF INFROMATION OFFICER/G-6.
| OFFICE, CHIEF OF PUBLIC AFFAIRS | PRINCIPAL DEPUTY CHIEF OF PUBLIC AFFAIRS.
| ARMY AUDIT AGENCY | DEPUTY AUDITOR GENERAL, ACQUISITION AND LOGISTICS AUDITS. DEPUTY AUDITOR GENERAL, FINANCIAL MANAGEMENT AUDITS.
|  | DEPUTY AUDITOR GENERAL, INSTALLATION, ENERGY AND ENVIRONMENT AUDITS.
|  | DEPUTY AUDITOR GENERAL, MANPOWER AND TRAINING AUDITS.
|  | PRINCIPAL DEPUTY AUDITOR GENERAL.
|  | THE AUDITOR GENERAL, UNITED STATES ARMY.
| UNITED STATES ARMY TEST AND EVALUATION COMMAND | DIRECTOR, ARMY EVALUATION CENTER. DIRECTOR, BALLISTIC MISSILE EVALUATION DIRECTORATE, ARMY EVALUATION CENTER.
|  | EXECUTIVE DIRECTOR, OPERATIONAL TEST COMMAND.
|  | EXECUTIVE DIRECTOR—WHITE SANDS.
| OFFICE, CHIEF ARMY RESERVE | ASSISTANT CHIEF OF THE ARMY RESERVE. CHIEF EXECUTIVE OFFICER.
|  | DIRECTOR HUMAN CAPITAL (OFFICE, CHIEF ARMY RESERVE).
|  | DIRECTOR OF RESOURCE MANAGEMENT AND MATERIAL.
|  | DIRECTOR, G-1 (PERSONNEL AND HUMAN CAPITAL).
| OFFICE, ASSISTANT CHIEF OF STAFF FOR INSTALLATION MANAGEMENT | CHIEF INFORMATION TECHNOLOGY OFFICER. DEPUTY ASSISTANT CHIEF OF STAFF FOR INSTALLATION MANAGEMENT.
|  | DIRECTOR INSTALLATION SERVICES.
|  | DIRECTOR OF RESOURCE INTEGRATION.
| UNITED STATES ARMY INSTALLATION MANAGEMENT COMMAND | DIRECTOR IMCOM SUPPORT (READINESS). DIRECTOR IMCOM SUPPORT (SUSTAINMENT).
|  | DIRECTOR IMCOM SUPPORT (TRAINING).
|  | DIRECTOR OF FACILITIES AND LOGISTICS.
|  | DIRECTOR, FAMILY, MORALE, WELFARE AND RECREATION DIRECTORATE, G-9, IMCOM.
|  | DIRECTOR, HUMAN RESOURCES (IMCOM).
|  | DIRECTOR, PLANS, OPERATIONS AND TRAIINING, G-3/5/7.
|  | EXECUTIVE DIRECTOR/DIRECTOR OF SERVICES.
|  | EXECUTIVE DPUTY TO COMMANDING GENERAL, IMCOM.
|  | REGIONAL DIRECTOR (ATLANTIC).
|  | REGIONAL DIRECTOR (CENTRAL).
|  | REGIONAL DIRECTOR (EUROPE).
|  | REGIONAL DIRECTOR (PACIFIC).
| OFFICE, DEPUTY CHIEF OF STAFF , G-4 | DIRECTOR, LOGISITICS INNOVATION AGENCY. ASSISTANT DEPUTY CHIEF OF STAFF, G-4.
|  | DIRECTOR FOR MAINTENANCE POLICY, PROGRAMS AND PROCESSES.
|  | DIRECTOR FOR SUPPLY POLICY.
|  | DIRECTOR OF RESOURCE MANAGEMENT.
|  | DIRECTOR, LOGISTICS INFORMATION MANAGEMENT.
| OFFICE, DEPUTY CHIEF OF STAFF, G-8 | ASSISTANT DEPUTY CHIEF OF STAFF, G-8.
|  | DIRECTOR, RESOURCES/DEPUTY DIRECTOR, FORCE DEVELOPMENT.
| OFFICE, DEPUTY CHIEF OF STAFF, G-3 | ASSISTANT DEPUTY CHIEF OF STAFF FOR OPERATIONS (G-3/5/7). DEPUTY DIRECTOR FOR CYBER (G-3/5/7).
|  | DEPUTY DIRECTOR FOR FORCE MANAGEMENT.
|  | DEPUTY DIRECTOR FOR PLANS AND POLICY.
|  | DEPUTY DIRECTOR FOR STRATEGY PLANS AND POLICY.
|  | DEPUTY DIRECTOR OF TRAINING AND TRAINING PROGRAM EVALUATION GROUP CO-CHAIR.
| OFFICE, DEPUTY CHIEF OF STAFF, G-1 | ASSISTANT DEPUTY CHIEF OF STAFF, G-1. DIRECTOR, TECHNOLOGY AND BUSINESS ARCHITECTURE INTEGRATION.
|  | DIRECTOR FOR MANPRINT DIRECTORATE.
|  | DIRECTOR, ARMY RESILIENCY DIRECTORATE, ODCS, G-1.
|  | DIRECTOR, CIVILIAN TALENT MANAGEMENT/DEPUTY DIRECTOR ARMY TALENT MANAGEMENT TASK FORCE.
|  | DIRECTOR, PLANS AND RESOURCES.
|  | DIRECTOR, SEXUAL HARASSMENT/ASSAULT RESPONSE AND PREVENTION.
|  | SPECIAL ADVISOR TO DEPUTY CHIEF OF STAFF-G1 HQDA.
| ARMY RESEARCH INSTITUTE (DEPUTY CHIEF OF STAFF FOR PERSONNEL, FIELD OPERATING AGENCY) | DIRECTOR, UNITED STATES ARMY RESEARCH INSTITUTE AND CHIEF PSYCHOLOGIST.
| NATIONAL GUARD BUREAU | CHIEF FINANCIAL OFFICER.
| OFFICE OF THE SURGEON GENERAL | CHIEF OF STAFF. DEPUTY CHIEF OF STAFF/ASSISTANT SURGEON GENERAL, FORCE MANAGEMENT.
| UNITED STATES ARMY MEDICAL RESEARCH AND MATERIEL COMMAND | PRINCIPAL ASSISTANT FOR ACQUISITION.
| UNITED STATES ARMY MEDICAL DEPARTMENT CENTER AND SCHOOL | DEPUTY TO THE COMMANDING GENERAL.
| UNITED STATES ARMY SPACE AND MISSILE DEFENSE COMMAND | DEPUTY TO THE COMMANDER, UNITED STATES ARMY SPACE AND MISSILE DEFENSE COMMAND/ARMY FORCES STRATCOM. DIRECTOR , SPACE AND MISSILE DEFENSE TECHNICAL CENTER.
|  | DIRECTOR CAPABILITY DEVELOPMENT INTEGRATION DIRECTORATE, SPACE AND MISSILE DEFENSE COMMAND.
|  | DIRECTOR, CAPABILITY DEVELOPMENT INTEGRATION DIRECTORATE (CDID).
|  | DIRECTOR, FUTURE WARFARE CENTER.
|  | DIRECTOR, PROGRAMS AND TECHNOLOGY.
| UNITED STATES ARMY TRAINING AND DOCTRINE COMMAND (TRADOC) | ASSISTANT DEPUTY CHIEF OF STAFF, G-3/5/7 AND DEPUTY G-3/5 FOR OPS PLANS, TRADOC. DEPUTY CHIEF OF STAFF G-1/4 (PERSONNEL AND LOGISTICS).
|  | DEPUTY CHIEF OF STAFF G8, TRADOC.
|  | DEPUTY CHIEF OF STAFF, G-3/5/7, TRADOC.
|  | DEPUTY CHIEF OF STAFF, G6 (TRADOC).
|  | DEPUTY DIRECTOR/CHIEF OF STAFF, ARCIC.
|  | DEPUTY TO THE COMMANDING GENERAL ARMY AVIATION CENTER OF EXCELLENCE/DIRECTOR, CAPABILITIES DEVELOPMENT AND INTEGRATION.
|  | DEPUTY TO THE COMMANDING GENERAL FIRES/DIRECTOR, CAPABILITIES, DEVELOPMENT AND INTEGRATION.
|  | DEPUTY TO THE COMMANDING GENERAL MANUEVER SUPPORT/DIRECTOR, CAPABILITIES DEVELOPMENT AND INTEGRATION.
|  | DEPUTY TO THE COMMANDING GENERAL, COMBINED ARMS CENTER.
|  | DEPUTY TO THE COMMANDING GENERAL, COMBINED ARMS SUPPORT COMMAND.
|  | DEPUTY TO THE COMMANDING GENERAL, MANEUVER CENTER OF EXCELLENCE AND DIRECTOR, CAPABILITIES DEVELOPMENT AND INTEGRATION.
|  | DEPUTY TO THE COMMANDING GENERAL, SIGNAL CENTER OF EXCELLENCE.
|  | DIRECTOR OF TRANSFORMATION, CYBER CENTER OF EXCELLENCE.
|  | PRESIDENT, ARMY LOGISTICS UNIVERSITY.
| TRAINING AND DOCTRINE COMMAND ANALYSIS CENTER | DIRECTOR OF OPERATIONS. DIRECTOR, TRAINING AND DOCTRINE COMMAND ANALYSIS CENTER.
| ARMY FUTURES COMMAND—CROSS FUNCTIONAL TEAMS | DIRECTOR, ASSURED PNT CROSS-FUNCTIONAL TEAM, SA.
| ARMY FUTURES COMMAND, COMBAT CAPABILITIES DEVELOPMENT COMMAND, ARMY RESEARCH LABORATORY | DIRECTOR HUMAN DIMENSION SIMULATIONS AND TRAINING DIRECTORATE. DIRECTOR UNITED STATES ARMY RESEARCH LABORATORY. DIRECTOR WEAPONS AND MATERIALS RESEARCH DIRECTORATE.
|  | DIRECTOR, ARMY RESEARCH OFFICE.
|  | DIRECTOR, SENSORS AND ELECTRON DEVICES DIRECTORATE.
|  | DIRECTOR, SURVIVABILITY/LETHALITY ANALYSIS DIRECTORATE.
| MILITARY SURFACE DEPLOYMENT DISTRIBUTION COMMAND | DEPUTY TO THE COMMANDER, SURFACE DEPLOYMENT AND DISTRIBUTION COMMAND. DIRECTOR, TRANSPORTATION ENGINEERING AGENCY/DIRECTOR JOINT DISTRIBUTION PROCESS ANALYSIS CENTER.
| UNITED STATES ARMY FORCES COMMAND | ASSISTANT DEPUTY CHIEF OF STAFF FOR LOGISTICS. ASSISTANT DEPUTY CHIEF OF STAFF FOR OPERATIONS, G-3/5/7.
|  | ASSISTANT DEPUTY CHIEF OF STAFF, G-6.
|  | DEPUTY CHIEF OF STAFF FOR RESOURCE MANAGEMENT.
|  | DEPUTY CHIEF OF STAFF, G-1.
| UNITED STATES ARMY NETWORK ENTERPRISE TECHNOLOGY COMMAND/9TH ARMY SIGNAL COMMAND | DEPUTY TO COMMANDER/SENIOR TECHNICAL DIRECTOR/CHIEF ENGINEER.
| UNITED STATES ARMY CORPS OF ENGINEERS | CHIEF MILITARY PROGRAMS INTEGRATION DIVISION. DIRECTOR CONTINGENCY OPERATIONS/CHIEF, HOMELAND SECURITY OFFICE.
|  | DIRECTOR FOR CORPORATE INFORMATION.
|  | DIRECTOR OF CONTRACTING.
|  | DIRECTOR OF HUMAN RESOURCES.
|  | DIRECTOR OF RESOURCE MANAGEMENT.
|  | DIRECTOR, INFORMATION TECHNOLOGY LABORATORY.
|  | DIRECTOR, REAL ESTATE.
|  | DIRECTOR, RESEARCH AND DEVELOPMENT AND DIRECTOR, ENGINEERING RESEARCH AND DEVELOPMENT CENTER.
| DIRECTORATE OF RESEARCH AND DEVELOPMENT | DEPUTY DIRECTOR OF RESEARCH AND DEVELOPMENT.
| DIRECTORATE OF CIVIL WORKS | CHIEF, ENGINEERING AND CONSTRUCTION DIVISION. CHIEF, OPERATIONS DIVISION AND REGULATORY COMMUNITY OF PRACTICE.
|  | CHIEF, PLANNING AND POLICY DIVISION/COMMUNITY OF PRACTICE.
|  | CHIEF, PROGRAMS MANAGEMENT DIVISION.
|  | DIRECTOR OF CIVIL WORKS.
| DIRECTORATE OF MILITARY PROGRAMS | CHIEF, ENVIRONMENTAL COMMUNITY OF PRACTICE. CHIEF, INSTALLATION SUPPORT COMMUNITY OF PRACTICE.
|  | CHIEF, INTERAGENCY AND INTERNATIONAL SERVICES DIVISION.
|  | DIRECTOR OF MILITARY PROGRAMS.
| DIRECTORS OF PROGRAMS MANAGEMENT | DIVISION PROGRAMS DIRECTOR. DIVISION PROGRAMS DIRECTOR (GREAT LAKE AND OHIO RIVER DIVISION).
|  | DIVISION PROGRAMS DIRECTOR (NORTH ATLANTIC DIVISION).
|  | DIVISION PROGRAMS DIRECTOR (NORTHWESTERN DIVISION).
|  | DIVISION PROGRAMS DIRECTOR (PACIFIC OCEAN DIVISION).
|  | DIVISION PROGRAMS DIRECTOR (SOUTH ATLANTIC DIVISION).
|  | DIVISION PROGRAMS DIRECTOR (SOUTH PACIFIC DIVISION).
|  | DIVISION PROGRAMS DIRECTOR (SOUTHWESTERN DIVISION).
|  | DIVISION PROGRAMS DIRECTOR, TRANSATLANTIC DIVISION.
| DIRECTORS OF ENGINEERING AND TECHNICAL SERVICES | REGIONAL BUSINESS DIRECTOR (GREAT LAKES, OHIO RIVER DIVISION). REGIONAL BUSINESS DIRECTOR (NORTH ATLANTIC DIVISION).
|  | REGIONAL BUSINESS DIRECTOR (NORTHWESTERN DIVISION).
|  | REGIONAL BUSINESS DIRECTOR (PACIFIC OCEAN DIVISION).
|  | REGIONAL BUSINESS DIRECTOR (SOUTH ATLANTIC DIVISION).
|  | REGIONAL BUSINESS DIRECTOR (SOUTH PACIFIC DIVISION).
|  | REGIONAL BUSINESS DIRECTOR (SOUTHWESTERN DIVISION).
|  | REGIONAL BUSINESS DIRECTOR, (MISSISSIPPI VALLEY DIVISION).
| ENGINEER RESEARCH AND DEVELOPMENT CENTER | DEPUTY DIRECTOR ENGINEER RESEARCH AND DEVELOPMENT CENTER. DIRECTOR GEOTECHNICAL AND STRUCTURES LABORATORY.
|  | DIRECTOR, COASTAL AND HYDRAULICS LABORATORY.
|  | DIRECTOR, ENVIRONMENTAL LABORATORY.
| ENGINEER TOPOGRAPHIC LABORATORIES, CENTER OF ENGINEERS | DIRECTOR, ARMY GEOSPATIAL CENTER.
| CONSTRUCTION ENGINEERING RESEARCH LABORATORY CHAMPAIGN, ILLINOIS | DIRECTOR, CONSTRUCTION ENGINEERING RESEARCH LABORATORIES.
| COLD REGIONS RESEARCH AND ENGINEERING LABORATORY HANOVER, NEW HAMSHIRE | DIRECTOR, COLD REGIONS RESEARCH AND ENGINEERING LABORATORY.
| UNITED STATES ARMY MATERIEL COMMAND | ASSISTANT DEPUTY CHIEF OF STAFF, G-3/4 FOR LOGISTICS INTEGRATION. CHIEF TECHNOLOGY OFFICER.
|  | DEPUTY CHIEF OF STAFF FOR CORPORATE INFORMATION/CHIEF INFORMATION OFFICER.
|  | DEPUTY CHIEF OF STAFF FOR LOGISTICS, G-4.
|  | DEPUTY G-3/4 FOR CURRENT OPERATIONS.
| OFFICE OF DEPUTY CHIEF OF STAFF FOR LOGISTICS AND OPERATIONS | PRINCIPAL DEPUTY G-3 FOR OPERATIONS AND LOGISTICS.
| OFFICE DEPUTY COMMANDING GENERAL | EXECUTIVE DEPUTY TO THE COMMANDING GENERAL.
| OFFICE OF DEPUTY CHIEF OF STAFF FOR PERSONNEL | DEPUTY CHIEF OF STAFF FOR PERSONNEL.
| OFFICE OF THE DEPUTY CHIEF OF STAFF FOR RESOURCE MANAGEMENT | ASSISTANT DEPUTY CHIEF OF STAFF FOR RESOURCE MANAGEMENT, G-8/EXECUTIVE DIRECTOR FOR BUSINESS. DEPUTY CHIEF OF STAFF FOR RESOURCE MANAGEMENT.
| UNITED STATES ARMY CONTRACTING COMMAND | DEPUTY TO THE COMMANDER, MISSION INSTALLATION CONTRACTING COMMAND. DEPUTY TO THE COMMANDER, UNITED STATES ARMY EXPEDITIONARY CONTRACTING COMMAND.
|  | DEPUTY TO THE COMMANDING GENERAL, ARMY CONTRACTING COMMAND.
|  | EXECUTIVE DIRECTOR ARMY CONTRACTING COMMAND—ROCK ISLAND.
|  | EXECUTIVE DIRECTOR ARMY CONTRACTING COMMAND—REDSTONE, ALABAMA.
|  | EXECUTIVE DIRECTOR, ACC—WARREN.
|  | EXECUTIVE DIRECTOR, ARMY CONTRACTING COMMAND—ABERDEEN.
| UNITED STATES ARMY SECURITY ASSISTANCE COMMAND | DEPUTY TO THE COMMANDING GENERAL.
| UNITED STATES ARMY SUSTAINMENT COMMAND | DEPUTY TO THE COMMANDER. EXECUTIVE DIRECTOR FOR FIELD SUPPORT.
|  | EXECUTIVE DIRECTOR FOR LOGCAP.
| NATICK SOLDIER CENTER | DIRECTOR, NATICK SOLDIER RESEARCH AND DEVELOPMENT ENGINEERING CENTER.
| UNITED STATES ARMY COMMUNICATIONS ELECTRONICS COMMAND | DEPUTY TO THE COMMANDING GENERAL/DIRECTOR LOGISTICS AND READINESS CENTER. DIRECTOR, COMMUNICATIONS-ELECTRONICS LIFE CYCLE MANAGEMENT COMMAND LOGISTICS AND READINESS CENTER.
|  | DIRECTOR, SOFTWARE ENGINEERING DIRECTORATE.
| COMMUNICATIONS ELECTRONICS COMMAND RESEARCH, DEVELOPMENT AND ENGINEERING CENTER | DIRECTOR, COMMAND POWER AND INTEGRATION DIRECTORATE. DIRECTOR, COMMUNICATIONS-ELECTRONICS RESEARCH, DEVELOPMENT AND ENGINEERING CENTER.
|  | DIRECTOR, INTELLIGENCE AND INFORMATION WARFARE DIRECTORATE.
|  | DIRECTOR, SPACE AND TERRESTRIAL COMMITTEE DIRECTORATE.
|  | DIRECTOR—NIGHT VISION/ELECTROMAGNETICS SENSORS DIRECTORATE.
| UNITED STATES ARMY AVIATION AND MISSILE COMMAND (ARMY MATERIEL COMMAND) | ARMY AVIATION AND MISSILE COMMAND DIRECTOR, SPECIAL PROGRAMS (AVIATION). DEPUTY TO THE COMMANDER.
|  | DIRECTOR FOR TEST MEASUREMENT DIAGNOSTIC EQUIPMENT ACTIVITY.
|  | EXECUTIVE DIRECTOR, AVIATION AND MISSILE COMMAND LOGISTICS CENTER.
| AVIATION AND MISSILE RESEARCH DEVELOPMENT AND ENGINEERING CENTER (RESEARCH DEVELOPMENT AND ENGINEERING CENTER) | DIRECTOR FOR AVIATION AND MISSILE RESEARCH, DEVELOPMENT AND ENGINEERING CENTER. DIRECTOR FOR AVIATION DEVELOPMENT. DIRECTOR FOR ENGINEERING.
|  | DIRECTOR FOR SYSTEMS SIMULATION, SOFTWARE, AND INTEGRATION.
| AVIATION ENGINEERING DIRECTORATE | DIRECTOR FOR WEAPONS DEVELOPMENT AND INTEGRATION. DIRECTOR OF AVIATION ENGINEERING.
| RESEARCH, DEVELOPMENT AND ENGINEERING COMMAND | DEPUTY DIRECTOR, RDECOM.
| UNITED STATES ARMY EDGEWOOD CHEMICAL BIOLOGICAL CENTER | DIRECTOR FOR PROGRAMS INTEGRATION. DIRECTOR, EDGEWOOD CHEMICAL BIOLOGICAL CENTER.
|  | DIRECTOR, ENGINEERING DIRECTORATE.
|  | DIRECTOR, RESEARCH AND TECHNOLOGY DIRECTORATE.
| TANK-AUTOMOTIVE AND ARMAMENTS COMMAND (TANK-AUTOMOTIVE AND ARMAMENTS COMMAND) | DEPUTY TO THE COMMANDER. DIRECTOR INTEGRATED LOGISTICS SUPPORT CENTER.
| TANK-AUTOMOTIVE RESEARCH, DEVELOPMENT AND ENGINEERING CENTER | DIRECTOR FOR SYSTEMS INTEGRATION AND ENGINEERING. DIRECTOR, RESEARCH, TECHNOLOGY DEVELOPMENT AND INTEGRATION.
|  | DIRECTOR, TARDEC.
| UNITED STATES ARMY ARMAMENT RESEARCH, DEVELOPMENT AND ENGINEERING CENTER | DIRECTOR FOR ARMAMENT RESEARCH, DEVELOPMENT AND ENGINEERING. EXECUTIVE DIRECTOR, ENTERPRISE AND SYSTEMS INTEGRATION CENTER.
|  | EXECUTIVE DIRECTOR, MUNITONS ENGINEERING TECHNOLOGY CENTER, ARDEC.
|  | EXECUTIVE DIRECTOR, WEAPONS AND SOFTWARE ENGINEER CENTER.
| UNITED STATES ARMY JOINT MUNITIONS COMMAND | DEPUTY TO THE COMMANDER, JOINT MUNITIONS COMMAND. EXECUTIVE DIRECTOR FOR AMMUNITION.
| UNITED STATES ARMY MATERIEL SYSTEMS ANALYSIS ACTIVITY | DIRECTOR, ARMY MATERIEL SYSTEMS ANALYSIS ACTIVITY. TECHNICAL DIRECTOR.
| HEADQUARTERS, UNITED STATES ARMY, EUROPE | DEPUTY CHIEF OF STAFF G-8. DEPUTY CHIEF OF STAFF, G1.
| UNITED STATES ARMY SPECIAL OPERATIONS COMMAND | DEPUTY TO THE COMMANDING GENERAL. DEPUTY TO THE COMMANDING GENERAL, USAJFKSWCS.
| UNITED STATES SOUTHERN COMMAND | DEPUTY DIRECTOR OF OPERATIONS, J3. DEPUTY DIRECTOR STRATEGY AND POLICY.
|  | DIRECTOR FOR PARTNERING.
|  | DIRECTOR, J8 (RESOURCES AND ASSESSMENTS DIRECTORATE).
| UNITED STATES EUROPEAN COMMAND | DIRECTOR, INTERAGENCY PARTNERING, (J9). DIRECTOR, RUSSICA STRATEGIC INITIATIVE (RSI).
| UNITED STATES AFRICA COMMAND | DEPUTY DIRECTOR OF PROGRAM, (J5), USAFRICOM. DEPUTY DIRECTOR OF RESOURCES (J1/J8).
|  | DIRECTOR OF RESOURCES (J1/J8), AFRICOM.
| JOINT SPECIAL OPERATIONS COMMAND | EXECUTIVE DIRECTOR FOR RESOURCES, SUPPORT, AND INTEGRATION.
| UNITED STATES ARMY CYBER COMMAND/SECOND ARMY | DEPUTY TO COMMANDER, ARMY CYBER COMMAND/2ND ARMY. DIRECTOR, ADVANCED CONCEPTS, TECHNOLOGY AND CAPABILTIES.
| UNITED STATES ARMY NORTH | DEPUTY TO THE COMMANDING GENERAL, ARNORTH.
| HEADQUARTERS, UNITED STATES ARMY, PACIFIC | ASSISTANT CHIEF OF STAFF, G8. STRATEGIC EFFECTS DIRECTOR TO COMMANDER, US ARMY PACIFIC.
| UNITED STATES FORCES KOREA | DEPUTY DIRECTOR FOR TRANSFORMATION AND RESTATIONING. DIRECTOR FOR FORCES, RESOURCES AND ASSESSMENTS (J8).
DEPARTMENT OF THE NAVY | OFFICE OF THE SECRETARY | ASSISTANT FOR ADMINISTRATION. DEPUTY ASSISTANT FOR ADMINISTRATION.
|  | DIRECTOR, SEXUAL ASSAULT PREVENTION AND RESPONSE.
| OFFICE OF THE UNDER SECRETARY OF THE NAVY | DEPUTY DIRECTOR, ISD. DEPUTY OF BUSINESS OPERATIONS/OFFICE OF BUSINESS TRANSFORMATION.
|  | PRINCIPAL DIRECTOR DEPUTY UNDER SECRETARY OF THE NAVY (POLICY).
|  | SENIOR DIRECTOR (POLICY AND STRATEGY).
|  | SENIOR DIRECTOR FOR SECURITY.
|  | SENIOR DIRECTOR, INTEGRATION SUPPORT DIRECTORATE.
| OFFICE OF THE NAVAL INSPECTOR GENERAL | DEPUTY INSPECTOR GENERAL OF THE MARINE CORPS. DEPUTY NAVAL INSPECTOR GENERAL.
| OFFICE OF THE AUDITOR GENERAL | ASSISTANT AUDITOR GENERAL FOR FINANCIAL MANAGEMENT AND COMPTROLLER AUDITS.
|  | ASSISTANT AUDITOR GENERAL FOR INSTALLATION AND ENVIRONMENT AUDITS.
|  | ASSISTANT AUDITOR GENERAL FOR MANPOWER & RESERVE AFFAIRS.
|  | AUDITOR GENERAL OF THE NAVY.
|  | DEPUTY AUDITOR GENERAL OF THE NAVY.
| OFFICE OF THE ASSISTANT SECRETARY OF NAVY (MANPOWER AND RESERVE AFFAIRS) | ASSISTANT GENERAL COUNSEL (MANPOWER AND RESERVE AFFAIRS). DEPUTY ASSISTANT SECRETARY OF THE NAVY (CIVILIAN HUMAN RESOURES).
|  | PRINCIPAL DEPUTY MANPOWER AND RESERVE AFFAIRS.
| OFFICE OF CIVILIAN HUMAN RESOURCES | DIRECTOR, HUMAN RESOURCES OPERATIONS. DIRECTOR, HUMAN RESOURCES POLICY AND PROGRAMS DEPARTMENT.
|  | DIRECTOR, HUMAN RESOURCES SYSTEMS AND ANALYTICS.
|  | DIRECTOR, OFFICE OF CIVILIAN HUMAN RESOURCES.
| OFFICE OF THE ASSISTANT SECRETARY OF NAVY (ENERGY, INSTALLATIONS AND ENVIRONMENT) | DEPUTY ASSISTANT SECRETARY OF THE NAVY.
| OFFICE OF THE ASSISTANT SECRETARY OF THE NAVY (RESEARCH, DEVELOPMENT AND ACQUISITION) | ASSISTANT GENERAL COUNSEL (RESEARCH, DEVELOPMENT AND ACQUISITION). CHIEF OF STAFF/POLICY.
|  | DEPUTY ASSISTANT SECRETARY OF THE NAVY (COMMAND, CONTROL, COMMUNICATIONS, COMPUTERS AND INTELLIGENCE) SPACE).
|  | DEPUTY ASSISTANT SECRETARY OF THE NAVY (MANAGEMENT AND BUDGET).
|  | DEPUTY ASSISTANT SECRETARY OF THE NAVY (RESEARCH, DEVELOPMENT, TEST AND EVALUATION).
|  | DEPUTY ASSISTANT SECRETARY OF THE NAVY (SHIPS).
|  | DEPUTY FOR TEST AND EVALUATION.
|  | EXECUTIVE DIRECTOR, F-35, JOINT PROGRAM OFFICE.
|  | EXECUTIVE DIRECTOR, NAVY INTERNATIONAL PROGRAMS OFFICE.
|  | PRINCIPAL CIVILIAN DEPUTY ASSISTANT SECRETARY OF THE NAVY (ACQUISITION WORKFORCE).
|  | PROGRAM EXECUTIVE OFFICER, LAND SYSTEMS MARINE CORPS.
| PROGRAM EXECUTIVE OFFICERS | DEPUTY PROGRAM EXECUTIVE OFFICERS AIR ASSAULT AND SPECIAL MISSION. DEPUTY PROGRAM EXECUTIVE OFFICERS FOR STRIKE WEAPONS.
|  | DEPUTY PROGRAM EXECUTIVE OFFICERS FOR TACTICAL AIR PROGRAMS.
|  | DEPUTY PROGRAM EXEUCTIVE OFFICER FOR UNMANNED AVIATION PROGRAMS.
|  | DIRECTOR, DEVELOPMENT AND INTEGRATION.
|  | DIRECTOR, PRODUCTION DEPLOYMENT AND FLEET READINESS.
|  | EXECUTIVE DIRECTOR FOR COMMAND, CONTROL, COMMUNICATIONS, COMPUTERS AND INTELLIGENCE (C4I).
|  | EXECUTIVE DIRECTOR, AMPHIBIOUS, AUXILIARY AND SEALIFT SHIPS, PROGRAM EXECUTIVE OFFICERS SHIPS.
|  | EXECUTIVE DIRECTOR, COMBATANTS, PROGRAM EXECUTIVE OFFICERS SHIPS.
|  | EXECUTIVE DIRECTOR, PROGRAM EXECUTIVE OFFICE SUBMARINES.
|  | EXECUTIVE DIRECTOR, PROGRAM EXECUTIVE OFFICE, LITTORAL COMBAT SHIPS.
|  | EXECUTIVE DIRECTOR, PROGRAM EXECUTIVE OFFICERS FOR AIRCRAFT CARRIERS.
|  | EXECUTIVE DIRECTOR, PROGRAM EXECUTIVE OFFICERS FOR INTEGRATED WARFARE SYSTEMS.
|  | PROGRAM EXECUTIVE OFFICER (ENTERPRISE INFORMATION SYSTEMS).
| STRATEGIC SYSTEMS PROGRAMS | ASSISTANT FOR MISSILE ENGINEERING SYSTEMS. ASSISTANT FOR MISSILE PRODUCTION, ASSEMBLY AND OPERATIONS.
|  | ASSISTANT FOR SHIPBOARD SYSTEMS.
|  | ASSISTANT FOR SYSTEMS INTEGRATION AND COMPATIBILITY.
|  | BRANCH HEAD REENTRY SYSTEMS BRANCH.
|  | CHIEF ENGINEER.
|  | COUNSEL, STRATEGIC SYSTEMS PROGRAMS.
|  | DIRECTOR, INTEGRATED NUCLEAR WEAPONS SAFETY AND SECURITY.
|  | DIRECTOR, PLANS AND PROGRAMS DIVISION.
|  | HEAD, RESOURCES BRANCH (COMPTROLLER) AND DEPUTY DIRECTOR, PLANS AND PROGRAM DIVISION.
|  | TECHNICAL PLANS OFFICER.
| OFFICE OF THE ASSISTANT SECRETARY OF NAVY (FINANCIAL MANAGEMENT AND COMPTROLLER) | ASSISTANT GENERAL COUNSEL (FINANCIAL MANAGEMENT AND COMPTROLLER). ASSOCIATE DIRECTOR, OFFICE OF BUDGET/FISCAL MANAGEMENT DIVISION.
|  | DEPUTY ASSISTANT SECRETARY OF THE NAVY (FINANCIAL POLICY AND SYSTEMS).
|  | DEPUTY ASSISTANT SECRETARY OF THE NAVY FOR COST AND ECONOMICS.
|  | DEPUTY ASSISTANT SECRETARY OF THE NAVY FOR FINANCIAL OPERATIONS.
|  | DIRECTOR, CIVILIAN RESOURCES AND BUSINESS AFFAIRS DIVISION.
|  | DIRECTOR, INVESTMENT AND DEVELOPMENT DIVISION.
|  | DIRECTOR, POLICY AND PROCEDURES.
|  | PRINCIPAL DEPUTY ASSISTANT SECRETARY OF THE NAVY FINANCIAL MANGEMENT AND COMPTROLLER.
| OFFICE OF THE GENERAL COUNSEL | ASSISTANT GENERAL COUNSEL (ACQUISITION INTEGRITY). ASSISTANT GENERAL COUNSEL (ENERGY, INSTALLATIONS, AND ENVIRONMENT).
|  | ASSISTANT GENERAL COUNSEL (INTELLIGENCE).
|  | COUNSEL, MILITARY SEALIFT COMMAND.
|  | DEPUTY COUNSEL NAVAL SEA SYSTEMS COMMAND.
|  | SPECIAL COUNSEL FOR LITIGATION.
| NAVAL CRIMINAL INVESTIGATIVE SERVICE | CRIMINAL INVESTIGATOR, DEPUTY DIRECTOR, NAVAL CRIMINIAL INVESTIGATIVE SERVICE. CRIMINAL INVESTIGATOR, EXECUTIVE ASSISTANT DIRECTOR FOR ATLANTIC OPERATIONS.
|  | CRIMINAL INVESTIGATOR, EXECUTIVE ASSISTANT DIRECTOR FOR CRIMINAL OPERATIONS.
|  | CRIMINAL INVESTIGATOR, EXECUTIVE ASSISTANT DIRECTOR FOR GLOBAL OPERATIONS.
|  | CRIMINAL INVESTIGATOR, EXECUTIVE ASSISTANT DIRECTOR FOR PACIFIC OPERATIONS.
|  | CRMINIAL INVESTIGATOR, EXECUTIVE ASSISTANT DIRECTOR FOR MANAGEMENT AND ADMINISTRATION.
|  | DIRECTOR, NAVAL CRIMINAL INVESTIGATIVE SERVICE.
| CHIEF OF NAVAL OPERATIONS | ASSISTANT DEPUTY CHIEF OF NAVAL OPERATIONS (RESOURCES, WARFARE REQUIREMENTS AND ASSESSMENTS) N8B.
|  | ASSISTANT DEPUTY CHIEF OF NAVAL OPERATIONS FOR INFORMATION DOMINANCE (N2/N6).
|  | ASSISTANT DEPUTY CHIEF OF NAVAL OPERATIONS, FLEET READINESS AND LOGISTICS.
|  | ASSISTANT DEPUTY CHIEF OF NAVAL OPERATIONS, WARFARE SYSTEMS.
|  | DEPUTY CHIEF OF NAVY RESERVE.
|  | DEPUTY COMMANDER.
|  | DEPUTY DIRECTOR ASSESSMENT DIVISION (N8 1B).
|  | DEPUTY DIRECTOR ENERGY AND ENVIRONMENTAL READINESS (N45B).
|  | DEPUTY DIRECTOR FOR STRATEGY AND POLICY.
|  | DEPUTY DIRECTOR SURFACE WARFARE DIVISION.
|  | DEPUTY DIRECTOR, AIR WARFARE.
|  | DEPUTY DIRECTOR, EXPEDITIONARY WARFARE DIVISION.
|  | DEPUTY DIRECTOR, PROGRAM DIVISION (N80B).
|  | DEPUTY DIRECTOR, UNDERSEA WARFARE DIVISION.
|  | DEPUTY DIRECTOR, UNMANNED WARFARE.
|  | DIRECTOR NAVAL HISTORY AND HERITAGE COMMAND.
|  | DIRECTOR OF STRATEGY.
|  | DIRECTOR, COMMUNICATIONS AND NETWORK DIVISION (N2/N6F1).
|  | DIRECTOR, DIGITAL WARFARE OFFICE.
|  | DIRECTOR, FLEET READINESS.
|  | DIRECTOR, NAVAL SAFETY CENTER.
|  | DIRECTOR, SPECIAL PROGRAMS.
|  | DIRECTOR, SPECIAL PROGRAMS DIVISION (N89).
|  | DIRECTOR, STRATEGIC MOBILITY & COMBAT LOGISTICS DIVISION.
|  | EXECUTIVE DIRECTOR, NAVAL SPECIAL WARFARE COMMAND.
|  | FINANCIAL MANAGER AND CHIEF RESOURCES OFFICER FOR MANPOWER, PERSONNEL, TRAINING AND EDUCATION.
|  | HEAD, CAMPAIGN ANALYSIS BRANCH.
|  | VICE DIRECTOR NAVY STAFF.
| COMMANDER, NAVY INSTALLATIONS COMMAND | COMPTROLLER. COUNSEL, COMMANDER NAVY INSTALLATIONS COMMAND.
|  | DEPUTY COMMANDER.
|  | DIRECTOR OF OPERATIONS.
|  | DIRECTOR STRATEGY AND FUTURE REQUIREMENTS.
| BUREAU OF MEDICINE AND SURGERY | DEPUTY CHIEF, TOTAL FORCE. DIRECTOR, BUSINESS OPERATIONS/COMPTROLLER.
|  | EXECUTIVE DIRECTOR, BUREAU OF MEDICINE AND SURGERY.
| MILITARY SEALIFT COMMAND | DIRECTOR, MARITIME OPERATIONS.
|  | DIRECTOR, MILITARY SEALIFT COMMAND MANPOWER AND PERSONNEL.
|  | DIRECTOR, SHIP MANAGEMENT.
|  | EXECUTIVE DIRECTOR.
| NAVAL METEOROLOGY AND OCEANOGRAPHY COMMUNICATIONS, STENNIS SPACE CENTER, MISSISSIPPI | TECHNICAL/DEPUTY DIRECTOR.
| OFFICE OF COMMANDER, UNITED STATES FLEET FORCES COMMAND | ASSISTANT DEPUTY CHIEF OF STAFF, FLEET POLICY AND CAPABILITIES REQUIREMENTS. DEPUTY CHIEF OF STAFF, FLEET INSTALLATION AND ENVIRONMENT.
|  | DEPUTY CHIEF OF STAFF, PERSONNEL DEVELOPMENT AND ALLOCATION.
|  | DEPUTY DIRECTOR, MARITIME OPERATIONS.
|  | DIRECTOR, COMMAND, CONTROL, COMMUNICATIONS, COMPUTER, COMBAT SYSTEMS, INTELLIGENCE AND STRATEGIC/COMMAND INFORMATION OFFICER.
|  | EXECUTIVE DIRECTOR, NAVY WARFARE DEVELOPMENT COMMAND.
|  | EXECUTIVE DIRECTOR/CHIEF OF STAFF.
| COMMANDER, SUBMARINE FORCES | EXECUTIVE DIRECTOR, SUBMARINE FORCES.
| NAVY CYBER FORCES | DEPUTY COMMANDER.
| OFFICE OF THE COMMANDER, UNITED STATES PACIFIC FLEET | CHIEF OF STAFF. DEPUTY FOR NAVAL MINE AND ANTI-SUBMARINE WARFARE COMMAND.
|  | EXECUTIVE DIRECTOR FOR COMMUNICATIONS AND INFORMATION SYSTEMS AND CIO.
|  | EXECUTIVE DIRECTOR, NAVAL AIR FORCES.
|  | EXECUTIVE DIRECTOR, NAVAL SURFACE FORCES.
|  | EXECUTIVE DIRECTOR, PACIFIC FLEET PLANS AND POLICY.
|  | EXECUTIVE DIRECTOR, TOTAL FORCE MANAGEMENT.
| NAVAL AIR SYSTEMS COMMAND HEADQUARTERS | ASSISTANT COMMANDER FOR ACQUISITION PROCESSES AND EXECUTION. ASSISTANT COMMANDER FOR CONTRACTS.
|  | ASSISTANT COMMANDER, CORPORATE OPERATIONS AND TOTAL FORCE.
|  | CHIEF MANAGEMENT OFFICER.
|  | COMPTROLLER.
|  | COUNSEL, NAVAL AIR SYSTEMS COMMAND.
|  | DEPUTY ASSISTANT COMMANDER FOR LOGISTICS AND INDUSTRIAL OPERATIONS.
|  | DEPUTY ASSISTANT COMMANDER FOR RESEARCH AND ENGINEERING.
|  | DEPUTY COMMANDER, NAVAL AIR SYSTEMS COMMAND.
|  | DEPUTY COUNSEL, OFFICE OF COUNSEL.
|  | DIRECTOR INDUSTRIAL OPERATIONS.
|  | DIRECTOR OF CONTRACTS, F-35 JSF.
|  | DIRECTOR, AIR ANTI-SUBMARINE WARFARE, ASSAULT AND SPECIAL MISSION PROGRAMS CONTRACTS DEPARTMENT.
|  | DIRECTOR, AIR VEHICLE ENGINEERING.
|  | DIRECTOR, AVIATION READINESS AND RESOURCE ANALYSIS.
|  | DIRECTOR, COST ESTIMATING AND ANALYSIS.
|  | DIRECTOR, DESIGN INTERFACE AND MAINTAINANCE PLANNING.
|  | DIRECTOR, LOGISTICS MANAGEMENT INTEGRATION.
|  | DIRECTOR, MISSION ENGINEERING AND ANALYSIS.
|  | DIRECTOR, PROPULSION AND POWER.
|  | DIRECTOR, STRIKE WEAPONS, UNMANNED AVIATION, NAVAL AIR PROGRAMS CONTRACTS DEPARTMENT.
|  | DIRECTOR, SYSTEMS ENGINEERING DEPARTMENT.
|  | DIRECTOR, TACTICAL AIRCRAFT AND MISSILES CONTRACTS DEPARTMENT.
|  | F-35 PRODUCT SUPPORT MANAGER.
| NAVAL AIR WARFARE CENTER AIRCRAFT DIVISION | DEPUTY ASSISTANT COMMANDER FOR TEST AND EVALUATION/EXECUTIVE DIRECTOR NAVAL AIR WARFARE CENTER AIRCRAFT DIVISION/DIRECTOR, TEST AND EVALUATION NAWCAD.
|  | DIRECTOR, AIRCRAFT LAUNCH AND RECOVERY EQUIPMENT/SUPPORT EQUIPMENT.
|  | DIRECTOR, BATTLESPACE SIMULATION.
|  | DIRECTOR, FLIGHT TEST ENGINEERING.
|  | DIRECTOR, INTEGRATED STYSTEMS EVALUATION EXPERIMENTATION AND TEST DEPARTMENT.
| NAVAL AIR WARFARE CENTER WEAPONS DIVISION, CHINA LAKE, CALIFORNIA | DIRECTOR, ELECTRONIC WARFARE/COMBAT SYSTEMS. DIRECTOR, RANGE DEPARTMENT.
|  | DIRECTOR, SOFTWARE ENGINEERING.
|  | DIRECTOR, WEAPONS AND ENERGETICS DEPARTMENT.
|  | EXECUTIVE DIRECTOR, NAVAL AIR WARFARE CENTER WEAPONS DIVISION/DIRECTOR, RESEARCH ENGINEERING.
| NAVAL AIR WARFARE CENTER TRAINING SYSTEMS DIVISION | DIRECTOR, HUMAN SYSTEMS DEPARTMENT.
| SPACE AND NAVAL WARFARE SYSTEMS COMMAND | ASSISTANT CHIEF ENGINEER FOR CERTIFICATION AND MISSION ASSURANCE. ASSISTANT CHIEF ENGINEER FOR MISSION ARCHITECTURE AND SYSTEMS ENGINEERING.
|  | ASSISTANT CHIEF ENGINEER FOR MISSION ENGINEERING.
|  | ASSISTANT COMMANDER FOR NAVY CYBER IMPLEMENTATION.
|  | DEPUTY CHIEF ENGINEER.
|  | DIRECTOR CORPORATE OPERATIONS/COMMAND INFORMATION OFFICER.
|  | DIRECTOR, CONTRACTS.
|  | DIRECTOR, READINESS/LOGISTICS DIRECTORATE.
|  | EXECUTIVE DIRECTOR.
|  | EXECUTIVE DIRECTOR, FLEET READINESS DIRECTORATE.
| SPACE AND NAVAL WARFARE SYSTEMS CENTER | COMPTROLLER/BUSINESS RESOURCE MANAGER.
|  | COUNSEL, SPACE AND NAVAL WARFARE SYSTEMS COMMAND.
|  | DIRECTOR, SCIENCE AND TECHNOLOGY.
|  | EXECUTIVE DIRECTOR.
|  | EXECUTIVE DIRECTOR, PROGRAM EXECUTIVE OFFICE, ENTERPRISE INFORMATION SYSTEMS.
| SPACE AND NAVAL WARFARE SYSTEMS CENTER, CHARLESTON | EXECUTIVE DIRECTOR.
| NAVAL FACILITIES ENGINEERING COMMAND | ASSISTANT COMMANDER/CHIEF MANAGEMENT OFFICER. CHIEF ENGINEER.
|  | COMPTROLLER.
|  | COUNSEL, NAVAL FACILITIES ENGINEERING COMMAND.
|  | DEPUTY COMMANDER, ACQUISITION.
|  | DIRECTOR OF ASSEST MANAGEMENT.
|  | DIRECTOR OF ENVIRONMENT.
|  | DIRECTOR OF PUBLIC WORKS.
|  | DIRECTOR, NAVY CRANE CENTER.
|  | EXECUTIVE DIRECTOR.
| NAVAL SEA SYSTEMS COMMAND | ASSISTANT COMMANDER, SUPPLY CHAIN TECHNOLOGY AND SYSTEM INTEGRATION.
|  | ASSISTANT DEPUTY COMMANDER FOR INDUSTRIAL OPERATIONS.
|  | COUNSEL, NAVAL SEA SYSTEMS COMMAND.
|  | DEPUTY COMMANDER, CORPORATE OPERATIONS DIRECTORATE.
|  | DEPUTY COMMANDER/COMPTROLLER.
|  | DEPUTY DIRECTOR, ADVANCED AIRCRAFT CARRIER SYSTEM DIVISION.
|  | DEPUTY DIRECTOR, REACTOR REFUELING DIVISION.
|  | DEPUTY FOR WEAPONS SAFETY.
|  | DIRECTOR FOR ADVANCED UNDERSEA INTEGRATION.
|  | DIRECTOR FOR AIRCRAFT CARRIER DESIGN AND SYSTEMS ENGINEERING.
|  | DIRECTOR FOR CONTRACTS.
|  | DIRECTOR FOR MARINE ENGINEERING.
|  | DIRECTOR FOR SHIP INTEGRITY AND PERFORMANCE ENGINEERING.
|  | DIRECTOR FOR SUBMARINE/SUBMERSIBLE DESIGN AND SYSTEMS ENGINEERING.
|  | DIRECTOR FOR SURFACE SHIP DESIGN AND SYSTEMS ENGINEERING.
|  | DIRECTOR OF RADIOLOGICAL CONTROLS.
|  | DIRECTOR, COST ENGINEERING AND INDUSTRIAL ANALYSIS.
|  | DIRECTOR, FLEET READINESS DIVISION.
|  | DIRECTOR, INTEGRATED WARFARE SYSTEMS ENGINEERING GROUP.
|  | DIRECTOR, NUCLEAR COMPONENTS DIVISION.
|  | DIRECTOR, OFFICE OF RESOURCE MANAGEMENT.
|  | DIRECTOR, REACTOR MATERIALS DIVISION.
|  | DIRECTOR, REACTOR PLANT COMPONENTS AND AUXILIARY EQUIPMENT DIVISION.
|  | DIRECTOR, REACTOR REFUELING DIVISION.
|  | DIRECTOR, REACTOR SAFETY AND ANALYSIS DIVISION.
|  | DIRECTOR, SHIPBUILDING CONTRACTS DIVISION.
|  | DIRECTOR, SURFACE SHIP SYSTEMS DIVISION.
|  | DIRECTOR, SURFACE SYSTEMS CONTRACTS DIVISION.
|  | DIRECTOR, UNDERSEA SYSTEMS CONTRACTS DIVISION.
|  | DIVISION TECHNICAL DIRECTOR, NAVAL SURFACE WARFARE CENTER PORT HUENEME DIVISION.
|  | DIVISION TECHNICAL DIRECTOR, NAVAL SURFACE WARFARE CENTER, PHILADELPHIA DIVISION.
|  | DIVISION TECHNICAL DIRECTOR, NSWC CORONA DIVISION.
|  | EXECUTIVE DIRECTOR.
|  | EXECUTIVE DIRECTOR FOR COMMANDER, NAVY REGIONAL MAINTENANCE CENTERS (CNRMC).
|  | EXECUTIVE DIRECTOR FOR LOGISTICS MAINTENANCE AND INDUSTRIAL OPERATIONS DIRECTORATE.
|  | EXECUTIVE DIRECTOR NAVAL SURFACE AND UNDERSEA WARFARE CENTERS.
|  | EXECUTIVE DIRECTOR, ACQUISITION AND COMMONALITY.
|  | EXECUTIVE DIRECTOR, SHIP DESIGN, AND ENGINEERING DIRECTORATE.
|  | EXECUTIVE DIRECTOR, SURFACE WARFARE DIRECTORATE.
|  | EXECUTIVE DIRECTOR, UNDERSEA WARFARE DIRECTORATE.
|  | HEAD, ADVANCED REACTOR BRANCH.
|  | NUCLEAR ENGINEERING AND PLANNING MANAGER.
|  | PROGRAM MANAGER FOR COMMISSIONED SUBMARINES.
|  | SPECIAL ASSISTANT (KNOWLEDGE TRANSFER).
|  | SPECIAL ASSISTANT, DIVISION TECHNICAL DIRECTOR, NAVAL SURFACE WARFARE CENTER, PHILADELPHIA DIVISION.
| NAVAL SHIPYARDS | NAVAL SHIPYARD NUCLEAR ENGINEERING AND PLANNING MANAGER, NORFOLK NAVAL SHIPYARD.
|  | NUCLEAR ENGINEERING AND PLANNING MANAGER, PUGET SOUND NAVAL SHIPYARD.
|  | NUCLEAR ENGINEERING AND PLANNING MANAGER; PORTSMOUTH NAVAL SHIPYARD.
| NAVAL SURFACE WARFARE CENTER | DIVISION TECHNICAL DIRECTOR, NAVAL SURFACE WARFARE CENTER DAHLGREN DIVISION.
| NAVAL SURFACE WARFARE CENTER, CRANE DIVISION | DIVISION TECHNICAL DIRECTOR, NSWC CRANE DIVISION.
| NAVAL UNDERSEA WARFARE CENTER DIVISION, KEYPORT, WASHINGTON | DIVISION TECHNICAL DIRECTOR, NAVAL UNDERSEA WARFARE CENTER DIVISION KEYPORT.
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION.
| NAVAL SURFACE WARFARE CENTER, CARDEROCK DIVISION | DIVISION TECNICAL DIRECTOR, NAVAL SURFACE WARFARE CENTER, CARDEROCK DIVISION.
| NAVAL SURFACE WARFARE CENTER, DAHLGREN DIVISION | DIVISION TECHNICAL DIRECTOR NAVAL SURFACE WARFARE CENTER PANAMA CITY DIVISION.
| NAVAL UNDERSEA WARFARE CENTER DIVISION, NEWPORT, RHODE ISLAND | DIVISION TECHNICAL DIRECTOR, NAVAL UNDERSEA WARFARE CENTER DIVISION NEWPORT.
| NAVAL SUPPLY SYSTEMS COMMAND HEADQUARTERS | ASSISTANT COMMANDER FOR CONTRACTING MANAGEMENT. ASSISTANT COMMANDER FOR SUPPLY CHAIN MANAGEMENT (SCM) POLICY AND PERFORMANCE.
|  | COUNSEL, NAVAL SUPPLY SYSTEMS COMMAND.
|  | DEPUTY COMMANDER FOR FINANCIAL MANAGEMENT/COMPTROLLER.
|  | DEPUTY COMMANDER, ACQUISITION, NAVAL SUPPLY SYSTEMS COMMAND.
|  | DEPUTY COMMANDER, CORPORATE OPERATIONS.
|  | EXECUTIVE DIRECTOR, OFFICE OF SPECIAL PROJECTS.
|  | VICE COMMANDER.
| NAVY SUPPLY INFORMATION SYSTEMS ACTIVITY | DIRECTOR OF FINANCE/COMPTROLLER.
| WEAPON SYSTEMS SUPPORT | VICE COMMANDER, NAVSUP WEAPON SYSTEMS SUPPORT.
| UNITED STATES MARINE CORPS HEADQUARTERS OFFICE | ASSISTANT DEPUTY COMMANDANT FOR MANPOWER AND RESERVE AFFAIRS. ASSISTANT DEPUTY COMMANDANT FOR PLANS POLICIES AND OPERATIONS (SECURITY).
|  | ASSISTANT DEPUTY COMMANDANT FOR PROGRAMS AND RESOURCES/FISCAL DIRECTOR OF THE MARINE CORPS.
|  | ASSISTANT DEPUTY COMMANDANT, INSTALLATIONS AND LOGISTICS.
|  | ASSISTANT DEPUTY COMMANDANT, INSTALLATIONS AND LOGISTICS (E-BUSINESS AND CONTRACTS).
|  | ASSISTANT DEPUTY COMMANDANT, RESOURCES (PERSONNEL AND READINESS).
|  | COUNSEL FOR THE COMMANDANT.
|  | DEPUTY COUNSEL FOR THE COMMANDANT OF THE MARINE CORPS.
|  | DEPUTY DIRECTOR, MANPOWER PLANS AND POLICY DIVISION.
|  | DIRECTOR OFFICE OF MARINE CORPS COMMUNICATION.
|  | DIRECTOR PROGRAM ANALYSIS AND EVALUATION DIVISION.
|  | EXECUTIVE DEPUTY, MARINE CORPS LOGISTICS COMMAND.
|  | EXECUTIVE DIRECTOR, MARINE CORPS INSTALLATIONS COMMAND.
| MARINE CORPS SYSTEMS COMMAND | CHIEF ENGINEER, MARINE CORPS SYSTEMS COMMAND. DEPUTY TO THE COMMANDER FOR RESOURCE MANAGEMENT.
|  | EXECUTIVE DIRECTOR.
| MARINE CORPS COMBAT DEVELOPMENT COMMAND; QUANTICO, VIRGINIA | EXECUTIVE DEPUTY TRAINING AND EDUCATION COMMAND.
| OFFICE OF NAVAL RESEARCH | COMPTROLLER. COUNSEL, OFFICE OF NAVAL RESEARCH.
|  | DIRECTOR FOR AEROSPACE SCIENCE RESEARCH DIVISION.
|  | DIRECTOR, CONTRACTS, GRANTS AND ACQUISITIONS.
|  | DIRECTOR, ELECTRONICS, SENSORS, AND NETWORKS RESEARCH DIVISION.
|  | DIRECTOR, HUMAN AND BIOENGINEERED SYSTEMS DIVISION.
|  | DIRECTOR, HYBRID COMPLEX WARFARE SCIENCE AND TECHNOLOGY DIVISION.
|  | DIRECTOR, MATHEMATICS COMPUTER AND INFORMATION SCIENCES (MCIS) DIVISION.
|  | DIRECTOR, MISSION SUPPORT.
|  | DIRECTOR, OCEAN, ATMOSPHERE AND SPACE SCIENCE AND TECHNOLOGY PROCESSES AND PREDICTION DIVISION.
|  | DIRECTOR, SHIP SYSTEMS AND ENGINEERING DIVISION.
|  | DIRECTOR, UNDERSEA WEAPONS AND NAVAL MATERIALS SCIENCE AND TECHNOLOGY DIVISION.
|  | EXECUTIVE DIRECTOR.
|  | HEAD, AIR WARFARE AND WEAPONS SCIENCE AND TECHNOLOGY DEPARTMENT.
|  | HEAD, COMMAND, CONTROL, COMMUNICATIONS, INTELLIGENCE, SURVEILLANCE, AND RECONNAISSANCE (C4ISR) SCIENCE AND TECHNOLOGY DEPARTMENT.
|  | HEAD, EXPEDITIONARY WARFARE AND COMBATING TERRORISM SCIENCE AND TECHNOLOGY DEPARTMENT.
|  | HEAD, OCEAN, BATTLESPACE SENSING SCIENCE AND TECHNOLOGY DEPARTMENT.
|  | HEAD, SEA WARFARE AND WEAPONS SCIENCE AND TECHNOLOGY DEPARTMENT.
|  | HEAD, WARFIGHTER PERFORMANCE SCIENCE AND TECHNOLOGY DEPARTMENT.
|  | PATENT COUNSEL OF THE NAVY.
|  | PORTFOLIO DIRECTOR.
| NAVAL RESEARCH LABORATORY | ASSOCIATE DIRECTOR OF RESEARCH FOR BUSINESS OPERATIONS. ASSOCIATE DIRECTOR OF RESEARCH FOR MATERIAL SCIENCE AND COMPONENT TECHNOLOGY.
|  | ASSOCIATE DIRECTOR OF RESEARCH FOR OCEAN AND ATMOSPHERIC SCIENCE AND TECHNOLOGY.
|  | ASSOCIATE DIRECTOR OF RESEARCH FOR SYSTEMS.
|  | DIRECTOR OF RESEARCH.
|  | DIRECTOR, NAVAL CENTER FOR SPACE TECHNOLOGY.
|  | SUPERINTENDANT, INFORMATION TECHNOLOGY DIVISION.
|  | SUPERINTENDENT CHEMISTRY DIVISION.
|  | SUPERINTENDENT, ACOUSTICS DIVISION.
|  | SUPERINTENDENT, CENTER FOR BIO-MOLECULAR SCIENCE AND ENGINEERING.
|  | SUPERINTENDENT, ELECTRONICS SCIENCE AND TECHNOLOGY DIVISION.
|  | SUPERINTENDENT, MARINE METEROLOGY DIVISION.
|  | SUPERINTENDENT, MATERIAL SCIENCE AND TECHNOLOGY DIVISION.
|  | SUPERINTENDENT, OCEANOGRAPHY DIVISION.
|  | SUPERINTENDENT, OPTICAL SCIENCES DIVISION.
|  | SUPERINTENDENT, RADAR DIVISION.
|  | SUPERINTENDENT, REMOTE SENSING DIVISION.
|  | SUPERINTENDENT, SPACE SYSTEMS DEVELOPMENT DEPARTMENT.
|  | SUPERINTENDENT, SPACECRAFT ENGINEERING DEPARTMENT.
|  | SUPERINTENDENT, TACTICAL ELECTRONIC WARFARE DIVISION.
|  | SUPERINTENDENT, PLASMA PHYSICS DIVISION.
OFFICE OF THE SECRETARY OF DEFENSE OFFICE OF THE INSPECTOR GENERAL | OFFICE OF THE GENERAL COUNSEL | GENERAL COUNSEL.
| OFFICE OF THE INSPECTOR GENERAL | ASSISTANT INSPECTOR GENERAL FOR DATA ANAYTICS. ASSISTANT INSPECTOR GENERAL FOR INVESTIGATIONS/DEPUTY DIRECTOR DCIS.
|  | DEPUTY CHIEF OF STAFF.
|  | DEPUTY INSPECTOR GENERAL FOR EVALUATIONS.
|  | DEPUTY INSPECTOR GENERAL FOR OVERSEAS CONTINGENCY OPERATIONS.
|  | PRINCIPAL DEPUTY INSPECTOR GENERAL.
| DEPUTY INSPECTOR GENERAL FOR AUDITING | ASSISTANT INSPECTOR GENERAL FOR ACQUISITION AND SUSTAINMENT MANAGEMENT. ASSISTANT INSPECTOR GENERAL FOR READINESS AND GLOBAL OPERATIONS.
|  | DEPUTY INSPECTOR GENERAL FOR AUDITING.
| OFFICE OF THE PRINCIPAL DEPUTY INSPECTOR GENERAL FOR AUDITING | PRINCIPAL ASSISTANT INSPECTOR GENERAL FOR AUDITING.
| FINANCIAL MANAGEMENT AND REPORTING | ASSISTANT INSPECTOR GENERAL FOR FINANCIAL MANAGEMENT AND REPORTING.
| READINESS, OPERATIONS AND SUPPORT | ASSISTANT INSPECTOR GENERAL FOR READINESS AND CYBER OPERATIONS.
| DEPUTY INSPECTOR GENERAL FOR INVESTIGATIONS | DEPUTY DIRECTOR DEFENSE CRIMINAL INVESTIGATIVE SERVICE. DEPUTY INSPECTOR GENERAL FOR INVESTIGATIONS.
| DEFENSE CRIMINAL INVESTIGATIVE SERVICE | ASSISTANT INSPECTOR GENERAL FOR INVESTIGATIONS. ASSISTANT INSPECTOR GENERAL FOR INVESTIGATIVE OPERATIONS.
| DEPUTY INSPECTOR GENERAL FOR POLICY AND OVERSIGHT | DEPUTY INSPECTOR GENERAL FOR POLICY AND OVERSIGHT.
| AUDIT POLICY AND OVERSIGHT | ASSISTANT INSPECTOR GENERAL FOR AUDIT POLICY AND OVERSIGHT.
| INVESTIGATIVE POLICY AND OVERSIGHT | ASSISTANT INSPECTOR GENERAL FOR INVESTIGATIVE POLICY AND OVERSIGHT.
| DEPUTY INSPECTOR GENERAL FOR INTELLIGENCE AND SPECIAL PROGRAM ASSESSMENTS | DEPUTY INSPECTOR GENERAL FOR INTELLIGENCE AND SPECIAL PROGRAM ASSESSMENTS.
| OFFICE OF ADMINISTRATION AND MANAGEMENT | ASSISTANT INSPECTOR GENERAL FOR ADMINISTRATION AND MANAGEMENT.
| DEPUTY INSPECTOR GENERAL FOR SPECIAL PLANS AND OPERATIONS | DEPUTY INSPECTOR GENERAL FOR SPECIAL PLANS AND OPERATIONS.
| DEPUTY INSPECTOR GENERAL FOR ADMINISTRATIVE INVESTIGATIONS | DEPUTY INSPECTOR GENERAL ADMINISTRATIVE INVESTIGATIONS.
DEFENSE NUCLEAR FACILITIES SAFETY BOARD | DEFENSE NUCLEAR FACILITIES SAFETY BOARD | ASSOCIATE TECHNICAL DIRECTOR FOR ENGINEERING PERFORMANCE. ASSOCIATE TECHNICAL DIRECTOR FOR NUCLEAR MATERIALS PROCESSING AND STABILIZATION.
|  | ASSOCIATE TECHNICAL DIRECTOR FOR NUCLEAR PROGRAMS & ANALYSIS.
|  | ASSOCIATE TECHNICAL DIRECTOR FOR NUCLEAR WEAPON PROGRAMS.
|  | DEPUTY GENERAL COUNSEL.
|  | DEPUTY GENERAL MANAGER.
|  | DEPUTY TECHNICAL DIRECTOR.
|  | SPECIAL ASSISTANT TO THE CHAIRMAN.
|  | TECHNICAL DIRECTOR.
DEPARTMENT OF EDUCATION | OFFICE OF THE CHIEF FINANCIAL OFFICER | DEPUTY CHIEF ACQUISITION OFFICER AND SENIOR PROCUREMENT EXECUTIVE.
|  | DEPUTY CHIEF FINANCIAL OFFICER, FINANCIAL MANAGEMENT.
|  | DIRECTOR, CONTRACTS AND ACQUISITIONS MANAGEMENT.
|  | DIRECTOR, FINANCIAL IMPROVEMENT AND POST AUDIT OPERATIONS.
| OFFICE OF THE CHIEF INFORMATION OFFICER | CHIEF INFORMATION OFFICER. DIRECTOR, INFORMATION ASSURANCE SERVICES AND CHIEF INFORMATION SECURITY OFFICER.
| OFFICE OF MANAGEMENT | CHAIRPERSON, EDUCATION APPEAL BOARD.
|  | DEPUTY DIRECTOR OF HUMAN RESOURCES.
|  | DIRECTOR OF HUMAN RESOURCES.
|  | DIRECTOR OF SECURITY, FACILITIES AND LOGISTICAL SERVICES.
| OFFICE OF THE GENERAL COUNSEL | ASSISTANT GENERAL COUNSEL FOR BUSINESS AND ADMINISTRATION LAW.
|  | ASSISTANT GENERAL COUNSEL FOR EDUCTIONAL EQUITY.
|  | ASSISTANT GENERAL COUNSEL, DIVISION OF POSTSECONDARY EDUCATION.
| OFFICE FOR CIVIL RIGHTS | DEPUTY ASSISTANT SECRETARY FOR ENFORCEMENT.
|  | ENFORCEMENT DIRECTOR.
| INSTITUTE OF EDUCATION SCIENCES | ASSOCIATE COMMISSIONER, ASSESSMENTS DIVISION.
| FEDERAL STUDENT AID | CHIEF FINANCIAL OFFICER.
DEPARTMENT OF EDUCATION OFFICE OF THE INSPECTOR GENERAL | OFFICE OF THE INSPECTOR GENERAL | ASSISTANT INSPECTOR GENERAL FOR AUDIT SERVICES. ASSISTANT INSPECTOR GENERAL FOR INFORMATION TECHNOLOGY AUDITS AND COMPUTER CRIME INVESTIGATIONS.
|  | ASSISTANT INSPECTOR GENERAL FOR INVESTIGATION SERVICES.
|  | ASSISTANT INSPECTOR GENERAL FOR MANAGEMENT SERVICES.
|  | COUNSEL TO THE INSPECTOR GENERAL.
|  | DEPUTY ASSISTANT INSPECTOR GENERAL FOR AUDIT SERVICES.
|  | DEPUTY ASSISTANT INSPECTOR GENERAL FOR INFORMATION TECHNOLOGY AUDITS AND COMPUTER CRIME INVESTIGATIONS.
|  | DEPUTY ASSISTANT INSPECTOR GENERAL FOR INVESTIGATION SERVICES.
|  | DEPUTY INSPECTOR GENERAL.
DEPARTMENT OF ENERGY | ADVANCED RESEARCH PROJECTS AGENCY—ENERGY | CHIEF COUNSEL.
| LOAN PROGRAMS OFFICE | CHIEF COUNSEL. DIRECTOR, RISK MANAGEMENT.
|  | DIRECTOR, PORTFOLIO MANAGEMENT DIVISION.
|  | SENIOR ADVISOR.
| NATIONAL NUCLEAR SECURITY ADMINISTRATION | ASSISTANT DEPUTY ADMINISTRATOR FOR MATERIAL MANAGEMENT AND MINIMIZATION.
|  | ASSISTANT DEPUTY ADMINISTRATOR FOR STRATEGIC PARTNERSHIP PROGRAMS.
|  | ASSISTANT DEPUTY ADMINISTRATOR, FOR GLOBAL MATERIAL SECURITY.
|  | ASSOCIATE ADMINISTRATOR FOR INFORMATION MANAGEMENT AND CHIEF INFORMATION OFFICER.
|  | ASSOCIATE ASSISTANT DEPUTY ADMINISTRATOR, FOR GLOBAL MATERIAL SECURITY.
|  | ASSOCIATE ASSISTANT DEPUTY ADMNISTRATOR FOR MATERIAL MANAGEMENT AND MINIMIZATION.
|  | ASSOCIATE DEPUTY ADMINISTRATOR FOR SECURE TRANSPORTATION.
|  | CHIEF OF STAFF AND ASSOCIATE PRINCIPAL DEPUTY ADMINISTRATOR.
|  | CHIEF SCIENTIST.
|  | DEPUTY ASSOCIATE ADMINISTRATOR FOR EMERGENCY MANAGEMENT AND PREPAREDNESS.
|  | DEPUTY ASSOCIATE ADMINISTRATOR FOR ENTERPRISE STEWARDSHIP.
|  | DEPUTY ASSOCIATE ADMINISTRATOR FOR SAFETY.
|  | DEPUTY DIRECTOR, INSTRUMENTATION AND CONTROL DIVISION.
|  | DEPUTY GENERAL COUNSEL FOR GENERAL LAW AND LITIGATION.
|  | DEPUTY MANAGER, LIVERMORE FIELD OFFICE.
|  | DIRECTOR, EMPLOYEE EMPOWERMENT.
|  | DIRECTOR, MANAGEMENT AND ADMINISTRATION.
|  | DIRECTOR, OFFICE OF ASC AND INSTITUTIONAL RESEARCH AND DEVELOPMENT PROGRAMS.
|  | DIRECTOR, OFFICE OF COST ESTIMATING AND PROGRAM EVALUATION.
|  | DIRECTOR, OFFICE OF EXPERIMENTAL SCIENCES.
|  | DIRECTOR, OFFICE OF NUCLEAR INCIDENT RESPONSE.
|  | DIRECTOR, OFFICE OF POLICY.
|  | DIRECTOR, OFFICE OF QUALITY MANAGEMENT.
|  | DIRECTOR, REGULATORY AFFAIRS.
|  | FEDERAL PROJECT DIRECTOR, CHEMISTRY AND METALLURGY RESEARCH REPLACEMENT FACILITY.
|  | MANAGER, LIVERMORE FIELD OFFICE.
|  | MANAGER, SANDIA FIELD OFFICE.
|  | PROGRAM EXECUTIVE OFFICER FOR STRATEGIC MATERIALS.
| OFFICE OF THE GENERAL COUNSEL | GENERAL COUNSEL.
| ASSOCIATE ADMINISTRATOR FOR ACQUISITION AND PROJECT MANAGEMENT | ASSOCIATE ADMINISTRATOR FOR ACQUISITION AND PROJECT MANAGEMENT. DEPUTY ASSOCIATE ADMINISTRATOR FOR ACQUISITION AND PROJECT MANAGEMENT.
|  | DEPUTY DIRECTOR, ACQUISITION MANAGEMENT.
|  | DIRECTOR, ACQUISITION MANAGEMENT.
|  | DIRECTOR, OFFICE OF ENTERPRISE PROJECT MANAGEMENT.
|  | FEDERAL PROJECT DIRECTOR (URANIUM PROCESSING FACILITY).
| OFFICE OF MANAGEMENT AND BUDGET | ASSOCIATE ADMINISTRATOR FOR MANAGEMENT AND BUDGET.
|  | DEPUTY ASSOCIATE ADMINISTRATOR MANAGEMENT & BUDGET.
|  | DIRECTOR, FINANCIAL PERFORMANCE.
|  | DIRECTOR, OFFICE OF HUMAN RESOURCES.
| DEPUTY ADMINISTRATOR FOR DEFENSE PROGRAMS | ADA FOR MAJOR MODERNIZATION PROGRAMS. ADA FOR RESEARCH, DEVELOPMENT, TEST AND EVALUATION.
|  | ASSISTANT DEPUTY ADMINISTRATOR FOR STOCKPILE MANAGEMENT.
|  | ASSISTANT DEPUTY ADMINISTRATOR FOR SYSTEMS ENGINEERING INTEGRATION.
|  | MANAGER, KANSAS CITY SITE OFFICE.
|  | MANAGER, LOS ALAMOS FIELD OFFICE.
|  | MANAGER, NEVADA FIELD OFFICE.
|  | MANAGER, NNSA PRODUCTION OFFICE.
|  | MANAGER, SAVANNAH RIVER FIELD OFFICE.
|  | PRINCIPAL ASSISTANT DEPUTY ADMINISTRATOR FOR DEFENSE PROGRAM.
|  | PROGRAM EXECUTIVE OFFICER FOR LIFE EXTENSION PROGRAMS.
| DEPUTY ADMINISTRATOR FOR DEFENSE NUCLEAR NONPROLIFERATION | AADA ADMINISTRATOR FOR DEFENSE NUCLEAR NONPROLIFERATION RESEARCH AND DEVELOPMENT.
|  | ASSISTANT DEPUTY ADMINISTRATOR FOR NONPROLIFERATION AND INTERNATIONAL SECURITY.
|  | ASSISTANT DEPUTY ADMINISTRATOR FOR NONPROLIFERATION RESEARCH AND DEVELOPMENT.
|  | ASSOCIATE ASSISTANT DEPUTY ADMINISTRATOR, OFFICE OF NONPROLIFERATION AND ARMS CONTROL.
|  | CHIEF OF STAFF AND OPERATIONS.
|  | CHIEF SCIENCE AND TECHNOLOGY OFFICER.
|  | PRINCIPAL ASSISTANT DEPUTY ADMINISTRATOR.
| DEPUTY ADMINISTRATOR FOR NAVAL REACTORS | ASSISTANT MANAGER FOR OPERATIONS. DEPUTY DIRECTOR FOR NAVAL REACTORS.
|  | DEPUTY DIRECTOR, ADVANCED SUBMARINE SYSTEMS DIVISION.
|  | DEPUTY DIRECTOR, NUCLEAR TECHNOLOGY DIVISION.
|  | DIRECTOR ADVANCED SUBMARINE SYSTEMS DIVISION.
|  | DIRECTOR NUCLEAR TECHNOLOGY DIVISION.
|  | DIRECTOR, ACQUISITION DIVISION.
|  | DIRECTOR, COMMISSIONED SUBMARINE SYSTEMS DIVISION.
|  | DIRECTOR, GOVERNMENTAL AFFAIRS.
|  | DIRECTOR, INFORMATION TECHNOLOGY MANAGEMENT.
|  | DIRECTOR, INSTRUMENTATION AND CONTROL DIVISION.
|  | DIRECTOR, REACTOR ENGINEERING DIVISION.
|  | MANAGER, NAVAL REACTORS LABORATORY FIELD OFFICE.
|  | PROGRAM MANAGER FOR SURFACE SHIP NUCLEAR PROPULSION.
|  | PROGRAM MANAGER, ADVANCED TECHNOLOGY DEVELOPMENT.
|  | PROGRAM MANAGER, NEW SHIP DESIGN.
|  | PROGRAM MANAGER, PROTOTYPE AND MOORED TRAINING SHIP OPERATIONS AND INACTIVATION PROGRAM.
|  | PROGRAM MANAGER, VA CLASS SUBS AND US/UK TECHNOLOGY EXCHANGE.
|  | SENIOR NAVAL REACTORS REPRESENTATIVE (GROTON, CT).
|  | SENIOR NAVAL REACTORS REPRESENTATIVE (NEWPORT NEWS, VA).
|  | SENIOR NAVAL REACTORS REPRESENTATIVE (UNITED KINGDOM).
|  | SENIOR NAVAL REACTOS REPRESENTATIVE (PUGET SOUND NAVAL SHIP).
| ASSOCIATE ADMINISTRATOR FOR EMERGENCY OPERATIONS | ASSOCIATE ADMINISTRATOR AND DEPUTY UNDER SECRETARY FOR EMERGENCY OPERATIONS.
| ASSOCIATE ADMINISTRATOR FOR DEFENSE NUCLEAR SECURITY | ASSOCIATE ADMINISTRATOR FOR DEFENSE NUCLEAR SECURITY AND CHIEF OF DEFENSE NUCLEAR SECURITY. DEPUTY ASSOCIATE ADMINISTRATOR FOR DEFENSE NUCLEAR SECURITY.
|  | DIRECTOR OFFICE OF SECURITY OPERATIONS AND PROGRAMMATIC PLANNING.
| NATIONAL NUCLEAR SECURITY ADMINISTRATION FIELD SITE OFFICES | DEPUTY MANAGER FOR BUSINESS, SECURITY AND MISSIONS. DEPUTY MANAGER SANDIA FIELD OFFICE.
|  | DEPUTY MANAGER Y-12.
|  | DEPUTY MANAGER, NEVADA FIELD OFFICE.
|  | DEPUTY MANAGER, NNSA PRODUCTION OFFICE—PANTEX.
|  | MANAGER, SAVANNAH RIVER FIELD OFFICE.
| OFFICE OF INTELLIGENCE AND COUNTERINTELLIGENCE | DEPUTY DIRECTOR FOR COUNTERINTELLIGENCE. DEPUTY DIRECTOR FOR INTELLIGENCE ANALYSIS.
|  | DIRECTOR OFFICE OF INTELLIGENCE AND COUNTERINTELLIGENCE.
|  | PRINCIPAL DEPUTY DIRECTOR, OFFICE OF INTELLIGENCE AND COUNTERINTELLIGENCE.
| OFFICE OF THE CHIEF INFORMATION OFFICER | CHIEF PRIVACY OFFICER.
| OFFICE OF THE CHIEF HUMAN CAPITAL OFFICER | DEPUTY CHIEF, HUMAN CAPITAL OFFICER. DIRECTOR, CORPORATE HUMAN RESOURCES OPERATIONS.
|  | DIRECTOR, HUMAN CAPITAL POLICY AND ACCOUNTABILITY.
|  | DIRECTOR, HUMAN RESOURCES SHARED SERVICE CENTER FOR MANAGEMENT AND PERFORMANCE.
|  | DIRECTOR, HUMAN RESOURCES SHARED SERVICE CENTER, SCIENCE AND ENERGY.
|  | DIRECTOR, OAK RIDGE HUMAN RESOURCES SHARED SERVICE CENTER.
|  | DIRECTOR, OFFICE OF CORPORATE EXECUTIVE MANAGEMENT.
|  | DIRECTOR, OFFICE OF HUMAN CAPITAL MANAGEMENT.
|  | DIRECTOR, OFFICE OF STRATEGY, ANALYSIS, AND PROJECT MANAGEMENT.
|  | DIRECTOR, OFFICE OF TALENT MANAGEMENT.
| OFFICE OF MANAGEMENT | DIRECTOR, OFFICE OF ACQUISITION MANAGEMENT.
|  | DIRECTOR, OFFICE OF ADMINISTRATION.
|  | DIRECTOR, OFFICE OF HEADQUARTERS PROCUREMENT SERVICES.
|  | DIRECTOR, OFFICE OF MANAGEMENT.
|  | DIRECTOR, OFFICE OF THE OMBUDSMAN.
|  | DIRECTOR, SUSTAINABILITY PERFORMANCE OFFICE.
|  | DIRECTOR, OFFICE OF POLICY.
| OFFICE OF PROJECT MANAGEMENT OVERSIGHT AND ASSESSMENTS | DEPUTY DIRECTOR, OFFICE OF PROJECT MANAGEMENT OVERSIGHT AND ASSESSMENTS. DIRECTOR, OFFICE OF PROJECT ASSESSMENTS.
|  | DIRECTOR, OFFICE OF PROJECT MANAGEMENT OVERSIGHT AND ASSESSMENTS.
| OFFICE OF THE CHIEF FINANCIAL OFFICER | ASSISTANT DEPUTY CHIEF FINANCIAL OFFICER, FINANCIAL SYSTEM INTEGRATION.
|  | ASSISTANT DIRECTOR, FINANCIAL POLICY AND INTERNAL CONTROLS.
|  | DEPUTY CHIEF FINANCIAL OFFICER.
|  | DEPUTY DIRECTOR, BUDGET ANALYSIS AND COORDINATION.
|  | DEPUTY DIRECTOR, BUDGET OPERATIONS.
|  | DEPUTY DIRECTOR, OFFICE OF FINANCE AND ACCOUNTING.
|  | DIRECTOR, OFFICE OF BUDGET.
|  | DIRECTOR, OFFICE OF CORPORATE INFORMATION SYSTEMS.
|  | DIRECTOR, OFFICE OF FINANCE AND OVERSIGHT.
|  | SENIOR ADVISOR.
| ASSISTANT SECRETARY FOR ELECTRICITY DELIVERY AND ENERGY RELIABILITY | DEPUTY ASSISTANT SECRETARY FOR CYBERSECURITY EMERGING THREATS RESEARCH.
| ASSISTANT SECRETARY FOR CONGRESSIONAL AND INTERGOVERNMENTAL AFFAIRS | CHIEF OPERATIONS OFFICER.
| ASSISTANT SECRETARY FOR ENERGY EFFICIENCY AND RENEWABLE ENERGY | DIRECTOR FOR PROCUREMENT SERVICES DIVISION. SENIOR ADVISOR.
| UNITED STATES ENERGY INFORMATION ADMINISTRATION | ASSISTANT ADMINISTRATOR FOR COMMUNICATIONS. ASSISTANT ADMINISTRATOR FOR ENERGY ANALYSIS.
|  | ASSISTANT ADMINISTRATOR FOR ENERGY STATISTICS.
|  | ASSISTANT ADMINISTRATOR FOR RESOURCES AND TECHNOLOGY MANAGEMENT.
|  | DEPUTY ADMINISTRATOR ENERGY INFORMATION ADMINISTRATION.
|  | DIRECTOR OFFICE OF INTEGRATED AND INTERNATIONAL ENERGY ANALYSIS.
|  | DIRECTOR OFFICE OF PETROLEUM GAS AND BIOFUELS ANALYSIS.
|  | DIRECTOR, OFFICE OF ELECTRICITY, COAL, NUCLEAR AND RENEWABLE.
|  | DIRECTOR, OFFICE OF ELECTRICITY, RENEWABLES AND URANIUM STATISTICS.
|  | DIRECTOR, OFFICE OF ENERGY CONSUMPTION AND EFFICIENCY ANALYSIS.
|  | DIRECTOR, OFFICE OF ENERGY MARKETS AND FINANCIAL ANALYSIS.
|  | DIRECTOR, OFFICE OF INFORMATION TECHNOLOGY (CIO).
|  | DIRECTOR, OFFICE OF OIL, GAS AND COAL SUPPLY STATISTICS.
|  | DIRECTOR, OFFICE OF PETROLEUM AND BIOFUELS STATISTICS.
|  | DIRECTOR, OFFICE OF SURVEY DEVELOPMENT AND STATISTICAL INTEGRATION.
|  | SENIOR ADVISOR.
| ASSISTANT SECRETARY FOR ENVIRONMENTAL MANAGEMENT | DEPUTY MANAGER, OAK RIDGE EM. DIRECTOR FOR REGULATORY, INTERGOVERNMENTAL AND STAKEHOLDER ENGAGEMENT.
|  | DIRECTOR, SPECIAL PROJECTS OFFICE.
|  | SENIOR ADVISOR FOR IMDP.
|  | SENIOR LIAISON ADVISOR FOR FIELD OPERATIONS.
|  | SENIOR MANAGEMENT ANALYST ADVISOR.
|  | SENIOR PROJECT MANAGEMENT ADVISOR.
|  | SITE MANAGER, OAK RIDGE.
| ENVIRONMENTAL MANAGEMENT CONSOLIDATED BUSINESS CENTER | CHIEF COUNSEL.
| OFFICE OF SCIENCE | BERKELEY/SLAC SITE OFFICE MANAGER. CHIEF COUNSEL.
|  | DIRECTOR OFFICE OF SCIENTIFIC AND TECHNICAL INFORMATION.
|  | DIRECTOR, OFFICE OF WORKFORCE MANAGEMENT.
|  | MANAGER.
|  | SITE OFFICE MANAGER, ARGONNE.
|  | SITE OFFICE MANAGER, BROOKHAVEN.
|  | SITE OFFICE MANAGER, FERMI.
|  | SITE OFFICE MANAGER, PRINCETON.
| ASSISTANT SECRETARY FOR FOSSIL ENERGY | CHIEF COUNSEL. CHIEF INFORMATION OFFICER AND CHIEF SECURITY OFFICER.
|  | DEPUTY DIRECTOR AND CHIEF RESEARCH OFFICER.
|  | DEPUTY DIRECTOR, LABORATORY OPERATIONS AND CHIEF OPERATING OFFICER.
|  | DEPUTY DIRECTOR, SCIENCE AND TECHNOLOGY STRATEGIC PLANS AND PROGRAMS.
|  | DEPUTY EXECUTIVE DIRECTOR, TECHNOLOGY DEVELOPMENT AND INTEGRATION.
|  | DIRECTOR FOR EXPLORATORY RESEARCH AND INNOVATION.
|  | DIRECTOR, OFFICE OF RESEARCH.
|  | EXECUTIVE DIRECTOR, FINANCE, ACQUISITION AND CHIEF FINANCIAL OFFICER.
|  | EXECUTIVE DIRECTOR, RESEARCH AND INNOVATIONS.
|  | EXECUTIVE DIRECTOR, TECHNOLOGY DEVELOPMENT AND INTEGRATION.
|  | PROJECT MANAGER, STRATEGIC PETROLEUM RESERVE.
| CHICAGO OFFICE | ASSISTANT MANAGER, ACQUISITION AND ASSISTANCE.
|  | DEPUTY MANAGER, CHICAGO OFFICE.
|  | MANAGER, CHICAGO OFFICE.
| IDAHO OPERATIONS OFFICE | ASSOCIATE DEPUTY MANAGER, IDAHO. CHIEF COUNSEL.
|  | DEPUTY MANAGER FOR ADMINISTRATIVE SUPPORT, CHIEF FINANCIAL OFFICER.
|  | DEPUTY MANAGER FOR IDAHO CLEANUP PROJECT.
|  | DEPUTY MANAGER FOR NUCLEAR ENERGY.
|  | MANAGER, IDAHO OPERATIONS OFFICE.
| OAK RIDGE OFFICE | ASSISTANT MANAGER FOR ADMINISTRATION.
|  | CHIEF COUNSEL.
|  | CHIEF FINANCIAL OFFICER.
|  | SITE MANAGER, ORNL SITE OFFICE.
|  | SITE MANAGER, THOMAS JEFFERSON NATIONAL ACCELERATOR FACILITY.
| RICHLAND OPERATIONS OFFICE | CHIEF COUNSEL.
| SAVANNAH RIVER OPERATIONS OFFICE | ASSOCIATE DEPUTY MANAGER.
| OFFICE OF GENERAL COUNSEL | ASSISTANT GENERAL COUNSEL FOR ENFORCEMENT.
|  | ASSISTANT GENERAL COUNSEL FOR GENERAL LAW.
|  | ASSISTANT GENERAL COUNSEL FOR PROCUREMENT AND FINANCIAL ASSISTANCE.
|  | ASSISTANT GENERAL COUNSEL FOR TECHNOLOGY TRANSFER AND INTELLECTUAL PROPERTY.
|  | ASSOCIATE GENERAL COUNSEL.
|  | DEPUTY GENERAL COUNSEL.
|  | DEPUTY GENERAL COUNSEL FOR TRANSACTIONS, TECHNOLOGY, AND CONTRACTOR HUMAN RESOURCES.
| OFFICE OF HEARINGS AND APPEALS | DEPUTY DIRECTOR, HEARINGS AND APPEALS (DEPUTY CHIEF ADMINISTRATIVE JUDGE).
|  | DIRECTOR, HEARINGS AND APPEALS (CHIEF ADMINISTRATIVE JUDGE).
| ASSISTANT SECRETARY FOR NUCLEAR ENERGY | ASSOCIATE DEPUTY ASSISTANT SECRETARY FOR NUCLEAR FACILITY OPERATIONS.
|  | ASSOCIATE DEPUTY ASSISTANT SECRETARY FOR NUCLEAR REACTOR TECHNOLOGIES.
|  | ASSOCIATE PRINCIPAL DEPUTY ASSISTANT SECRETARY, OFFICE OF NUCLEAR ENERGY.
|  | CHIEF OF NUCLEAR SAFETY.
|  | CHIEF OPERATING OFFICER.
|  | DEPUTY MANAGER FOR OPERATIONS SUPPORT.
|  | DIRECTOR OFF OF USED NUCLEAR FUEL DISPOSITION RESEARCH AND DEVELOPMENT.
|  | DIRECTOR, OFFICE OF ADVANCED REACTOR TECHNOLOGIES.
|  | DIRECTOR, OFFICE OF INNOVATIVE NUCLEAR RESEARCH.
|  | DIRECTOR, OFFICE OF LIGHT WATER REACTOR DEPLOYMENT.
| ASSISTANT SECRETARY FOR INTERNATIONAL AFFAIRS | DEPUTY ASSISTANT SECRETARY FOR ASIA AND THE AMERICAS. DEPUTY ASSISTANT SECRETARY FOR MIDDLE EAST, AFRICA AND EURASIA.
|  | DIRECTOR FOR EUROPEAN AND EURASIAN AFFAIRS.
|  | DIRECTOR, OFFICE OF AFRICAN AND MIDDLE EASTERN AFFAIRS.
|  | DIRECTOR, OFFICE OF EAST ASIAN AFFAIRS.
|  | SENIOR ADVISOR.
| OFFICE OF POLICY | CHIEF OPERATING OFFICER.
|  | DEPUTY DIRECTOR FOR ENERGY FINANCE INCENTIVES AND PROGRAM ANALYSIS.
| BONNEVILLE POWER ADMINISTRATION | CHIEF OPERATING OFFICER. DEPUTY ADMINISTRATOR.
|  | DIRECTOR, HUMAN RESOURCES SERVICE CENTER.
|  | EXECUTIVE VICE PRESIDENT INFORMATION TECHNOLOGY AND CHIEF INFORMATION OFFICER.
|  | EXECUTIVE VICE PRESIDENT AND CHIEF FINANCIAL OFFICER.
|  | EXECUTIVE VICE PRESIDENT, BUSINESS TRANSFORMATION.
|  | GENERAL COUNSEL/EXECUTIVE VICE PRESIDENT.
|  | SENIOR VICE PRESIDENT FOR POWER SERVICES.
|  | SENIOR VICE PRESIDENT TRANSMISSION SERVICES.
|  | VICE PRESIDENT FOR ENGINEERING AND TECHNICAL SERVICES.
|  | VICE PRESIDENT FOR GENERATION ASSET MANAGEMENT.
|  | VICE PRESIDENT FOR TRANSMISSION FIELD SERVICES.
|  | VICE PRESIDENT, TRANSMISSION SYSTEM OPERATIONS.
|  | VICE PRESIDENT, BULK MARKETING.
|  | VICE PRESIDENT, ENERGY EFFICIENCY.
|  | VICE PRESIDENT, ENVIRONMENT, FISH AND WILDLIFE.
|  | VICE PRESIDENT, NORTHWEST REQUIREMENTS MARKETING.
|  | VICE PRESIDENT, PLANNING AND ASSET MANAGEMENT.
|  | VICE PRESIDENT, TRANSMISSION MARKETING AND SALES.
| SOUTHWESTERN POWER ADMINISTRATION | DEPUTY ADMINISTRATOR, OFFICE OF POWER DELIVERY.
| WESTERN AREA POWER ADMINISTRATION | CHIEF ADMINISTRATIVE OFFICER. CHIEF FINANCIAL OFFICER.
|  | CHIEF INFORMATION OFFICER.
|  | CHIEF OPERATING OFFICER.
|  | DESERT SOUTHWEST REGIONAL MANAGER.
|  | GENERAL COUNSEL.
|  | REGIONAL MANAGER, ROCKY MOUNTAIN REGION.
|  | REGIONAL MANAGER, SIERRA NEVADA REGION.
|  | REGIONAL MANAGER, UPPER GREAT PLAINS REGION.
| OFFICE OF ENTERPRISE ASSESSMENTS | DEPUTY DIRECTOR, OFFICE OF ENVIRONMENT, SAFETY AND HEALTH ASSESSMENTS.
|  | DEPUTY DIRECTOR, OFFICE OF INDEPENDENT ENTERPRISE ASSESSMENTS.
|  | DIRECTOR, OFFICE OF ENVIRONMENT, SAFETY AND HEALTH ASSESSMENTS.
|  | DIRECTOR, OFFICE OF SECURITY ASSESSMENTS.
| ASSOCIATE UNDER SECRETARY FOR ENVIRONMENT, HEALTH, SAFETY AND SECURITY | CHIEF OPERATING OFFICER. DEPUTY ASSOCIATE UNDER SECRETARY FOR SECURITY. DIRECTOR, OFFICE OF ENVIRONMENTAL PROTECTION SUSTAINIABILITY.
|  | DIRECTOR, OFFICE OF NUCLEAR SAFETY.
|  | SENIOR ADVISOR.
DEPARTMENT OF ENERGY OFFICE OF THE INSPECTOR GENERAL | DEPARTMENT OF ENERGY OFFICE OF THE INSPECTOR GENERAL | ASSISTANT INSPECTOR GENERAL FOR AUDITS AND ADMINISTRATION. ASSISTANT INSPECTOR GENERAL FOR AUDITS AND INSPECTIONS—EAST.
|  | ASSISTANT INSPECTOR GENERAL FOR AUDITS AND INSPECTIONS—WEST.
|  | ASSISTANT INSPECTOR GENERAL FOR INVESTIGATIONS.
|  | ASSISTANT INSPECTOR GENERAL MANAGEMENT AND ADMINISTRATION.
|  | COUNSEL TO THE INSPECTOR GENERAL.
|  | DEPUTY ASSISTANT INSPECTOR GENERAL FOR AUDITS—CENTRAL.
|  | DEPUTY ASSISTANT INSPECTOR GENERAL FOR AUDITS AND INSPECTIONS—EAST.
|  | DEPUTY ASSISTANT INSPECTOR GENERAL FOR AUDITS AND INSPECTIONS—WEST.
|  | DEPUTY INSPECTOR GENERAL FOR AUDITS AND INSPECTIONS.
|  | DEPUTY INSPECTOR GENERAL FOR INVESTIGATIONS.
|  | PRINCIPAL DEPUTY INSPECTOR GENERAL.
ENVIRONMENTAL PROTECTION AGENCY | OFFICE OF ADMINISTRATIVE AND EXECUTIVE SERVICES | DIRECTOR, OFFICE OF ADMINISTRATIVE AND EXECUTIVE SERVICES.
| OFFICE OF THE CHIEF FINANCIAL OFFICER | ASSOCIATE CHIEF FINANCIAL OFFICER. DEPUTY CHIEF FINANCIAL OFFICER.
| OFFICE OF PLANNING, ANALYSIS AND ACCOUNTABILITY | DIRECTOR, OFFICE OF PLANNING, ANALYSIS AND ACCOUNTABILITY.
| OFFICE OF BUDGET | DIRECTOR, OFFICE OF BUDGET.
| OFFICE OF THE CONTROLLER | CONTROLLER. DEPUTY CONTROLLER.
| OFFICE OF TECHNOLOGY SOLUTIONS | DIRECTOR, OFFICE OF TECHNOLOGY SOLUTIONS.
| OFFICE OF POLICY AND RESOURCE MANAGEMENT | DIRECTOR, OFFICE OF RESOURCES, OPERATIONS AND MANAGEMENT.
| OFFICE OF ADMINISTRATION | DEPUTY DIRECTOR, OFFICE OF ADMINISTRATION.
|  | DIRECTOR, OFFICE OF ADMINISTRATION.
| OFFICE OF HUMAN RESOURCES | DEPUTY DIRECTOR, OFFICE OF HUMAN RESOURCES.
|  | DIRECTOR, OFFICE OF HUMAN RESOURCES.
| OFFICE OF ACQUISITION MANAGEMENT | DEPUTY DIRECTOR, OFFICE OF ACQUISITION MANAGEMENT.
|  | DIRECTOR, OFFICE OF ACQUISITION MANAGEMENT.
| OFFICE OF GRANTS AND DEBARMENT | DEPUTY DIRECTOR, OFFICE OF GRANTS AND DEBARMENT.
|  | DIRECTOR, OFFICE OF GRANTS AND DEBARMENT.
| OFFICE OF ADMINISTRATION AND RESOURCES MANAGEMENT—CINCINNATI, OHIO | DIRECTOR, OFFICE OF ADMINISTRATION AND RESOURCES MANAGEMENT.
| OFFICE OF ADMINISTRATION AND RESOURCES MANAGEMENT—RESEARCH TRIANGLE PARK, NORTH CAROLINA | DIRECTOR, OFFICE OF ADMINISTRATION AND RESOURCES MANAGEMENT.
| OFFICE OF DIVERSITY, ADVISORY COMMITTEE MANAGEMENT AND OUTREACH | DIRECTOR, OFFICE OF DIVERSITY, ADVISORY COMMITTEE MANAGEMENT AND OUTREACH.
| ENVIRONMENTAL APPEALS BOARD | ENVIRONMENTAL APPEALS JUDGE.
| OFFICE OF THE ASSISTANT ADMINISTRATOR FOR ENFORCEMENT AND COMPLIANCE ASSURANCE | SENIOR POLICY DIRECTOR FOR INNOVATION AND NEXT GENERATION COMPLIANCE.
| FEDERAL FACILITIES ENFORCEMENT OFFICE | DIRECTOR, FEDERAL FACILITIES ENFORCEMENT OFFICE.
| OFFICE OF ENVIRONMENTAL JUSTICE | DIRECTOR, OFFICE OF ENVIRONMENTAL JUSTICE.
| OFFICE OF COMPLIANCE | DEPUTY DIRECTOR, OFFICE OF COMPLIANCE.
|  | DIRECTOR, ENFORCEMENT TARGETING AND DATA DIVISION.
|  | DIRECTOR, MONITORING ASSISTANCE AND MEDIA PROGRAMS DIVISION.
|  | DIRECTOR, OFFICE OF COMPLIANCE.
| OFFICE OF CRIMINAL ENFORCEMENT, FORENSICS AND TRAINING | DEPUTY DIRECTOR, OFFICE OF CRIMINAL ENFORCEMENT, FORENSICS AND TRAINING. DIRECTOR, CRIMINAL INVESTIGATION DIVISION.
|  | DIRECTOR, NATIONAL ENFORCEMENT INVESTIGATIONS CENTER.
|  | DIRECTOR, OFFICE OF CRIMINAL ENFORCEMENT, FORENSICS AND TRAINING.
| OFFICE OF CIVIL ENFORCEMENT | DEPUTY DIRECTOR, OFFICE OF CIVIL ENFORCEMENT. DIRECTOR, AIR ENFORCEMENT DIVISION.
|  | DIRECTOR, OFFICE OF CIVIL ENFORCEMENT.
|  | DIRECTOR, WATER ENFORCEMENT DIVISION.
| OFFICE OF SITE REMEDIATION ENFORCEMENT | DEPUTY DIRECTOR, OFFICE OF SITE REMEDIATION ENFORCEMENT.
|  | DIRECTOR, OFFICE OF SITE REMEDIATION ENFORCEMENT.
| OFFICE OF DEPUTY GENERAL COUNSEL | DIRECTOR, RESOURCES MANAGEMENT OFFICE.
| OFFICE OF GROUND WATER AND DRINKING WATER | DIRECTOR, DRINKING WATER PROTECTION DIVISION. DIRECTOR, STANDARDS AND RISK MANAGEMENT DIVISION.
| OFFICE OF SCIENCE AND TECHNOLOGY | DIRECTOR, ENGINEERING AND ANALYSIS DIVISION.
|  | DIRECTOR, HEALTH AND ECOLOGICAL CRITERIA DIVISION.
|  | DIRECTOR, STANDARDS AND HEALTH PROTECTION DIVISION.
| OFFICE OF WASTE WATER MANAGEMENT | DIRECTOR, WATER INFRASTRUCTURE DIVISION. DIRECTOR, WATER PERMITS DIVISION.
| OFFICE OF WETLANDS, OCEANS AND WATERSHEDS | DIRECTOR, OCEANS, WETLANDS AND COMMUNITIES DIVISION. DIRECTOR, WATERSHED RESTORATION, ASSESSMENT AND PROTECTION DIVISION.
| OFFICE OF SUPERFUND REMEDIATION AND TECHNOLOGY INNOVATION | DIRECTOR, ASSESSMENT AND REMEDIATION DIVISION. DIRECTOR, RESOURCES MANAGEMENT DIVISION.
|  | DIRECTOR, TECHNOLOGY INNOVATION AND FIELD SERVICES DIVISION.
| OFFICE OF RESOURCE CONSERVATION AND RECOVERY | DIRECTOR, MATERIALS RECOVERY AND WASTE MANAGEMENT DIVISION.
|  | DIRECTOR, PROGRAM IMPLEMENTATION AND INFORMATION DIVISION.
|  | DIRECTOR, RESOURCE CONSERVATION AND SUSTAINABILITY DIVISION.
| OFFICE OF AIR QUALITY PLANNING AND STANDARDS | ASSOCIATE OFFICE DIRECTOR FOR PROGRAM INTEGRATION AND INTERNATIONAL AIR QUALITY ISSUES.
|  | DIRECTOR, AIR QUALITY ASSESSMENT DIVISION.
|  | DIRECTOR, AIR QUALITY POLICY DIVISION.
|  | DIRECTOR, HEALTH AND ENVIRONMENTAL IMPACTS DIVISION.
|  | DIRECTOR, OUTREACH AND INFORMATION DIVISION.
|  | DIRECTOR, SECTOR POLICIES AND PROGRAMS DIVISION.
| OFFICE OF TRANSPORTATION AND AIR QUALITY | DIRECTOR, ASSESSMENT AND STANDARDS DIVISION. DIRECTOR, COMPLIANCE DIVISION.
|  | DIRECTOR, TESTING AND ADVANCED TECHNOLOGY DIVISION.
|  | DIRECTOR, TRANSPORTATION AND CLIMATE DIVISION.
| OFFICE OF RADIATION AND INDOOR AIR | DIRECTOR, INDOOR ENVIRONMENTS DIVISION. DIRECTOR, RADIATION PROTECTION DIVISION.
| OFFICE OF ATMOSPHERIC PROGRAMS | DIRECTOR, CLEAN AIR MARKETS DIVISION. DIRECTOR, CLIMATE CHANGE DIVISION.
|  | DIRECTOR, CLIMATE PROTECTION PARTNERSHIP DIVISION.
| OFFICE OF PROGRAM MANAGEMENT OPERATIONS | ASSOCIATE ASSISTANT ADMINISTRATOR (MANAGEMENT).
| OFFICE OF PESTICIDE PROGRAMS | DIRECTOR, ANTIMICROBIALS DIVISION.
|  | DIRECTOR, BIOLOGICAL AND ECONOMIC ANALYSIS DIVISION. DIRECTOR, BIOPESTICIDES AND POLLUTION PREVENTION DIVISION.
|  | DIRECTOR, ENVIRONMENTAL FATE AND EFFECTS DIVISION.
|  | DIRECTOR, FIELD AND EXTERNAL AFFAIRS DIVISION.
|  | DIRECTOR, HEALTH EFFECTS DIVISION.
|  | DIRECTOR, INFORMATION TECHNOLOGY AND RESOURCES MANAGEMENT DIVISION.
|  | DIRECTOR, PESTICIDES RE-EVALUATION DIVISION.
|  | DIRECTOR, REGISTRATION DIVISION.
| OFFICE OF POLLUTION PREVENTION AND TOXICS | DIRECTOR, CHEMICAL CONTROL DIVISION. DIRECTOR, CHEMISTRY, ECONOMICS AND SUSTAINABLE STRATEGIES DIVISION.
|  | DIRECTOR, ENVIRONMENTAL ASSISTANCE DIVISION.
|  | DIRECTOR, INFORMATION MANAGEMENT DIVISION.
|  | DIRECTOR, NATIONAL PROGRAM CHEMICALS DIVISION.
|  | DIRECTOR, RISK ASSESSMENT DIVISION.
|  | DIRECTOR, TOXICS RELEASE INVENTORY DIVISION.
| OFFICE OF THE ASSISTANT ADMINISTRATOR FOR RESEARCH AND DEVELOPMENT | DIRECTOR, ENVIRONMENTAL TECHNOLOGY INNOVATION CLUSTER PROGRAM. DIRECTOR, OFFICE OF SCIENCE INFORMATION MANAGEMENT.
| OFFICE OF THE SCIENCE ADVISOR | DIRECTOR, OFFICE OF THE SCIENCE ADVISOR.
| NATIONAL HOMELAND SECURITY RESEARCH CENTER | DIRECTOR, NATIONAL HOMELAND SECURITY RESEARCH CENTER.
| OFFICE OF PROGRAM ACCOUNTABILITY AND RESOURCE MANAGEMENT | DIRECTOR, OFFICE OF PROGRAM ACCOUNTABILITY AND RESOURCE MANAGEMENT.
| NATIONAL HEALTH AND ENVIRONMENTAL EFFECTS RESEARCH LABORATORY | DEPUTY DIRECTOR FOR MANAGEMENT.
| WESTERN ECOLOGY DIVISION | DIRECTOR, WESTERN ECOLOGY DIVISION.
| GULF ECOLOGY DIVISION | DIRECTOR, GULF ECOLOGY DIVISION.
| MID-CONTINENT ECOLOGY DIVISION | DIRECTOR, MID-CONTINENT ECOLOGY DIVISION.
| NATIONAL EXPOSURE RESEARCH LABORATORY—NERL | DEPUTY DIRECTOR FOR MANAGEMENT. DIRECTOR, NATIONAL EXPOSURE RESEARCH LABORATORY.
| NATIONAL RISK MANAGEMENT RESEARCH LABORATORY—NRMRL | DEPUTY DIRECTOR FOR MANAGEMENT. DIRECTOR, NATIONAL RISK MANAGEMENT RESEARCH LABORATORY.
| NATIONAL CENTER FOR ENVIRONMENTAL ASSESSMENT | DEPUTY DIRECTOR FOR MANAGEMENT.
| NATIONAL CENTER FOR ENVIRONMENTAL ASSESSMENT—WASHINGTON, DC | DIRECTOR, NATIONAL CENTER FOR ENVIRONMENTAL ASSESSMENT.
| NATIONAL CENTER FOR ENVIRONMENTAL RESEARCH | DEPUTY DIRECTOR FOR MANAGEMENT.
| OFFICE OF ADMINISTRATIVE AND RESEARCH SUPPORT | DEPUTY DIRECTOR, OFFICE OF ADMINISTRATIVE AND RESEARCH SUPPORT.
|  | DIRECTOR, OFFICE OF ADMINISTRATIVE AND RESEARCH SUPPORT.
| REGION 1—BOSTON, MASSACHUSETTS | ASSISTANT REGIONAL ADMINISTRATOR FOR ADMINISTRATION AND RESOURCES MANAGEMENT.
|  | DIRECTOR, OFFICE OF ECOSYSTEM PROTECTION.
|  | DIRECTOR, OFFICE OF ENVIRONMENTAL STEWARDSHIP.
|  | DIRECTOR, OFFICE OF SITE REMEDIATION RESTORATION.
| OFFICE OF REGIONAL COUNSEL | REGIONAL COUNSEL.
| REGION 2—NEW YORK, NEW YORK | ASSISTANT REGIONAL ADMINISTRATOR FOR POLICY AND MANAGEMENT.
|  | DIRECTOR, CARIBBEAN ENVIRONMENTAL PROTECTION DIVISION.
|  | DIRECTOR, CLEAN AIR AND SUSTAINABILITY DIVISION.
|  | DIRECTOR, CLEAN WATER DIVISION.
|  | DIRECTOR, DIVISION OF ENVIRONMENTAL SCIENCE AND ASSESSMENT.
|  | DIRECTOR, ENFORCEMENT AND COMPLIANCE ASSISTANCE DIVISION.
|  | DIRECTOR, OFFICE OF EMERGENCY AND REMEDIAL RESPONSE.
| OFFICE OF REGIONAL COUNSEL | REGIONAL COUNSEL.
| REGION 3—PHILADELPHIA, PENNSYLVANIA | ASSISTANT REGIONAL ADMINISTRATOR FOR POLICY AND MANAGEMENT.
|  | DIRECTOR, AIR PROTECTION DIVISION.
|  | DIRECTOR, CHESAPEAKE BAY PROGRAM OFFICE.
|  | DIRECTOR, ENVIRONMENTAL ASSESSMENT AND INNOVATION DIVISION.
|  | DIRECTOR, HAZARDOUS SITE CLEANUP DIVISION.
|  | DIRECTOR, LAND AND CHEMICALS DIVISION.
|  | DIRECTOR, WATER PROTECTION DIVISION.
| OFFICE OF REGIONAL COUNSEL | REGIONAL COUNSEL.
| REGION 4—ATLANTA, GEORGIA | ASSISTANT REGIONAL ADMINISTRATOR FOR POLICY AND MANAGEMENT.
|  | DIRECTOR, AIR, PESTICIDES AND TOXICS MANAGEMENT DIVISION.
|  | DIRECTOR, GULF OF MEXICO PROGRAM.
|  | DIRECTOR, RESOURCE CONSERVATION AND RESTORATION DIVISION.
|  | DIRECTOR, SCIENCE AND ECOSYSTEM SUPPORT DIVISION.
|  | DIRECTOR, SUPERFUND DIVISION.
|  | DIRECTOR, WATER PROTECTION DIVISION.
| OFFICE OF REGIONAL COUNSEL | REGIONAL COUNSEL.
| REGION 5—CHICAGO, ILLINOIS | ASSISTANT REGIONAL ADMINISTRATOR FOR RESOURCES MANAGEMENT.
|  | DIRECTOR, AIR AND RADIATION DIVISION.
|  | DIRECTOR, GREAT LAKES NATIONAL PROGRAM OFFICE.
|  | DIRECTOR, LAND AND CHEMICALS DIVISION.
|  | DIRECTOR, SUPERFUND DIVISION.
|  | DIRECTOR, WATER DIVISION.
| OFFICE OF REGIONAL COUNSEL | REGIONAL COUNSEL.
| REGION 6—DALLAS, TEXAS | ASSISTANT REGIONAL ADMINISTRATOR FOR MANAGEMENT.
|  | DIRECTOR, COMPLIANCE ASSURANCE AND ENFORCEMENT DIVISION.
|  | DIRECTOR, MULTIMEDIA PLANNING AND PERMITTING DIVISION.
|  | DIRECTOR, SUPERFUND DIVISION.
|  | DIRECTOR, WATER DIVISION.
| OFFICE OF REGIONAL COUNSEL | REGIONAL COUNSEL.
| REGION 7—LENEXA, KANSAS | ASSISTANT REGIONAL ADMINISTRATOR FOR POLICY AND MANAGEMENT.
|  | DIRECTOR, AIR AND WASTE MANAGEMENT DIVISION.
|  | DIRECTOR, ENVIRONMENTAL SERVICES DIVISION.
|  | DIRECTOR, SUPERFUND DIVISION.
|  | DIRECTOR, WATER, WETLANDS AND PESTICIDES DIVISON.
| OFFICE OF REGIONAL COUNSEL | REGIONAL COUNSEL.
| REGION 8—DENVER, COLORADO | ASSISTANT REGIONAL ADMINISTRATOR FOR ECOSYSTEMS PROTECTION AND REMEDIATION.
|  | ASSISTANT REGIONAL ADMINISTRATOR FOR PARTNERSHIPS AND REGULATORY ASSISTANCE.
|  | ASSISTANT REGIONAL ADMINISTRATOR FOR TECHNICAL AND MANAGEMENT SERVICES.
|  | ASSISTANT REGIONAL ADMINISTRATOR FOR WATER PROTECTION.
| OFFICE OF REGIONAL COUNSEL | REGIONAL COUNSEL.
| REGION 9—SAN FRANCISCO, CALIFORNIA | ASSISTANT REGIONAL ADMINISTRATOR FOR ENVIRONMENTAL MANAGEMENT. DIRECTOR, AIR DIVISION.
|  | DIRECTOR, ENFORCEMENT DIVISION.
|  | DIRECTOR, LAND DIVISION.
|  | DIRECTOR, SUPERFUND DIVISION.
|  | DIRECTOR, WATER DIVISION.
| OFFICE OF REGIONAL COUNSEL | REGIONAL COUNSEL.
| REGION 10—SEATTLE, WASHINGTON | ASSISTANT REGIONAL ADMINISTRATOR FOR MANAGEMENT PROGRAMS.
|  | DIRECTOR, OFFICE OF AIR AND WASTE.
|  | DIRECTOR, OFFICE OF COMPLIANCE AND ENFORCEMENT.
|  | DIRECTOR, OFFICE OF ENVIRONMENTAL CLEANUP.
|  | DIRECTOR, OFFICE OF ENVIRONMENTAL REVIEW AND ASSESSMENT.
|  | DIRECTOR, OFFICE OF WATER AND WATERSHEDS.
| OFFICE OF REGIONAL COUNSEL | REGIONAL COUNSEL.
| OFFICE OF MISSION SUPPORT | DIRECTOR, OFFICE OF DIGITAL SERVICES AND TECHNICAL ARCHITECTURE.
ENVIRONMENTAL PROTECTION AGENCY OFFICE OF THE INSPECTOR GENERAL | ENVIRONMENTAL PROTECTION AGENCY OFFICE OF THE INSPECTOR GENERAL | ASSISTANT INSPECTOR GENERAL FOR AUDIT AND EVALUATION. ASSISTANT INSPECTOR GENERAL FOR INVESTIGATIONS.
|  | ASSISTANT INSPECTOR GENERAL FOR MANAGEMENT.
|  | COUNSEL TO THE INSPECTOR GENERAL.
|  | DEPUTY INSPECTOR GENERAL.
EQUAL EMPLOYMENT OPPORTUNITY COMMISSION | OFFICE OF THE INSPECTOR GENERAL | INSPECTOR GENERAL.
| OFFICE OF COMMUNICATIONS AND LEGISLATIVE AFFAIRS (OCLA) | ASSOCIATE DIRECTOR, OCLA.
| OFFICE OF FIELD PROGRAMS | DISTRICT DIRECTOR (BIRMINGHAM). DISTRICT DIRECTOR (CLEVELAND).
|  | DISTRICT DIRECTOR (DALLAS).
|  | DISTRICT DIRECTOR (DETROIT).
|  | DISTRICT DIRECTOR (LOS ANGELES).
|  | DISTRICT DIRECTOR (MEMPHIS).
|  | DISTRICT DIRECTOR (MIAMI).
|  | DISTRICT DIRECTOR (MILWAUKEE).
|  | DISTRICT DIRECTOR (SAN FRANCISCO).
|  | DISTRICT DIRECTOR—(ATLANTA).
|  | DISTRICT DIRECTOR—(BIRMINGHAM).
|  | DISTRICT DIRECTOR—(CHARLOTTE).
|  | DISTRICT DIRECTOR—(CHICAGO).
|  | DISTRICT DIRECTOR—(DENVER).
|  | DISTRICT DIRECTOR—(HOUSTON).
|  | DISTRICT DIRECTOR—(INDIANAPOLIS).
|  | DISTRICT DIRECTOR—(NEW ORLEANS).
|  | DISTRICT DIRECTOR—(NEW YORK).
|  | DISTRICT DIRECTOR—(PHILADELPHIA).
|  | DISTRICT DIRECTOR—(PHOENIX).
|  | DISTRICT DIRECTOR—(SAN ANTONIO).
|  | DISTRICT DIRECTOR—(ST LOUIS).
|  | NATIONAL LEGAL/ENFORCEMENT EXECUTIVE ADVISOR.
|  | NATIONAL SYSTEMIC INVESTIGATIONS EXECUTIVE ADVISOR.
|  | PROGRAM MANAGER.
| FIELD MANAGEMENT PROGRAMS | DIRECTOR FIELD MANAGEMENT PROGRAMS.
| FIELD COORDINATION PROGRAMS | DIRECTOR, FIELD COORDINATION PROGRAMS.
FEDERAL COMMUNICATIONS COMMISSION | OFFICE OF INSPECTOR GENERAL | INSPECTOR GENERAL, OIG.
| MEDIA BUREAU | CHIEF, VIDEO DIVISION, MEDIA BUREAU.
FEDERAL ENERGY REGULATORY COMMISSION | OFFICE OF ENERGY PROJECTS | DIRECTOR OF DAM SAFETY AND INSPECTION.
| OFFICE OF ADMINISTRATIVE LITIGATION | DIRECTOR, LEGAL DIVISION. DIRECTOR, TECHNICAL DIVISION.
| OFFICE OF ENFORCEMENT | CHIEF ACCOUNTANT AND DIRECTOR, DIVISION OF AUDITS AND ACCOUNTING.
FEDERAL LABOR RELATIONS AUTHORITY | OFFICE OF THE CHAIRMAN | CHIEF COUNSEL. DIRECTOR, POLICY AND PERFORMANCE MANAGEMENT.
|  | SENIOR ADVISOR.
|  | SOLICITOR.
| OFFICE OF MEMBER | CHIEF COUNSEL (2).
| FEDERAL SERVICE IMPASSES PANEL | EXECUTIVE DIRECTOR, FEDERAL SERVICE IMPASSES PANEL.
| OFFICE OF THE INSPECTOR GENERAL | INSPECTOR GENERAL.
| OFFICE OF THE EXECUTIVE DIRECTOR | EXECUTIVE DIRECTOR.
| OFFICE OF THE GENERAL COUNSEL | DEPUTY GENERAL COUNSEL.
| OFFICE OF THE GENERAL COUNSEL REGIONAL OFFICES | REGIONAL DIRECTOR, CHICAGO ILLINOIS. REGIONAL DIRECTOR, DENVER.
|  | REGIONAL DIRECTOR, SAN FRANCISCO.
|  | REGIONAL DIRECTOR—ATLANTA.
|  | REGIONAL DIRECTOR—BOSTON.
|  | REGIONAL DIRECTOR—DALLAS.
|  | REGIONAL DIRECTOR—WASHINGTON, D.C.
FEDERAL LABOR RELATIONS AUTHORITY OFFICE OF THE INSPECTOR GENERAL | FEDERAL LABOR RELATIONS AUTHORITY OFFICE OF INSPECTOR GENERAL | INSPECTOR GENERAL.
FEDERAL MARITIME COMMISSION | OFFICE OF THE SECRETARY | SECRETARY.
| OFFICE OF CONSUMER AFFAIRS AND DISPUTE RESOLUTION SERVICES | DIRECTOR, OFFICE OF CONSUMER AFFAIRS AND DISPUTE RESOLUTION SERVICES.
| OFFICE OF THE GENERAL COUNSEL | DEPUTY GENERAL COUNSEL FOR REPORTS OPINIONS AND DECISIONS.
| OFFICE OF THE INSPECTOR GENERAL | INSPECTOR GENERAL.
| OFFICE OF THE MANAGING DIRECTOR | DEPUTY MANAGING DIRECTOR.
|  | DIRECTOR, STRATEGIC PLANNING AND REGULATORY REVIEW.
| BUREAU OF CERTIFICATION AND LICENSING | DIRECTOR, BUREAU OF CERTIFICATION AND LICENSING.
| BUREAU OF TRADE ANALYSIS | DIRECTOR, BUREAU OF TRADE ANALYSIS.
| BUREAU OF ENFORCEMENT | DIRECTOR BUREAU OF ENFORCEMENT.
FEDERAL MEDIATION AND CONCILIATION SERVICE | OFFICE OF THE DIRECTOR | DEPUTY DIRECTOR OF NATIONAL PROGRAMS AND INITIATIVES.
|  | NATIONAL REPRESENTATIVE.
FEDERAL RETIREMENT THRIFT INVESTMENT BOARD | FEDERAL RETIREMENT THRIFT INVESTMENT BOARD | CHIEF FINANCIAL OFFICER. CHIEF OPERATING OFFICER.
|  | CHIEF TECHNOLOGY OFFICER.
|  | DEPUTY CHIEF INVESTMENT OFFICER.
|  | DIRECTOR OF COMMUNICATIONS AND EDUCATION.
|  | DIRECTOR OF ENTERPRISE RISK MANAGEMENT.
|  | DIRECTOR OF PARTICIPANT OPERATIONS AND POLICY.
|  | DIRECTOR OF RESOURCE MANAGEMENT.
|  | SENIOR ADVISOR FOR UNIFORMED SERVICES.
FEDERAL TRADE COMMISSION | OFFICE OF THE GENERAL COUNSEL | PRINCIPAL DEPUTY GENERAL COUNSEL.
| OFFICE OF EXECUTIVE DIRECTOR | CHIEF INFORMATION OFFICER. DEPUTY EXECUTIVE DIRECTOR.
| BUREAU OF COMPETITION | DEPUTY DIRECTOR, BUREAU OF COMPETITION.
| BUREAU OF ECONOMICS | DEPUTY DIRECTOR FOR RESEARCH AND MANAGEMENT.
| BUREAU OF CONSUMER PROTECTION | DEPUTY DIRECTOR, BUREAU OF CONSUMER PROTECTION.
FEDERAL TRADE COMMISSION OFFICE OF THE INSPECTOR GENERAL | FEDERAL TRADE COMMISSION OFFICE OF THE INSPECTOR GENERAL | INSPECTOR GENERAL.
GENERAL SERVICES ADMINISTRATION | OFFICE OF THE ADMINISTRATOR | DIRECTOR, OPM-GSA MERGER PROJECT MANAGEMENT OFFICE.
|  | DIRECTOR, PRESIDENTIAL TRANSITION.
| OFFICE OF MISSION ASSURANCE | ASSOCIATE ADMINISTRATOR FOR MISSION ASSURANCE.
|  | PRINCIPAL DEPUTY ASSOCIATE ADMINISTRATOR FOR MISSION ASSURANCE.
| OFFICE OF HUMAN RESOURCES MANAGEMENT | CHIEF HUMAN CAPITAL OFFICER. DEPUTY CHIEF HUMAN CAPITAL OFFICER.
| OFFICE OF GOVERNMENTWIDE POLICY | DEPUTY ASSOCIATE ADMINISTRATOR FOR ASSET AND TRANSPORTATION MANAGEMENT.
|  | DEPUTY ASSOCIATE ADMINISTRATOR FOR INFORMATION, INTEGRITY AND ACCESS.
|  | DEPUTY CHIEF ACQUISITION OFFICER AND SENIOR PROCUREMENT EXECUTIVE.
|  | DIRECTOR OF FEDERAL HIGH-PERFORMANCE GREEN BUILDINGS.
|  | DIRECTOR OF GENERAL SERVICES ACQUISITION POLICY, INTEGRITY AND WORKFORCE.
|  | DIRECTOR OF GOVERNMENTWIDE ACQUISITION POLICY.
|  | DIRECTOR OF THE FEDERAL ACQUISITION INSTITUTE.
|  | DIRECTOR, UNIFIED SHARED SERVICES MANAGEMENT.
|  | PRINCIPAL DEPUTY FOR ASSET AND TRANSPORTATION MANAGEMENT.
| OFFICE OF THE CHIEF FINANCIAL OFFICER | CHIEF FINANCIAL OFFICER. DEPUTY CHIEF FINANCIAL OFFICER.
|  | DIRECTOR OF BUDGET.
|  | DIRECTOR OF FINANCIAL MANAGEMENT.
|  | DIRECTOR OF REGIONAL FINANCIAL SERVICES.
|  | DIRECTOR, OFFICE OF ANALYTICS, PERFORMANCE AND IMPROVEMENT.
| PUBLIC BUILDINGS SERVICE | ASSISTANT COMMISSIONER FOR ACQUISITION MANAGEMENT.
|  | ASSISTANT COMMISSIONER FOR FACILITIES MANAGEMENT AND SERVICES PROGRAMS.
|  | ASSISTANT COMMISSIONER FOR LEASING.
|  | ASSISTANT COMMISSIONER FOR PROJECT DELIVERY.
|  | ASSISTANT COMMISSIONER FOR REAL PROPERTY ASSET MANAGEMENT.
|  | ASSISTANT COMMISSIONER FOR REAL PROPERTY UTILIZATION AND DISPOSAL.
|  | CHIEF ARCHITECT.
|  | DEPUTY ASSISTANT COMMISSIONER FOR REAL PROPERTY ASSET MANAGEMENT.
|  | SENIOR ADVISOR.
| OFFICE OF GENERAL SERVICE ADMINISTRATION INFORMATION TECHNOLOGY | ASSOCIATE CHIEF INFORMATION OFFICER FOR ACQUISITION INFORMATION TECHNOLOGY SERVICES. ASSOCIATE CHIEF INFORMATION OFFICER FOR CORPORATE INFORMATION TECHNOLOGY SERVICES.
|  | ASSOCIATE CHIEF INFORMATION OFFICER FOR ENTERPRISE INFRASTRUCTURE.
|  | ASSOCIATE CHIEF INFORMATION OFFICER FOR ENTERPRISE PLANNING AND GOVERNANCE.
|  | ASSOCIATE CHIEF INFORMATION OFFICER FOR PUBLIC BUILDINGS INFORMATION TECHNOLOGY SERVICES.
|  | CHIEF INFORMATION SECURITY OFFICER.
|  | DEPUTY ASSOCIATE CHIEF INFORMATION OFFICER.
| FEDERAL ACQUISITION SERVICE | ASSISTANT COMMISSIONER FOR ASSISTED ACQUISITION SERVICES.
|  | ASSISTANT COMMISSIONER FOR CUSTOMER AND STAKEHOLDER ENGAGEMENT.
|  | ASSISTANT COMMISSIONER FOR ENTERPRISE STRATEGY MANAGEMENT.
|  | ASSISTANT COMMISSIONER FOR GENERAL SUPPLIES AND SERVICES CATEGORIES.
|  | ASSISTANT COMMISSIONER FOR INFORMATION TECHNOLOGY CATEGORY.
|  | ASSISTANT COMMISSIONER FOR POLICY AND COMPLIANCE.
|  | ASSISTANT COMMISSIONER FOR SYSTEMS MANAGEMENT.
|  | ASSISTANT COMMISSIONER FOR TRAVEL, TRANSPORTATION AND LOGISTICS CATEGORIES.
|  | DEPUTY ASSISTANT COMMISSIONER FOR ACQUISITION.
|  | DEPUTY ASSISTANT COMMISSIONER FOR CATEGORY MANAGEMENT.
|  | DEPUTY ASSISTANT COMMISSIONER FOR INFORMATION TECHNOLOGY CATEGORY.
|  | DIRECTOR OF FLEET MANAGEMENT.
|  | DIRECTOR OF SUPPLY CHAIN MANAGEMENT.
|  | DIRECTOR OF TRAVEL, EMPLOYEE RELOCATION, AND TRANSPORTATION.
|  | DIRECTOR, FEDERAL SYSTEMS INTEGRATION AND MANAGEMENT CENTER.
|  | DIRECTOR, INFORMATION TECHNOLOGY SCHEDULE CONTRACT OPERATIONS.
|  | DIRECTOR, INFORMATION TECHNOLOGY SERVICES.
|  | DIRECTOR, TELECOMMUNICATIONS SERVICES.
| TECHNOLOGY TRANSFORMATION SERVICES | DIRECTOR, PUBLIC EXPERIENCE PORTFOLIO.
| NEW ENGLAND REGION | REGIONAL COMMISSIONER FOR FEDERAL ACQUISITION SERVICE.
|  | REGIONAL COMMISSIONER FOR PUBLIC BUILDINGS SERVICE.
| NORTHEAST AND CARIBBEAN REGION | REGIONAL COMMISSIONER FOR FEDERAL ACQUISITION SERVICE.
|  | REGIONAL COMMISSIONER FOR PUBLIC BUILDINGS SERVICE.
| MID-ATLANTIC REGION | REGIONAL COMMISSIONER FOR FEDERAL ACQUISITION SERVICE.
|  | REGIONAL COMMISSIONER FOR PUBLIC BUILDINGS SERVICE.
| NATIONAL CAPITAL REGION | DEPUTY DIRECTOR OF PORTFOLIO MANAGEMENT AND LEASING.
|  | DIRECTOR OF FACILITIES MANAGEMENT AND SERVICES PROGRAMS.
|  | DIRECTOR OF PORTFOLIO MANAGEMENT AND REAL ESTATE.
|  | DIRECTOR OF PROJECT DELIVERY.
|  | REGIONAL COMMISSIONER FOR FEDERAL ACQUISITION SERVICE.
|  | REGIONAL COMMISSIONER FOR PUBLIC BUILDINGS SERVICE.
| SOUTHEAST SUNBELT REGION | REGIONAL COMMISSIONER FOR FEDERAL ACQUISITION SERVICE.
|  | REGIONAL COMMISSIONER FOR PUBLIC BUILDINGS SERVICE.
| GREAT LAKES REGION | REGIONAL COMMISSIONER FOR FEDERAL ACQUISITION SERVICE.
|  | REGIONAL COMMISSIONER FOR PUBLIC BUILDINGS SERVICE.
| THE HEARTLAND REGION | REGIONAL COMMISSIONER FOR FEDERAL ACQUISITION SERVICE.
|  | REGIONAL COMMISSIONER FOR PUBLIC BUILDINGS SERVICE.
| GREATER SOUTHWEST REGION | REGIONAL COMMISSIONER FOR FEDERAL ACQUISITION SERVICE.
|  | REGIONAL COMMISSIONER FOR PUBLIC BUILDINGS SERVICE.
| ROCKY MOUNTAIN REGION | REGIONAL COMMISSIONER FOR FEDERAL ACQUISITION SERVICE.
|  | REGIONAL COMMISSIONER FOR PUBLIC BUILDINGS SERVICE.
| PACIFIC RIM REGION | REGIONAL COMMISSIONER FOR FEDERAL ACQUISITION SERVICE.
|  | REGIONAL COMMISSIONER FOR PUBLIC BUILDINGS SERVICE.
| NORTHWEST/ARCTIC REGION | REGIONAL COMMISSIONER FOR FEDERAL ACQUISITION SERVICE.
|  | REGIONAL COMMISSIONER FOR PUBLIC BUILDINGS SERVICE.
GENERAL SERVICES ADMINISTRATION OFFICE OF THE INSPECTOR GENERAL | GENERAL SERVICES ADMINISTRATION OFFICE OF THE INSPECTOR GENERAL | ASSISTANT INSPECTOR GENERAL FOR ADMINISTRATION. ASSISTANT INSPECTOR GENERAL FOR AUDITING.
|  | ASSISTANT INSPECTOR GENERAL FOR INSPECTIONS.
|  | ASSISTANT INSPECTOR GENERAL FOR INVESTIGATIONS.
|  | ASSOCIATE INSPECTOR GENERAL.
|  | COUNSEL TO THE INSPECTOR GENERAL.
|  | DEPUTY ASSISTANT INSPECTOR GENERAL FOR ACQUISITION PROGRAMS AUDITS.
|  | DEPUTY ASSISTANT INSPECTOR GENERAL FOR INVESTIGATIONS.
|  | DEPUTY ASSISTANT INSPECTOR GENERAL FOR REAL PROPERTY AUDITS.
|  | DEPUTY INSPECTOR GENERAL.
GULF COAST ECOSYSTEM RESTORATION COUNCIL | GULF COAST ECOSYSTEM RESTORATION COUNCIL | DEPUTY EXECUTIVE DIRECTOR AND DIRECTOR OF PROGRAMS.
DEPARTMENT OF HEALTH AND HUMAN SERVICES | ADMINISTRATION FOR COMMUNITY LIVING | DEPUTY ADMINISTRATOR FOR THE CENTER FOR INTEGRATED PROGRAMS.
| OFFICE OF SECURITY AND STRATEGIC INFORMATION | ASSOCIATE DIRECTOR FOR PERSONNEL AND CLASSIFIED INFORMATION SECURITY. ASSOCIATE DIRECTOR FOR STRATEGIC INFORMATION.
|  | DIRECTOR, INTEL AND COUNTERINTEL.
| OFFICE OF THE ASSISTANT SECRETARY FOR ADMINISTRATION | DIRECTOR, OFFICE OF PANDEMICS AND EMERGING THREATS.
| OFFICE OF THE ASSISTANT SECRETARY FOR FINANCIAL RESOURCES | DIRECTOR, OFFICE OF SMALL AND DISADVANTAGED BUSINESS UTILIZATION.
| OFFICE OF THE DEPUTY ASSISTANT SECRETARY FOR FINANCE | ASSOCIATE DEPUTY ASSISTANT SECRETARY, FINANCE.
| OFFICE OF THE DEPUTY ASSISTANT SECRETARY FOR INFORMATION RESOURCES MANAGEMENT | DEPUTY CHIEF INFORMATION OFFICER.
| OFFICE OF THE ASSISTANT SECRETARY FOR PLANNING AND EVALUATION | ASSOCIATE DEPUTY ASSISTANT SECRETARY FOR PLANNING AND EVALUATION (HEALTH SERVICES POLICY).
| OFFICE OF THE ASSISTANT SECRETARY FOR HEALTH | DIRECTOR, OFFICE OF RESEARCH INTEGRITY.
| OFFICE OF THE GENERAL COUNSEL | DEPUTY ASSOCIATE GENERAL COUNSEL FOR ETHICS ADVICE AND POLICY (ADAEO).
| ASSOCIATE GENERAL COUNSEL DIVISIONS | ASSOCIATE GENERAL COUNSEL, GENERAL LAW DIVISION.
|  | DEPUTY ASSOCIATE GENERAL COUNSEL FOR CLAIMS AND EMPLOYMENT LAW.
|  | DEPUTY ASSOCIATE GENERAL COUNSEL, BUSINESS AND ADMINISTRATIVE LAW DIVISION.
| OFFICE OF THE INSPECTOR GENERAL | DEPUTY INSPECTOR GENERAL FOR LEGAL AFFAIRS. DEPUTY INSPECTOR GENERAL FOR MANAGEMENT AND POLICY.
|  | PRINCIPAL DEPUTY INSPECTOR GENERAL.
| OFFICE OF THE DEPUTY INSPECTOR GENERAL FOR INVESTIGATIONS | ASSISTANT INSPECTOR GENERAL FOR INVESTIGATIONS. ASSISTANT INSPECTOR GENERAL FOR INVESTIGATIVE OPERATIONS.
|  | DEPUTY INSPECTOR GENERAL FOR INVESTIGATIONS.
| OFFICE OF THE DEPUTY INSPECTOR GENERAL FOR AUDIT SERVICES | ASSISTANT INSPECTOR GENERAL FOR AUDIT MANAGEMENT AND POLICY. ASSISTANT INSPECTOR GENERAL FOR FINANCIAL MANAGEMENT AND REGIONAL OPERATIONS.
|  | ASSISTANT INSPECTOR GENERAL FOR GRANTS AND INTERNAL ACTIVITIES.
|  | ASSISTANT INSPECTOR GENERAL FOR MEDICARE AND MEDICAID SERVICE AUDITS.
|  | DEPUTY INSPECTOR GENERAL FOR AUDIT SERVICES.
| OFFICE OF THE DEPUTY INSPECTOR GENERAL FOR EVALUATION AND INSPECTIONS | DEPUTY INSPECTOR GENERAL FOR EVALUATION AND INSPECTIONS.
| PROGRAM SUPPORT CENTER | DEPUTY ASSISTANT SECRETARY FOR PROGRAM SUPPORT.
|  | DIRECTOR, INFORMATION SYSTEMS MANAGEMENT SERVICE.
| OFFICE OF FINANCIAL MANAGEMENT SERVICE | DIRECTOR, FINANCIAL MANAGEMENT SERVICE.
| OFFICE OF PROGRAM SUPPORT | DIRECTOR OFFICE OF FINANCIAL MANAGEMENT.
| OFFICE OF THE ACTUARY | DIRECTOR, MEDICARE AND MEDICAID COST ESTIMATES GROUP.
|  | DIRECTOR, NATIONAL HEALTH STATISTICS GROUP.
|  | DIRECTOR, OFFICE OF THE ACTUARY (CHIEF ACTUARY).
|  | DIRECTOR, PARTS C AND D ACTUARIAL GROUP.
| CENTER FOR MEDICARE | DIRECTOR, MEDICARE CONTRACTOR MANAGEMENT GROUP.
| OFFICE OF ACQUISITIONS AND GRANTS MANAGEMENT | DEPUTY DIRECTOR, OFFICE OF ACQUISITION AND GRANTS MANAGEMENT. DIRECTOR, OFFICE OF ACQUISITIONS AND GRANTS MANAGEMENT.
| OFFICE OF INFORMATION TECHNOLOGY | DEPUTY DIRECTOR, OFFICE OF TECHNOLOGY SOLUTIONS.
|  | DIRECTOR, OFFICE OF TECHNOLOGY SOLUTIONS.
| OFFICE OF FINANCIAL MANAGEMENT | DEPUTY DIRECTOR OFFICE OF FINANCIAL MANAGEMENT. DIRECTOR OFFICE OF FINANCIAL MANAGEMENT.
|  | DIRECTOR, ACCOUNTING MANAGEMENT GROUP.
|  | DIRECTOR, FINANCIAL SERVICES GROUP.
| SUBSTANCE ABUSE AND MENTAL HEALTH SERVICES ADMINISTRATION | DIRECTOR, OFFICE OF FINANCIAL SERVICES.
| OFFICE OF POLICY, PLANNING, AND BUDGET | ASSOCIATE ADMINISTRATOR FOR POLICY AND PROGRAMS COORDINATOR.
| CENTER FOR MENTAL HEALTH SERVICES | DIRECTOR CENTER FOR MENTAL HEALTH SERVICES.
|  | DIRECTOR DIVISION OF STATE AND COMMUNITY SYSTEMS DEVELOPMENT.
| CENTERS FOR DISEASE CONTROL AND PREVENTION | BUDGET OFFICER. CHIEF FINANCIAL OFFICER.
|  | CHIEF INFORMATION OFFICER.
|  | CHIEF INFORMATION SECURITY OFFICER.
|  | CHIEF LEARNING OFFICER.
|  | CHIEF OPERATING OFFICER.
|  | DEPUTY CHIEF FINANCIAL OFFICER.
|  | DEPUTY CHIEF INFORMATION OFFICER.
|  | DEPUTY DIRECTOR CENTER FOR GLOBAL HEALTH (2).
|  | DIRECTOR OFFICE OF GRANTS SERVICES.
|  | DIRECTOR, BUILDINGS AND FACILITIES OFFICE.
|  | DIRECTOR, CENTER FOR GLOBAL HEALTH.
|  | DIRECTOR, CENTERS FOR DISEASE CONTROL AND PREVENTION, WASHINGTON OFFICE.
|  | DIRECTOR, DIVISION OF ACQUISITION SERVICES.
|  | DIRECTOR, DIVISION OF EMERGENCY OPERATIONS.
|  | DIRECTOR, INFORMATION TECHNOLOGY SERVICES OFFICE.
|  | DIRECTOR, MANAGEMENT INFORMATION SYSTEMS OFFICE.
|  | DIRECTOR, OFFICE OF FINANCE AND ACCOUNTING.
|  | DIRECTOR, OFFICE OF SAFETY, SECURITY AND ASSET MANAGEMENT.
|  | DIRECTOR, PROCUREMENT AND GRANTS OFFICE.
|  | ISSUES ANALYSIS AND COORDINATION OFFICER.
| NATIONAL INSTITUTE FOR OCCUPATIONAL SAFETY AND HEALTH | DEPUTY DIRECTOR FOR MANAGEMENT.
| OFFICE OF THE COMMISSIONER | ASSISTANT COMMISSIONER FOR GLOBAL REGULATORY OPERATIONS.
| OFFICE OF REGULATORY AFFAIRS | ASSOCIATE COMMISSIONER FOR REGULATORY AFFAIRS. DEPUTY DIRECTOR FOR INVESTIGATIONS.
|  | DIRECTOR OFFICE OF CRIMINAL INVESTIGATIONS.
|  | REGIONAL FOOD AND DRUG DIRECTOR, NORTHEAST REGION.
| CENTER FOR BIOLOGICS EVALUATION AND RESEARCH | DIRECTOR, OFFICE OF COMPLIANCE AND BIOLOGICS QUALITY.
| CENTER FOR DRUG EVALUATION AND RESEARCH | ASSOCIATE DIRECTOR FOR MANAGEMENT. DIRECTOR, OFFICE OF COMPLIANCE.
| CENTER FOR DEVICES AND RADIOLOGICAL HEALTH | DIRECTOR OFFICE OF COMPLIANCE. DIRECTOR OFFICE OF SYSTEM AND MANAGEMENT.
|  | DIRECTOR, OFFICE OF DEVICE EVALUATION.
| CENTER FOR FOOD SAFETY AND APPLIED NUTRITION | DIRECTOR, OFFICE OF PLANT AND DAIRY FOODS AND BEVERAGES.
| CENTER FOR VETERINARY MEDICINE | DIRECTOR, OFFICE OF SURVEILLANCE AND COMPLIANCE.
| OFFICE OF OPERATIONS | DIRECTOR, DIVISION OF ETHICS AND INTEGRITY.
|  | DIRECTOR, OFFICE OF ACQUISITIONS AND GRANTS SERVICES.
|  | DIRECTOR, OFFICE OF BUDGET.
|  | DIRECTOR, OFFICE OF BUSINESS AND CUSTOMER ASSURANCE.
|  | DIRECTOR, OFFICE OF FINANCIAL MANAGEMENT/CFO.
|  | DIRECTOR, OFFICE OF HUMAN RESOURCES.
|  | DIRECTOR, OFFICE OF SAFETY, SECURITY AND CRISIS MANAGEMENT.
| NATIONAL INSTITUTES OF HEALTH | ASSOCIATE DIRECTOR FOR MANAGEMENT. ASSOCIATE DIRECTOR OF MANAGEMENT.
|  | DIRECTOR, OFFICE OF ACQUISITION AND LEGISTICS MANAGEMENT.
|  | DIRECTOR, OFFICE OF RESEARCH INFORMATION SYSTEMS.
| OFFICE OF THE DIRECTOR | ASSOCIATE DIRECTOR FOR SECURITY AND EMERGENCY RESPONSE.
|  | DEPUTY DIRECTOR, DIVISION OF PROGRAM COORDINATION, PLANNING, AND STRATEGIC INITIATIVES.
|  | DIRECTOR, OFFICE OF FINANCIAL MANAGEMENT.
|  | DIRECTOR, OFFICE OF POLICY FOR EXTRAMURAL RESEARCH ADMINISTRATION.
|  | DIRECTOR, OFFICE OF RESEARCH FACILITIES DEVELOPMENT AND OPERATIONS.
|  | DIRECTOR, OFFICE OF STRATEGIC PLANNING AND MANAGEMENT OPERATIONS.
|  | ERA PROGRAM MANAGER.
|  | SENIOR POLICY OFFICER (ETHICS).
| NATIONAL HEART, LUNG AND BLOOD INSTITUTE | ASSOCIATE DIRECTOR FOR ADMINISTRATIVE MANAGEMENT.
| NATIONAL CANCER INSTITUTE | DEPUTY DIRECTOR FOR MANAGEMENT.
| NATIONAL INSTITUTE OF DIABETES AND DIGESTIVE AND KIDNEY DISEASES | ASSOCIATE DIRECTOR FOR MANAGEMENT.
| NATIONAL INSTITUTE OF ARTHRITIS AND MUSCULOSKELETAL AND SKIN DISEASES | ASSOCIATE DIRECTOR FOR MANAGEMENT AND OPERATIONS.
| NATIONAL LIBRARY OF MEDICINE | ASSOCIATE DIRECTOR FOR ADMINISTRATIVE MANAGEMENT.
|  | ASSOCIATE DIRECTOR FOR EXTRAMURAL PROGRAMS.
|  | ASSOCIATE DIRECTOR FOR LIBARY OPERATIONS.
|  | DEPUTY DIRECTOR, NATIONAL LIBRARY OF MEDICINE.
|  | DIRECTOR, INFORMATION SYSTEMS.
| NATIONAL INSTITUTE ON AGING | DIRECTOR OF MANAGEMENT.
| NATIONAL INSTITUTES OF CHILD HEALTH AND HUMAN DEVELOPMENT | ASSOCIATE DIRECTOR FOR ADMINISTRATION.
| NATIONAL INSTITUTE OF DENTAL AND CRANIOFACIAL RESEARCH | ASSOCIATE DIRECTOR FOR MANAGEMENT.
| NATIONAL INSTITUTES OF GENERAL MEDICAL SCIENCES | ASSOCIATE DIRECTOR FOR MANAGEMENT.
| NATIONAL INSTITUTES OF NEUROLOGICAL DISORDERS AND STROKE | DEPUTY DIRECTOR FOR MANAGEMENT.
| NATIONAL INSTITUTES ON DEAFNESS AND OTHER COMMUNICATION DISORDERS | ASSOCIATE DIRECTOR FOR ADMINISTRATION.
| NATIONAL INSTITUTES OF HEALTH CLINICAL CENTER | CHIEF FINANCIAL OFFICER. CHIEF OPERATING OFFICER.
| CENTER FOR INFORMATION TECHNOLOGY | DEPUTY DIRECTOR. DIRECTOR, CENTER FOR INFORMATION TECHNOLOGY AND CHIEF INFORMATION OFFICER.
|  | DIRECTOR, OFFICE OF INFORMATION TECHNOLOGY SERVICES MANAGEMENT.
|  | DIRECTOR, OFFICE OF INFORMATION TECHNOLOGY SYSTEMS MANAGEMENT.
| NATIONAL HUMAN GENOME RESEARCH INSTITUTE | ASSOCIATE DIRECTOR FOR MANAGEMENT. DIRECTOR, OFFICE OF POPULATION GENOMICS.
| NATIONAL INSTITUTE ON DRUG ABUSE | DEPUTY DIRECTOR FOR MANAGEMENT.
| NATIONAL INSTITUTE OF MENTAL HEALTH | ASSOCIATE DIRECTOR FOR MANAGEMENT.
| NATIONAL CENTER FOR ADVANCING TRANSLATIONAL SCIENCES | ASSOCIATE DIRECTOR FOR ADMINISTRATION.
| NATIONAL INSTITUTE ON ALCOHOL ABUSE AND ALCOHOLISM | ASSOCIATE DIRECTOR FOR ADMINISTRATION.
| AGENCY FOR HEALTHCARE RESEARCH AND QUALITY | EXECUTIVE OFFICER.
DEPARTMENT OF HEALTH AND HUMAN SERVICES OFFICE OF THE INSPECTOR GENERAL | DEPARTMENT OF HEALTH AND HUMAN SERVICES OFFICE OF THE INSPECTOR GENERAL | CHIEF OF STAFF. PRINCIPAL DEPUTY INSPECTOR GENERAL.
| OFFICE OF COUNSEL TO THE INSPECTOR GENERAL | ASSISTANT INSPECTOR GENERAL FOR LEGAL AFFAIRS.
|  | CHIEF COUNSEL TO THE INSPECTOR GENERAL.
| OFFICE OF AUDIT SERVICES | ASSISTANT INSPECTOR GENERAL FOR AUDIT SERVICES.
|  | ASSISTANT INSPECTOR GENERAL FOR FINANCIAL MANAGEMENT AND REGIONAL OPERATIONS.
|  | ASSISTANT INSPECTOR GENERAL FOR MEDICARE AND MEDICAID SERVICE AUDITS.
|  | DEPUTY INSPECTOR GENERAL FOR AUDIT SERVICES.
| OFFICE OF EVALUATION AND INSPECTIONS | ASSISTANT INSPECTOR GENERAL FOR EVALUATION AND INSPECTIONS.
|  | DEPUTY INSPECTOR GENERAL FOR EVALUATION AND INSPECTIONS.
| OFFICE OF INVESTIGATIONS | ASSISTANT INSPECTOR GENERAL FOR INVESTIGATIONS.
|  | DEPUTY INSPECTOR GENERAL FOR INVESTIGATIONS.
| OFFICE OF MANAGEMENT AND POLICY | ASSISTANT INSPECTOR GENERAL (CHIEF DATA OFFICER). ASSISTANT INSPECTOR GENERAL FOR INFORMATION TECHNOLOGY (CHIEF INFORMATION OFFICER).
|  | ASSISTANT INSPECTOR GENERAL FOR MANAGEMENT AND POLICY (DEPUTY CHIEF FINANCIAL OFFICER).
|  | DEPUTY INSPECTOR GENERAL FOR MANAGEMENT AND POLICY.
DEPARTMENT OF HOMELAND SECURITY | OFFICE OF THE SECRETARY | DEPARTMENT OF HOMELAND SECURITY (DHS) ADVISOR TO THE DEPARTMENT OF DEFENSE (D0D).
|  | SENIOR DEPARTMENT OF HOMELAND SECURITY ADVISOR TO THE COMMANDER, UNITED STATES NORTHERN COMMAND/NORTH AMERICAN AEROSPACE DEFENSE COMMAND.
| OFFICE OF THE EXECUTIVE SECRETARIAT | DEPUTY EXECUTIVE SECRETARY, OPERATIONS AND ADMINISTRATION.
| OFFICE OF OPERATIONS COORDINATION AND PLANNING DIRECTORATE | PRINCIPAL DEPUTY DIRECTOR, TERRORIST SCREENING CENTER.
| OFFICE OF PARTNERSHIP AND ENGAGEMENT | DEPUTY ASSISTANT SECRETARY.
| OFFICE OF THE GENERAL COUNSEL | CHIEF OF STAFF/MANAGING COUNSEL. DEPUTY ASSOCIATE GENERAL COUNSEL FOR ACQUISITION AND PROCUREMENT.
|  | DEPUTY ASSOCIATE GENERAL COUNSEL FOR GENERAL LAW.
|  | LEGAL ADVISOR OF ETHICS/ALTERNATE DESIGNATED AGENCY ETHICS OFFICIAL.
| OFFICE FOR CIVIL RIGHTS AND CIVIL LIBERTIES | DEPUTY CIVIL RIGHTS AND CIVIL LIBERTIES OFFICER, EQUAL EMPLOYMENT OPPORTUNITY AND DIVERSITY DIRECTOR.
|  | DEPUTY CIVIL RIGHTS AND CIVIL LIBERTIES OFFICER, PROGRAMS AND COMPLIANCE.
|  | DIRECTOR CIVIL RIGHTS AND CIVIL LIBERTIES PROGRAMS BRANCH.
|  | DIRECTOR, COMPLIANCE BRANCH.
| OFFICE OF COUNTERING WEAPONS OF MASS DESTRUCTION | DIRECTOR, WORKFORCE HEALTH AND MEDICAL SUPPORT/DEPUTY CHIEF MEDICAL OFFICER.
| OFFICE OF COUNTERING WEAPONS OF MASS DESTRUCTION (FORMERLY DNDO) | ASSISTANT DIRECTOR, ARCHITECTURE AND PLANS DIRECTORATE. ASSISTANT DIRECTOR, ASSESSMENTS DIRECTORATE.
|  | ASSISTANT DIRECTOR, NATIONAL TECHNICAL NUCLEAR FORENSICS CENTER.
|  | ASSISTANT DIRECTOR, OPERATIONS SUPPORT DIRECTORATE.
|  | ASSISTANT DIRECTOR, PRODUCT ACQUISITION AND DEPLOYMENT DIRECTORATE.
|  | ASSISTANT DIRECTOR, TRANSFORMATIONAL AND APPLIED RESEARCH DIRECTORATE.
|  | CHIEF OF STAFF.
|  | DEPUTY DIRECTOR.
| OFFICE OF THE ASSISTANT SECRETARY FOR POLICY | DEPARTMENT OF HOMELAND SECURITY (DHS) ATTACHE TO CENTRAL AMERICA. DEPUTY ASSISTANT SECRETARY FOR CYBER POLICY.
|  | DEPUTY ASSISTANT SECRETARY FOR IMMIGRATION STATISTICS.
|  | DEPUTY ASSISTANT SECRETARY FOR INTERNATIONAL AFFAIRS.
|  | DEPUTY ASSISTANT SECRETARY FOR UNITY OF EFFORT INTEGRATION.
| UNITED STATES CITIZENSHIP AND IMMIGRATION SERVICES | ASSOCIATE DIRECTOR, FIELD OPERATIONS. ASSOCIATE DIRECTOR, FRAUD DETECTION AND NATIONAL SECURITY.
|  | ASSOCIATE DIRECTOR, IMMIGRATION RECORDS AND IDENTITY SERVICES DIVISION.
|  | ASSOCIATE DIRECTOR, OFFICE OF MANAGEMENT.
|  | ASSOCIATE DIRECTOR, REFUGEE, ASYLUM AND INTERNATIONAL OPERATIONS.
|  | ASSOCIATE DIRECTOR, SERVICE CENTER OPERATIONS.
|  | CENTRAL REGIONAL DIRECTOR (DALLAS, TEXAS).
|  | CHIEF DATA OFFICER.
|  | CHIEF FINANCIAL OFFICER.
|  | CHIEF INFORMATION OFFICER.
|  | CHIEF TECHNOLOGY OFFICER.
|  | CHIEF, ADMINISTRATIVE APPEALS.
|  | CHIEF, ASYLUM DIVISION.
|  | CHIEF, HUMAN CAPITAL AND TRAINING.
|  | CHIEF, IMMIGRANT AND INVESTOR PROGRAM.
|  | CHIEF, INTAKE AND DOCUMENT PRODUCTION.
|  | CHIEF, INTERNATIONAL OPERATIONS.
|  | CHIEF, OFFICE OF ADMINISTRATION.
|  | CHIEF, OFFICE OF CONTRACTING.
|  | CHIEF, OFFICE OF LEGISLATIVE AFFAIRS.
|  | CHIEF, OFFICE OF SECURITY AND INTEGRITY.
|  | CHIEF, PERFORMANCE AND QUALITY.
|  | CHIEF, VERIFICATION DIVISION.
|  | DEPUTY ASSOCIATE DIRECTOR, EXTERNAL AFFAIRS DIRECTORATE.
|  | DEPUTY ASSOCIATE DIRECTOR, FRAUD DETECTION AND NATIONAL SECURITY.
|  | DEPUTY ASSOCIATE DIRECTOR, IMMIGRATION RECORDS AND IDENTITY SERVICES DIVISION.
|  | DEPUTY ASSOCIATE DIRECTOR, OFFICE OF FIELD OPERATIONS.
|  | DEPUTY ASSOCIATE DIRECTOR, OFFICE OF MANAGEMENT.
|  | DEPUTY ASSOCIATE DIRECTOR, REFUGEE, ASYLUM, AND INTERNATIONAL OPERATIONS.
|  | DEPUTY ASSOCIATE DIRECTOR, SERVICE CENTER OPERATIONS.
|  | DEPUTY CHIEF COUNSEL FOR FIELD MANAGEMENT.
|  | DEPUTY CHIEF FINANCIAL OFFICER.
|  | DEPUTY CHIEF INFORMATION OFFICE FOR OPERATIONS.
|  | DEPUTY CHIEF INFORMATION OFFICER.
|  | DEPUTY CHIEF OFFICE OF SECURITY AND INTEGRITY.
|  | DEPUTY CHIEF, PROGRAMS, INNOVATION, AND INITIATIVES.
|  | DEPUTY DIRECTOR, NATIONAL BENEFITS CENTER.
|  | DEPUTY DIRECTOR, POTOMAC SERVICE CENTER.
|  | DEPUTY DIRECTOR, SERVICE CENTER, DALLAS, TEXAS.
|  | DEPUTY DIRECTOR, SERVICE CENTER, LAGUNA NIGUEL, CALIFORNIA.
|  | DEPUTY DIRECTOR, SERVICE CENTER, LINCOLN, NEBRASKA.
|  | DEPUTY DIRECTOR, SERVICE CENTER, SAINT ALBANS, VERMONT.
|  | DEPUTY GENERAL COUNSEL.
|  | DIRECTOR, NATIONAL BENEFITS CENTER.
|  | DIRECTOR, NATIONAL RECORDS CENTER.
|  | DIRECTOR, OFFICE OF REFUGEE AFFAIRS.
|  | DIRECTOR, POTOMAC SERVICE CENTER.
|  | DIRECTOR, SERVICE CENTER, DALLAS, TEXAS.
|  | DIRECTOR, SERVICE CENTER, LAGUNA NIGUEL, CALIFORNIA.
|  | DIRECTOR, SERVICE CENTER, LINCOLN, NEBRASKA.
|  | DIRECTOR, VERMONT SERVICE CENTER, SAINT ALBANS, VERMONT.
|  | DISTRICT DIRECTOR, FIELD SERVICES, ATLANTA, GEORGIA.
|  | DISTRICT DIRECTOR, FIELD SERVICES, BOSTON, MASSACHUSETTS.
|  | DISTRICT DIRECTOR, FIELD SERVICES, CHICAGO, ILLINOIS.
|  | DISTRICT DIRECTOR, FIELD SERVICES, DALLAS, TEXAS.
|  | DISTRICT DIRECTOR, FIELD SERVICES, LOS ANGELES CALIFORNIA.
|  | DISTRICT DIRECTOR, FIELD SERVICES, MIAMI, FLORIDA.
|  | DISTRICT DIRECTOR, FIELD SERVICES, NEW YORK CITY, NEW YORK.
|  | DISTRICT DIRECTOR, FIELD SERVICES, NEWARK, NEW JERSEY.
|  | DISTRICT DIRECTOR, FIELD SERVICES, SAN FRANCISCO CALIFORNIA.
|  | DISTRICT DIRECTOR, FIELD SERVICES, TAMPA, FLORIDA.
|  | NORTHEAST REGIONAL DIRECTOR (BURLINGTON, VERMONT).
|  | REGIONAL DIRECTOR, SOUTHEAST REGION.
|  | WESTERN REGIONAL DIRECTOR (LAGUNA NIGUEL, CALIFORNIA).
| UNITED STATES SECRET SERVICE | ASSISTANT DIRECTOR—OFFICE OF INTERGOVERNMENTAL AND LEGISLATIVE AFFAIRS.
|  | ASSISTANT DIRECTOR, INVESTIGATIONS.
|  | ASSISTANT DIRECTOR, OFFICE OF HUMAN RESOURCES.
|  | ASSISTANT DIRECTOR, OFFICE OF PROFESSIONAL RESPONSIBILTY.
|  | ASSISTANT DIRECTOR, OFFICE OF STRATEGIC INTELLIGENCE AND INFORMATION.
|  | ASSISTANT DIRECTOR, OFFICE OF TRAINING.
|  | ASSISTANT DIRECTOR, PROTECTIVE OPERATIONS.
|  | ASSISTANT DIRECTOR/CHIEF TECHNOLOGY OFFICER, OFFICE OF TECHNICAL DEVELOPMENT AND MISSION SUPPORT.
|  | CHIEF COUNSEL.
|  | CHIEF FINANCIAL OFFICER.
|  | CHIEF INFORMATION OFFICER.
|  | CHIEF OPERATING OFFICER.
|  | CHIEF SECUIRTY OFFICER.
|  | CHIEF, OFFICE OF STRATEGIC PLANNING AND POLICY.
|  | COMPONENT ACQUISITION EXECUTIVE.
|  | DEPUTY ASSISTANT DIRECTOR—OFFICE OF INVESTIGATIONS.
|  | DEPUTY ASSISTANT DIRECTOR, OFFICE OF HUMAN RESOURCES.
|  | DEPUTY ASSISTANT DIRECTOR, OFFICE OF INTEGRITY.
|  | DEPUTY ASSISTANT DIRECTOR, OFFICE OF INTERGOVERNMENTAL AND LEGISLATIVE AFFAIRS.
|  | DEPUTY ASSISTANT DIRECTOR, OFFICE OF INVESTIGATIONS.
|  | DEPUTY ASSISTANT DIRECTOR, OFFICE OF PROFESSIONAL RESPONSIBILITY.
|  | DEPUTY ASSISTANT DIRECTOR, OFFICE OF PROTECTIVE OPERATIONS.
|  | DEPUTY ASSISTANT DIRECTOR, OFFICE OF TRAINING.
|  | DEPUTY ASSISTANT DIRECTOR, STRATEGIC INTELLIGENCE AND INFORMATION.
|  | DEPUTY ASSISTANT DIRECTOR, TECHNICAL DEVELOPMENT AND MISSION SUPPORT.
|  | DEPUTY CHIEF COUNSEL/PRINCIPAL ETHICS OFFICIAL.
|  | DEPUTY CHIEF FINANCIAL OFFICER.
|  | DEPUTY CHIEF, OFFICE OF STRATEGIC PLANNING AND POLICY.
|  | DEPUTY DIRECTOR, UNITED STATES SECRET SERVICE.
|  | DEPUTY SPECIAL AGENT IN CHARGE (OPERATIONAL).
|  | DEPUTY SPECIAL AGENT IN CHARGE—NEW YORK FIELD OFFICE.
|  | DEPUTY SPECIAL AGENT IN CHARGE—PRESIDENTIAL PROTECTIVE DIVISION.
|  | DEPUTY SPECIAL AGENT IN CHARGE—VICE PRESIDENTIAL PROTECTIVE DIVISION.
|  | DIRECTOR OF COMMUNICATIONS (MEDIA AFFAIRS).
|  | DIRECTOR, UNITED STATES SECRET SERVICE.
|  | EQUITY AND EMPLOYEE SUPPORT SERVICES EXECUTIVE.
|  | SPECIAL AGENT IN CHARGE (DIGNITARY PROTECTIVE DIVISION).
|  | SPECIAL AGENT IN CHARGE—ATLANTA FIELD OFFICE.
|  | SPECIAL AGENT IN CHARGE—CRIMINAL INVESTIGATIVE DIVISION.
|  | SPECIAL AGENT IN CHARGE—DALLAS FIELD OFFICE.
|  | SPECIAL AGENT IN CHARGE—HONOLULU FIELD OFFICE.
|  | SPECIAL AGENT IN CHARGE—HOUSTON FIELD OFFICE.
|  | SPECIAL AGENT IN CHARGE—LOS ANGELES FIELD OFFICE.
|  | SPECIAL AGENT IN CHARGE—MIAMI FIELD OFFICE.
|  | SPECIAL AGENT IN CHARGE—NEW YORK FIELD OFFICE.
|  | SPECIAL AGENT IN CHARGE—PHILADELPHIA FIELD OFFICE.
|  | SPECIAL AGENT IN CHARGE—PRESIDENTIAL PROTECTIVE DIVISION.
|  | SPECIAL AGENT IN CHARGE—ROME FIELD OFFICE.
|  | SPECIAL AGENT IN CHARGE—ROWLEY TRAINING CENTER.
|  | SPECIAL AGENT IN CHARGE—SAN FRANCISCO FIELD OFFICE.
|  | SPECIAL AGENT IN CHARGE—TECHNICAL SECURITY DIVISION.
|  | SPECIAL AGENT IN CHARGE—VICE PRESIDENTIAL PROTECTIVE DIVISION.
|  | SPECIAL AGENT IN CHARGE—WASHINGTON FIELD OFFICE.
|  | SPECIAL AGENT IN CHARGE, CHICAGO FIELD OFFICE.
|  | SPECIAL AGENT IN CHARGE, PARIS FIELD OFFICE.
|  | SPECIAL AGENT IN CHARGE, PROTECTIVE INTELLIGENCE AND ASSESSMENT DIVISION.
|  | SPECIAL AGENT IN CHARGE, SPECIAL OPERATIONS DIVISION.
|  | TALENT DEVELOPMENT EXECUTIVE.
| UNITED STATES COAST GUARD | ASSISTANT JUDGE ADVOCATE GENERAL FOR ACQUISITION AND LITIGATION.
|  | DEPUTY ASSISTANT COMMANDANT FOR ACQUISITION/DIRECTOR OF ACQUISITION SERVICES.
|  | DEPUTY ASSISTANT COMMANDANT FOR CAPABILITY.
|  | DEPUTY ASSISTANT COMMANDANT FOR COMMAND, CONTROL, COMMUNICATIONS, COMPUTERS AND INFO TECHNOLOGY/DEPUTY CHIEF INFORMATION OFFICER.
|  | DEPUTY ASSISTANT COMMANDANT FOR HUMAN RESOURCES.
|  | DEPUTY ASSISTANT COMMANDANT FOR INTELLIGENCE.
|  | DEPUTY ASSISTANT COMMANDANT FOR RESOURCES AND DEPUTY CHIEF FINANCIAL OFFICER.
|  | DIRECTOR OF FINANCIAL OPERATIONS/COMPTROLLER.
|  | DIRECTOR, COAST GUARD INVESTIGATIVE SERVICE.
|  | DIRECTOR, INCIDENT MANAGEMENT AND PREPAREDNESS POLICY.
|  | DIRECTOR, MARINE TRANSPORTATION SYSTEM MANAGEMENT.
|  | DIRECTOR, NATIONAL POLLUTION FUNDS CENTER.
|  | HEAD OF CONTRACTING ACTIVITY.
| CYBERSECURITY AND INFRASTRUCTURE SECURITY AGENCY (CISA) | ASSISTANT DIRECTOR FOR EMERGENCY COMMUNICATIONS.
|  | ASSISTANT DIRECTOR FOR FIELD OPERATIONS (EAST), FEDERAL PROTECTIVE SERVICE.
|  | ASSISTANT DIRECTOR OF FIELD OPERATIONS (CENTRAL), FEDERAL PROTECTIVE SERVICES.
|  | ASSISTANT DIRECTOR OF FIELD OPERATIONS (WEST), FEDERAL PROTECTIVE SERVICES.
|  | ASSISTANT DIRECTOR OF OPERATIONS, FEDERAL PROTECTIVE SERVICES.
|  | ASSISTANT DIRECTOR PROTECTIVE SECURITY OFFICER OVERSIGHT.
|  | ASSISTANT DIRECTOR, FUTURES IDENTITY.
|  | ASSISTANT DIRECTOR, OFFICE OF RESOURCE MANAGEMENT, FEDERAL PROTECTIVE SERVICE.
|  | ASSISTANT DIRECTOR, OFFICE OF TRAINING AND CAREER DEVELOPMENT, FEDERAL PROTECTIVE SERVICE.
|  | CHIEF FINANCIAL OFFICER.
|  | CHIEF TECHNOLOGY OFFICER, CYBER SECURITY AND COMMUNICATIONS.
|  | COMPONENT ACQUSITION EXECUTIVE.
|  | DEPUTY ASSISTANT DIRECTOR FOR CYBERSECURITY.
|  | DEPUTY ASSISTANT DIRECTOR FOR EMERGENCY COMMUNICATIONS.
|  | DEPUTY ASSISTANT DIRECTOR FOR INFRASTRUCTURE SECURITY.
|  | DEPUTY DIRECTOR CYBER THREAT DETECTION AND ANALYSIS.
|  | DEPUTY DIRECTOR FEDERAL NETWORK RESILIENCE.
|  | DEPUTY DIRECTOR FOR OPERATIONS, NATIONAL CYBERSECURITY AND COMMUNICATIONS INTEGRATION CENTER (NCCIC).
|  | DEPUTY DIRECTOR OF MANAGEMENT (BUSINESS SERVICE DELIVERY LEAD).
|  | DEPUTY DIRECTOR, INFRASTRUCTURE SECURITY COMPLIANCE.
|  | DEPUTY DIRECTOR, NETWORK SECURITY DEPLOYMENT.
|  | DEPUTY DIRECTOR, OFFICE OF BIOMETRIC IDENTITY MANAGEMENT.
|  | DEPUTY DIRECTOR, OFFICE OF CYBER AND INFRASTRUCTURE ANALYSIS.
|  | DEPUTY DIRECTOR, POLICY, INTERGOVERNMENTAL PROGRAMS AND COMMUNICATIONS.
|  | DEPUTY DIRECTOR, TECHNOLOGY AND INNOVATION (CHIEF TECHNOLOGY OFFICER).
|  | DIRECTOR MISSION INTEGRATION.
|  | DIRECTOR OF ADMINISTRATION.
|  | DIRECTOR OF MANAGEMENT.
|  | DIRECTOR, FEDERAL NETWORK RESILIENCE.
|  | DIRECTOR, FEDERAL PROTECTIVE SERVICE.
|  | DIRECTOR, HUMAN RESOURCES MANAGEMENT.
|  | DIRECTOR, INFRASTUCTURE SECURITY COMPLIANCE.
|  | DIRECTOR, NATIONAL CYBERSECURITY AND COMMUNICATIONS INTEGRATION CENTER.
|  | DIRECTOR, NATIONAL INFRASTRUCTURE COORDINATING CENTER.
|  | DIRECTOR, NATIONAL RISK MANAGEMENT CENTER.
|  | DIRECTOR, NETWORK SECURITY DEPLOYMENT.
|  | DIRECTOR, OFFICE OF COMPLIANCE AND SECURITY.
|  | DIRECTOR, PROTECTIVE SECURITY COORDINATION.
|  | DIRECTOR, SECTOR OUTREACH AND PROGRAMS DIVISION.
|  | DIRECTOR, STAKEHOLDER ENGAGEMENT AND CYBER INFRASTRUCTURE RESILIENCE DIVISION.
|  | DIRECTOR, STRATEGY, POLICY AND PLANS.
|  | PRINCIPAL DEPUTY DIRECTOR, FEDERAL PROTECTIVE SERVICE.
|  | PRINCIPAL DEPUTY DIRECTOR, NATIONAL CYBERSECURITY AND COMMUNICATIONS INTEGRATION CENTER.
|  | SENIOR ADVISOR, OFFICE OF INFRASTRUCTURE SECURITY.
|  | SENIOR COUNSELOR TO THE DIRECTOR FOR CISA.
|  | SENIOR CYBER AND INFRASTRUCTURE SECURITY ADVISOR.
| OFFICE OF THE UNDER SECRETARY FOR INTELLIGENCE AND ANALYSIS | CHIEF OF STAFF. DEPUTY UNDER SECRETARY FOR INTELLIGENCE ENTERPRISE READINESS.
|  | DIRECTOR, BORDER SECURITY DIVISION.
|  | DIRECTOR, CURRENT AND EMERGING THREATS CENTER.
|  | DIRECTOR, CYBER MISSION CENTER.
|  | PRINCIPAL DEPUTY UNDER SECRETARY FOR INTELLIGENCE AND ANALYSIS.
| OFFICE OF COUNTERING WEAPONS OF MASS DESTRUCTION (CWMD) | DEPUTY ASSISTANT SECRETARY FOR HEALTH THREATS RESILIENCE.
|  | DEPUTY DIRECTOR, HEALTH THREATS RESILIENCE.
|  | DEPUTY DIRECTOR, WORKFORCE HEALTH AND MEDICAL SUPPORT.
|  | PRINCIPAL DEPUTY ASSISTANT SECRETARY FOR HEALTH AFFAIRS.
| UNITED STATES IMMIGRATION AND CUSTOMS ENFORCEMENT | ASSISTANT DIRECTOR FOR DETENTION OVERSIGHT AND INSPECTIONS.
|  | ASSISTANT DIRECTOR, DIVERSITY AND CIVIL RIGHTS.
|  | ASSISTANT DIRECTOR, ENFORCEMENT AND REMOVAL OPERATIONS, CUSTODY OPERATIONS DIVISION.
|  | ASSISTANT DIRECTOR, ENFORCEMENT AND REMOVAL OPERATIONS, FIELD OPERATIONS.
|  | ASSISTANT DIRECTOR, ENFORCEMENT AND REMOVAL OPERATIONS, LAW ENFORCEMENT SYSTEMS AND ANALYSIS DIVISION.
|  | ASSISTANT DIRECTOR, ENFORCEMENT AND REMOVAL OPERATIONS, REPATRIATION DIVISION.
|  | ASSISTANT DIRECTOR, ENFORCEMENT DIVISION, OFFICE OF ENFORCEMENT AND REMOVAL OPERATIONS.
|  | ASSISTANT DIRECTOR, HOMELAND SECURITY INVESTIGATIVE PROGRAMS.
|  | ASSISTANT DIRECTOR, INFORMATION GOVERNANCE AND PRIVACY.
|  | ASSISTANT DIRECTOR, INTELLECTUAL PROPERTY RIGHTS CENTER.
|  | ASSISTANT DIRECTOR, INTELLIGENCE, HOMELAND SECURITY INVESTIGATIONS.
|  | ASSISTANT DIRECTOR, INTERNATIONAL OPERATIONS.
|  | ASSISTANT DIRECTOR, NATIONAL SECURITY INVESTIGATIONS.
|  | ASSISTANT DIRECTOR, OFFICE OF ACQUISITIONS.
|  | ASSISTANT DIRECTOR, OFFICE OF INVESTIGATIONS.
|  | ASSISTANT DIRECTOR, OFFICE OF INVESTIGATIONS (DOMESTIC OPERATIONS).
|  | ASSISTANT DIRECTOR, OFFICE OF PROFESSIONAL RESPONSIBILITY.
|  | ASSISTANT DIRECTOR, OPERATIONS SUPPORT.
|  | ASSISTANT DIRECTOR, OPERATIONS SUPPORT, OFFICE OF ENFORCEMENT AND REMOVAL OPERATIONS.
|  | ASSISTANT DIRECTOR, SECURITY DIVISION.
|  | ASSISTANT DIRECTOR, UNITED STATES IMMIGRATION AND CUSTOMS ENFORCEMENT SERVICES HEALTH CORPS.
|  | CHIEF COUNSEL FOR LOS ANGELES.
|  | CHIEF COUNSEL, CHICAGO.
|  | CHIEF COUNSEL, MIAMI.
|  | CHIEF COUNSEL, NEW YORK.
|  | CHIEF COUNSEL, PHOENIX.
|  | CHIEF COUNSEL, SAN ANTONIO.
|  | CHIEF FINANCIAL OFFICER.
|  | CHIEF HUMAN CAPITAL OFFICER.
|  | CHIEF INFORMATION OFFICER.
|  | COMPONENT ACQUSITION EXECUTIVE.
|  | DEPUTY ASSISTANT DIRECTOR NATIONAL SECURITY PROGRAMS.
|  | DEPUTY ASSISTANT DIRECTOR, INFORMATION GOVERNANCE AND PRIVACY.
|  | DEPUTY ASSISTANT DIRECTOR, CRITICAL INFRASTRUCTURE, PROTECTION, AND FRAUD.
|  | DEPUTY ASSISTANT DIRECTOR, CYBER DIVISION.
|  | DEPUTY ASSISTANT DIRECTOR, DOMESTIC OPERATIONS.
|  | DEPUTY ASSISTANT DIRECTOR, FIELD OPERATIONS (DOMESTIC OPERATIONS—EAST).
|  | DEPUTY ASSISTANT DIRECTOR, FIELD OPERATIONS (DOMESTIC OPERATIONS—WEST), OFFICE OF ENFORCEMENT AND REMOVAL OPERATIONS.
|  | DEPUTY ASSISTANT DIRECTOR, FIELD OPERATIONS (INTERNATIONAL), OFFICE OF ENFORCEMENT AND REMOVAL OPERATIONS.
|  | DEPUTY ASSISTANT DIRECTOR, INTELLIGENCE, HOMELAND SECURITY INVESTIGATIONS.
|  | DEPUTY ASSISTANT DIRECTOR, INTERNATIONAL OPERATIONS.
|  | DEPUTY ASSISTANT DIRECTOR, INVESTIGATIONS (ILLICIT TRADE, TRAVEL, AND FINANCE).
|  | DEPUTY ASSISTANT DIRECTOR, MISSION SUPPORT.
|  | DEPUTY ASSISTANT DIRECTOR, OFFICE OF INVESTIGATIONS (EAST).
|  | DEPUTY ASSISTANT DIRECTOR, OFFICE OF INVESTIGATIONS (WEST).
|  | DEPUTY ASSISTANT DIRECTOR, OFFICE OF PROFESSIONAL RESPONSIBILITY.
|  | DEPUTY ASSISTANT DIRECTOR, STUDENT AND EXCHANGE VISITOR PROGRAM.
|  | DEPUTY ASSISTANT DIRECTOR, TRANSNATIONAL ORGANIZED CRIME DIVISION TWO.
|  | DEPUTY ASSISTANT SECRETARY FOR IMMIGRATION AND CUSTOMS ENFORCEMENT.
|  | DEPUTY CHIEF FINANCIAL OFFICER.
|  | DEPUTY CHIEF HUMAN CAPITAL OFFICER FOR OPERATIONS.
|  | DEPUTY CHIEF HUMAN CAPITAL OFFICER FOR STRATEGY AND SERVICES.
|  | DEPUTY CHIEF INFORMATION OFFICER.
|  | DEPUTY DIRECTOR, ENFORCEMENT AND REMOVAL OPERATIONS.
|  | DEPUTY DIRECTOR, INTERNATIONAL CRIMINAL POLICE ORGANIZATION (INTERPOL).
|  | DEPUTY DIRECTOR, OFFICE OF HOMELAND SECURITY INVESTIGATIONS.
|  | DEPUTY EXECUTIVE ASSOCIATE DIRECTOR, MANAGEMENT AND ADMINISTRATION.
|  | DEPUTY PRINCIPAL LEGAL ADVISOR.
|  | DEPUTY PRINCIPAL LEGAL ADVISOR FOR FIELD OPERATIONS.
|  | DEPUTY PRINCIPAL LEGAL ADVISOR FOR GENERAL AND ADMINISTRATIVE LAW.
|  | DIRECTOR OF ENFORCEMENT AND LITIGATION.
|  | DIRECTOR, BUDGET AND PROGRAM PERFORMANCE.
|  | DIRECTOR, FACILITIES AND ASSET ADMINISTRATION.
|  | DIRECTOR, FEDERAL EXPORT ENFORCEMENT COORDINATION CENTER.
|  | DIRECTOR, FINANCIAL MANAGEMENT.
|  | DIRECTOR, OFFICE OF ENFORCEMENT AND REMOVAL OPERATIONS.
|  | DIRECTOR, OFFICE OF HOMELAND SECURITY INVESTIGATIONS.
|  | DIVISION DIRECTOR FOR INVESTIGATIONS, OFFICE OF PROFESSIONAL RESPONSIBILITY.
|  | EXECUTIVE DIRECTOR, LAW ENFORCEMENT INFORMATION SHARING INITIATIVE.
|  | EXECUTIVE DIRECTOR, MANAGEMENT AND ADMINISTRATION.
|  | FIELD OFFICE DIRECTOR, OERO, LOS ANGELES, CALIFORNIA.
|  | FIELD OFFICE DIRECTOR, OFFICE OF ENFORCEMENT AND REMOVAL OPERATIONS, MIAMI, FLORIDA.
|  | FIELD OFFICE DIRECTOR, OFFICE OF ENFORCEMENT AND REMOVAL OPERATIONS, PHILADELPHIA, PENNSYLVANIA.
|  | FIELD OFFICE DIRECTOR, OFFICE OF ENFORCEMENT AND REMOVAL OPERATIONS, PHOENIX, ARIZONA.
|  | FIELD OFFICE DIRECTOR, OFFICE OF ENFORCEMENT AND REMOVAL OPERATIONS, SAN ANTONIO, TEXAS.
|  | FIELD OFFICE DIRECTOR, OFFICE OF ENFORCEMENT AND REMOVAL OPERATIONS, SAN DIEGO, CALIFORNIA.
|  | FIELD OFFICE DIRECTOR, OFFICE OF ENFORCEMENT AND REMOVAL, ALTANTA, GEORGIA.
|  | FIELD OFFICE DIRECTOR, OFFICE OF ENFORCEMENT AND REMOVAL, BOSTON, MA.
|  | FIELD OFFICE DIRECTOR, OFFICE OF ENFORCEMENT AND REMOVAL, BUFFALO, NEW YORK.
|  | FIELD OFFICE DIRECTOR, OFFICE OF ENFORCEMENT AND REMOVAL, CHICAGO, ILLINOIS.
|  | FIELD OFFICE DIRECTOR, OFFICE OF ENFORCEMENT AND REMOVAL, DALLAS, TEXAS.
|  | FIELD OFFICE DIRECTOR, OFFICE OF ENFORCEMENT AND REMOVAL, DENVER, COLORADO.
|  | FIELD OFFICE DIRECTOR, OFFICE OF ENFORCEMENT AND REMOVAL, EL PASO, TEXAS.
|  | FIELD OFFICE DIRECTOR, OFFICE OF ENFORCEMENT AND REMOVAL, HOUSTON, TEXAS.
|  | FIELD OFFICE DIRECTOR, OFFICE OF ENFORCEMENT AND REMOVAL, NEW ORLEANS, LOUISIANA.
|  | FIELD OFFICE DIRECTOR, OFFICE OF ENFORCEMENT AND REMOVAL, SAN FRANCISCO, CA.
|  | FIELD OFFICE DIRECTOR, OFFICE OF ENFORCEMENT AND REMOVAL, SEATTLE, ERO.
|  | FIELD OFFICE DIRECTOR, OFFICE OF ENFORCEMENT AND REMOVAL, ST. PAUL, MN.
|  | FIELD OFFICE DIRECTOR, OFFICE OF ERO, NEW YORK.
|  | SENIOR MANAGEMENT COUNSEL, INTERNATIONAL OPERATIONS.
|  | SPECIAL AGENT IN CHARGE, MIAMI.
|  | SPECIAL AGENT IN CHARGE, NEW YORK.
|  | SPECIAL AGENT IN CHARGE, SEATTLE.
|  | SPECIAL AGENT IN CHARGE, ATLANTA.
|  | SPECIAL AGENT IN CHARGE, BALTIMORE.
|  | SPECIAL AGENT IN CHARGE, BOSTON, MASSACHUSETTS.
|  | SPECIAL AGENT IN CHARGE, BUFFALO, NEW YORK.
|  | SPECIAL AGENT IN CHARGE, CHICAGO.
|  | SPECIAL AGENT IN CHARGE, DALLAS.
|  | SPECIAL AGENT IN CHARGE, DENVER.
|  | SPECIAL AGENT IN CHARGE, DETROIT.
|  | SPECIAL AGENT IN CHARGE, EL PASO.
|  | SPECIAL AGENT IN CHARGE, HOUSTON.
|  | SPECIAL AGENT IN CHARGE, LOS ANGELES.
|  | SPECIAL AGENT IN CHARGE, NEW ORLEANS.
|  | SPECIAL AGENT IN CHARGE, NEWARK, NEW JERSEY.
|  | SPECIAL AGENT IN CHARGE, PHILADELPHIA, PENNSYLVANIA.
|  | SPECIAL AGENT IN CHARGE, PHOENIX.
|  | SPECIAL AGENT IN CHARGE, SAINT PAUL, MINNESOTA.
|  | SPECIAL AGENT IN CHARGE, SAN ANTONIO.
|  | SPECIAL AGENT IN CHARGE, SAN DIEGO.
|  | SPECIAL AGENT IN CHARGE, SAN FRANCISCO.
|  | SPECIAL AGENT IN CHARGE, SAN JUAN, PUERTO RICO.
|  | SPECIAL AGENT IN CHARGE, TAMPA, FLORIDA.
|  | SPECIAL AGENT IN CHARGE, WASHINGTON, DC.
| UNITED STATES CUSTOMS AND BORDER PROTECTION | ASSISTANT COMMISSIONER, ACQUISITION, CHIEF ACQUISITION OFFICER.
|  | ASSISTANT COMMISSIONER, FACILITIES AND ASSET MANAGMENT, CHIEF READINESS SUPPORT OFFICER.
|  | ASSISTANT COMMISSIONER, FINANCE, CHIEF FINANCIAL OFFICER.
|  | ASSISTANT COMMISSIONER, HUMAN RESOURCES MANAGEMENT.
|  | ASSISTANT COMMISSIONER, INFORMATION AND TECHNOLOGY.
|  | ASSISTANT COMMISSIONER, INTERNATIONAL AFFAIRS.
|  | ASSISTANT COMMISSIONER, OFFICE OF INTELLIGENCE.
|  | ASSISTANT COMMISSIONER, OFFICE OF PROFESSIONAL RESPONSIBILITY.
|  | ASSISTANT COMMISSIONER, TRAINING AND DEVELOPMENT.
|  | ASSOCIATE CHIEF COUNSEL (HOUSTON).
|  | ASSOCIATE CHIEF COUNSEL (TUCSON).
|  | ASSOCIATE CHIEF COUNSEL—ENFORCEMENT.
|  | ASSOCIATE CHIEF COUNSEL—LOS ANGELES.
|  | ASSOCIATE CHIEF COUNSEL—NEW YORK.
|  | ASSOCIATE CHIEF COUNSEL—SOUTHEAST.
|  | ASSOCIATE CHIEF COUNSEL—TRADE AND FINANCE.
|  | ASSOCIATE CHIEF COUNSEL FOR ETHICS, LABOR, AND EMPLOYMENT.
|  | ASSOCIATE CHIEF COUNSEL, CHICAGO.
|  | CHIEF (EXECUTIVE ASSISTANT COMMISSIONER), UNITED STATES BORDER PATROL.
|  | CHIEF ACCOUNTABILITY OFFICER.
|  | CHIEF PATROL AGENT (BIG BEND).
|  | CHIEF PATROL AGENT (DEL RIO).
|  | CHIEF PATROL AGENT (DETROIT).
|  | CHIEF PATROL AGENT (EL PASO).
|  | CHIEF PATROL AGENT (TUCSON).
|  | CHIEF PATROL AGENT, EL CENTRO, CALIFORNIA.
|  | CHIEF PATROL AGENT, LAREDO.
|  | CHIEF PATROL AGENT, RIO GRANDE VALLEY.
|  | CHIEF PATROL AGENT, SAN DIEGO.
|  | CHIEF PATROL AGENT, YUMA, ARIZONA.
|  | CHIEF, LAW ENFORCEMENT OPERATIONS, OFFICE OF BORDER PATROL.
|  | CHIEF, STRATEGIC PLANNING AND ANALYSES.
|  | DEPUTY ASSISTANT COMMISSIONER, FINANCE.
|  | DEPUTY ASSISTANT COMMISSIONER, HUMAN RESOURCES MANAGEMENT.
|  | DEPUTY ASSISTANT COMMISSIONER, INFORMATION AND TECHNOLOGY.
|  | DEPUTY ASSISTANT COMMISSIONER, INTERNATIONAL AFFAIRS.
|  | DEPUTY ASSISTANT COMMISSIONER, OFFICE OF ACQUISITION.
|  | DEPUTY ASSISTANT COMMISSIONER, OFFICE OF INTELLIGENCE.
|  | DEPUTY ASSISTANT COMMISSIONER, OFFICE OF PROFESSIONAL RESPONSIBILITY.
|  | DEPUTY ASSISTANT COMMISSIONER, OFFICE OF TRAINING AND DEVELOPMENT.
|  | DEPUTY CHIEF (DEPUTY EXECUTIVE ASSISTANT COMMISSIONER), BORDER PATROL.
|  | DEPUTY CHIEF COUNSEL.
|  | DEPUTY CHIEF PATROL AGENT, EL PASO.
|  | DEPUTY CHIEF PATROL AGENT, RIO GRANDE VALLEY.
|  | DEPUTY CHIEF PATROL AGENT, SAN DIEGO.
|  | DEPUTY CHIEF PATROL AGENT, TUCSON.
|  | DEPUTY CHIEF, LAW ENFORCEMENT OPERATIONAL PROGRAMS, OFFICE OF BORDER PATROL.
|  | DEPUTY CHIEF, LAW ENFORCEMENT OPERATIONS, OFFICE OF BORDER PATROL.
|  | DEPUTY COMMISSIONER.
|  | DEPUTY DIRECTOR, POLICY AND PLANNING.
|  | DEPUTY EXECUTIVE ASSISTANT COMMISSIONER, AIR AND MARINE.
|  | DEPUTY EXECUTIVE ASSISTANT COMMISSIONER, ENTERPRISE SERVICES.
|  | DEPUTY EXECUTIVE ASSISTANT COMMISSIONER, FIELD OPERATIONS.
|  | DEPUTY EXECUTIVE ASSISTANT COMMISSIONER, OFFICE OF TRADE.
|  | DEPUTY EXECUTIVE ASSISTANT COMMISSIONER, OPERATIONS SUPPORT.
|  | DEPUTY JOINT FIELD COMMANDER, EAST.
|  | DIRECTOR OF OPERATIONS, NORTHERN REGION, WDC, (CBP) AMO.
|  | DIRECTOR OF OPERATIONS, SOUTHEASTERN REGION, MIAMI, FLORIDA, OFFICE OF CUSTOMS AND BORDER PROTECTION (CBP) AIR AND MARINE.
|  | DIRECTOR OF OPERATIONS, SOUTHWEST BORDER, ALBUQUERQUE, NEW MEXICO, OFFICE OF CUSTOMS AND BORDER PROTECTION (CBP) AIR AND MARINE.
|  | DIRECTOR, COUNTER NETWORK.
|  | DIRECTOR, FIELD OPERATIONS (ATLANTA).
|  | DIRECTOR, FIELD OPERATIONS (BALTIMORE).
|  | DIRECTOR, FIELD OPERATIONS (BOSTON).
|  | DIRECTOR, FIELD OPERATIONS (BUFFALO).
|  | DIRECTOR, FIELD OPERATIONS (CHICAGO).
|  | DIRECTOR, FIELD OPERATIONS (DETROIT).
|  | DIRECTOR, FIELD OPERATIONS (EL PASO).
|  | DIRECTOR, FIELD OPERATIONS (HOUSTON).
|  | DIRECTOR, FIELD OPERATIONS (LAREDO).
|  | DIRECTOR, FIELD OPERATIONS (LOS ANGELES).
|  | DIRECTOR, FIELD OPERATIONS (MIAMI).
|  | DIRECTOR, FIELD OPERATIONS (NEW YORK).
|  | DIRECTOR, FIELD OPERATIONS (PRECLEARANCE).
|  | DIRECTOR, FIELD OPERATIONS (SAN DIEGO).
|  | DIRECTOR, FIELD OPERATIONS (SAN FRANCISCO).
|  | DIRECTOR, FIELD OPERATIONS (SAN JUAN).
|  | DIRECTOR, FIELD OPERATIONS (SEATTLE).
|  | DIRECTOR, FIELD OPERATIONS (TUCSON).
|  | DIRECTOR, JOINT TASK FORCE (JTF) WEST COMMANDER (JFC) SAN ANTONIO, TX.
|  | DIRECTOR, LEADERSHIP DEVELOPMENT CENTER.
|  | DIRECTOR, NATIONAL TARGETING CENTER (CARGO).
|  | DIRECTOR, NATIONAL TARGETING CENTER (PASSENGER).
|  | EXECUTIVE ASSISTANT COMMISSIONER, AIR AND MARINE.
|  | EXECUTIVE ASSISTANT COMMISSIONER, ENTERPRISE SERVICES.
|  | EXECUTIVE ASSISTANT COMMISSIONER, FIELD OPERATIONS.
|  | EXECUTIVE ASSISTANT COMMISSIONER, OFFICE OF TRADE.
|  | EXECUTIVE ASSISTANT COMMISSIONER, OPERATIONS SUPPORT.
|  | EXECUTIVE DIRECTOR, ACQUISITION MANAGEMENT.
|  | EXECUTIVE DIRECTOR, ADMISSIBILITY AND PASSENGER PROGRAMS.
|  | EXECUTIVE DIRECTOR, AGRICULTURE PROGRAMS AND TRADE LIAISON.
|  | EXECUTIVE DIRECTOR, AIR AND MARINE OPERATIONS CENTER, RIVERSIDE, OFFICE OF CUSTOMS AND BORDER PROTECTION (CBP) AIR AND MARINE.
|  | EXECUTIVE DIRECTOR, AUTOMATED COMMERCIAL ENVIRONMENT (ACE) BUSINESS OFFICE.
|  | EXECUTIVE DIRECTOR, BORDER ENFORCEMENT AND MANAGEMENT SYSTEMS.
|  | EXECUTIVE DIRECTOR, BUDGET.
|  | EXECUTIVE DIRECTOR, CARGO AND CONVEYANCE SECURITY.
|  | EXECUTIVE DIRECTOR, CARGO SYSTEMS.
|  | EXECUTIVE DIRECTOR, COMMERCIAL TARGETING AND ENFORCEMENT.
|  | EXECUTIVE DIRECTOR, CUSTOMS AND BORDER PROTECTION (CBP) BASIC TRAINING.
|  | EXECUTIVE DIRECTOR, CYBERSECURITY OPERATIONS AND POLICY.
|  | EXECUTIVE DIRECTOR, ENTERPRISE DATA MANAGEMENT AND ENGINEERING.
|  | EXECUTIVE DIRECTOR, ENTERPRISE NETWORKS AND TECHNOLOGY SUPPORT.
|  | EXECUTIVE DIRECTOR, FIELD SUPPORT.
|  | EXECUTIVE DIRECTOR, FINANCIAL OPERATIONS.
|  | EXECUTIVE DIRECTOR, HUMAN RESOURCES POLICY AND PROGRAMS.
|  | EXECUTIVE DIRECTOR, INTELLIGENCE AND ANALYSIS.
|  | EXECUTIVE DIRECTOR, INTELLIGENCE OPERATIONS.
|  | EXECUTIVE DIRECTOR, INTERGOVERNMENTAL PUBLIC LIAISON.
|  | EXECUTIVE DIRECTOR, INVESTIGATIVE OPERATIONS.
|  | EXECUTIVE DIRECTOR, LABORATORIES AND SCIENTIFIC SERVICES.
|  | EXECUTIVE DIRECTOR, MISSION READINESS OPERATIONS DIRECTORATE.
|  | EXECUTIVE DIRECTOR, MISSION SUPPORT.
|  | EXECUTIVE DIRECTOR, MISSION SUPPORT, OFFICE OF CUSTOMS AND BORDER PROTECTION (CBP) AIR AND MARINE.
|  | EXECUTIVE DIRECTOR, NATIONAL AIR SECURITY OPERATIONS, AIR AND MARINE.
|  | EXECUTIVE DIRECTOR, NATIONAL TARGETING CENTER.
|  | EXECUTIVE DIRECTOR, OPERATIONS.
|  | EXECUTIVE DIRECTOR, OPERATIONS, AIR AND MARINE.
|  | EXECUTIVE DIRECTOR, PASSENGER SYSTEMS PROGRAM OFFICE.
|  | EXECUTIVE DIRECTOR, PLANNING, PROGRAM ANALYSIS AND EVALUATION.
|  | EXECUTIVE DIRECTOR, PLANNING, PROGRAM ANALYSIS, AND EVALUATION.
|  | EXECUTIVE DIRECTOR, PRIVACY AND DIVERSITY.
|  | EXECUTIVE DIRECTOR, PROCUREMENT.
|  | EXECUTIVE DIRECTOR, PROGRAM MANAGEMENT OFFICE.
|  | EXECUTIVE DIRECTOR, PROGRAMMING.
|  | EXECUTIVE DIRECTOR, REGLUATIONS AND RULINGS.
|  | EXECUTIVE DIRECTOR, REGULATORY AUDIT.
|  | EXECUTIVE DIRECTOR, TALENT MANAGEMENT.
|  | EXECUTIVE DIRECTOR, TARGETING AND ANALYSIS SYSTEMS.
|  | EXECUTIVE DIRECTOR, TRADE POLICY AND PROGRAMS.
|  | EXECUTIVE DIRECTOR, TRAINING, SAFETY AND STANDARDS.
|  | PORT DIRECTOR, EL PASO.
|  | PORT DIRECTOR, BUFFALO.
|  | PORT DIRECTOR, CALEXICO, CA.
|  | PORT DIRECTOR, JFK AIRPORT.
|  | PORT DIRECTOR, LAREDO.
|  | PORT DIRECTOR, LOS ANGELES AIRPORT.
|  | PORT DIRECTOR, LOS ANGELES/LONG BEACH SEAPORT.
|  | PORT DIRECTOR, MIAMI INTERNATIONAL AIRPORT.
|  | PORT DIRECTOR, NEWARK.
|  | PORT DIRECTOR, NOGALES, AZ.
|  | PORT DIRECTOR, SAN FRANCISCO.
|  | PORT DIRECTOR, SAN YSIDRO.
|  | SENIOR INTELLIGENCE ADVISOR.
| FEDERAL LAW ENFORCEMENT TRAINING CENTER | ASSISTANT DIRECTOR (CHIEF FINANCIAL OFFICER).
|  | ASSISTANT DIRECTOR (CHIEF INFORMATION OFFICER DIRECTORATE).
|  | ASSISTANT DIRECTOR (CORE TRAINING OPERATIONS DIRECTORATE.
|  | ASSISTANT DIRECTOR (MISSION AND READINESS SUPPORT DIRECTORATE).
|  | ASSISTANT DIRECTOR (NATIONAL CAPITAL REGION TRAINING OPERATIONS DIRECTORATE.
|  | ASSISTANT DIRECTOR (TECHNICAL TRAINING OPERATIONS DIRECTORATE).
|  | ASSISTANT DIRECTOR (TRAINING MANAGEMENT OPERATIONS DIRECTORATE).
|  | ASSOCIATE DIRECTOR FOR TRAINING OPERATIONS.
|  | CHIEF COUNSEL.
|  | DEPUTY DIRECTOR.
|  | DIRECTOR, FEDERAL LAW ENFORCEMENT TRAINING CENTER.
| FEDERAL EMERGENCY MANAGEMENT AGENCY | ASSISTANT ADMINISTRATOR FOR FEDERAL INSURANCE. ASSISTANT ADMINISTRATOR FOR FINANCIAL MANAGEMENT.
|  | ASSISTANT ADMINISTRATOR FOR MITIGATION.
|  | ASSISTANT ADMINISTRATOR FOR RISK MANAGEMENT.
|  | ASSISTANT ADMINISTRATOR, FIELD OPERATIONS DIRECTORATE.
|  | ASSISTANT ADMINISTRATOR, FUND MANAGEMENT.
|  | CHIEF ADMINISTRATIVE OFFICER.
|  | CHIEF COMPONENT PROCUREMENT OFFICER.
|  | CHIEF FINANCIAL OFFICER.
|  | CHIEF LEARNING OFFICER.
|  | CHIEF SECURITY OFFICER.
|  | CHIEF TECHNOLOGY OFFICER.
|  | DEPUTY ASSISTANT ADMINISTRATOR FOR FEDERAL INSURANCE.
|  | DEPUTY ASSISTANT ADMINISTRATOR FOR FINANCIAL SYSTEMS MODERNIZATION.
|  | DEPUTY ASSISTANT ADMINISTRATOR FOR MITIGATION.
|  | DEPUTY ASSISTANT ADMINISTRATOR FOR RESPONSE.
|  | DEPUTY ASSISTANT ADMINISTRATOR FOR RISK MANAGEMENT.
|  | DEPUTY ASSISTANT ADMINISTRATOR, FIELD OPERATIONS DIRECTORATE.
|  | DEPUTY ASSISTANT ADMINISTRATOR, GRANTS PROGRAM.
|  | DEPUTY ASSISTANT ADMINISTRATOR, NATIONAL PREPAREDNESS DIRECTORATE.
|  | DEPUTY ASSOCIATE ADMINISTRATOR FOR MISSION SUPPORT.
|  | DEPUTY ASSOCIATE ADMINISTRATOR FOR POLICY, PROGRAM ANALYSIS AND INTERNATIONAL AFFAIRS.
|  | DEPUTY ASSOCIATE ADMINISTRATOR, FEDERAL INSURANCE AND MITIGATION ADMINISTRATION.
|  | DEPUTY CHIEF ADMINISTRATIVE OFFICER.
|  | DEPUTY CHIEF COMPONENT HUMAN CAPITAL OFFICER.
|  | DEPUTY CHIEF COMPONENT PROCUREMENT OFFICER.
|  | DEPUTY CHIEF COUNSEL.
|  | DEPUTY CHIEF COUNSEL FOR GENERAL LAW.
|  | DEPUTY CHIEF FINANCIAL OFFICER.
|  | DEPUTY CHIEF INFORMATION OFFICER (DISASTER OPERATIONS), MISSION SUPPPORT DIRECTORATE.
|  | DEPUTY DIRECTOR, EXTERNAL AFFAIRS.
|  | DEPUTY PRINCIPAL LEGAL ADVISOR FOR MANAGEMENT.
|  | DEPUTY REGIONAL ADMINISTRATOR (REGION X SEATTLE).
|  | DEPUTY REGIONAL ADMINISTRATOR (REGION 1 BOSTON).
|  | DEPUTY REGIONAL ADMINISTRATOR (REGION II NEW YORK).
|  | DEPUTY REGIONAL ADMINISTRATOR (REGION III PHILADELPHIA).
|  | DEPUTY REGIONAL ADMINISTRATOR (REGION IX SAN FRANCISCO).
|  | DEPUTY REGIONAL ADMINISTRATOR (REGION V CHICAGO).
|  | DEPUTY REGIONAL ADMINISTRATOR (REGION VI, DALLAS).
|  | DEPUTY REGIONAL ADMINISTRATOR (REGION VII KANSAS).
|  | DEPUTY REGIONAL ADMINISTRATOR (REGION VIII DENVER).
|  | DEPUTY REGIONAL ADMINISTRATOR, REGION IV, ATLANTA.
|  | DIRECTOR, EMERGENCY COMMUNICATION DIVISION.
|  | DIRECTOR, GRANTS MANAGEMENT DIVISION.
|  | DIRECTOR, NATIONAL EXERCISE DIVISION.
|  | DIRECTOR, NATIONAL PREPAREDNESS ASSESSMENT DIVISION.
|  | DIRECTOR, NATIONAL TRAINING AND EDUCATION.
|  | DIRECTOR, OFFICE OF EQUAL RIGHTS.
|  | DIRECTOR, OPERATIONAL COORDINATION.
|  | DIRECTOR, PLANNING AND EXERCISE DIVISION, OFFICE OF RESPONSE AND RECOVERY.
|  | DIRECTOR, TECHNOLOGICAL HAZARDS DIVISION.
|  | SUPERINTENDENT, CENTER FOR DOMESTIC PREPAREDNESS.
| OFFICE OF THE CHIEF SECURITY OFFICER | CHIEF SECURITY OFFICER. DEPUTY CHIEF SECURITY OFFICER.
|  | EXECUTIVE DIRECTOR, ENTERPRISE SECURITY OPERATIONS AND SUPPORT.
|  | EXECUTIVE DIRECTOR, HEADQUARTERS SUPPORT.
|  | EXECUTIVE DIRECTOR, STRATEGIC OPERATIONS.
|  | EXECUTIVE DIRECTOR, THREAT MANAGEMENT OPERATIONS.
| OFFICE OF THE CHIEF FINANCIAL OFFICER | DEPUTY BUDGET DIRECTOR, OFFICE OF BUDGET. DEPUTY DIRECTOR, FINANCIAL MANAGEMENT.
|  | DIRECTOR, DEPARTMENTAL GENERAL ACCOUNTING OFFICE/INPSECTOR GENERAL (GAO/IG) LIAISON OFFICE.
|  | DIRECTOR, FINANCIAL MANAGEMENT.
|  | DIRECTOR, OFFICE OF BUDGET.
|  | DIRECTOR, RISK MANAGEMENT AND ASSURANCE.
| OFFICE OF THE CHIEF PROCUREMENT OFFICER | CHIEF PROCUREMENT OFFICER. DEPUTY CHIEF PROCUREMENT OFFICER.
|  | DEPUTY DIRECTOR, OFFICE OF PROCUREMENT OPERATIONS.
|  | DEPUTY DIRECTOR, PROGRAM ACCOUNTABILITY AND RISK MANAGEMENT.
|  | DIRECTOR, ACQUISITION POLICY AND LEGISLATION.
|  | DIRECTOR, POLICY AND ACQUISITION WORKFORCE (PAW).
|  | EXECUTIVE DIRECTOR, OFFICE OF PROCUREMENT OPERATIONS.
|  | EXECUTIVE DIRECTOR, OVERSIGHT, SYSTEMS AND SUPPORT DIVISION.
|  | EXECUTIVE DIRECTOR, PROGRAM ACCOUNTABILITY AND RISK MANAGEMENT OFFICE.
|  | EXECUTIVE DIRECTOR, STRATEGIC PROGRAMS DIVISION.
| OFFICE OF THE CHIEF HUMAN CAPITAL OFFICER | DEPUTY CHIEF HUMAN CAPITAL OFFICER. EXECUTIVE DIRECTOR, DIVERSITY AND INCLUSION.
|  | EXECUTIVE DIRECTOR, HUMAN CAPITAL BUSINESS SYSTEMS.
|  | EXECUTIVE DIRECTOR, HUMAN CAPITAL POLICY AND PROGRAMS.
|  | EXECUTIVE DIRECTOR, HUMAN RESOURCES MANAGEMENT AND SERVICES.
|  | EXECUTIVE DIRECTOR, STRATEGIC WORKFORCE PLANNING AND ANALYSIS.
| OFFICE OF THE CHIEF INFORMATION OFFICER | DEPUTY CHIEF INFORMATION OFFICER. DEPUTY CHIEF INFORMATION SECURITY OFFICER (FISMA).
|  | DEPUTY DIRECTOR INFORMATION SHARING AND SERVICES (CIO).
|  | DEPUTY DIRECTOR, CHIEF INFORMATION SECURITY OFFICER—CYBERSECURITY (CIO).
|  | DEPUTY DIRECTOR, STRATEGY AND MISSION.
|  | DEPUTY EXECUTIVE DIRECTOR, INFORMATION TECHNOLOGY SERVICES OFFICE.
|  | EXECUTIVE DIRECTOR, CHIEF INFORMATION SECURITY OFFICER.
|  | EXECUTIVE DIRECTOR, ENTERPRISE ARCHITECTURE.
|  | EXECUTIVE DIRECTOR, ENTERPRISE BUSINESS MANAGEMENT OFFICE.
|  | EXECUTIVE DIRECTOR, HEADQUARTER SERVICES.
|  | EXECUTIVE DIRECTOR, INFORMATION SHARING AND SERVICES OFFICE.
|  | EXECUTIVE DIRECTOR, INFORMATION TECHNOLOGY SERVICES.
|  | EXECUTIVE DIRECTOR, OFFICE OF THE CHIEF TECHNOLOGY OFFICER.
|  | EXECUTIVE DIRECTOR, PRODUCT AND SERVICE MANAGEMENT.
| OFFICE OF THE CHIEF READINESS SUPPORT OFFICER | DEPUTY CHIEF READINESS SUPPORT OFFICER. EXECUTIVE DIRECTOR, FACILITIES AND OPERATIONAL SUPPORT.
|  | EXECUTIVE DIRECTOR, SUSTAINABILITY AND ENVIRONMENTAL PROGRAMS.
| OFFICE OF THE UNDER SECRETARY FOR SCIENCE AND TECHNOLOGY | CHIEF SCIENTIST. DEPUTY DIRECTOR, HOMELAND SECURITY ADVANCED RESEARCH PROJECTS AGENCY.
|  | DIRECTOR, BORDERS AND MARITIME SECURITY DIVISION.
|  | DIRECTOR, CHEMICAL BIOLOGICAL DEFENSE DIVISION.
|  | DIRECTOR, CYBER SECURITY DIVISION.
|  | DIRECTOR, EXPLOSIVES DIVISION.
|  | DIRECTOR, FINANCE AND BUDGET DIVISION/SCIENTIFIC AND TECHNICAL CHIEF FINANCIAL OFFICER.
|  | DIRECTOR, INFRASTRUCTURE PROTECTION AND DISASTER MANAGEMENT DIVISION.
|  | DIRECTOR, OFFICE FOR INTEROPERABILITY AND COMPATIBILITY.
|  | EXECUTIVE DIRECTOR, NATIONAL BIO AND AGRO-DEFENSE FACILITY.
|  | SENIOR ADVISOR FOR INTERAGENCY COORDINATION.
|  | SENIOR ADVISOR TO THE DEPUTY UNDER SECRETARY FOR SCIENCE AND TECHNOLOGY.
DEPARTMENT OF HOMELAND SECURITY OFFICE OF THE INSPECTOR GENERAL | DEPARTMENT OF HOMELAND SECURITY OFFICE OF INSPECTOR GENERAL | ASSISTANT INSPECTOR GENERAL, AUDITS. ASSISTANT INSPECTOR GENERAL FOR LEGAL AFFAIRS.
|  | ASSISTANT INSPECTOR GENERAL FOR MANAGEMENT.
|  | ASSISTANT INSPECTOR GENERAL FOR SPECIAL REVIEWS AND EVALUATIONS.
|  | ASSISTANT INSPECTOR GENERAL, INTEGRITY AND QUALITY OVERSIGHT.
|  | ASSISTANT INSPECTOR GENERAL, INVESTIGATIONS.
|  | COUNSEL TO THE INSPECTOR GENERAL.
|  | DEPUTY ASSISTANT INSPECTOR GENERAL FOR INVESTIGATIONS.
|  | DEPUTY ASSISTANT INSPECTOR GENERAL FOR MANAGEMENT.
|  | DEPUTY ASSISTANT INSPECTOR GENERAL, AUDIT (DISASTER AND IMMIGRATION).
|  | DEPUTY ASSISTANT INSPECTOR GENERAL, AUDITS.
|  | DEPUTY ASSISTANT INSPECTOR GENERAL, AUDITS (LAW ENFORCEMENT AND TERRORISM).
|  | DEPUTY ASSISTANT INSPECTOR GENERAL, INFORMATION TECHNOLOGY AUDITS.
|  | DEPUTY INSPECTOR GENERAL.
|  | SENIOR OFFICIAL PERFORMING DUTIES OF INSPECTOR GENERAL.
DEPARTMENT OF HOUSING AND URBAN DEVELOPMENT | OFFICE OF THE ADMINISTRATION | CHIEF DISASTER AND NATIONAL SECURITY OFFICER. CHIEF PRIVACY OFFICER AND CHIEF FOIA OFFICER.
| OFFICE OF THE CHIEF HUMAN CAPITAL OFFICER | CHIEF HUMAN CAPITAL OFFICER. CHIEF LEARNING OFFICER.
|  | DEPUTY CHIEF HUMAN CAPITAL OFFICER.
|  | DIRECTOR, OFFICE OF HUMAN CAPITAL SERVICES.
| OFFICE OF THE CHIEF FINANCIAL OFFICER | ASSISTANT CHIEF FINANCIAL OFFICER FOR ACCOUNTING. ASSISTANT CHIEF FINANCIAL OFFICER FOR BUDGET.
|  | ASSISTANT CHIEF FINANCIAL OFFICER FOR FINANCIAL MANAGEMENT.
|  | ASSISTANT CHIEF FINANCIAL OFFICER FOR SYSTEMS.
|  | DEPUTY CHIEF FINANCIAL OFFICER.
| OFFICE OF THE CHIEF INFORMATION OFFICER | DEPUTY CHIEF INFORMATION OFFICER FOR BUSINESS AND INFORMATION TECHNOLOGY RESOURCE MANAGEMENT OFFICER.
|  | DEPUTY CHIEF INFORMATION OFFICER FOR INFRASTRUCTURE AND OPERATIONS.
|  | PRINCIPAL DEPUTY CHIEF INFORMATION OFFICER.
| OFFICE OF COMMUNITY PLANNING AND DEVELOPMENT | DEPUTY ASSISTANT SECRETARY FOR GRANT PROGRAMS. DEPUTY ASSISTANT SECRETARY FOR SPECIAL NEEDS PROGRAMS.
| OFFICE OF DEPARTMENTAL EQUAL EMPLOYMENT OPPORTUNITY | DIRECTOR, OFFICE OF DEPARTMENTAL EQUAL EMPLOYMENT OPPORTUNITY.
| OFFICE OF THE GENERAL COUNSEL | ASSOCIATE GENERAL COUNSEL FOR PROGRAM ENFORCEMENT.
|  | DIRECTOR, DEPARTMENTAL ENFORCEMENT CENTER.
| GOVERNMENT NATIONAL MORTGAGE ASSOCIATION | SENIOR VICE PRESIDENT AND CHIEF FINANCIAL OFFICER. SENIOR VICE PRESIDENT AND CHIEF RISK OFFICER.
|  | SENIOR VICE PRESIDENT FOR MORTGAGE-BACKED SECURITIES.
|  | SENIOR VICE PRESIDENT OF THE OFFICE OF SECURITIES OPERATIONS.
|  | SENIOR VICE PRESIDENT OFFICE OF CAPITAL MARKETS.
|  | SENIOR VICE PRESIDENT, OFFICE OF ENTERPRISE DATA AND TECHNOLOGY SOLUTIONS.
| OFFICE OF HOUSING | DEPUTY ASSISTANT SECRETARY FOR FINANCE AND BUDGET.
|  | DEPUTY ASSISTANT SECRETARY FOR HEALTHCARE PROGRAMS.
|  | DEPUTY ASSISTANT SECRETARY FOR MULITFAMIULY HOUSING.
|  | DIRECTOR, PROGRAM SYSTEMS MANAGEMENT OFFICE.
|  | HOUSING FEDERAL HOUSING ADMINISTRATION-COMPTROLLER.
| OFFICE OF POLICY DEVELOPMENT AND RESEARCH | DEPUTY ASSISTANT SECRETARY FOR POLICY DEVELOPMENT AND RESEARCH.
| OFFICE OF PUBLIC AND INDIAN HOUSING | DEPUTY ASSISTANT SECRETARY FOR POLICY PROGRAM AND LEGISLATIVE INITIATIVES.
|  | DEPUTY ASSISTANT SECRETARY FOR PUBLIC HOUSING INVESTMENTS.
|  | DEPUTY ASSISTANT SECRETARY FOR THE REAL ESTATE ASSESSMENT CENTER.
|  | DIRECTOR FOR BUDGET AND FINANCIAL MANAGEMENT.
DEPARTMENT OF HOUSING AND URBAN DEVELOPMENT OFFICE OF THE INSPECTOR GENERAL | DEPARTMENT OF HOUSING AND URBAN DEVELOPMENT OFFICE OF THE INSPECTOR GENERAL | ASSISTANT INSPECTOR GENERAL FOR AUDIT. ASSISTANT INSPECTOR GENERAL FOR INVESTIGATION. ASSISTANT INSPECTOR GENERAL FOR OFFICE OF EVALUATION (OE).
|  | COUNSEL TO THE INSPECTOR GENERAL.
|  | DEPUTY ASSISTANT INSPECTOR GENERAL FOR AUDIT (FIELD OPERATIONS).
|  | DEPUTY ASSISTANT INSPECTOR GENERAL FOR AUDIT—SPECIAL OPERATIONS.
|  | DEPUTY ASSISTANT INSPECTOR GENERAL FOR INFORMATION TECHNOLOGY.
|  | DEPUTY ASSISTANT INSPECTOR GENERAL FOR INVESTIGATION (HEADQUARTERS OPERATIONS).
|  | DEPUTY ASSISTANT INSPECTOR GENERAL FOR MANAGEMENT.
|  | DEPUTY INSPECTOR GENERAL.
DEPARTMENT OF THE INTERIOR | OFFICE OF THE SOLICITOR | ASSOCIATE SOLICITOR FOR ADMINISTRATION. DESIGNATED AGENCY ETHICS OFFICIAL.
| ASSISTANT SECRETARY—POLICY, MANAGEMENT AND BUDGET | CHIEF DIVERSITY OFFICER/DIRECTOR, OFFICE OF CIVIL RIGHTS. CHIEF DIVISION OF BUDGET AND PROGRAM REVIEW.
|  | CHIEF, BUDGET ADMINISTRATION AND DEPARTMENTAL MANAGEMENT.
|  | DEPUTY ASSISTANT SECRETARY—BUDGET, FINANCE, GRANTS AND ACQUISITION.
|  | DEPUTY ASSISTANT SECRETARY—HUMAN CAPITAL AND DIVERSITY/CHIEF HUMAN CAPITAL OFFICER.
|  | DEPUTY ASSISTANT SECRETARY—PUBLIC SAFETY, RESOURCE PROTECTION AND EMERGENCY SERVICES.
|  | DEPUTY CHIEF HUMAN CAPITAL OFFICER/DIRECTOR, OFFICE OF HUMAN RESOURCES.
|  | DEPUTY DIRECTOR, OFFICE OF FINANCIAL MANAGEMENT.
|  | DIRECTOR, BUSINESS SERVICES.
|  | DIRECTOR, OFFICE OF EMERGENCY MANAGEMENT.
|  | DIRECTOR, OFFICE OF FINANCIAL MANAGEMENT AND DEPUTY CHIEF FINANCIAL OFFICER.
|  | DIRECTOR, OFFICE OF LAW ENFORCEMENT AND SECURITY.
| OFFICE OF NATURAL RESOURCES REVENUE MANAGEMENT | DEPUTY DIRECTOR, OFFICE OF NATURAL RESOURCES REVENUE MANAGEMENT.
|  | PROGRAM DIRECTOR FOR AUDIT AND COMPLIANCE MANAGEMENT.
|  | PROGRAM DIRECTOR FOR COORDINATION, ENFORCEMENT, VALUATION AND APPEALS.
|  | PROGRAM DIRECTOR FOR FINANCIAL AND PRODUCTION MANAGEMENT.
| OFFICE OF HEARINGS AND APPEALS | DIRECTOR, OFFICE OF HEARINGS AND APPEALS.
| UNITED STATES FISH AND WILDLIFE SERVICE | CHIEF, OFFICE OF LAW ENFORCEMENT.
| NATIONAL PARK SERVICE | ASSOCIATE DIRECTOR, INTERPRETATION AND EDUCATION. CHIEF FINANCIAL OFFICER.
|  | COMPTROLLER.
| FIELD OFFICES—NPS | PARK MANAGER, GRAND CANYON NATIONAL PARK.
|  | PARK MANAGER, YELLOWSTONE NATIONAL PARK.
| BUREAU OF RECLAMATION | DIRECTOR, MISSION SUPPORT ORGANIZATION. DIRECTOR, SECURITY, SAFETY AND LAW ENFORCEMENT.
| UNITED STATES GEOLOGICAL SURVEY | ASSOCIATE DIRECTOR FOR ADMINISTRATION. ASSOCIATE DIRECTOR FOR BUDGET, PLANNING, AND INTEGRATION.
|  | ASSOCIATE DIRECTOR FOR COMMUNICATIONS AND PUBLISHING.
|  | ASSOCIATE DIRECTOR FOR CORE SCIENCE SYSTEMS.
|  | ASSOCIATE DIRECTOR FOR ECOSYSTEMS.
|  | ASSOCIATE DIRECTOR FOR ENERGY AND MINERALS.
|  | ASSOCIATE DIRECTOR FOR LAND RESOURCES.
|  | ASSOCIATE DIRECTOR FOR NATURAL HAZARDS.
|  | ASSOCIATE DIRECTOR FOR WATER.
|  | DEPUTY DIRECTOR.
|  | DIRECTOR, EARTH RESOURCES OBSERVATION AND SCIENCE CENTER AND POLICY ADVISOR.
| FIELD OFFICES—USGS | REGIONAL DIRECTOR—ALASKA.
|  | REGIONAL DIRECTOR—MIDWEST.
|  | REGIONAL DIRECTOR—NORTHEAST.
|  | REGIONAL DIRECTOR—NORTHWEST.
|  | REGIONAL DIRECTOR—PACIFIC.
|  | REGIONAL DIRECTOR—SOUTHEAST.
|  | REGIONAL DIRECTOR—SOUTHWEST.
| BUREAU OF LAND MANAGEMENT | ASSISTANT DIRECTOR, HUMAN CAPITAL MANAGEMENT.
| FIELD OFFICES—BLM | DIRECTOR, NATIONAL OPERATIONS CENTER.
| FIELD OFFICES—OSM | REGIONAL DIRECTOR, APPALACHIAN REGION.
|  | REGIONAL DIRECTOR, MID-CONTINENT REGION.
| BUREAU OF OCEAN ENERGY MANAGEMENT | STRATEGIC RESOURCES CHIEF.
| ASSISTANT SECRETARY—INDIAN AFFAIRS | DIRECTOR OF HUMAN CAPITAL MANAGEMENT.
DEPARTMENT OF THE INTERIOR OFFICE OF THE INSPECTOR GENERAL | OFFICE OF THE INSPECTOR GENERAL | ASSOCIATE INSPECTOR GENERAL FOR COMMUNICATION. CHIEF OF STAFF.
|  | DEPUTY INSPECTOR GENERAL.
|  | SENIOR ADVISOR.
| OFFICE OF GENERAL COUNSEL | GENERAL COUNSEL.
| OFFICE OF INVESTIGATIONS | ASSISTANT INSPECTOR GENERAL FOR INVESTIGATIONS.
| OFFICE OF MANAGEMENT | ASSISTANT INSPECTOR GENERAL FOR MANAGEMENT.
|  | DEPUTY ASSISTANT INSPECTOR GENERAL FOR MANAGEMENT.
| OFFICE OF INFORMATION TECHNOLOGY | ASSISTANT INSPECTOR GENERAL FOR INFORMATION TECHNOLOGY.
| OFFICE OF AUDITS, INSPECTIONS, AND EVALUATIONS | ASSISTANT INPECTOR GENERAL FOR AUDITS, INSPECTIONS, AND EVALUATIONS.
|  | DEPUTY ASSISTANT INSPECTOR GENERAL FOR COMPLIANCE AND FINANCE.
DEPARTMENT OF JUSTICE | OFFICE OF THE DEPUTY ATTORNEY GENERAL | CHIEF AND COUNSELOR TO THE DEPUTY ATTORNEY GENERAL, PROFESSIONAL MISCONDUCT REVIEW UNIT.
|  | CHIEF OF STAFF AND ASSOCIATE DEPUTY ATTORNEY GENERAL.
| OFFICE OF THE LEGAL COUNSEL | SPECIAL COUNSEL.
| OFFICE OF PROFESSIONAL RESPONSIBILITY | COUNSEL ON PROFESSIONAL RESPONSIBILITY. DEPUTY COUNSEL ON PROFESSIONAL RESPONSIBILITY.
| JUSTICE MANAGEMENT DIVISION | ASSISTANT ATTORNEY GENERAL FOR ADMINISTRATION. CHIEF TECHNOLOGY OFFICER.
|  | DEPUTY ASSISTANT ATTORNEY GENERAL (CONTROLLER).
|  | DEPUTY ASSISTANT ATTORNEY GENERAL FOR HUMAN RESOURCES AND ADMINISTRATION.
|  | DEPUTY ASSISTANT ATTORNEY GENERAL FOR INFORMATION RESOURCES MANAGEMENT/CHIEF INFORMATION OFFICER.
|  | DEPUTY ASSISTANT ATTORNEY GENERAL, POLICY, MANAGEMENT, AND PLANNING.
|  | DEPUTY CHIEF INFORMATION OFFICER.
|  | DEPUTY DIRECTOR, AUDITING, FINANCE STAFF.
|  | DEPUTY DIRECTOR, BUDGET STAFF, OPERATIONS AND FUNDS CONTROL.
|  | DEPUTY DIRECTOR, BUDGET STAFF, PROGRAMS AND PERFORMANCE.
|  | DEPUTY DIRECTOR, CYBERSECURITY STAFF/DEPUTY CHIEF INFORMATION SECURITY OFFICER.
|  | DEPUTY DIRECTOR, HUMAN RESOURCES.
|  | DEPUTY DIRECTOR, SERVICE DELIVERY STAFF.
|  | DIRECTOR FINANCE STAFF.
|  | DIRECTOR LIBRARY STAFF.
|  | DIRECTOR PROCUREMENT SERVICES STAFF.
|  | DIRECTOR, ASSET FORFEITURE MANAGEMENT STAFF.
|  | DIRECTOR, BUDGET STAFF.
|  | DIRECTOR, CYBERSECURITY SERVICES STAFF.
|  | DIRECTOR, DEBT COLLECTION MANAGEMENT STAFF.
|  | DIRECTOR, DEPARTMENTAL ETHICS OFFICE.
|  | DIRECTOR, EQUAL EMPLOYMENT OPPORTUNITY STAFF.
|  | DIRECTOR, FACILITIES AND ADMINISTRATIVE SERVICES STAFF.
|  | DIRECTOR, HUMAN RESOURCES.
|  | DIRECTOR, INFORMATION TECHNOLOGY POLICY AND PLANNING STAFF.
|  | DIRECTOR, OFFICE OF ATTORNEY RECRUITMENT AND MANAGEMENT.
|  | DIRECTOR, SECURITY AND EMERGENCY PLANNING STAFF.
|  | DIRECTOR, SERVICE DELIVERY STAFF.
|  | DIRECTOR, SERVICE ENGINEERING STAFF.
|  | GENERAL COUNSEL.
|  | SENIOR ADVISOR.
| PROFESSIONAL RESPONSIBILITY ADVISORY OFFICE | DIRECTOR, PROFESSIONAL RESPONSPONSIBILITY ADVSIORY OFFICE.
| FEDERAL BUREAU OF PRISONS | ASSISTANT DIRECTOR CORRECTIONAL PROGRAMS DIVISION. ASSISTANT DIRECTOR FOR ADMINISTRATION.
|  | ASSISTANT DIRECTOR HUMAN RESOURCES MANAGEMENT DIVISION.
|  | ASSISTANT DIRECTOR, HEALTH SERVICES DIVISION.
|  | ASSISTANT DIRECTOR, INFORMATION, POLICY AND PUBLIC AFFAIRS.
|  | ASSISTANT DIRECTOR, OFFICE OF GENERAL COUNSEL.
|  | ASSISTANT DIRECTOR, PROGRAM REVIEW DIVISION.
|  | ASSISTANT DIRECTOR, REENTRY SERVICES DIVISION.
|  | CHIEF EDUCATION ADMINISTRATOR.
|  | CHIEF, OFFICE OF PUBLIC AFFAIRS.
|  | COMPLEX WARDEN, FEDERAL CORRECTION COMPLEX, PETERSBURG, VIRGINIA.
|  | COMPLEX WARDEN, FEDERAL CORRECTIONAL COMPLEX, VICTORVILLE, CALIFORNIA.
|  | COMPLEX WARDEN, FEDERAL CORRECTIONAL COMPLEX, YAZOO CITY, MISSISSIPPI.
|  | COMPLEX WARDEN, UNITED STATES PENITENTIARY, TUCSON, ARIZONA.
|  | DEPUTY DIRECTOR.
|  | REGIONAL DIRECTOR MIDDLE ATLANTIC REGION.
|  | REGIONAL DIRECTOR, NORTH CENTRAL REGION.
|  | REGIONAL DIRECTOR, NORTHEAST REGION.
|  | REGIONAL DIRECTOR, SOUTH CENTRAL REGION.
|  | REGIONAL DIRECTOR, SOUTHEAST REGION.
|  | REGIONAL DIRECTOR, WESTERN REGION.
|  | SENIOR ADVISOR.
|  | SENIOR COUNSEL, OFFICE OF GENERAL COUNSEL.
|  | SENIOR DEPUTY ASSISTANT DIRECTOR ADMINISTRATION DIVISION.
|  | SENIOR DEPUTY ASSISTANT DIRECTOR RE-ENTRY SERVICES DIVISION.
|  | SENIOR DEPUTY ASSISTANT DIRECTOR, ADMINISTRATION DIVISION.
|  | SENIOR DEPUTY ASSISTANT DIRECTOR, CORRECTIONAL PROGRAMS DIVISION.
|  | SENIOR DEPUTY ASSISTANT DIRECTOR, HUMAN RESOURCES MANAGEMENT DIVISION.
|  | SENIOR DEPUTY ASSISTANT DIRECTOR, INDUSTRIES, EDUCATION, AND VOCATIONAL TRAINING DIVISION.
|  | SENIOR DEPUTY ASSISTANT DIRECTOR, INFORMATION, POLICY, AND PUBLIC AFFAIRS DIVISION.
|  | SENIOR DEPUTY ASSISTANT DIRECTOR, PROGRAM REVIEW DIVISION.
|  | SENIOR DEPUTY ASSISTANT DIRECTOR, REENTRY SERVICES.
|  | SENIOR DEPUTY GENERAL COUNSEL, OFFICE OF THE GENERAL COUNSEL (2).
|  | SUPERVISORY INDUSTRIAL SPECIALIST (CEO) FEDERAL PRISON INDUSTRIES.
|  | WARDEN FCI FORT WORTH TX.
|  | WARDEN FCI, THOMSON, IL.
|  | WARDEN FEDERAL CORRECTIONAL COMPLEX, BUTNER, NORTH CAROLINA.
|  | WARDEN FEDERAL CORRECTIONAL COMPLEX, TERRE HAUTE, INDIANA.
|  | WARDEN, FCI, MENDOTA, CA.
|  | WARDEN, FEDERAL CORRECTIONAL COMPLEX, ALLENWOOD, PENNSYLVANIA.
|  | WARDEN, FEDERAL CORRECTIONAL COMPLEX, BEAUMONT, TEXAS.
|  | WARDEN, FEDERAL CORRECTIONAL COMPLEX, COLEMAN, FLORIDA.
|  | WARDEN, FEDERAL CORRECTIONAL COMPLEX, FLORENCE, COLORADO.
|  | WARDEN, FEDERAL CORRECTIONAL COMPLEX, FORREST CITY, ARKANSAS.
|  | WARDEN, FEDERAL CORRECTIONAL COMPLEX, LOMPOC, CALIFORNIA.
|  | WARDEN, FEDERAL CORRECTIONAL COMPLEX, OAKDALE, LOUISIANA.
|  | WARDEN, FEDERAL CORRECTIONAL INSTITUTION, BECKLEY, WEST VIRGINIA.
|  | WARDEN, FEDERAL CORRECTIONAL INSTITUTION, BENNETTSVILLE, SOUTH CAROLINA.
|  | WARDEN, FEDERAL CORRECTIONAL INSTITUTION, CUMBERLAND, MARYLAND.
|  | WARDEN, FEDERAL CORRECTIONAL INSTITUTION, EDGEFIELD, SOUTH CAROLINA.
|  | WARDEN, FEDERAL CORRECTIONAL INSTITUTION, FAIRTON, NEW JERSEY.
|  | WARDEN, FEDERAL CORRECTIONAL INSTITUTION, FORT DIX, NEW JERSEY.
|  | WARDEN, FEDERAL CORRECTIONAL INSTITUTION, GILMER, WEST VIRGINIA.
|  | WARDEN, FEDERAL CORRECTIONAL INSTITUTION, GREENVILLE, ILLINIOIS.
|  | WARDEN, FEDERAL CORRECTIONAL INSTITUTION, JESUP, GEORGIA.
|  | WARDEN, FEDERAL CORRECTIONAL INSTITUTION, MANCHESTER, KENTUCKY.
|  | WARDEN, FEDERAL CORRECTIONAL INSTITUTION, MARIANNA, FLORIDA.
|  | WARDEN, FEDERAL CORRECTIONAL INSTITUTION, MCKEAN, PENNSYLVANIA.
|  | WARDEN, FEDERAL CORRECTIONAL INSTITUTION, MEMPHIS, TENNESSEE.
|  | WARDEN, FEDERAL CORRECTIONAL INSTITUTION, OTISVILLE, NEW YORK.
|  | WARDEN, FEDERAL CORRECTIONAL INSTITUTION, PEKIN, ILLINOIS.
|  | WARDEN, FEDERAL CORRECTIONAL INSTITUTION, PHOENIX, ARIZONA.
|  | WARDEN, FEDERAL CORRECTIONAL INSTITUTION, SCHUYLKILL, PENNSYLVANIA.
|  | WARDEN, FEDERAL CORRECTIONAL INSTITUTION, SHERIDAN, OREGON.
|  | WARDEN, FEDERAL CORRECTIONAL INSTITUTION, TALLADEGA, ALABAMA.
|  | WARDEN, FEDERAL CORRECTIONAL INSTITUTION, THREE RIVERS, TEXAS.
|  | WARDEN, FEDERAL CORRECTIONAL INSTITUTION, WILLIAMSBURG, SOUTH CAROLINA.
|  | WARDEN, FEDERAL DETENTION CENTER, MIAMI, FLORIDA.
|  | WARDEN, FEDERAL MEDICAL CENTER, CARSWELL, TEXAS.
|  | WARDEN, FEDERAL MEDICAL CENTER, DEVENS, MASSACHUSETTS.
|  | WARDEN, FEDERAL MEDICAL CENTER, LEXINGTON, KENTUCKY.
|  | WARDEN, FEDERAL MEDICAL CENTER, ROCHESTER, MINNESOTA.
|  | WARDEN, FEDERAL TRANSFER CENTER, OKLAHOMA CITY, OKLAHOMA.
|  | WARDEN, METROPOLITAN CORRECTIONAL CENTER, NEW YORK, NEW YORK.
|  | WARDEN, METROPOLITAN DETENTION CENTER, BROOKLYN, NEW YORK.
|  | WARDEN, METROPOLITAN DETENTION CENTER, GUAYNABO, PUERTO RICO.
|  | WARDEN, METROPOLITAN DETENTION CENTER, LOS ANGELES, CALIFORNIA.
|  | WARDEN, UNITED STATES MEDICAL CENTER FEDERAL PRISONERS, SPRINGFIELD, MISSOURI.
|  | WARDEN, UNITED STATES PENITENTIARY COLEMAN-I, COLEMAN, FLORIDA.
|  | WARDEN, UNITED STATES PENITENTIARY, ATLANTA, GEORGIA.
|  | WARDEN, UNITED STATES PENITENTIARY, ATWATER, CALIFORNIA.
|  | WARDEN, UNITED STATES PENITENTIARY, BIG SANDY, KENTUCKY.
|  | WARDEN, UNITED STATES PENITENTIARY, CANAAN, PENNSYLVANIA.
|  | WARDEN, UNITED STATES PENITENTIARY, HAZELTON, WEST VIRIGINA.
|  | WARDEN, UNITED STATES PENITENTIARY, LEAVENWORTH, KANSAS.
|  | WARDEN, UNITED STATES PENITENTIARY, LEE, VIRGINIA.
|  | WARDEN, UNITED STATES PENITENTIARY, LEWISBURG, PENNSYLVANIA.
|  | WARDEN, UNITED STATES PENITENTIARY, MARION, ILLINOIS.
|  | WARDEN, UNITED STATES PENITENTIARY, MCCREARY, KENTUCKY.
|  | WARDEN, UNITED STATES PENITENTIARY, POLLOCK, LOUISIANA.
|  | WARDEN, UNITED STATES PENITENTIARY-HIGH, FLORENCE, COLORADO.
| EXECUTIVE OFFICE FOR IMMIGRATION REVIEW | ASSISTANT DIRECTOR FOR ADMINISTRATION. ASSISTANT DIRECTOR FOR POLICY.
|  | CHAIRMAN, BOARD OF IMIGRATION APPEALS.
|  | CHIEF ADMINISTRATIVE HEARING OFFICER.
|  | CHIEF IMMIGRATION JUDGE.
|  | DEPUTY CHIEF IMMIGRATION JUDGE.
|  | GENERAL COUNSEL.
|  | VICE CHAIRMAN, BOARD OF IMMIGRATION APPEALS.
| CRIMINAL DIVISION | CHIEF FRAUD SECTION.
|  | CHIEF NARCOTIC AND DANGEROUS DRUG SECTION.
|  | CHIEF PUBLIC INTEGRITY SECTION.
|  | CHIEF, APPELLATE SECTION.
|  | CHIEF, ASSET FORFEITURE AND MONEY LAUNDERING SECTION.
|  | CHIEF, CHILD EXPLOITATION AND OBSCENITY SECTION.
|  | CHIEF, COMPUTER CRIME AND INTELLECTUAL PROPERTY SECTION.
|  | CHIEF, HUMAN RIGHTS AND SPECIAL PROSECUTIONS SECTION.
|  | CHIEF, ORGANIZED CRIME AND GANG SECTION.
|  | DEPUTY ASSISTANT ATTORNEY GENERAL.
|  | DEPUTY CHIEF FOR ORGANIZED CRIME AND GANG SECTION.
|  | DEPUTY CHIEF PUBLIC INTEGRITY SECTION.
|  | DEPUTY CHIEF, APPELLATE SECTION.
|  | DEPUTY CHIEF, ASSET FORFEITURE AND MONEY LAUNDERING SECTION.
|  | DEPUTY CHIEF, CHILD EXPLOITATION AND OBSCENITY SECTION.
|  | DEPUTY CHIEF, COMPUTER CRIME AND INTELLECTUAL PROPERTY SECTION.
|  | DEPUTY CHIEF, NARCOTIC AND DANGEROUS DRUG SECTION.
|  | DEPUTY, CHIEF FRAUD SECTION.
|  | DIRECTOR, INTERNATIONAL CRIMINAL INVESTIGATIVE TRAINING ASSISTANCE PROGRAM.
|  | DIRECTOR, OFFICE OF OVERSEAS PROSECUTORIAL DEVELOPMENT, ASSISTANCE, AND TRAINING.
|  | EXECUTIVE OFFICER.
|  | SENIOR COUNSEL FOR CYBERCRIME.
| NATIONAL SECURITY DIVISION | CHIEF, APPELLATE UNIT. CHIEF, FOREIGN INVESTMENT REVIEW STAFF.
|  | CHIEF, OPERATIONS SECTION.
|  | CHIEF, OVERSIGHT SECTION.
|  | DEPUTY ASSISTANT ATTORNEY GENERAL, FISA OPERATIONS AND INTELLIGENCE OVERSIGHT.
|  | DEPUTY CHIEF, COUNTERTERRORISM SECTION.
|  | DIRECTOR OF RISK MANAGEMENT AND SENIOR COUNSEL.
|  | DIRECTOR, FOIA AND DECLASSIFICATION PROGRAM.
|  | EXECUTIVE OFFICER.
|  | SPECIAL COUNSEL FOR NATIONAL SECURITY.
| EXECUTIVE OFFICE FOR UNITED STATES ATTORNEYS | ASSOCIATE DIRECTOR, OFFICE OF LEGAL EDUCATION. CHIEF FINANCIAL OFFICER.
|  | CHIEF HUMAN RESOURCES OFFICER.
|  | CHIEF, INFORMATION OFFICER.
|  | COUNSEL, LEGAL PROGRAMS AND POLICY.
|  | DEPUTY DIRECTOR.
|  | DEPUTY DIRECTOR FOR ADMINISTRATION AND MANAGEMENT.
|  | GENERAL COUNSEL.
| UNITED STATES MARSHALS SERVICE | ASSISTANT DIRECTOR FOR PRISONER OPERATIONS.
|  | ASSISTANT DIRECTOR JUDICIAL SECURITY.
|  | ASSISTANT DIRECTOR OFFICE OF INSPECTION.
|  | ASSISTANT DIRECTOR, ASSET FORFEITURE.
|  | ASSISTANT DIRECTOR, FINANCIAL SERVICES.
|  | ASSISTANT DIRECTOR, HUMAN RESOURCES.
|  | ASSISTANT DIRECTOR, INFORMATION TECHNOLOGY.
|  | ASSISTANT DIRECTOR, INVESTIGATIVE OPERATIONS.
|  | ASSISTANT DIRECTOR, JPATS.
|  | ASSISTANT DIRECTOR, MANAGEMENT SUPPORT.
|  | ASSISTANT DIRECTOR, TACTICAL OPERATIONS.
|  | ASSISTANT DIRECTOR, TRAINING.
|  | ASSISTANT DIRECTOR, WITNESS SECURITY.
|  | ASSOCIATE DIRECTOR, ADMINISTRATION.
|  | ASSOCIATE DIRECTOR, OPERATIONS.
|  | ATTORNEY ADVISOR.
|  | DEPUTY ASSISTANT DIRECTOR ACQUISITION AND PROCUREMENT.
|  | DEPUTY DIRECTOR.
| BUREAU OF ALCOHOL, TOBACCO, FIREARMS AND EXPLOSIVES | ASSISTANT DIRECTOR, ENFORCEMENT PROGRAMS AND SERVICES. ASSISTANT DIRECTOR, FIELD OPERATIONS.
|  | ASSISTANT DIRECTOR, HUMAN RESOURCES AND PROFESSIONAL DEVELOPMENT.
|  | ASSISTANT DIRECTOR, MANAGEMENT AND CHIEF FINANCIAL OFFICER.
|  | ASSISTANT DIRECTOR, OFFICE OF PROFESSIONAL RESPONSIBILITY AND SECURITY OPERATIONS.
|  | ASSISTANT DIRECTOR, OFFICE OF PUBLIC AND GOVERNMENTAL AFFAIRS.
|  | ASSISTANT DIRECTOR, OFFICE OF STRATEGIC INTELLIGENCE AND INFORMATION.
|  | ASSISTANT DIRECTOR, SCIENCE AND TECHNOLOGY.
|  | CHIEF, SPECIAL OPERATIONS DIVISION.
|  | DEPUTY ASSISTANT DIRECTOR FOR INFORMATION TECHNOLOGY AND DEPUTY CHIEF INFORMATION OFFICER.
|  | DEPUTY ASSISTANT DIRECTOR HUMAN RESOURCES.
|  | DEPUTY ASSISTANT DIRECTOR, ENFORCEMENT PROGRAMS AND SERVICES.
|  | DEPUTY ASSISTANT DIRECTOR, FIELD OPERATIONS (PROGRAMS).
|  | DEPUTY ASSISTANT DIRECTOR, FIELD OPERATIONS—WEST.
|  | DEPUTY ASSISTANT DIRECTOR, FIELD OPERATIONS—CENTRAL.
|  | DEPUTY ASSISTANT DIRECTOR, FIELD OPERATIONS—EAST.
|  | DEPUTY ASSISTANT DIRECTOR, FORENSIC SERVICES.
|  | DEPUTY ASSISTANT DIRECTOR, HUMAN RESOURCES AND PROFESSIONAL DEVELOPMENT.
|  | DEPUTY ASSISTANT DIRECTOR, INDUSTRY OPERATIONS.
|  | DEPUTY ASSISTANT DIRECTOR, MANAGEMENT AND CHIEF FINANCIAL OFFICER.
|  | DEPUTY ASSISTANT DIRECTOR, OFFICE OF PROFESSIONAL RESPONSIBILITY AND SECURITY OPERATIONS.
|  | DEPUTY ASSISTANT DIRECTOR, OFFICE OF PUBLIC AND GOVERNMENTAL AFFAIRS.
|  | DEPUTY ASSISTANT DIRECTOR, OFFICE OF STRATEGIC INTELLIGENCE AND INFORMATION.
|  | DEPUTY DIRECTOR.
|  | DEPUTY DIRECTOR, TERRORIST EXPLOSIVE DEVICE ANALYTICAL CENTER.
|  | EXECUTIVE ASSISTANT TO THE DIRECTOR.
|  | SPECIAL AGENT IN CHARGE, ATLANTA.
|  | SPECIAL AGENT IN CHARGE, BALTIMORE.
|  | SPECIAL AGENT IN CHARGE, BOSTON.
|  | SPECIAL AGENT IN CHARGE, CHARLOTTE.
|  | SPECIAL AGENT IN CHARGE, CHICAGO.
|  | SPECIAL AGENT IN CHARGE, COLUMBUS.
|  | SPECIAL AGENT IN CHARGE, DALLAS.
|  | SPECIAL AGENT IN CHARGE, DENVER.
|  | SPECIAL AGENT IN CHARGE, DETROIT.
|  | SPECIAL AGENT IN CHARGE, HOUSTON.
|  | SPECIAL AGENT IN CHARGE, KANSAS CITY.
|  | SPECIAL AGENT IN CHARGE, LOS ANGELES.
|  | SPECIAL AGENT IN CHARGE, LOUISVILLE.
|  | SPECIAL AGENT IN CHARGE, MIAMI.
|  | SPECIAL AGENT IN CHARGE, NASHVILLE.
|  | SPECIAL AGENT IN CHARGE, NATIONAL CENTER FOR EXPLOSIVES TRAINING AND RESEARCH.
|  | SPECIAL AGENT IN CHARGE, NEW ORLEANS.
|  | SPECIAL AGENT IN CHARGE, NEW YORK.
|  | SPECIAL AGENT IN CHARGE, NEWARK.
|  | SPECIAL AGENT IN CHARGE, PHILADELPHIA.
|  | SPECIAL AGENT IN CHARGE, PHOENIX.
|  | SPECIAL AGENT IN CHARGE, SAINT PAUL.
|  | SPECIAL AGENT IN CHARGE, SAN FRANCISCO.
|  | SPECIAL AGENT IN CHARGE, SEATTLE.
|  | SPECIAL AGENT IN CHARGE, TAMPA.
|  | SPECIAL AGENT IN CHARGE, WASHINGTON, DC.
|  | SPECIAL ASSISTANT TO THE DIRECTOR.
| ANTITRUST DIVISION | CHIEF, TELECOMMUNICATIONS AND MEDIA SECTION.
|  | DIRECTOR, ECONOMIC ENFORCEMENT.
|  | EXECUTIVE OFFICER.
|  | SENIOR COUNSEL AND DIRECTOR OF RISK MANAGEMENT.
| CIVIL DIVISION | APPELLATE LITIGATION COUNSEL.
|  | DEPUTY BRANCH DIRECTOR.
|  | DEPUTY BRANCH DIRECTOR, FEDERAL PROGRAMS.
|  | DEPUTY DIRECTOR (OPERATIONS), OFFICE OF IMMIGRATION LITIGATION, DISTRICT COURT SECTION.
|  | DEPUTY DIRECTOR APPELLATE BRANCH.
|  | DEPUTY DIRECTOR CONSUMER PROTECTION BRANCH.
|  | DEPUTY DIRECTOR, APPELLATE STAFF.
|  | DEPUTY DIRECTOR, COMMERCIAL LITIGATION BRANCH.
|  | DEPUTY DIRECTOR, COMMERCIAL LITIGATION BRANCH (INTELLECTUAL PROPERTY).
|  | DEPUTY DIRECTOR, COMMERCIAL LITIGATION, FRAUD SECTION.
|  | DEPUTY DIRECTOR, CONSTITUTIONAL AND SPECIALIZED TORT LITIGATION.
|  | DEPUTY DIRECTOR, OFFICE OF IMMIGRATION LITIGATION, APPELLATE SECTION.
|  | DIRECTOR, BUDGET STAFF.
|  | DIRECTOR, CONSUMER LITIGATION BRANCH, FOREIGN LITIGATION SECTION.
|  | DIRECTOR, CONSUMER PROTECTION BRANCH.
|  | DIRECTOR, OFFICE OF MANAGEMENT PROGRAMS.
|  | SPECIAL COUNSEL TO THE AAG.
|  | SPECIAL LITIGATION COUNSEL, AVIATION AND ADMIRALTY SECTION.
| ENVIRONMENT AND NATURAL RESOURCES DIVISION | CHIEF ENVIRONMENTAL CRIMES SECTION. CHIEF ENVIRONMENTAL ENFORCEMENT SECTION.
|  | CHIEF, ENVIRONMENTAL DEFENSE SECTION.
|  | CHIEF, INDIAN RESOURCES SECTION.
|  | CHIEF, LAND ACQUISITION SECTION.
|  | CHIEF, NATURAL RESOURCES SECTION.
|  | CHIEF, WILDLIFE AND MARINE RESOURCES SECTION.
|  | CHIEF, APPELLATE SECTION.
|  | DEPUTY CHIEF ENVIRONMENTAL ENFORCEMENT SECTION.
|  | DEPUTY CHIEF, APPELLATE SECTION.
|  | DEPUTY CHIEF, ENVIRONMENTAL CRIMES SECTION.
|  | DEPUTY CHIEF, ENVIRONMENTAL DEFENSE SECTION.
|  | DEPUTY CHIEF, ENVIRONMENTAL ENFORCEMENT SECTION.
|  | DEPUTY CHIEF, NATURAL RESOURCES SECTION.
|  | DEPUTY SECTION CHIEF, NATURAL RESOURCES SECTION.
|  | EXECUTIVE OFFICER.
|  | SENIOR LITIGATION COUSEL.
| TAX DIVISION | CHIEF CIVIL TRIAL SECTION (SOUTHERN REGION).
|  | CHIEF CIVIL TRIAL SECTION EASTERN REGION.
|  | CHIEF CIVIL TRIAL SECTION NORTHERN.
|  | CHIEF CIVIL TRIAL SECTION SOUTHWESTERN REGION.
|  | CHIEF CIVIL TRIAL SECTION, WESTERN REGION.
|  | CHIEF OFFICE OF REVIEW.
|  | CHIEF, APPELLATE SECTION.
|  | CHIEF, CIVIL TRIAL SECTION, CENTRAL REGION.
|  | CHIEF, COURT OF FEDERAL CLAIMS SECTION.
|  | CHIEF, CRIMINAL APPEALS AND TAX ENFORCEMENT POLICY SECTION.
|  | CHIEF, CRIMINAL ENFORCEMENT SECTION, NORTH REGION.
|  | CHIEF, CRIMINAL ENFORCEMENT SECTION, SOUTH REGION.
|  | CHIEF, CRIMINAL ENFORCEMENT SECTION, WESTERN REGION.
|  | DEPUTY ASSISTANT ATTORNEY GENERAL.
|  | DEPUTY CHIEF, APPELLATE SECTION.
|  | EXECUTIVE OFFICER.
|  | SENIOR LITIGATION COUNSEL.
|  | SPECIAL LITIGATION COUNSEL.
| CIVIL RIGHTS DIVISION | CHIEF APPELLATE SECTION.
|  | CHIEF CRIMINAL SECTION.
|  | CHIEF FEDERAL COORDINATION AND COMPLIANCE SECTION.
|  | CHIEF, DISABILITY RIGHTS SECTION.
|  | CHIEF, EDUCATIONAL OPPORTUNITIES SECTION.
|  | CHIEF, EMPLOYMENT LITIGATION SECTION.
|  | CHIEF, HOUSING AND CIVIL ENFORCEMENT SECTION.
|  | CHIEF, POLICY STRATEGY SECTION.
|  | CHIEF, VOTING SECTION.
|  | CHIEF, SPECIAL LITIGATION SECTION.
|  | COUNSEL TO THE ASSISTANT ATTORNEY GENERAL.
|  | DEPUTY ASSISTANT ATTORNEY GENERAL.
|  | DEPUTY SPECIAL COUNSEL FOR IMMIGRATION-RELATED UNFAIR EMPLOYMENT PRACTICES.
|  | EXECUTIVE OFFICER.
|  | PRINCIPAL DEPUTY CHIEF, CRIMINAL SECTION.
|  | PRINCIPAL DEPUTY CHIEF, DISABILITY RIGHTS SECTION.
|  | PRINCIPAL DEPUTY CHIEF, EMPLOYMENT LITIGATION SECTION.
|  | PRINCIPAL DEPUTY CHIEF, HOUSING AND CIVIL ENFORCEMENT SECTION.
|  | PRINCIPAL DEPUTY CHIEF, SPECIAL LITIGATION SECTION.
|  | PRINCIPAL DEPUTY CHIEF, VOTING SECTION.
| EXECUTIVE OFFICE FOR ORGANIZED CRIME DRUG ENFORCEMENT TASK FORCES | DIRECTOR. DIRECTOR, ORGANIZED CRIME DRUG ENFORCEMENT TASK FORCES.
| OFFICE OF JUSTICE PROGRAMS | CHIEF FINANCIAL OFFICER. DEPUTY CHIEF FINANCIAL OFFICER.
|  | DEPUTY DIRECTOR, OFFICE FOR VICTIMS OF CRIME.
|  | DIRECTOR OF COMMUNICATIONS.
|  | DIRECTOR, OFFICE OF ADMINISTRATION.
|  | DIRECTOR, OFFICE OF AUDIT, ASSESSMENT AND MANAGEMENT.
| NATIONAL INSTITUTE OF JUSTICE | DEPUTY DIRECTOR, NATIONAL INSTITUTE OF JUSTICE, OFFICE OF SCIENCE AND TECHNOLOGY.
| OFFICE OF TRIBAL JUSTICE | DIRECTOR.
DEPARTMENT OF JUSTICE OFFICE OF THE INSPECTOR GENERAL | AUDIT DIVISION | ASSISTANT INSPECTOR GENERAL, AUDIT DIVISION. DEPUTY ASSISTANT INSPECTOR GENERAL, AUDIT DIVISION.
| EVALUATION AND INSPECTIONS DIVISION | ASSISTANT INSPECTOR GENERAL, EVALUATION AND INSPECTIONS DIVISION.
| FRONT OFFICE | DEPUTY INSPECTOR GENERAL.
|  | GENERAL COUNSEL.
| INVESTIGATIONS DIVISION | ASSISTANT INSPECTOR GENERAL, INVESTIGATIONS DIVISION.
|  | DEPUTY ASSISTANT INSPECTOR GENERAL, INVESTIGATIONS DIVISION.
| MANAGEMENT AND PLANNING DIVISION | ASSISTANT INSPECTOR GENERAL, MANAGEMENT AND PLANNING DIVISION.
|  | DEPUTY ASSISTANT INSPECTOR GENERAL, MANAGEMENT AND PLANNING.
| OVERSIGHT AND REVIEW DIVISION | ASSISTANT INSPECTOR GENERAL, OVERSIGHT AND REVIEW DIVISION.
|  | DEPUTY ASSISTANT INSPECTOR GENERAL, OVERSIGHT AND REVIEW DIVISION.
| INFORMATION TECHNOLOGY DIVISION | ASSISTANT INSPECTOR GENERAL, INFORMATION TECHNOLOGY DIVISION.
DEPARTMENT OF LABOR | WOMEN'S BUREAU | DEPUTY DIRECTOR, WOMEN'S BUREAU.
| BUREAU OF INTERNATIONAL LABOR AFFAIRS | DIRECTOR, OFFICE OF CHILD LABOR, FORCED LABOR HUMAN TRAFFICKING.
|  | DIRECTOR, OFFICE OF TRADE AND LABOR AFFAIRS.
| OFFICE OF THE ASSISTANT SECRETARY FOR POLICY | DEPUTY ASSISTANT SECRETARY FOR POLICY.
|  | DIRECTOR, OFFICE OF REGULATORY AND PROGRAMMATIC POLICY.
| OFFICE OF THE SOLICITOR | ASSOCIATE SOLICITOR FOR BLACK LUNG AND LONGSHORE LEGAL SERVICES.
|  | ASSOCIATE SOLICITOR FOR CIVIL RIGHTS AND LABOR MANAGEMENT.
|  | ASSOCIATE SOLICITOR FOR FAIR LABOR STANDARDS.
|  | ASSOCIATE SOLICITOR FOR FEDERAL EMPLOYEES' AND ENERGY WORKERS' COMPENSATION.
|  | ASSOCIATE SOLICITOR FOR LEGISLATION AND LEGAL COUNSEL.
|  | ASSOCIATE SOLICITOR FOR MINE SAFETY AND HEALTH.
|  | ASSOCIATE SOLICITOR FOR OCCUPATIONAL SAFETY AND HEALTH.
|  | ASSOCIATE SOLICITOR FOR PLAN BENEFITS SECURITY.
|  | ASSOCIATE SOLICITOR, MANAGEMENT AND ADMINISTRATIVE LEGAL SERVICES DIVISION.
|  | DEPUTY SOLICITOR (NATIONAL OPERATIONS).
|  | DEPUTY SOLICITOR (REGIONAL OPERATIONS).
|  | REGIONAL SOLICITOR—CHICAGO.
|  | REGIONAL SOLICITOR—BOSTON.
|  | REGIONAL SOLICITOR—ATLANTA.
|  | REGIONAL SOLICITOR—DALLAS.
|  | REGIONAL SOLICITOR—NEW YORK.
|  | REGIONAL SOLICITOR—PHILADELPHIA.
|  | REGIONAL SOLICITOR—SAN FRANCISCO.
| OFFICE OF THE CHIEF FINANCIAL OFFICER | ASSOCIATE DEPUTY CHIEF FINANCIAL OFFICER FOR FINANCIAL SYSTEMS. DEPUTY CHIEF FINANCIAL OFFICER.
| OFFICE OF THE ASSISTANT SECRETARY FOR ADMINISTRATION AND MANAGEMENT | CHIEF PROCUREMENT OFFICER. DEPUTY ASSISTANT SECRETARY FOR OPERATIONS.
|  | DEPUTY DIRECTOR OF HUMAN RESOURCES.
|  | DIRECTOR BUSINESS OPERATIONS CENTER.
|  | DIRECTOR OF CIVIL RIGHTS.
|  | DIRECTOR OF ENTERPRISE SERVICES.
|  | DIRECTOR OFFICE OF BUDGET.
|  | DIRECTOR, CUSTOMER SERVICE.
|  | DIRECTOR, CYBER SECURITY AND CHIEF INFORMATION SECURITY OFFICER.
|  | DIRECTOR, NATIONAL CAPITAL SERVICE CENTER.
|  | DIRECTOR, PERFORMANCE MANAGEMENT CENTER.
| OFFICE OF FEDERAL CONTRACT COMPLIANCE PROGRAMS | ADMINISTRATIVE OFFICER. REGIONAL DIRECTOR FOR OFFICE OF FEDERAL CONTRACTS COMPLIANCE PROGRAMS (2).
| WAGE AND HOUR DIVISION | ASSISTANT ADMINISTRATOR, OFFICE OF GOVERNMENT CONTRACTS.
|  | ASSISTANT ADMINISTRATOR, OPERATIONS.
|  | DEPUTY ADMINISTRATOR FOR PROGRAM OPERATIONS.
|  | REGIONAL ADMINISTRATOR FOR WAGE AND HOUR.
| OFFICE OF WORKERS COMPENSATION PROGRAMS | ADMINISTRATIVE OFFICER. COMPTROLLER.
|  | DEPUTY DIRECTOR FOR OFFICE OF WORKERS' COMPENSATION PROGRAMS.
|  | DIRECTOR FOR FEDERAL EMPLOYEES' COMPENSATION.
|  | DIRECTOR, ENERGY EMPLOYEES' OCCUPATIONAL ILLNESS COMPENATION.
|  | REGIONAL DIRECTOR.
|  | REGIONAL DIRECTOR (NORTHEAST REGION).
|  | REGIONAL DIRECTOR—DALLAS.
| OFFICE OF LABOR-MANAGEMENT STANDARDS | DEPUTY DIRECTOR, OFFICE OF LABOR MANAGEMENT STANDARDS. DIRECTOR, OFFICE OF ENFORCEMENT AND INTERNATIONAL UNION AUDITS.
|  | SENIOR ADVISOR AND DIRECTOR OF REPORTS AND DISCLOSURES.
| EMPLOYEE BENEFITS SECURITY ADMINISTRATION | CHIEF ACCOUNTANT. CHIEF ECONOMIST AND DIRECTOR OF POLICY AND RESEARCH.
|  | DEPUTY ASSISTANT SECRETARY FOR PROGRAM OPERATIONS.
|  | DIRECTOR OF ENFORCEMENT.
|  | DIRECTOR OF EXEMPTION DETERMINATIONS.
|  | DIRECTOR OF HEALTH PLAN STANDARDS COMPLIANCE AND ASSISTANCE.
|  | DIRECTOR OF INFORMATION MANAGEMENT.
|  | DIRECTOR OF REGULATIONS AND INTERPRETATIONS.
|  | DIRECTOR, OFFICE OF OUTREACH EDUCATION AND ASSISTANCE.
|  | REGIONAL DIRECTOR.
|  | REGIONAL DIRECTOR—ATLANTA.
|  | REGIONAL DIRECTOR—BOSTON.
|  | REGIONAL DIRECTOR—CHICAGO.
|  | REGIONAL DIRECTOR—KANSAS CITY.
|  | REGIONAL DIRECTOR—NEW YORK.
|  | REGIONAL DIRECTOR—PHILADELPHIA.
|  | REGIONAL DIRECTOR—SAN FRANCISCO.
| BUREAU OF LABOR STATISTICS | ASSISTANT COMMISSIONER FOR COMPENSATION LEVELS AND TRENDS. ASSISTANT COMMISSIONER FOR CONSUMER PRICES AND PRICES INDEXES.
|  | ASSISTANT COMMISSIONER FOR CURRENT EMPLOYMENT ANALYSIS.
|  | ASSISTANT COMMISSIONER FOR INDUSTRIAL PRICES AND PRICE INDEXES.
|  | ASSISTANT COMMISSIONER FOR INDUSTRY EMPLOYMENT STATISTICS.
|  | ASSISTANT COMMISSIONER FOR INTERNATIONAL PRICES.
|  | ASSISTANT COMMISSIONER FOR OCCUPATIONAL STATISTICS AND EMPLOYMENT PROJECTIONS.
|  | ASSISTANT COMMISSIONER FOR REGIONAL OPERATIONS.
|  | ASSISTANT COMMISSIONER FOR SAFETY, HEALTH AND WORKING CONDITIONS.
|  | ASSOCIATE COMMISSIONER FOR ADMINISTRATION.
|  | ASSOCIATE COMMISSIONER FOR COMPENSATION AND WORKING CONDITIONS.
|  | ASSOCIATE COMMISSIONER FOR EMPLOYMENT AND UNEMPLOYMENT STATISTICS.
|  | ASSOCIATE COMMISSIONER FOR FIELD OPERATIONS.
|  | ASSOCIATE COMMISSIONER FOR PRICES AND LIVING CONDITIONS.
|  | ASSOCIATE COMMISSIONER FOR PUBLICATIONS AND SPECIAL STUDIES.
|  | ASSOCIATE COMMISSIONER FOR SURVEY METHODS RESEARCH.
|  | ASSOCIATE COMMISSIONER FOR TECHNOLOGY AND SURVEY PROCESSING.
|  | ASSOCIATE COMMISSIONER PRODUCTIVITY AND TECHNOLOGY.
|  | DEPUTY COMMISSIONER FOR LABOR STATISTICS.
|  | DIRECTOR OF SURVEY PROCESSING.
|  | DIRECTOR OF TECHNOLOGY AND COMPUTING SERVICES.
| EMPLOYMENT AND TRAINING ADMINISTRATION | ADMINISTRATOR, APPRENTICESHIP AND TRAINING, EMPLOYEE AND LABOR SERVICES. ADMINISTRATOR, OFFICE OF CONTRACT MANAGEMENT.
|  | ADMINISTRATOR, OFFICE OF FOREIGN LABOR CERTIFICATION.
|  | ADMINISTRATOR, OFFICE OF GRANTS MANAGEMENT.
|  | ADMINISTRATOR, OFFICE OF INFORMATION SYSTEMS AND TECHNOLOGY.
|  | ADMINISTRATOR, OFFICE OF JOB CORPS.
|  | ADMINISTRATOR, OFFICE OF POLICY DEVELOPMENT AND RESEARCH.
|  | ADMINISTRATOR, OFFICE OF TRADE ADJUSTMENT ASSISTANCE.
|  | ADMINISTRATOR, OFFICE OF WORKFORCE SECURITY.
|  | ASSOCIATE ADMINISTRATOR.
|  | COMPTROLLER.
|  | DEPUTY ADMINISTRATOR JOB CORP.
|  | DEPUTY ASSISTANT SECRETARY (OPERATIONS AND MANAGEMENT).
|  | REGIONAL ADMINISTRATOR.
| OCCUPATIONAL SAFETY AND HEALTH ADMINISTRATION | DEPUTY ASSISTANT SECRETARY. DIRECTOR OF CONSTRUCTION.
|  | DIRECTOR OF TECHNICAL SUPPORT AND EMERGENCY MANAGEMENT.
|  | DIRECTOR, ADMINISTRATIVE PROGRAMS.
|  | DIRECTOR, DIRECTORATE OF COOPERATIVE AND STATE PROGRAMS.
|  | DIRECTOR, DIRECTORATE OF ENFORCEMENT PROGRAMS.
|  | DIRECTOR, DIRECTORATE OF STANDARDS AND GUIDANCE.
|  | DIRECTOR, OFFICE OF TRAINING AND EDUCATION.
|  | REGIONAL ADMINISTRATOR—ATLANTA.
|  | REGIONAL ADMINISTRATOR—BOSTON.
|  | REGIONAL ADMINISTRATOR—DALLAS.
|  | REGIONAL ADMINISTRATOR—DENVER.
|  | REGIONAL ADMINISTRATOR—NEW YORK.
|  | REGIONAL ADMINISTRATOR—PHILADELPHIA.
|  | REGIONAL ADMINISTRATOR—SAN FRANCISCO.
|  | REGIONAL ADMINISTRATOR—SEATTLE.
|  | SAFETY AND HEALTH ADMINISTRATOR—CHICAGO.
| MINE SAFETY AND HEALTH ADMINISTRATION | ADMINISTRATOR FOR COAL MINE SAFETY AND HEALTH. ADMINISTRATOR FOR METAL AND NONMETAL.
|  | DEPUTY ADMINISTRATOR FOR COAL MINE SAFETY AND HEALTH.
|  | DEPUTY ASSISTANT SECRETARY.
|  | DIRECTOR OF ADMINISTRATION AND MANAGEMENT.
|  | DIRECTOR OF PROGRAM EVALUATION AND INFORMATION RESOURCES.
|  | DIRECTOR OF TECHNICAL SUPPORT.
|  | DIRECTOR, EDUCATIONAL POLICY AND DEVELOPMENT.
|  | DIRECTOR, OFFICE OF ASSESSMENTS, ACCOUNTABILITY, SPECIAL ENFORCEMENT, AND INVESTIGATIONS.
| VETERANS EMPLOYMENT AND TRAINING SERVICE | DEPUTY ASSISTANT SECRETARY FOR OPERATIONS AND MANAGEMENT.
|  | DEPUTY DIRECTOR, OFFICE OF FIELD OPERATIONS.
|  | DIRECTOR OF NATIONAL PROGRAMS.
|  | DIRECTOR, OFFICE OF FIELD OPERATIONS.
| OFFICE OF DISABILITY EMPLOYMENT POLICY | DEPUTY ASSISTANT SECRETARY.
DEPARTMENT OF LABOR OFFICE OF INSPECTOR GENERAL | DEPARTMENT OF LABOR OFFICE OF INSPECTOR GENERAL | ASSISTANT INSPECTOR GENERAL FOR AUDIT. ASSISTANT INSPECTOR GENERAL FOR CONGRESSIONAL AND PUBLIC RELATIONS.
|  | ASSISTANT INSPECTOR GENERAL FOR INSPECTIONS AND SPECIAL INVESTIGATIONS.
|  | ASSISTANT INSPECTOR GENERAL FOR INVESTIGATIONS—LABOR RACKETEERING.
|  | ASSISTANT INSPECTOR GENERAL FOR MANAGEMENT AND POLICY.
|  | CHIEF PERFORMANCE AND RISK MANAGEMENT OFFICER.
|  | COUNSEL TO THE INSPECTOR GENERAL.
|  | DEPUTY ASSISTANT INSPECTOR GENERAL FOR AUDIT.
|  | DEPUTY ASSISTANT INSPECTOR GENERAL FOR INVESTIGATIONS—LABOR RACKETEERING.
|  | DEPUTY ASSISTANT INSPECTOR GENERAL FOR MANAGEMENT AND POLICY.
|  | DEPUTY INSPECTOR GENERAL.
|  | DEPUTY INSPECTOR GENERAL FOR OPERATIONS.
MERIT SYSTEMS PROTECTION BOARD | OFFICE OF THE CLERK OF THE BOARD | CLERK OF THE BOARD.
| OFFICE OF FINANCIAL AND ADMINISTRATIVE MANAGEMENT | DIRECTOR, FINANCIAL AND ADMINISTRATIVE MANAGEMENT.
| OFFICE OF POLICY AND EVALUATION | DIRECTOR, OFFICE OF POLICY AND EVALUATION.
| OFFICE OF INFORMATION RESOURCES MANAGEMENT | DIRECTOR, INFORMATION RESOURCES MANAGEMENT.
| OFFICE OF REGIONAL OPERATIONS | DIRECTOR, OFFICE OF REGIONAL OPERATIONS.
| ATLANTA REGIONAL OFFICE | REGIONAL DIRECTOR, ATLANTA.
| CENTRAL REGION, CHICAGO REGIONAL OFFICE | REGIONAL DIRECTOR, CHICAGO.
| NORTHEAST REGION, PHILADELPHIA REGIONAL OFFICE | REGIONAL DIRECTOR, PHILADELPHIA.
| WESTERN REGION, SAN FRANCISCO REGIONAL OFFICE | REGIONAL DIRECTOR, SAN FRANCISCO.
| WASHINGTON, DC REGION, WASHINGTON REGIONAL OFFICE | REGIONAL DIRECTOR, WASHINGTON, DISTRICT OF COLUMBIA.
| DALLAS REGIONAL OFFICE | REGIONAL DIRECTOR, DALLAS.
NATIONAL AERONAUTICS AND SPACE ADMINISTRATION | NATIONAL AERONAUTICS AND SPACE ADMINISTRATION | DIRECTOR, COMMUNICATION AND PUBLIC ENGAGEMENT. DIRECTOR, EXPLORATION RESEARCH AND TECHNOLOGY PROGRAMS.
|  | DIRECTOR, HUMAN RESOURCES.
|  | DIRECTOR, SPACEPORT INTEGRATION AND SERVICES.
|  | GROUND SYSTEMS INTEGRATION MANAGER, EXPLORATION GROUND SYSTEMS PROGRAM.
| OFFICE OF THE ADMINISTRATOR | ASSOCIATE ADMINSTRATOR. DEPUTY ASSOCIATE ADMINISTRATOR.
| CHIEF OF STAFF | ASSOCIATE ADMINISTRATOR, STRATEGY AND PLANS.
| OFFICE OF THE CHIEF SCIENTIST | CHIEF SCIENTIST. DEPUTY CHIEF SCIENTIST.
| HUMAN EXPLORATION AND OPERATIONS MISSION DIRECTORATE | ASSISTANT DEPUTY ASSOCIATE ADMINISTRATOR FOR EXPLORATION SYSTEMS DEVELOPMENT. ASSISTANT DEPUTY ASSOCIATE ADMINISTRATOR FOR SPACE COMMUNICATIONS AND NAVIGATION.
|  | DEPUTY ASSOCIATE ADMINISTRATOR FOR HUMAN EXPLORATION AND OPERATIONS.
|  | DEPUTY ASSOCIATE ADMINISTRATOR FOR POLICY AND PLANS.
|  | DEPUTY ASSOCIATE ADMINISTRATOR FOR SPACE COMMUNICATIONS AND NAVIGATION.
|  | DIRECTOR, ADVANCED EXPLORATION SYSTEMS.
|  | DIRECTOR, COMMERCIAL SPACEFLIGHT DEVELOPMENT DIVISION.
|  | DIRECTOR, HUMAN RESEARCH PROGRAM.
|  | DIRECTOR, HUMAN SPACEFLIGHT CAPABILITIES DIVISION.
|  | DIRECTOR, INTERNATIONAL SPACE STATION.
|  | DIRECTOR, LAUNCH SERVICES OFFICE.
|  | DIRECTOR, NETWORK SERVICES.
|  | DIRECTOR, PROGRAM AND STRATEGIC INTEGRATION OFFICE.
|  | DIRECTOR, RESOURCES MANAGEMENT OFFICE.
|  | DIRECTOR, SPACE LIFE AND PHYSICAL SCIENCES RESEARCH AND APPLICATIONS.
|  | DIRECTOR, STRATEGIC INTEGRATION AND MANAGEMENT DIVISION.
|  | EXPLORATION SYSTEMS DEVELOPMENT SAFETY AND MISSION ASSURANCE MANAGER.
|  | GATEWAY PROGRAM MANAGER.
|  | MANAGER, ROCKET PROPULSION TEST PROGRAM OFFICE.
|  | POWER PROPULSION ELEMENT, PROGRAM DIRECTOR.
| OFFICE OF THE CHIEF TECHNOLOGIST | CHIEF TECHNOLOGIST. DEPUTY CHIEF TECHNOLOGIST.
| SCIENCE MISSION DIRECTORATE | DEPUTY ASSOCIATE ADMINISTRATOR FOR MANAGEMENT.
|  | DEPUTY ASSOCIATE ADMINISTRATOR FOR PROGRAMS.
|  | DEPUTY ASSOCIATE ADMINISTRATOR FOR RESEARCH.
|  | DEPUTY ASSOCIATE ADMINISTRATOR FOR THE SCIENCE MISSION DIRECTORATE.
|  | DEPUTY DIRECTOR, EARTH SCIENCE DIVISION.
|  | DIRECTOR, SCIENCE ENGAGEMENT AND PARTNERSHIPS.
|  | SENIOR ADVISOR.
| JAMES WEBB SPACE TELESCOPE PROGRAM OFFICE | DIRECTOR JAMES WEBB SPACE TELESCOPE PROGRAM. SENIOR SCIENCE ADVISOR.
| PLANETARY SCIENCE DIVISION | DEPUTY DIRECTOR, PLANETARY SCIENCE DIVISION. DIRECTOR, PLANETARY SCIENCE DIVISION.
|  | MARS EXPLORATION PROGRAM DIRECTOR.
| ASTROPHYSICS DIVISION | DEPUTY, DIRECTOR, ASTROPHYSICS DIVISION.
|  | DIRECTOR, ASTROPHYSICS DIVISION.
| HELIOPHYSICS DIVISION | DEPUTY, DIRECTOR, HELIOPHYISCS DIVISION.
|  | DIRECTOR, HELIOPHYSICS DIVISION.
| EARTH SCIENCE DIVISION | DIRECTOR, EARTH SCIENCE DIVISION.
|  | PROGRAM DIRECTOR FOR FLIGHT PROGRAMS.
|  | PROGRAM DIRECTOR RESEARCH AND ANALYSIS PROGRAM.
| JOINT AGENCY SATELLITE DIVISION | DEPUTY DIRECTOR JOINT AGENCY SATELLITE DIVISION. DIRECTOR, JOINT AGENCY SATELLITE DIVISION.
| STRATEGIC INTEGRATION AND MANAGEMENT DIVISION | DIRECTOR, STRATEGIC INTEGRATION AND MANAGEMENT DIVISION.
| RESOURCES MANAGEMENT DIVISION | DEPUTY ASSOCIATE ADMINISTRATOR FOR MANAGEMENT.
|  | DIRECTOR, RESOURCES MANAGEMENT DIVISION.
| AERONAUTICS RESEARCH MISSION DIRECTORATE | DEPUTY ASSOCIATE ADMINISTRATOR. DEPUTY ASSOCIATE ADMINISTRATOR FOR POLICY.
|  | DEPUTY ASSOCIATE ADMINISTRATOR FOR PROGRAMS.
|  | DEPUTY ASSOCIATE ADMINISTRATOR FOR STRATEGY.
|  | DIRECTOR FOR INTEGRATED AVIATION SYSTEMS PROGRAM.
|  | DIRECTOR OF ADVANCED AIR VEHICLES PROGRAM OFFICE.
|  | DIRECTOR OF AIRSPACE OPERATIONS AND SAFETY PROGRAM OFFICE.
|  | DIRECTOR OF TRANSFORMATIVE AERONAUTICS CONCEPTS PROGRAM OFFICE.
|  | DIRECTOR, PORTFOLIO ANALYSIS AND MANAGEMENT OFFICE.
| OFFICE OF SAFETY AND MISSION ASSURANCE | DIRECTOR, INDEPENDENT VERIFICATION AND VALIDATION PROGRAM.
| OFFICE OF THE CHIEF FINANCIAL OFFICER/COMPTROLLER | ASSOCIATE DEPUTY CHIEF FINANCIAL OFFICER (FINANCE). DEPUTY CHIEF FINANCIAL OFFICER (STRATEGY AND PERFORMANCE).
|  | DEPUTY CHIEF FINANCIAL OFFICER FOR INTEGRATION.
| OFFICE OF EDUCATION | DEPUTY ASSOCIATE ADMINISTRATOR FOR EDUCATION.
|  | DEPUTY ASSOCIATE ADMINISTRATOR FOR STRATEGY AND INTEGRATION.
|  | SENIOR ADVISOR (TRANSFORMATION).
| SPACE TECHNOLOGY MISSION DIRECTORATE | DEPUTY ASSOCIATE ADMINISTRATOR (STMD). DEPUTY ASSOCIATE ADMINISTRATOR FOR MANAGEMENT.
|  | DEPUTY ASSOCIATE ADMINISTRATOR FOR PROGRAMS.
| OFFICE OF THE CHIEF ENGINEER | DEPUTY CHIEF ENGINEER. DEPUTY CHIEF ENGINEER FOR ENGINEERING INTEGRATION.
|  | HUMAN EXPLORATION AND OPERATIONS MISSION DIRECTORATE CHIEF ENGINEER.
| MISSION SUPPORT DIRECTORATE | ASSISTANT ASSOCIATE ADMINISTRATOR FOR RESOURCES AND PERFORMANCE.
|  | BUSINESS SERVICES ASSESSMENT (BSA) IMPLEMENTATION MANAGER.
|  | DEPUTY ASSOCIATE ADMINISTRATOR FOR MISSION SUPPORT.
| OFFICE OF HEADQUARTERS OPERATIONS | DIRECTOR, BUDGET MANAGEMENT AND SYSTEMS SUPPORT. DIRECTOR, HEADQUARTERS INFORAMTION TECHNOLOGY AND COMMUNICATIONS DIVISION.
|  | DIRECTOR, HUMAN RESOURCE MANGEMENT DIVISION.
|  | EXECUTIVE DIRECTOR, HEADQUARTERS OPERATIONS.
| OFFICE OF HUMAN CAPITAL MANAGEMENT | ASSISTANT ADMINISTRATOR FOR HUMAN CAPITAL MANAGEMENT.
|  | DEPUTY AA FOR TRANSFORMATION.
|  | DEPUTY ASSISTANT ADMINISTRATOR FOR HIRING.
|  | DEPUTY ASSISTANT ADMINISTRATOR FOR HUMAN CAPITAL MANAGEMENT.
|  | DIRECTOR, EXECUTIVE RESOURCES.
|  | DIRECTOR, HUMAN RESOURCES SERVICES DIVISION.
|  | DIRECTOR, WORKFORCE CULTURE DIVISION.
|  | DIRECTOR, WORKFORCE STRATEGY DIVISION.
|  | SPECIAL ASSISTANT TO THE CHIEF HUMAN CAPITAL OFFICER.
| OFFICE OF STRATEGIC INFRASTRUCTURE | ASSISTANT ADMINISTRATOR FOR INFRASTRUCTURE AND ADMININSTRATION. DEPUTY ASSISTANT ADMINISTRATOR FOR STRATEGIC INFRASTRUCTURE.
|  | DIRECTOR ENVIRONMENTAL MANAGEMENT DIVISION.
|  | DIRECTOR, FACILITIES AND REAL ESTATE.
|  | DIRECTOR, SPACE ENVIRONMENTS TESTING MANAGEMENT OFFICE (SETMO).
| NASA SHARED SERVICES CENTER | DIRECTOR, SERVICE DELIVERY DIRECTORATE. DIRECTOR, SUPPORT OPERATIONS DIRECTORATE.
|  | EXECUTIVE DIRECTOR OF NASA SHARED SERVICES CENTER.
|  | FEDERAL SHARED SERVICES IMPLEMENTATION PROGRAM MANAGER.
| OFFICE OF PROTECTIVE SERVICES | ASSISTANT ADMINISTRATOR FOR PROTECTIVE SERVICES.
|  | DEPUTY ASSISTANT ADMINISTRATOR FOR PROTECTIVE SERVICES.
|  | DIRECTOR OF COUNTERINTELLIGENCE/COUNTERTERRORISM FOR PROTECTIVE SERVICES.
| OFFICE OF PROCUREMENT | ASSISTANT ADMININSTRATOR FOR PROCUREMENT.
|  | DIRECTOR, CONTRACT MANAGEMENT DIVISION.
|  | DIRECTOR, PROGRAM OPERATIONS DIVISION.
| NASA MANAGEMENT OFFICE | DIRECTOR NASA MANAGEMENT OFFICE.
| OFFICE OF SAFETY AND MISSION ASSURANCE | CHIEF SAFETY AND MISSION ASSURANCE OFFICER. DEPUTY CHIEF SAFETY AND MISSION ASSURANCE OFFICER.
|  | DIRECTOR, MISSION SUPPORT DIVISION.
|  | DIRECTOR, NASA SAFETY CENTER.
|  | DIRECTOR, SAFETY AND ASSURANCE REQUIREMENTS DIVISION.
| OFFICE OF THE CHIEF FINANCIAL OFFICER/COMPTROLLER | DEPUTY CHIEF FINANCIAL OFFICER (FINANCE). DEPUTY CHIEF FINANCIAL OFFICER (APPROPRIATIONS).
|  | DIRECTOR, BUDGET DIVISION.
|  | DIRECTOR, FINANCIAL AND BUDGET SYSTEMS MANAGEMENT DIVISION.
|  | DIRECTOR, FINANCIAL MANAGEMENT DIVISION.
|  | DIRECTOR, POLICY DIVISION.
|  | DIRECTOR, QUALITY ASSURANCE.
|  | DIRECTOR, STRATEGIC INVESTMENT DIVISION.
| OFFICE OF THE CHIEF INFORMATION OFFICER | ASSOCIATE CHIEF INFORMATION OFFICER FOR CAPTIAL PLANNING AND GOVERNANCE.
|  | ASSOCIATE CHIEF INFORMATION OFFICER FOR ENTERPRISE SERVICE AND INTEGRATION DIVISION.
|  | ASSOCIATE CHIEF INFORMATION OFFICER FOR TECHNOLOGY AND INNOVATION, CHIEF TECHNOLOGY OFFICER.
|  | DEPUTY CHIEF INFORMATION OFFICER.
|  | DEPUTY CHIEF INFORMATION OFFICER FOR INFORMATION TECHNOLOGY SECURITY.
| OFFICE OF THE CHIEF ENGINEER | CHIEF ENGINEER. DEPUTY FOR MANAGEMENT.
| OFFICE OF COMMUNICATIONS | STRATEGY AND ENGAGEMENT DIVISION DIRECTOR.
| OFFICE OF CHIEF HEALTH AND MEDICAL OFFICER | CHIEF HEALTH AND MEDICAL OFFICER. DEPUTY CHIEF HEALTH AND MEDICAL OFFICER.
| NASA MANAGEMENT OFFICE | DEP DIRECTOR, NASA MANAGEMENT OFFICE.
| OFFICE INTERNATIONAL AND INTERAGENCY RELATIONS | DEPUTY ASSOCIATE ADMINISTRATOR FOR INTERNATIONAL AND INTERAGENCY RELATIONS. DEPUTY DIRECTOR, EXPORT CONTROL AND INTERAGENCY LIAISON DIVISION.
|  | DIRECTOR, ADVISORY COMMITTEE MANAGEMENT DIVISION.
|  | DIRECTOR, AERONAUTICS AND CROSS AGENCY SUPPORT DIVISION N.
|  | DIRECTOR, EXPORT CONTROL AND INTERAGENCY LIAISON DIVISION.
|  | DIRECTOR, HUMAN EXPLORATION AND OPERATIONS DIVISION.
| OFFICE OF LEGISLATIVE AND INTERGOVERNMENTAL AFFAIRS | DEPUTY ASSOCIATE ADMINISTRATOR FOR LEGISLATIVE AND INTERGOVERNMENTAL AFFAIRS.
| OFFICE OF DIVERSITY AND EQUAL OPPORTUNITY | DIRECTOR, COMPLAINTS MANAGEMENT DIVISION.
|  | DIRECTOR, PROGRAMS, PLANNING AND EVALUATION DIVISION.
| JOHNSON SPACE CENTER | ASSOCIATE DIRECTOR, JOHNSON SPACE CENTER.
|  | CHIEF FINANCIAL OFFICER.
|  | DEPUTY DIRECTOR, JOHNSON SPACE CENTER.
|  | DEPUTY MANAGER, FLIGHT DEVELOPMENT & OPERATIONS, COMMERCIAL CREW PROGRAM.
|  | DIRECTOR OF HUMAN RESOURCES.
|  | DIRECTOR, EXTERNAL RELATIONS.
|  | MANAGER, OPERATIONS INTEGRATION, COMMERCIAL CREW PROGRAM.
|  | MANAGER, PROGRAM PLANNING AND CONTROL, ORION.
|  | SPECIAL ASSISTANT TO THE CENTER DIRECTOR FOR ORGANIZATIONAL CHANGE.
| SPACE STATION PROGRAM OFFICE | DEPUTY MANAGER FOR UTILIZATION. DEPUTY MANAGER, INTERNATIONAL SPACE STATION PROGRAM.
|  | MANAGER, AVIONICS AND SOFTWARE OFFICE.
|  | MANAGER, EXTERNAL INTEGRATION OFFICE.
|  | MANAGER, INTERNATIONAL SPACE STATION PROGRAM.
|  | MANAGER, INTERNATIONAL SPACE STATION RESEARCH INTEGRATION OFFICE.
|  | MANAGER, INTERNATIONAL SPACE STATION TRANSPORTATION INTEGRATION.
|  | MANAGER, OPERATIONS INTEGRATION.
|  | MANAGER, PROGRAM PLANNING AND CONTROL OFFICE, INTERNATIONAL SPACE STATION.
|  | MANAGER, SAFETY AND MISSION ASSURANCE/PROGRAM RISK OFFICE, ISSP.
|  | MANAGER, VEHICLE OFFICE.
| ORION PROGRAM | DEPUTY MANAGER, ORION PROGRAM.
|  | MANAGER, AVIONICS, POWER AND SOFTWARE OFFICE.
|  | MANAGER, CREW AND SERVICE MODULE OFFICE.
|  | MANAGER, ORION PROGRAM.
|  | MANAGER, VEHICLE INTEGRATION OFFICE.
| FLIGHT OPERATIONS | CHIEF ASTRONAUT OFFICE.
|  | CHIEF, AIRCRAFT OPERATIONS DIVISION.
|  | CHIEF, FLIGHT DIRECTOR OFFICE.
|  | CHIEF, MISSION SYSTEMS DIVISION.
|  | DEPUTY DIRECTOR, FLIGHT OPERATIONS.
|  | DIRECTOR, FLIGHT OPERATIONS.
| ENGINEERING | CHIEF, AEROSCIENCE AND FLIGHT MECHANICS DIVISION.
|  | CHIEF, PROPULSION AND POWER DIVISION.
|  | CHIEF, SOFTWARE, ROBOTICS AND SIMULATION DIVISION.
|  | DEPUTY DIRECTOR, ENGINEERING.
|  | DIRECTOR, ENGINEERING.
| HUMAN HEALTH AND PERFORMANCE | DEPUTY DIRECTOR, HUMAN HEALTH AND PEFORMANCE. DIRECTOR, HUMAN HEALTH AND PERFORMANCE.
| EXPLORATION INTEGRATION AND SCIENCE | ASSOCIATE DIRECTOR, EXPLORATION, INTEGRATION AND SCIENCE. CHIEF, PARTNERSHIPS DEVELOPMENT OFFICE.
|  | DEPUTY DIRECTOR, EXPLORATION INTEGRATION AND SCIENCE.
|  | DIRECTOR, EXPLORATION INTEGRATION AND SCIENCE.
|  | DIRECTOR, STRATEGIC OPPORTUNITIES AND PARTNERSHIP DEVELOPMENT.
|  | MANAGER, EXTRA VEHICULAR ACTIVITY MANAGEMENT OFFICE.
| INFORMATION RESOURCES | DIRECTOR, INFORMATION RESOURCES.
| OFFICE OF PROCUREMENT | DEPUTY ASSISTANT ADMINISTRATOR FOR OFFICE OF PROCUREMENT.
|  | DIRECTOR, OFFICE OF PROCUREMENT.
|  | SENIOR ADVISOR (TRANSFORMATION).
| CENTER OPERATIONS | DIRECTOR, CENTER OPERATIONS.
| SAFETY AND MISSION ASSURANCE | DEPUTY DIRECTOR, SAFETY AND MISSION ASSURANCE. DIRECTOR, SAFETY AND MISSION ASSURANCE.
| WHITE SANDS TEST FACILITY | MANAGER, WHITE SANDS TEST FACILITY.
| KENNEDY SPACE CENTER | ASSOCIATE DIRECTOR, ENGINEERING.
|  | ASSOCIATE DIRECTOR, TECHNICAL, JOHN F KENNEDY SPACE CENTER.
|  | ASSOCIATE MANAGER, TECHNICAL, EXPLORATION GROUND SYSTEMS PROGRAM.
|  | CHIEF FINANCIAL OFFICER.
|  | CHIEF, COMMERCIAL SYSTEMS DIVISION, ENGINEERING.
|  | CHIEF, EXPLORATION SYSTEMS AND OPERATIONS DIVISION, ENGINEERING.
|  | CHIEF, LABORATORIES AND TEST FACILITIES DIVISION, ENGINEERING.
|  | CHIEF, TECHNICAL PERFORMANCE AND INTEGRATION DIVISION, ENGINEERING.
|  | DEPUTY DIRECTOR, ENGINEERING.
|  | DEPUTY DIRECTOR, JOHN F KENNEDY SPACE CENTER.
|  | DEPUTY DIRECTOR, SAFETY AND MISSION ASSURANCE.
|  | DEPUTY DIRECTOR, SPACEPORT INTEGRATION AND SERVICES.
|  | DEPUTY MANAGER, EXPLORATION GROUND SYSTEMS PROGRAM.
|  | DEPUTY MANAGER, GROUND DEVELOPMENT AND OPERATIONS, COMMERCIAL CREW PROGRAM.
|  | DEPUTY MANAGER, LAUNCH SERVICES PROGRAM.
|  | DIRECTOR, ENGINEERING.
|  | DIRECTOR, PROCUREMENT.
|  | MANAGER, COMMERCIAL CREW PROGRAM.
|  | MANAGER, EXPLORATION GROUND SYSTEMS PROGRAM.
| INFORMATION TECHNOLOGY AND COMMUNICATIONS SERVICES | DIRECTOR, INFORMATION TECHNOLOGY AND COMMUNICATIONS SERVICES.
| SAFETY AND MISSION ASSURANCE | DIRECTOR, SAFETY AND MISSION ASSURANCE.
| LAUNCH SERVICES PROGRAM | MANAGER, LAUNCH SERVICES PROGRAM.
| MARSHALL SPACE FLIGHT CENTER | ASSOCIATE CENTER DIRECTOR. ASSOCIATE CENTER DIRECTOR, TECHNICAL.
|  | ASSOCIATE DIRECTOR FOR OPERATIONS, ENGINEERING DIRECTORATE.
|  | ASSOCIATE DIRECTOR FOR TECHNICAL OPERATIONS, ENGINEERING DIRECTORATE.
|  | ASSOCIATE MANAGER, SCIENCE AND TECHNOLOGY OFFICE.
|  | ASSOCIATE PROGRAM MANAGER, SPACE LAUNCH SYSTEM PROGRAM OFFICE.
|  | CHIEF ENGINEER, CHIEF ENGINEER OFFICE, ENGINEERING DIRECTORATE.
|  | CHIEF ENGINEER, SPACE LAUNCH SYSTEM, ENGINEERING DIRECTORATE.
|  | CHIEF FINANCIAL OFFICER.
|  | DEPUTY CENTER DIRECTOR.
|  | DEPUTY DIRECTOR, ENGINEERING DIRECTORATE.
|  | DEPUTY DIRECTOR, OFFICE OF CENTER OPERATIONS.
|  | DEPUTY DIRECTOR, PROPULSION SYSTEMS DEPT, ENGINEERING DIRECTORATE.
|  | DEPUTY DIRECTOR, SAFETY AND MISSION ASSURANCE DIRECTORATE.
|  | DEPUTY DIRECTOR, SPACE SYSTEMS DEPT, ENGINEERING DIRECTORATE.
|  | DEPUTY DIRECTOR, SPACECRAFT AND VEHICLE SYSTEMS DEPARTMENT, ENGINEERING DIRECTORATE.
|  | DEPUTY MANAGER, CHIEF ENGINEER OFFICE, ENGINEERING DIRECTORATE.
|  | DEPUTY MANAGER, HUMAN EXPLORATION DEVELOPMENT AND OPERATIONS OFFICE.
|  | DEPUTY MANAGER, SCIENCE AND TECHNOLOGY OFFICE.
|  | DEPUTY MANAGER, SPACE LAUNCH SYSTEM PROGRAM OFFICE.
|  | DIRECTOR, ENGINEERING DIRECTORATE.
|  | DIRECTOR, MATERIALS AND PROCESSES LAB, ENGINEERING DIRECTORATE.
|  | DIRECTOR, MICHOUD ASSEMBLY FACILITY.
|  | DIRECTOR, OFFICE OF CENTER OPERATIONS.
|  | DIRECTOR, OFFICE OF HUMAN RESOURCES.
|  | DIRECTOR, OFFICE OF PROCUREMENT.
|  | DIRECTOR, OFFICE OF STRATEGIC ANALYSIS AND COMMUNICATIONS.
|  | DIRECTOR, OFFICE OF THE CHIEF INFORMATION OFFICER.
|  | DIRECTOR, PROPULSION SYSTEMS DEPT, ENGINEERING DIRECTORATE.
|  | DIRECTOR, SAFETY AND MISSION ASSURANCE DIRECTORATE.
|  | DIRECTOR, SPACE SYSTEMS DEPARTMENT, ENGINEERING DIRECTORATE.
|  | DIRECTOR, SPACECRAFT AND VEHICLE SYSTEMS DEPARTMENT, ENGINEERING DIRECTORATE.
|  | DIRECTOR, TEST LABORATORY, ENGINEERING DIRECTORATE.
|  | INTERNATIONAL SPACE STATION COST ACCOUNT MANAGER.
|  | MANAGER, BOOSTERS OFFICE, SPACE LAUNCH SYSTEM PROGRAM OFFICE.
|  | MANAGER, ENGINES OFFICE, SPACE LAUNCH SYSTEM PROGRAM OFFICE.
|  | MANAGER, HUMAN EXPLORATION DEVELOPMENT AND OPERATIONS OFFICE.
|  | MANAGER, PROGRAM PLANNING AND CONTROL OFFICE, SPACE LAUNCH SYSTEM PROGRAM OFFICE.
|  | MANAGER, SCIENCE AND TECHNOLOGY OFFICE.
|  | MANAGER, SPACE LAUNCH SYSTEM PROGRAM OFFICE.
|  | MANAGER, SPACECRAFT/PAYLOAD INTEGRATION AND EVOLUTION OFFICE, SPACE LAUNCH SYSTEM PROGRAM OFFICE.
|  | MANAGER, STAGES OFFICE, SPACE LAUNCH SYSTEM PROGRAM OFFICE.
|  | MANAGER, SYSTEMS ENGINEERING AND INTEGRATION OFFICE, SPACE LAUNCH SYSTEM PROGRAM OFFICE.
|  | SPACE LAUNCH SYSTEM CHIEF SAFETY OFFICER, SAFETY AND MISSION ASSURANCE DIRECTORATE.
|  | SPECIAL ASSISTANT TO THE DIRECTOR, OFFICE OF HUMAN RESOURCES.
| SPACE LAUNCH SYSTEM PROGRAM OFFICE | MANAGER, SPACECRAFT/PAYLOAD INTEGRATION AND EVOLUTION OFFICE.
| OFFICE OF CHIEF INFORMATION OFFICER | ASSOCIATE CHIEF INFORMATION OFFICER, APPLICATIONS DIVISION.
| STENNIS SPACE CENTER | ASSOCIATE DIRECTOR.
|  | CHIEF FINANCIAL OFFICER.
|  | DEPUTY DIRECTOR, ENGINEERING AND TEST DIRECTORATE.
|  | DEPUTY DIRECTOR, STENNIS SPACE CENTER.
|  | DIRECTOR, ENGINEERING AND SCIENCE DIRECTORATE.
|  | DIRECTOR, OFFICE OF SAFETY AND MISSION ASSURANCE.
| AMES RESEARCH CENTER | ASSOCIATE CENTER DIRECTOR. ASSOCIATE DIRECTOR FOR RESEARCH AND TECHNOLOGY.
|  | CHIEF FINANCIAL OFFICER.
|  | CHIEF INFORMATION OFFICER.
|  | DEPUTY CENTER DIRECTOR, ARC.
|  | DEPUTY DIRECTOR, AERONAUTICS.
|  | DEPUTY DIRECTOR, EXPLORATION TECHNOLOGY.
|  | DEPUTY DIRECTOR, SCIENCE.
|  | DIRECTOR OF AERONAUTICS.
|  | DIRECTOR OF CENTER OPERATIONS.
|  | DIRECTOR OF ENGINEERING.
|  | DIRECTOR OF SAFETY AND MISSION ASSURANCE.
|  | DIRECTOR, EXPLORATION TECHNOLOGY.
|  | DIRECTOR, NASA AERONAUTICS AND RESEARCH INSTITUTE.
|  | DIRECTOR, NASA RESEARCH PARK.
|  | DIRECTOR, PROGRAMS AND PROJECTS.
|  | DIRECTOR, SOLAR SYSTEM EXPLORATION RESEARCH VIRTUAL INSTITUTE.
|  | HUMAN CAPITAL DIRECTOR.
|  | PROCUREMENT OFFICER.
|  | PROGRAM MANAGER FOR SOFIA.
|  | SPECIAL ASSISTANT TO THE CENTER DIRECTOR.
| ASTROBIOLOGY AND SPACE RESEARCH | DIRECTOR OF SCIENCE.
| ARMSTRONG FLIGHT RESEARCH CENTER | ASSISTANT DIRECTOR FOR STRATEGIC IMPLEMENTATION. ASSOCIATE DIRECTOR FOR MISSION SUPPORT.
|  | CHIEF FINANCIAL OFFICER (FINANCIAL MANAGER).
|  | DEPUTY CENTER DIRECTOR, ARMSTRONG FLIGHT RESEARCH CENTER.
|  | DIRECTOR FOR FLIGHT OPERATIONS.
|  | DIRECTOR FOR MISSION INFORMATION AND TEST SYSTEMS.
|  | DIRECTOR FOR PROGRAMS.
|  | DIRECTOR FOR RESEARCH AND ENGINEERING.
|  | DIRECTOR FOR SAFETY AND MISSION ASSURANCE.
|  | DIRECTOR, HUMAN RESOURCES.
| LANGLEY RESEARCH CENTER | ASSOCIATE DIRECTOR, LANGLEY RESEARCH CENTER.
|  | ASSOCIATE DIRECTOR, TECHNICAL.
|  | CHIEF FINANCIAL OFFICER.
|  | CHIEF INFORMATION OFFICER.
|  | DEPUTY DIRECTOR FOR AERONAUTICS PROJECTS.
|  | DEPUTY DIRECTOR FOR AEROSCIENCES.
|  | DEPUTY DIRECTOR FOR INTELLIGENT FLIGHT SYSTEMS.
|  | DEPUTY DIRECTOR FOR MISSION ASSURANCE.
|  | DEPUTY DIRECTOR FOR SAFETY.
|  | DEPUTY DIRECTOR FOR TECHNICAL CAPABILITIES.
|  | DEPUTY DIRECTOR, ENGINEERING DIRECTORATE.
|  | DEPUTY DIRECTOR, LANGLEY RESEARCH CENTER.
|  | DEPUTY DIRECTOR, NATIONAL AERONAUTICS AND SPACE ADMINISTRATION ENGINEERING AND SAFETY CENTER.
|  | DEPUTY DIRECTOR, RESEARCH DIRECTORATE.
|  | DIRECTOR, AERONAUTICS RESEARCH DIRECTORATE.
|  | DIRECTOR, CENTER OPERATIONS DIRECTORATE.
|  | DIRECTOR, EARTH SYSTEM SCIENCE PATHFINDER PROGRAM OFFICE.
|  | DIRECTOR, ENGINEERING DIRECTORATE.
|  | DIRECTOR, NATIONAL AERONAUTICS AND SPACE ADMINISTRATION ENGINEERING AND SAFETY CENTER.
|  | DIRECTOR, OFFICE OF HUMAN CAPITAL MANAGEMENT.
|  | DIRECTOR, OFFICE OF PROCUREMENT.
|  | DIRECTOR, OFFICE OF STRATEGIC ANALYSIS, COMMUNICATIONS, AND BUSINESS DEVELOPMENT.
|  | DIRECTOR, RESEARCH DIRECTORATE.
|  | DIRECTOR, RESEARCH SERVICES DIRECTORATE.
|  | DIRECTOR, SAFETY AND MISSION ASSURANCE OFFICE.
|  | DIRECTOR, SCIENCE DIRECTORATE.
|  | DIRECTOR, SPACE TECHNOLOGY AND EXPLORATION DIRECTORATE.
|  | DIRECTOR, SYSTEMS ANALYSIS AND ADVANCED CONCEPTS DIRECTORATE.
|  | MANAGER, NESC INTEGRATION OFFICE.
|  | SENIOR ADVISOR FOR ENGINEERING DEVELOPMENT.
|  | SENIOR ADVISOR FOR TECHNOLOGY AND STRATEGY.
|  | SPECIAL ASSISTANT TO THE CENTER DIRECTOR FOR REGIONAL ECONOMIC DEVELOPMENT.
| GLENN RESEARCH CENTER | ASSOCIATE DIRECTOR. ASSOCIATE DIRECTOR FOR STRATEGY.
|  | CHIEF FINANCIAL OFFICER.
|  | CHIEF, OFFICE OF ACQUISITION.
|  | DEPUTY DIRECTOR, NATIONAL AERONAUTICS AND SPACE ADMINISTRATION.
|  | DEPUTY DIRECTOR, OFFICE OF TECHNOLOGY INCUBATION AND INNOVATION.
|  | DIRECTOR OF CENTER OPERATIONS.
|  | DIRECTOR, OFFICE OF HUMAN CAPITAL MANAGEMENT.
|  | DIRECTOR, OFFICE OF TECHNOLOGY INCUBATION AND INNOVATION.
|  | DIRECTOR, SAFETY AND MISSION ASSURANCE DIRECTORATE.
|  | PLUM BROOK STATION MANAGER.
| AERONAUTICS DIRECTORATE | DIRECTOR, AERONAUTICS DIRECTORATE.
| FACILITIES, TEST AND MANUFACTURING DIRECTORATE | DIRECTOR, FACILITIES, TEST AND MANUFACTURING DIRECTORATE.
| DEPUTY DIRECTOR, FACILITIES, TEST AND MANUFACTURING DIRECTORATE | DEPUTY DIRECTOR OF FACILTIES, TEST AND MANUFACTURING DIRECTORATE.
| SPACE FLIGHT SYSTEMS DIRECTORATE | DEPUTY DIRECTOR, SPACE FLIGHT SYSTEMS. DIRECTOR, SPACE FLIGHT SYSTEMS DIRECTORATE.
|  | MANAGER, EUROPEAN SERVICE MODULE INTEGRATION OFFICE.
| OFFICE OF THE CHIEF FINANCIAL OFFICER | CHIEF FINANCIAL OFFICER.
| RESEARCH AND ENGINEERING DIRECTORATE | CHIEF, CHIEF ENGINEER OFFICE. CHIEF, POWER DIVISION.
|  | DEPUTY CHIEF, POWER DIVISION.
|  | DEPUTY DIRECTOR, RESEARCH AND ENGINEERING DIRECTORATE.
|  | DIRECTOR, RESEARCH AND ENGINEERING DIRECTORATE.
| SYSTEMS ENGINEERING AND ARCHITECTURE DIVISION | CHIEF, SYSTEMS ENGINEERING AND ARCHITECTURE DIVISION.
| MATERIALS AND STRUCTURES DIVISION | CHIEF, MATERIALS AND STRUCTURES DIVISION.
| PROPULSION DIVISION | CHIEF, PROPULSION DIVISION.
|  | DEPUTY CHIEF, PROPULSION DIVISION.
| COMMUNICATIONS AND INTELLIGENT SYSTEMS DIVISION | CHIEF, COMMUNICATIONS AND INTELLIGENT SYSTEMS DIVISION.
| OFFICE OF THE CHIEF INFORMATION OFFICER | CHIEF INFORMATION OFFICER.
| NASA SAFETY CENTER | DIRECTOR, AUDITS AND ASSESSMENTS.
|  | DIRECTOR, TECHNICAL EXCELLENCE.
| GODDARD SPACE FLIGHT CENTER | CENTER ASSOCIATE DIRECTOR.
|  | DEPUTY DIRECTOR FOR TECHNOLOGY AND RESEARCH INVESTMENTS.
|  | DEPUTY DIRECTOR, NATIONAL AERONAUTICS AND SPACE ADMINISTRATION GODDARD SPACE FLIGHT CENTER.
| HUMAN RESOURCES | DIRECTOR OF HUMAN CAPITAL MANAGEMENT.
| COMPTROLLER | CHIEF FINANCIAL OFFICER.
|  | DEPUTY CHIEF FINANCIAL OFFICER.
| MANAGEMENT OPERATIONS | ASSOCIATE DIRECTOR FOR ACQUISITION. DEPUTY DIRECTOR OF MANAGEMENT OPERATIONS.
|  | DIRECTOR OF MANAGEMENT OPERATIONS.
| FLIGHT ASSURANCE | DEPUTY DIRECTOR OF SAFETY AND MISSION ASSURANCE.
|  | DIRECTOR OF SAFETY AND MISSION ASSURANCE.
| FLIGHT PROJECTS | ASSOCIATE DIRECTOR FOR ASTROPHYSICS PROJECTS DIVISION.
|  | ASSOCIATE DIRECTOR FOR EARTH SCIENCE PROJECTS DIVISION.
|  | ASSOCIATE DIRECTOR FOR EXPLORATION AND SPACE COMMUNICATIONS PROJECTS DIVISION.
|  | ASSOCIATE DIRECTOR FOR EXPLORERS AND HELIOPHYSICS PROJECTS DIVISION.
|  | ASSOCIATE DIRECTOR FOR SPACE SERVICING CAPABILITIES PROJECT.
|  | ASSOCIATE DIRECTOR OF FLIGHT PROJECTS FOR JAMES WEBB SPACE TELESCOPE (JWST).
|  | ASSOCIATE DIRECTOR OF FLIGHT PROJECTS FOR THE INSTRUMENT PROJECTS DIVISION.
|  | DEPUTY ASSOCIATE DIRECTOR OF FLIGHT PROJECTS FOR JOINT POLAR SATELLITE SYSTEM (JPSS) FLIGHT.
|  | DEPUTY DIRECTOR FOR PLANNING AND BUSINESS MANAGEMENT.
|  | DEPUTY DIRECTOR OF FLIGHT PROJECTS.
|  | DIRECTOR OF FLIGHT PROJECTS.
| ENGINEERING AND TECHNOLOGY DIRECTORATE | CHIEF, ELECTRICAL SYSTEMS DIVISION. CHIEF, INSTRUMENT SYSTEMS AND TECHNOLOGY DIVISION.
|  | CHIEF, MECHANICAL SYSTEMS DIVISION.
|  | CHIEF, MISSION ENGINEERING AND SYSTEMS ANALYSIS DIVISION.
|  | CHIEF, SOFTWARE ENGINEERING DIVISION.
|  | DEPUTY DIRECTOR FOR TECHNICAL MANAGEMENT.
|  | DEPUTY DIRECTOR OF APPLIED ENGINEERING AND TECHNOLOGY FOR PLANNING AND BUSINESS MANAGEMENT.
|  | DEPUTY DIRECTOR OF ENGINEERING AND TECHNOLOGY.
|  | DIRECTOR OF ENGINEERING AND TECHNOLOGY.
| SCIENCES AND EXPLORATION | CHIEF, GODDARD INSTITUTE FOR SPACE STUDIES.
|  | DEPUTY DIRECTOR FOR INSTITUTIONS, PROGRAMS, AND BUSINESS MANAGEMENT.
|  | DEPUTY DIRECTOR OF SCIENCES AND EXPLORATION.
|  | DIRECTOR OF SCIENCES AND EXPLORATION.
|  | DIRECTOR, ASTROPHYSICS SCIENCE DIVISION.
|  | DIRECTOR, EARTH SCIENCES DIVISION.
|  | DIRECTOR, HELIOPHYSICS SCIENCE DIVISION.
|  | DIRECTOR, SOLAR SYSTEM EXPLORATION DIVISION.
| INFORMATION TECHNOLOGY | CHIEF INFORMATION OFFICER.
| SUBORBITAL PROJECTS AND OPERATIONS | DIRECTOR OF WALLOPS FLIGHT FACILITY. SPECIAL ASSISTANT FOR PROJECT MANAGEMENT TRAINING.
NATIONAL AERONAUTICS AND SPACE ADMINISTRATION OFFICE OF THE INSPECTOR GENERAL | NATIONAL AERONAUTICS AND SPACE ADMINISTRATION OFFICE OF THE INSPECTOR GENERAL | ASSISTANT INSPECTOR GENERAL FOR AUDITING. ASSISTANT INSPECTOR GENERAL FOR INVESTIGATIONS. ASSISTANT INSPECTOR GENERAL FOR MANAGEMENT AND PLANNING.
|  | COUNSEL TO THE INSPECTOR GENERAL.
|  | DEPUTY INSPECTOR GENERAL.
NATIONAL ARCHIVES AND RECORDS ADMINISTRATION | ARCHIVIST OF UNITED STATES AND DEPUTY ARCHIVIST OF THE UNITED STATES | DEPUTY ARCHIVIST OF THE UNITED STATES.
| GENERAL COUNSEL | GENERAL COUNSEL.
| OFFICE OF THE CHIEF OF STAFF | CHIEF OF STAFF.
| OFFICE OF THE CHIEF OF MANAGEMENT AND ADMINISTRATION | CHIEF ACQUISITION OFFICER. CHIEF OF MANAGEMENT AND ADMINISTRATION.
| CONGRESSIONAL AFFAIRS STAFF | DIRECTOR, CONGRESSIONAL AND LEGISLATIVE AFFAIRS.
| OFFICE OF THE CHIEF OPERATING OFFICER | CHIEF OPERATING OFFICER.
| AGENCY SERVICES | AGENCY SERVICES EXECUTIVE.
|  | CHIEF RECORDS OFFICER.
|  | DIRECTOR, INFORMATION SECURITY OVERSIGHT OFFICE.
|  | DIRECTOR, NATIONAL DECLASSIFICATION CENTER.
|  | DIRECTOR, NATIONAL PERSONNEL RECORDS CENTER.
|  | DIRECTOR, OFFICE OF GOVERNMENT INFORMATION SERVICES.
|  | DIRECTOR, RECORDS CENTER PROGRAMS.
| BUSINESS SUPPORT SERVICES | BUSINESS SUPPORT SERVICES EXECUTIVE. CHIEF FINANCIAL OFFICER.
| RESEARCH SERVICES | DIRECTOR, PRESERVATION PROGRAMS.
|  | RESEARCH SERVICES EXECUTIVE.
| OFFICE OF THE FEDERAL REGISTER | DIRECTOR OF THE FEDERAL REGISTER.
| INFORMATION SERVICES | CHIEF TECHNOLOGY OFFICER. INFORMATION SERVICES EXECUTIVE/CHIEF INFORMATION OFFICER.
| LEGISLATIVE ARCHIVES, PRESIDENTIAL LIBRARIES AND MUSEUM SERVICES | LEGISLATIVE ARCHIVES, PRESIDENTIAL LIBRARIES AND MUSEUM SERVICES EXECUTIVE.
| OFFICE OF PRESIDENTIAL LIBRARIES | DEPUTY FOR PRESIDENTIAL LIBRARIES.
| OFFICE OF HUMAN CAPITAL | CHIEF HUMAN CAPITAL OFFICER.
| OFFICE OF INNOVATION | CHIEF INNOVATION OFFICER.
NATIONAL ARCHIVES AND RECORDS ADMINISTRATION OFFICE OF THE INSPECTOR GENERAL | NATIONAL ARCHIVES AND RECORDS ADMINISTRATION OFFICE OF THE INSPECTOR GENERAL | ASSISTANT INSPECTOR GENERAL FOR AUDITING. ASSISTANT INSPECTOR GENERAL FOR INVESTIGATIONS.
|  | INSPECTOR GENERAL.
NATIONAL CAPITAL PLANNING COMMISSION | NATIONAL CAPITAL PLANNING COMMISSION STAFF | CHIEF OPERATING OFFICER. DEPUTY EXECUTIVE DIRECTOR.
|  | EXECUTIVE DIRECTOR.
|  | GENERAL COUNSEL.
NATIONAL ENDOWMENT FOR THE ARTS | NATIONAL ENDOWMENT FOR THE ARTS | CHIEF INFORMATION OFFICER. DEPUTY CHAIRMAN FOR MANAGEMENT AND BUDGET.
|  | DIRECTOR, RESEARCH AND ANALYSIS.
NATIONAL ENDOWMENT FOR THE ARTS OFFICE OF THE INSPECTOR GENERAL | NATIONAL ENDOWMENT FOR THE ARTS OFFICE OF THE INSPECTOR GENERAL | INSPECTOR GENERAL.
NATIONAL ENDOWMENT FOR THE HUMANITIES | NATIONAL ENDOWMENT FOR THE HUMANITIES | ASSISTANT CHAIRMAN FOR PLANNING AND OPERATIONS.
NATIONAL LABOR RELATIONS BOARD | NATIONAL LABOR RELATIONS BOARD | DEPUTY ASSOCIATE GENERAL COUNSEL, DIVISION OF ENFORCEMENT LITIGATION.
| OFFICE OF THE BOARD MEMBERS | CHIEF INFORMATION OFFICER. DEPUTY CHIEF COUNSEL.
|  | DEPUTY EXECUTIVE SECRETARY.
|  | EXECUTIVE SECRETARY.
|  | INSPECTOR GENERAL.
|  | REGIONAL DIRECTOR, REGION 12, TAMPA, FLORIDA.
| OFFICE OF THE GENERAL COUNSEL | ASSOCIATE GENERAL COUNSEL (DAEO).
| DIVISION OF ENFORCEMENT LITIGATION | DEPUTY ASSOCIATE GENERAL COUNSEL, APPELLATE COURT BRANCH. DIRECTOR, OFFICE OF APPEALS.
| DIVISION OF ADVICE | ASSOCIATE GENERAL COUNSEL, DIVISION OF LEGAL COUNSEL.
|  | DEPUTY ASSOCIATE GENERAL COUNSEL, DIVISION OF ADVICE.
| DIVISION OF ADMINISTRATION | DIRECTOR OF ADMINISTRATION.
|  | DIRECTOR, DIVISION OF ADMINISTRATION.
| DIVISION OF OPERATIONS MANAGEMENT | ASSISTANT GENERAL COUNSEL. ASSISTANT TO GENERAL COUNSEL.
|  | ASSOCIATE TO THE GENERAL COUNSEL, DIVISION OF OPERATION-MANAGEMENT.
|  | DEPUTY ASSOCIATE GENERAL COUNSEL, DIVISION OF OPERATIONS-MANAGEMENT.
| REGIONAL OFFICES | REGIONAL DIRECTOR REGION 2, NEW YORK.
|  | REGIONAL DIRECTOR, REGION 1, BOSTON, MASSACHUSETTS.
|  | REGIONAL DIRECTOR, REGION 10, ATLANTA, GEORGIA.
|  | REGIONAL DIRECTOR, REGION 11, WINSTON SALEM, NORTH CAROLINA.
|  | REGIONAL DIRECTOR, REGION 13, CHICAGO, ILLINOIS.
|  | REGIONAL DIRECTOR, REGION 14, SAINT LOUIS, MISSOURI.
|  | REGIONAL DIRECTOR, REGION 15, NEW ORLEANS, LOUISIANA.
|  | REGIONAL DIRECTOR, REGION 16, FORT WORTH, TEXAS.
|  | REGIONAL DIRECTOR, REGION 17, KANSAS CITY, KANSAS.
|  | REGIONAL DIRECTOR, REGION 18, MINNEAPOLIS, MINNESOTA.
|  | REGIONAL DIRECTOR, REGION 19, SEATTLE, WASHINGTON.
|  | REGIONAL DIRECTOR, REGION 20, SAN FRANCISCO, CALIFORNIA.
|  | REGIONAL DIRECTOR, REGION 21, LOS ANGELES, CALIFORNIA.
|  | REGIONAL DIRECTOR, REGION 22, NEWARK, NEW JERSEY.
|  | REGIONAL DIRECTOR, REGION 24, HATO REY, PUERTO RICO.
|  | REGIONAL DIRECTOR, REGION 25, INDIANAPOLIS, INDIANA.
|  | REGIONAL DIRECTOR, REGION 26, MEMPHIS, TENNESSEE.
|  | REGIONAL DIRECTOR, REGION 27, DENVER, COLORADO.
|  | REGIONAL DIRECTOR, REGION 28, PHOENIX, ARIZONA.
|  | REGIONAL DIRECTOR, REGION 29, BROOKLYN, NEW YORK.
|  | REGIONAL DIRECTOR, REGION 3, BUFFALO, NEW YORK.
|  | REGIONAL DIRECTOR, REGION 30, MILWAUKEE, WISCONSIN.
|  | REGIONAL DIRECTOR, REGION 31, LOS ANGELES, CALIFORNIA.
|  | REGIONAL DIRECTOR, REGION 32, OAKLAND, CALFORNIA.
|  | REGIONAL DIRECTOR, REGION 4, PHILADELPHIA, PENNSYLVANIA.
|  | REGIONAL DIRECTOR, REGION 5, BALTIMORE, MARYLAND.
|  | REGIONAL DIRECTOR, REGION 6, PITTSBURGH, PENNSYLVANIA.
|  | REGIONAL DIRECTOR, REGION 7, DETROIT, MICHIGAN.
|  | REGIONAL DIRECTOR, REGION 8, CLEVELAND, OHIO.
|  | REGIONAL DIRECTOR, REGION 9, CINCINNATI, OHIO.
NATIONAL SCIENCE FOUNDATION | OFFICE OF THE DIRECTOR | CHIEF TECHNOLOGY OFFICER. SENIOR ADVISOR.
| OFFICE OF DIVERSITY AND INCLUSION | OFFICE HEAD.
| OFFICE OF THE GENERAL COUNSEL | DEPUTY GENERAL COUNSEL.
| DIRECTORATE FOR GEOSCIENCES | DEPUTY ASSISTANT DIRECTOR.
| DIVISION OF ATMOSPHERIC AND GEOSPACE SCIENCES | SECTION HEAD NCAR/FACILITIES SECTION.
| DIVISION OF EARTH SCIENCES | SECTION HEAD, INTEGRATED ACTIVITIES SECTION.
| DIVISION OF OCEAN SCIENCES | SECTION HEAD, INTERGRATIVE PROGRAMS SECTION.
| OFFICE OF POLAR PROGRAMS (OPP) | HEAD, SECTION FOR ANTARCTIC INFRASTRUCTURE AND LOGISTIC.
| DIVISION OF ENGINEERING EDUCATION AND CENTERS | DEPUTY DIVISION DIRECTOR.
| DIVISION OF INDUSTRIAL INNOVATION AND PARTNERSHIPS | DEPUTY DIVISION DIRECTOR.
| DIRECTORATE FOR BIOLOGICAL SCIENCES | DEPUTY ASSISTANT DIRECTOR.
| DIRECTORATE FOR MATHEMATICAL AND PHYSICAL SCIENCES | DEPUTY ASSISTANT DIRECTOR.
| DIVISION OF ASTRONOMICAL SCIENCES | DEPUTY DIVISION DIRECTOR.
| DIVISION OF MATERIALS RESEARCH | DEPUTY DIVISION DIRECTOR.
| DIRECTORATE FOR SOCIAL, BEHAVIORAL AND ECONOMIC SCIENCES | DEPUTY ASSISTANT DIRECTOR.
| NATIONAL CENTER FOR SCIENCE AND ENGINEERING STATISTICS | DIVISION DIRECTOR.
| DIRECTORATE FOR COMPUTER AND INFORMATION SCIENCE AND ENGINEERING | DEPUTY ASSISTANT DIRECTOR.
| OFFICE OF BUDGET, FINANCE AND AWARD MANAGEMENT | CHIEF FINANCIAL OFFICER AND HEAD, OFFICE OF BUDGET, FINANCE AND AWARD MANAGEMENT. DEPUTY OFFICE HEAD.
| BUDGET DIVISION | DEPUTY DIRECTOR.
|  | DIVISION DIRECTOR.
| DIVISION OF FINANCIAL MANAGEMENT | CONTROLLER AND DEPUTY DIVISION DIRECTOR.
|  | DEPUTY CHIEF FINANCIAL OFFICER AND DIVISION DIRECTOR.
| DIVISION OF GRANTS AND AGREEMENTS | DIVISION DIRECTOR.
| DIVISION OF ACQUISITION AND COOPERATIVE SUPPORT | DIVISION DIRECTOR.
| DIVISION OF INSTITUTIONAL AND AWARD SUPPORT | DEPUTY DIVISION DIRECTOR. DIVISION DIRECTOR.
| OFFICE OF INFORMATION AND RESOURCE MANAGEMENT | DEPUTY OFFICE HEAD. HEAD, OFFICE OF INFORMATION AND RESOURCE MANAGEMENT AND CHIEF HUMAN CAPITAL OFFICER.
| DIVISION OF INFORMATION SYSTEMS | DEPUTY DIVISION DIRECTOR.
| DIVISION OF HUMAN RESOURCE MANAGEMENT | CHIEF HUMAN CAPITAL OFFICER AND DIVISION DIRECTOR. DEPUTY DIVISION DIRECTOR.
|  | DIVISION DIRECTOR.
| DIVISION OF ADMINISTRATIVE SERVICES | DEPUTY DIVISION DIRECTOR.
|  | DIVISION DIRECTOR.
NATIONAL SCIENCE FOUNDATION OFFICE OF THE INSPECTOR GENERAL | NATIONAL SCIENCE FOUNDATION OFFICE OF THE INSPECTOR GENERAL | ASSISTANT INSPECTOR GENERAL FOR AUDIT. ASSISTANT INSPECTOR GENERAL FOR INVESTIGATIONS.
|  | ASSISTANT INSPECTOR GENERAL FOR MANAGEMENT/CHIEF INFORMATION OFFICER TO OFFICE OF INSPECTOR GENERAL.
|  | COUNSEL TO THE INSPECTOR GENERAL.
|  | INSPECTOR GENERAL.
NATIONAL TRANSPORTATION SAFETY BOARD | OFFICE OF THE MANAGING DIRECTOR | DEPUTY MANAGING DIRECTOR.
| OFFICE OF ADMINISTRATION | DIRECTOR, OFFICE OF ADMINISTRATION.
| OFFICE OF AVIATION SAFETY | DEPUTY DIRECTOR, OFFICE OF AVIATION SAFETY.
|  | DEPUTY DIRECTOR, REGIONAL OPERATIONS.
|  | DIRECTOR BUREAU OF ACCIDENT INVESTIGATION.
| OFFICE OF RESEARCH AND ENGINEERING | DEPUTY DIRECTOR OFFICE OF RESEARCH AND ENGINEERING.
|  | DIRECTOR OFFICE OF RESEARCH AND ENGINEERING.
| OFFICE OF CHIEF FINANCIAL OFFICER | CHIEF FINANCIAL OFFICER.
| OFFICE OF RAILROAD, PIPELINE AND HAZARDOUS MATERIALS INVESTIGATIONS | DEPUTY DIRECTOR, OFFICE OF RAILROAD, PIPELINE AND HAZARDOUS MATERIALS SAFETY. DIRECTOR, OFFICE OF RAILROAD, PIPELINE AND HAZARDOUS MATERIALS INVESTIGATIONS.
| OFFICE OF SAFETY RECOMMENDATIONS AND COMMUNICATIONS | DEPUTY DIRECTOR, OFFICE OF SAFETY RECOMMENDATIONS AND COMMUNICATIONS.
| OFFICE OF HIGHWAY SAFETY | DIRECTOR, OFFICE OF HIGHWAY SAFETY.
| OFFICE OF CHIEF INFORMATION OFFICER | CHIEF INFORMATION OFFICER.
| OFFICE OF MARINE SAFETY | DIRECTOR, OFFICE OF MARINE SAFETY.
NUCLEAR REGULATORY COMMISSION | ADVISORY COMMITTEE ON REACTOR SAFEGUARDS | DIRECTOR, CYBER SECURITY DIRECTORATE. DIRECTOR, DIVISION OF LICENSE RENEWAL.
| OFFICE OF THE CHIEF FINANCIAL OFFICER | BUDGET DIRECTOR. CONTROLLER.
|  | DEPUTY CHIEF FINANICAL OFFICER.
| OFFICE OF COMMISSION APPELLATE ADJUDICATION | DIRECTOR, OFFICE OF COMMISSION APPELLATE ADJUDICATION.
| OFFICE OF THE CHIEF INFORMATION OFFICER | DIRECTOR FOR TRANSFORMATIONAL ORGANIZATION.
|  | DIRECTOR, CUSTOMER SERVICE DIVISION.
|  | DIRECTOR, GOVERNANCE AND ENTERPRISE MANAGEMENT SERVICES DIVISION.
|  | DIRECTOR, IT SERVICES DEVELOPMENT AND OPERATIONS DIVISION.
| OFFICE OF ADMINISTRATION | DEPUTY DIRECTOR, OFFICE OF ADMINISTRATION.
|  | DIRECTOR, ACQUISITION MANAGEMENT DIVISION.
|  | DIRECTOR, DIVISION OF FACILITIES AND SECURITY.
| OFFICE OF NUCLEAR SECURITY AND INCIDENT RESPONSE | DEPUTY DIRECTOR, DIVISION OF PHYSICAL AND CYBER SECURITY POLICY. DEPUTY DIRECTOR, DIVISION OF PREPAREDNESS AND RESPONSE.
|  | DEPUTY DIRECTOR, DIVISION OF SECURITY OPERATIONS.
|  | DEPUTY DIRECTOR, OFFICE OF NUCLEAR SECURITY AND INCIDENT RESPONSE.
|  | DIRECTOR, DIVISION OF PHYSICAL AND CYBER SECURITY POLICY.
|  | DIRECTOR, DIVISION OF PREPAREDNESS AND RESPONSE.
|  | DIRECTOR, DIVISION OF SECURITY OPERATIONS.
| OFFICE OF SMALL BUSINESS AND CIVIL RIGHTS | DIRECTOR, OFFICE OF SMALL BUSINESS AND CIVIL RIGHTS.
| OFFICE OF NEW REACTORS | DEPUTY DIRECTOR, DIVISION OF CONSTRUCTION INSPECTION AND OPERATIONAL PROGRAMS.
|  | DEPUTY DIRECTOR, DIVISION OF ENGINEERING, INFRASTRUCTURE, AND ADVANCED REACTORS.
|  | DEPUTY DIRECTOR, DIVISION OF LICENSING, SITING, AND ENVIRONMENTAL ANALYSIS.
|  | DEPUTY DIRECTOR, DIVISION OF SAFETY SYSTEMS AND RISK ASSESSMENT.
|  | DEPUTY DIRECTOR, OFFICE OF NEW REACTORS.
|  | DIRECTOR, DIVISION OF CONSTRUCTION INSPECTION AND OPERATIONAL PROGRAMS.
|  | DIRECTOR, DIVISION OF ENGINEERING, INFRASTRUCTURE, AND ADVANCED REACTORS.
|  | DIRECTOR, DIVISION OF LICENSING, SITING, AND ENVIRONMENTAL ANALYSIS.
|  | DIRECTOR, DIVISION OF SAFETY SYSTEMS AND RISK ASSESSMENT.
| OFFICE OF NUCLEAR REACTOR REGULATION | DEPUTY DIRECTOR, DIVISION OF ENGINEERING. DEPUTY DIRECTOR, DIVISION OF INSPECTION AND REGIONAL SUPPORT.
|  | DEPUTY DIRECTOR, DIVISION OF LICENSING PROJECTS.
|  | DEPUTY DIRECTOR, DIVISION OF MATERIALS AND LICENSE RENEWAL.
|  | DEPUTY DIRECTOR, DIVISION OF OPERATING REACTOR LICENSING.
|  | DEPUTY DIRECTOR, DIVISION OF RISK ASSESSMENT.
|  | DEPUTY DIRECTOR, DIVISION OF SAFETY SYSTEMS.
|  | DEPUTY OFFICE DIRECTOR FOR ENGINEERING.
|  | DEPUTY OFFICE DIRECTOR FOR REACTOR SAFETY PROGRAMS AND MISSION SUPPORT.
|  | DIRECTOR, DIVISION OF ENGINEERING.
|  | DIRECTOR, DIVISION OF INSPECTION AND REGIONAL SUPPORT.
|  | DIRECTOR, DIVISION OF LICENSING PROJECTS.
|  | DIRECTOR, DIVISION OF MATERIALS AND LICENSE RENEWAL.
|  | DIRECTOR, DIVISION OF OPERATING REACTOR LICENSING.
|  | DIRECTOR, DIVISION OF RISK ASSESSMENT.
|  | DIRECTOR, DIVISION OF SAFETY SYSTEMS.
| OFFICE OF NUCLEAR MATERIAL SAFETY AND SAFEGUARDS | DEPUTY DIRECTOR, DIVISION OF DECOMMISSIONING, URANIUM RECOVERY, AND WASTE PROGRAMS. DEPUTY DIRECTOR, DIVISION OF FUEL CYCLE SAFETY, SAFEGUARDS, AND ENVIRONMENTAL REVIEW.
|  | DEPUTY DIRECTOR, DIVISION OF MATERIALS SAFETY, STATE, TRIBAL, AND RULEMAKING PROGRAMS.
|  | DEPUTY DIRECTOR, DIVISION OF SPENT FUEL MANAGEMENT.
|  | DIRECTOR, DIVISION OF DECOMMISSIONING, URANIUM RECOVERY, AND WASTE PROGRAMS.
|  | DIRECTOR, DIVISION OF FUEL CYCLE SAFETY, SAFEGUARDS, AND ENVIRONMENTAL REVIEW.
|  | DIRECTOR, DIVISION OF MATERIALS SAFETY, STATE, TRIBAL, AND RULEMAKING PROGRAMS.
|  | DIRECTOR, DIVISION OF RULEMAKING.
|  | DIRECTOR, DIVISION OF SPENT FUEL MANAGEMENT.
| RULEMAKING CENTER OF EXPERTISE | DEPUTY DIRECTOR, DIVISION OF POLICY AND RULEMAKING. DIRECTOR, DIVISION OF SPENT FUEL MANAGEMENT.
| OFFICE OF NUCLEAR REGULATORY RESEARCH | DEPUTY DIRECTOR, DIVISION OF ENGINEERING. DEPUTY DIRECTOR, DIVISION OF RISK ANALYSIS.
|  | DEPUTY DIRECTOR, DIVISION OF SYSTEMS ANALYSIS.
|  | DIRECTOR, DIVISION OF ENGINEERING.
|  | DIRECTOR, DIVISION OF RISK ANALYSIS.
|  | DIRECTOR, DIVISION OF SYSTEMS ANALYSIS.
| REGION I | DEPUTY DIRECTOR, DIVISION OF REACTOR PROJECTS.
|  | DEPUTY DIRECTOR, DIVISION OF REACTOR SAFETY.
|  | DEPUTY REGIONAL ADMINISTRATOR.
|  | DIRECTOR DIVISION OF REACTOR SAFETY.
|  | DIRECTOR, DIVISION OF NUCLEAR MATERIALS SAFETY.
|  | DIRECTOR, DIVISION OF REACTOR PROJECTS.
| REGION II | DEPUTY DIRECTOR, DIVISION OF REACTOR PROJECTS.
|  | DEPUTY DIRECTOR, DIVISION OF REACTOR SAFETY.
|  | DEPUTY REGIONAL ADMINISTRATOR.
|  | DIRECTOR, DIVISION OF CONSTRUCTION INSPECTION.
|  | DIRECTOR, DIVISION OF CONSTRUCTION OVERSIGHT.
|  | DIRECTOR, DIVISION OF REACTOR PROJECTS.
|  | DIRECTOR, DIVISION OF REACTOR SAFETY.
| REGION III | DEPUTY DIRECTOR, DIVISION OF REACTOR PROJECTS.
|  | DEPUTY DIRECTOR, DIVISION OF REACTOR SAFETY.
|  | DEPUTY REGIONAL ADMINISTRATOR.
|  | DIRECTOR, DIVISION OF NUCLEAR MATERIALS SAFETY.
|  | DIRECTOR, DIVISION OF REACTOR PROJECTS.
|  | DIRECTOR, DIVISION OF REACTOR SAFETY.
| REGION IV | DEPUTY DIRECTOR, DIVISION OF REACTOR PROJECTS.
|  | DEPUTY DIRECTOR, DIVISION OF REACTOR SAFETY.
|  | DEPUTY REGIONAL ADMINISTRATOR.
|  | DIRECTOR DIVISION OF REACTOR PROJECTS.
|  | DIRECTOR, DIVISION OF NUCLEAR MATERIALS SAFETY.
|  | DIRECTOR, DIVISION OF REACTOR SAFETY.
NUCLEAR REGULATORY COMMISSION OFFICE OF THE INSPECTOR GENERAL | NUCLEAR REGULATORY COMMISSION OFFICE OF THE INSPECTOR GENERAL | DEPUTY INSPECTOR GENERAL.
| ASSISTANT INSPECTOR GENERAL FOR AUDITS | ASSISTANT INSPECTOR GENERAL FOR AUDITS.
| ASSISTANT INSPECTOR GENERAL FOR INVESTIGATIONS | ASSISTANT INSPECTOR GENERAL FOR INVESTIGATIONS.
OCCUPATIONAL SAFETY AND HEALTH REVIEW COMMISSION | OFFICE OF THE EXECUTIVE DIRECTOR | EXECUTIVE DIRECTOR.
OFFICE OF GOVERNMENT ETHICS | OFFICE OF GOVERNMENT ETHICS | CHIEF OF STAFF AND PROGRAM COUNSEL. DEPUTY DIRECTOR FOR COMPLIANCE.
|  | DEPUTY DIRECTOR FOR INTERNAL OPERATIONS DIVISION.
|  | DEPUTY GENERAL COUNSEL.
OFFICE OF MANAGEMENT AND BUDGET | STAFF OFFICES | ASSISTANT DIRECTOR FOR MANAGEMENT AND OPERATIONS.
|  | DEPUTY ASSISTANT DIRECTOR FOR MANAGEMENT.
|  | DEPUTY ASSOCIATE DIRECTOR FOR ECONOMIC POLICY.
| LEGISLATIVE REFERENCE DIVISION | ASSISTANT DIRECTOR LEGISLATIVE REFERENCE. CHIEF, ECONOMICS, SCIENCE AND GOVERNMENT BRANCH.
|  | CHIEF, HEALTH, EDUCATION, VETERANS, AND SOCIAL PROGRAMS BRANCH.
|  | CHIEF, RESOURCES—DEFENSE—INTERNATIONAL BRANCH.
| OFFICE OF FEDERAL PROCUREMENT POLICY | ASSOCIATE ADMINISTRATOR. DEPUTY ADMINISTRATOR FOR FEDERAL PROCUREMENT POLICY.
| OFFICE OF INFORMATION AND REGULATORY AFFAIRS | CHIEF STATISTICAL AND SCIENCE POLICY BRANCH. CHIEF, FOOD, HEALTH AND LABOR BRANCH.
|  | CHIEF, INFORMATION POLICY BRANCH.
|  | CHIEF, NATURAL RESOURCES AND ENVIRONMENT BRANCH.
|  | CHIEF, PRIVACY BRANCH.
| OFFICE OF E-GOVERNMENT AND INFORMATION TECHNOLOGY | CHIEF ARCHITECT.
| OFFICE OF FEDERAL FINANCIAL MANAGEMENT | CHIEF, FINANCIAL INTEGRITY AND RISK MANAGEMENT BRANCH.
| BUDGET REVIEW | ASSISTANT DIRECTOR FOR BUDGET REVIEW.
|  | CHIEF BUDGET ANALYSIS BRANCH.
|  | CHIEF, BUDGET CONCEPTS BRANCH.
|  | CHIEF, BUDGET REVIEW BRANCH.
|  | CHIEF, BUDGET SYSTEMS BRANCH.
|  | DEPUTY ASSISTANT DIRECTOR FOR BUDGET REVIEW.
|  | DEPUTY CHIEF BUDGET ANALYSIS BRANCH.
|  | DEPUTY CHIEF, BUDGET REVIEW BRANCH.
| INTERNATIONAL AFFAIRS DIVISION | CHIEF, ECONOMIC AFFAIRS BRANCH. CHIEF, STATE/UNITED STATES INFORMATION AGENCY BRANCH.
|  | DEPUTY ASSOCIATE DIRECTOR FOR INTERNATIONAL AFFAIRS.
| NATIONAL SECURITY DIVISION | CHIEF OPERATIONS AND SUPPORT BRANCH.
|  | CHIEF, FORCE STRUCTURE AND INVESTMENT BRANCH.
|  | CHIEF, INTELLIGENCE PROGRAMS BRANCH.
|  | CHIEF, VETERANS AFFAIRS AND DEFENSE HEALTH BRANCH.
|  | DEPUTY ASSOCIATE DIRECTOR FOR NATIONAL SECURITY.
| HEALTH DIVISION | CHIEF, HEALTH AND HUMAN SERVICES BRANCH.
|  | CHIEF, HEALTH INSURANCE AND DATA ANALYSIS BRANCH.
|  | CHIEF, MEDICAID BRANCH.
|  | CHIEF, MEDICARE BRANCH.
|  | CHIEF, PUBLIC HEALTH BRANCH.
|  | DEPUTY ASSOCIATE DIRECTOR FOR HEALTH.
| EDUCATION, INCOME MAINTENANCE AND LABOR PROGRAMS | CHIEF, EDUCATION BRANCH. CHIEF, INCOME MAINTENANCE BRANCH.
|  | CHIEF, LABOR BRANCH.
|  | DEPUTY ASSOCIATE DIRECTOR FOR EDUCATION, INCOME MAINTAINENCE AND LABOR.
| TRANSPORTATION, HOMELAND, JUSTICE AND SERVICES DIVISION | CHIEF TRANSPORTATION BRANCH. CHIEF, HOMELAND SECURITY BRANCH.
|  | CHIEF, JUSTICE BRANCH.
|  | CHIEF, TRANSPORTATION/GENERAL SERVICES ADMINISTRATION BRANCH.
|  | DEPUTY ASSOCIATE DIRECTOR, TRANSPORTATION, HOMELAND, JUSTICE AND SERVICES.
| HOUSING, TREASURY AND COMMERCE DIVISION | CHIEF, COMMERCE BRANCH. CHIEF, HOUSING BRANCH.
|  | CHIEF, TREASURY BRANCH.
|  | DEPUTY ASSOCIATE DIRECTOR FOR HOUSING, TREASURY AND COMMERCE.
| NATURAL RESOURCES DIVISION | CHIEF INTERIOR BRANCH. CHIEF, AGRICULTURAL BRANCH.
|  | CHIEF, ENVIRONMENT BRANCH.
|  | DEPUTY ASSOCIATE DIRECTOR FOR NATURAL RESOURCES.
| ENERGY, SCIENCE AND WATER DIVISION | CHIEF SCIENCE AND SPACE PROGRAMS BRANCH.
|  | CHIEF, ENERGY BRANCH.
|  | CHIEF, WATER AND POWER BRANCH.
|  | DEPUTY ASSOCIATE DIRECTOR FOR ENERGY, SCIENCE, AND WATER DIVISION.
OFFICE OF NATIONAL DRUG CONTROL POLICY | OFFICE OF SUPPLY REDUCTION | ASSISTANT DEPUTY DIRECTOR OF SUPPLY REDUCTION. ASSOCIATE DIRECTOR FOR INTELLIGENCE.
OFFICE OF PERSONNEL MANAGEMENT | PLANNING AND POLICY ANALYSIS | DEPUTY DIRECTOR, ACTUARY.
| FACILITIES, SECURITY AND EMERGENCY MANAGEMENT | DIRECTOR, FACILITIES, SECURITY AND EMERGENCY MANAGEMENT.
| HEALTHCARE AND INSURANCE | ASSISTANT DIRECTOR, FEDERAL EMPLOYEE INSURANCE OPERATIONS. DEPUTY DIRECTOR, ACTUARY.
| RETIREMENT SERVICES | ASSOCIATE DIRECTOR, RETIREMENT SERVICES.
|  | DEPUTY ASSOCIATE DIRECTOR, OPERATIONS.
|  | DEPUTY ASSOCIATE DIRECTOR, RETIREMENT OPERATIONS.
|  | DEPUTY ASSOCIATE DIRECTOR, RETIREMENT SERVICES.
| MERIT SYSTEM ACCOUNTABILITY AND COMPLIANCE | DEPUTY ASSOCIATE DIRECTOR, MERIT SYSTEM AUDIT AND COMPLIANCE.
| NATIONAL BACKGROUND INVESTIGATION BUREAU | DEPUTY ASSISTANT DIRECTOR, OPERATIONS. DEPUTY ASSISTANT DIRECTOR, STRATEGIC SOURCING.
| OFFICE OF THE CHIEF FINANCIAL OFFICER | ASSOCIATE CHIEF FINANCIAL OFFICER FINANCIAL SERVICES. CHIEF FINANCIAL OFFICER.
|  | CHIEF FINANCIAL OFFICER AND DEPUTY CHIEF MANAGEMENT OFFICER.
|  | DEPUTY CHIEF FINANCIAL OFFICER.
| OFFICE OF PROCUREMENT OPERATIONS | DIRECTOR, OFFICE OF PROCUREMENT OPERATIONS.
OFFICE OF PERSONNEL MANAGEMENT OFFICE OF THE INSPECTOR GENERAL | OFFICE OF THE INSPECTOR GENERAL | DEPUTY INSPECTOR GENERAL.
| OFFICE OF INVESTIGATIONS | ASSISTANT INSPECTOR GENERAL FOR INVESTIGATIONS.
|  | DEPUTY ASSISTANT INSPECTOR GENERAL FOR INVESTIGATIONS.
| OFFICE OF AUDITS | ASSISTANT INSPECTOR GENERAL FOR AUDITS.
|  | DEPUTY ASSISTANT INSPECTOR GENERAL FOR AUDITS.
| OFFICE OF LEGAL AFFAIRS | ASSISTANT INSPECTOR GENERAL FOR LEGAL AFFAIRS.
| OFFICE OF POLICY, RESOURCES MANAGEMENT, AND OVERSIGHT | ASSISTANT INSPECTOR GENERAL FOR MANAGEMENT. CHIEF INFORMATION TECHNOLOGY OFFICER.
|  | DEPUTY ASSISTANT INSPECTOR GENERAL FOR MANAGEMENT.
OFFICE OF SPECIAL COUNSEL | OFFICE OF SPECIAL COUNSEL | ASSOCIATE SPECIAL COUNSEL FOR INVESTIGATION AND PROSECUTION (FIELD OFFICES).
| HEADQUARTERS, OFFICE OF SPECIAL COUNSEL | ASSOCIATE SPECIAL COUNSEL FOR GENERAL LAW DIVISION. ASSOCIATE SPECIAL COUNSEL FOR INVESTIGATION AND PROSECUTION.
|  | ASSOCIATE SPECIAL COUNSEL FOR INVESTIGATION AND PROSECUTION (HEADQUARTERS).
|  | ASSOCIATE SPECIAL COUNSEL FOR LEGAL COUNSEL AND POLICY.
|  | ASSOCIATE SPECIAL COUNSEL PLANNING AND OVERSIGHT.
|  | CHIEF FINANCIAL OFFICER AND DIRECTOR OF ADMINISTRATIVE SERVICES.
|  | CHIEF OPERATING OFFICER.
|  | DIRECTOR OF MANAGEMENT AND BUDGET.
|  | DIRECTOR, OFFICE OF PLANNING AND ANALYSIS.
|  | SENIOR ASSOCIATE SPECIAL COUNSEL FOR INVESTIGATION AND PROSECUTION.
OFFICE OF THE UNITED STATES TRADE REPRESENTATIVE | LABOR | ASSISTANT UNITED STATES TRADE REPRESENTATIVE FOR LABOR.
| INDUSTRY, MARKET ACCESS AND TELECOMMUNICATIONS | ASSISTANT UNITED STATES TRADE REPRESENTATIVE FOR INDUSTRY, MARKET ACCESS AND TELECOMMUNICATIONS.
| SOUTH ASIAN AFFAIRS | ASSISTANT UNITED STATES TRADE REPRESENTATIVE FOR SOUTH ASAIN AFFAIRS.
| MONITORING AND ENFORCEMENT | DIRECTOR OF INTERAGENCY CENTER FOR TRADE IMPLEMENTATION, MONITORING, AND ENFORCEMENT.
RAILROAD RETIREMENT BOARD | BOARD STAFF | CHIEF ACTUARY.
|  | CHIEF FINANCIAL OFFICER.
|  | CHIEF INFORMATION OFFICER.
|  | CHIEF OF TECHNOLOGY SERVICE.
|  | DEPUTY GENERAL COUNSEL.
|  | DIRECTOR OF ADMINISTRATION.
|  | DIRECTOR OF FIELD SERVICE.
|  | DIRECTOR OF FISCAL OPERATIONS.
|  | DIRECTOR OF HEARINGS AND APPEALS.
|  | DIRECTOR OF OPERATIONS.
|  | DIRECTOR OF POLICY AND SYSTEMS.
|  | DIRECTOR OF PROGRAMS.
|  | GENERAL COUNSEL.
| OFFICE OF INSPECTOR GENERAL | ASSISTANT INSPECTOR GENERAL FOR AUDIT. ASSISTANT INSPECTOR GENERAL FOR INVESTIGATIONS.
SELECTIVE SERVICE SYSTEM | SELECTIVE SERVICE SYSTEM | ASSOCIATE DIRECTOR FOR OPERATIONS.
| OFFICE OF THE DIRECTOR | ASSOCIATE DIRECTOR FOR OPERATIONS. SENIOR ADVISOR TO THE DIRECTOR.
SMALL BUSINESS ADMINISTRATION | OFFICE OF THE GENERAL COUNSEL | ASSOCIATE GENERAL COUNSEL FOR FINANCIAL LAW AND LENDER OVERSIGHT.
|  | ASSOCIATE GENERAL COUNSEL FOR GENERAL LAW.
|  | ASSOCIATE GENERAL COUNSEL FOR PROCUREMENT LAW.
|  | ASSOCIATE GENERAL COUNSEL LITIGATION.
| OFFICE OF FIELD OPERATIONS | DISTRICT DIRECTOR. DISTRICT DIRECTOR NEW YORK.
|  | DISTRICT DIRECTOR WASHINGTON METRO AREA DISTRICT OFFICE.
| OFFICE OF HEARINGS AND APPEALS | ASSISTANT ADMINISTRATOR FOR HEARINGS AND APPEALS.
| OFFICE OF THE CHIEF FINANCIAL OFFICER | CHIEF FINANCIAL OFFICER. DEPUTY CHIEF FINANCIAL OFFICER.
| OFFICE OF CAPITAL ACCESS | DIRECTOR FOR SURETY GUARANTEES. DIRECTOR OF ECONOMIC OPPORTUNITY.
| OFFICE OF INTERNATIONAL TRADE | DEPUTY ASSOCIATE ADMINISTRATOR FOR INTERNATIONAL TRADE.
|  | SENIOR ADVISOR TO THE ASSOCIATE ADMINISTRATOR FOR INTERNATIONAL TRADE.
| OFFICE OF INVESTMENT AND INNOVATION | DEPUTY ASSISTANT ADMINISTRATOR FOR INVESTMENT AND INNOVATION.
| OFFICE OF ENTREPRENEURIAL DEVELOPMENT | ASSOCIATE ADMINISTRATOR FOR SMALL BUSINESS DEVELOPMENT CENTERS.
|  | DEPUTY ASSOCIATE ADMINISTRATOR FOR ENTREPRENEURIAL DEVELOPMENT.
| OFFICE OF HUMAN RESOURCES SOLUTIONS | CHIEF HUMAN CAPITAL OFFICER.
| OFFICE OF GOVERNMENT CONTRACTING AND BUSINESS DEVELOPMENT | DEPUTY ASSOCIATE ADMINISTRATOR FOR GOVERNMENT CONTRACTING AND BUSINESS DEVELOPMENT. DIRECTOR FOR POLICY PLANNING AND LIAISON.
|  | DIRECTOR OF HUBZONE.
|  | DIRECTOR, ALL SMALL MENTOR PROTEGE PROGRAM.
| OFFICE OF THE OMBUDSMAN | DEPUTY NATIONAL OMBUDSMAN.
| OFFICE OF THE CHIEF OPERATING OFFICER | CHIEF HUMAN CAPITAL OFFICER. DEPUTY CHIEF HUMAN CAPITAL OFFICER.
|  | DEPUTY CHIEF INFORMATION OFFICER.
SMALL BUSINESS ADMINISTRATION OFFICE OF THE INSPECTOR GENERAL | SMALL BUSINESS ADMINISTRATION OFFICE OF THE INSPECTOR GENERAL | ASSISTANT INSPECTOR GENERAL FOR AUDITING DIVISION. ASSISTANT INSPECTOR GENERAL FOR INVESTIGATIONS.
|  | ASSISTANT INSPECTOR GENERAL FOR MANAGEMENT AND POLICY.
|  | COUNSEL TO THE INSPECTOR GENERAL.
|  | DEPUTY INSPECTOR GENERAL.
SOCIAL SECURITY ADMINISTRATION | OFFICE OF THE CHIEF ACTUARY | CHIEF ACTUARY. DEPUTY CHIEF ACTUARY (LONG-RANGE).
|  | DEPUTY CHIEF ACTUARY (SHORT-RANGE).
| OFFICE OF DISABILITY DETERMINATIONS | ASSOCIATE COMMISSIONER FOR DISABILITY DETERMINATIONS.
| OFFICE OF PERSONNEL | ASSOCIATE COMMISSIONER FOR PERSONNEL.
|  | DEPUTY ASSOCIATE COMMISSIONER FOR PERSONNEL.
| OFFICE OF CIVIL RIGHTS AND EQUAL OPPORTUNITY | ASSOCIATE COMMISSIONER FOR CIVIL RIGHTS AND EQUAL OPPORTUNITY.
|  | DEPUTY ASSOCIATE COMMISSIONER FOR CIVIL RIGHTS AND EQUAL OPPORTUNITY.
| OFFICE OF LABOR-MANAGEMENT AND EMPLOYEE RELATIONS | ASSOCIATE COMMISSIONER FOR LABOR-MANAGEMENT AND EMPLOYEE RELATIONS. DEPUTY ASSOCIATE COMMISSIONER FOR LABOR-MANAGEMENT AND EMPLOYEE RELATIONS.
| OFFICE OF BUDGET, FINANCE, AND MANAGEMENT | ASSISTANT DEPUTY COMMISSIONER FOR BUDGET, FINANCE, AND MANAGEMENT.
| OFFICE OF FINANCIAL POLICY AND OPERATIONS | ASSOCIATE COMMISSIONER, OFFICE OF FINANCE POLICY AND OPERATIONS. DEPUTY ASSOCIATE COMMISSIONER FINANCIAL POLICY AND OPERATIONS.
| OFFICE OF BUDGET | ASSOCIATE COMMISSIONER FOR BUDGET.
| OFFICE OF ACQUISITION AND GRANTS | ASSOCIATE COMMISSIONER FOR ACQUISITION AND GRANTS.
|  | DEPUTY ASSOCIATE COMMISSIONER FOR ACQUISITION AND GRANTS.
| OFFICE OF ANTI-FRAUD PROGRAMS | ASSOCIATE COMMISSIONER FOR ANTI-FRAUD PROGRAMS.
| OFFICE OF SYSTEMS | ASSISTANT DEPUTY COMMISSIONER FOR SYSTEMS (IT BUSINESS SUPPORT).
|  | ASSOCIATE COMMISSIONER FOR INFORMATION TECHNOLOGY FINANCIAL MANAGEMENT AND SUPPORT.
| OFFICE OF SYSTEMS OPERATIONS AND HARDWARE ENGINEERING | ASSISTANT DEPUTY COMMISSIONER FOR SYSTEMS (SYSTEMS OPERATIONS AND HARDWARE ENGINEERING). DEPUTY ASSOCIATE COMMISSIONER FOR HARDWARE ENGINEERING.
|  | DEPUTY ASSOCIATE COMMISSIONER FOR TELECOMMUNICATIONS AND SYSTEMS OPERATIONS.
|  | DEPUTY ASSOCIATE COMMISSIONER FOR TELECOMMUNICATIONS AND SYSTEMS OPERATIONS (TELECOMMUNICATIONS).
| OFFICE OF SYSTEMS OPERATIONS | ASSOCIATE COMMISSIONER FOR SYSTEMS OPERATIONS.
|  | DEPUTY ASSOCIATE COMMISSIONER FOR SYSTEMS OPERATIONS.
| OFFICE OF HARDWARE ENGINEERING | ASSOCIATE COMMISSIONER FOR HARDWARE ENGINEERING.
| OFFICE OF INFORMATION SECURITY | ASSOCIATE COMMISSIONER FOR INFORMATION SECURITY.
| OFFICE OF GENERAL LAW | ASSOCIATE GENERAL COUNSEL FOR GENERAL LAW.
|  | DEPUTY ASSOCIATE GENERAL COUNSEL FOR GENERAL LAW.
| OFFICE OF PROGRAM LAW | DEPUTY ASSOCIATE GENERAL COUNSEL FOR PROGRAM LAW.
| OFFICE OF PRIVACY AND DISCLOSURE | EXECUTIVE DIRECTOR FOR PRIVACY AND DISCLOSURE.
| OFFICE OF ANALYTICS, REVIEW, AND OVERSIGHT | ASSISTANT DEPUTY COMMISSIONER FOR ANALYTICS, REVIEW, AND OVERSIGHT. DEPUTY COMMISSIONER FOR ANALYTICS, REVIEW, AND OVERSIGHT.
| OFFICE OF APPELLATE OPERATIONS | DEPUTY EXECUTIVE DIRECTOR, OFFICE OF APPELLATE OPERATIONS.
|  | EXECUTIVE DIRECTOR, OFFICE OF APPELLATE OPERATIONS.
| OFFICE OF HEARINGS OPERATIONS | ASSISTANT DEPUTY COMMISSIONER FOR HEARINGS OPERATIONS.
|  | DEPUTY COMMISSIONER FOR HEARINGS OPERATIONS.
SOCIAL SECURITY ADMINISTRATION OFFICE OF THE INSPECTOR GENERAL | IMMEDIATE OFFICE OF THE INSPECTOR GENERAL | CHIEF OF STAFF. DEPUTY INSPECTOR GENERAL. SENIOR ADVISOR TO THE INSPECTOR GENERAL (LE).
| OFFICE OF COUNSEL TO THE INSPECTOR GENERAL | COUNSEL TO THE INSPECTOR GENERAL.
| OFFICE OF EXTERNAL RELATIONS | ASSISTANT INSPECTOR GENERAL FOR EXTERNAL RELATIONS.
| OFFICE OF AUDIT | ASSISTANT INSPECTOR GENERAL FOR AUDIT.
|  | DEPUTY ASSISTANT INSPECTOR GENERAL FOR AUDIT (FINANCIAL SYSTEMS AND OPERATIONS AUDITS).
|  | DEPUTY ASSISTANT INSPECTOR GENERAL FOR AUDIT (PROGRAM AUDIT AND EVALUATIONS).
| OFFICE OF INVESTIGATIONS | ASSISTANT INSPECTOR GENERAL FOR INVESTIGATIONS.
|  | DEPUTY ASSISTANT INSPECTOR GENERAL FOR INVESTIGATIONS (EASTERN FIELD OPERATIONS).
|  | DEPUTY ASSISTANT INSPECTOR GENERAL FOR INVESTIGATIONS (WESTERN FIELD OPERATIONS).
| OFFICE OF COMMUNICATIONS AND RESOURCE MANAGEMENT | ASSISTANT INSPECTOR GENERAL FOR COMMUNICATIONS AND RESOURCE MANAGEMENT.
|  | DEPUTY ASSISTANT INSPECTOR GENERAL FOR COMMUNICATIONS AND RESOURCE MANAGEMENT.
DEPARTMENT OF STATE | OFFICE OF CIVIL RIGHTS | DEPUTY DIRECTOR.
| OFFICE OF THE UNDER SECRETARY FOR MANAGEMENT | DEPUTY DIRECTOR. OMBUDSMAN.
| BUREAU OF ADMINISTRATION | DIRECTOR, OFFICE OF ACQUISITIONS. PROCUREMENT EXECUTIVE.
| BUREAU OF HUMAN RESOURCES | HUMAN RESOURCES OFFICER. PRINCIPAL DEPUTY ASSISTANT SECRETARY.
| BUREAU OF INTERNATIONAL SECURITY AND NONPROLIFERATION | OFFICE DIRECTOR.
| BUREAU OF ARMS CONTROL, VERIFICATION, AND COMPLIANCE | DIRECTOR, OFFICE OF STRATEGIC NEGOTIATIONS AND IMPLEMENTAITON.
DEPARTMENT OF STATE OFFICE OF THE INSPECTOR GENERAL | OFFICE OF INSPECTOR GENERAL | ASSISTANT INSPECTOR GENERAL FOR AUDITS. ASSISTANT INSPECTOR GENERAL FOR ENTERPRISE RISK MANAGEMENT.
|  | ASSISTANT INSPECTOR GENERAL FOR EVALUATIONS AND SPECIAL PROJECTS.
|  | ASSISTANT INSPECTOR GENERAL FOR INSPECTIONS.
|  | ASSISTANT INSPECTOR GENERAL FOR INVESTIGATIONS.
|  | ASSISTANT INSPECTOR GENERAL FOR MANAGEMENT.
|  | DEPUTY ASSISTANT INSPECTOR GENERAL FOR AUDITS.
|  | DEPUTY ASSISTANT INSPECTOR GENERAL FOR INSPECTIONS.
|  | DEPUTY ASSISTANT INSPECTOR GENERAL FOR INVESTIGATIONS.
|  | DEPUTY ASSISTANT INSPECTOR GENERAL FOR MANAGEMENT.
|  | DEPUTY ASSISTANT INSPECTOR GENERAL FOR MIDDLE EAST REGIONAL OFFICE.
|  | DEPUTY GENERAL COUNSEL.
|  | DEPUTY INSPECTOR GENERAL.
|  | GENERAL COUNSEL TO THE INSPECTOR GENERAL.
TRADE AND DEVELOPMENT AGENCY | OFFICE OF THE DIRECTOR | ASSISTANT DIRECTOR FOR POLICY AND PROGRAMS. DEPUTY DIRECTOR.
| OFFICE OF THE GENERAL COUNSEL | GENERAL COUNSEL.
DEPARTMENT OF TRANSPORTATION | SECRETARY | EXECUTIVE DIRECTOR FOR THE OFFICE OF THE UNDER SECRETARY OF TRANSPORTATION FOR POLICY.
| NATIONAL SURFACE TRANSPORTATION INNOVATIVE FINANCE BUREAU (BUILD AMERICA BUREAU) | EXECUTIVE DIRECTOR, BUILD AMERICA BUREAU.
| OFFICE OF INTELLIGENCE, SECURITY AND EMERGENCY RESPONSE | DEPUTY DIRECTOR. DIRECTOR, OFFICE OF INTELLIGENCE, SECURITY AND EMERGENCY RESPONSE.
| CHIEF INFORMATION OFFICER | CHIEF INFORMATION SECURITY OFFICER.
|  | CHIEF TECHNOLOGY OFFICER.
|  | DEPUTY CHIEF INFORMATION OFFICER.
| PUBLIC AFFAIRS | SENIOR ADVISOR FOR STRATEGIC COMMUNICATIONS.
| OFFICE OF SAFETY, ENERGY AND ENVIRONMENT | DIRECTOR.
| ASSISTANT SECRETARY FOR BUDGET AND PROGRAMS | CHIEF FINANCIAL OFFICER. DEPUTY ASSISTANT SECRETARY FOR BUDGET AND PROGRAMS.
|  | DEPUTY CHIEF FINANCIAL OFFICER.
| OFFICE OF BUDGET AND PROGRAM PERFORMANCE | DIRECTOR OF BUDGET AND PROGRAM PERFORMANCE.
| ASSISTANT SECRETARY FOR ADMINISTRATION | DEPUTY ASSISTANT SECRETARY FOR ADMINISTRATION.
| OFFICE OF THE SENIOR PROCUREMENT EXECUTIVE | SENIOR PROCUREMENT EXECUTIVE.
| ADMINISTRATOR | CHIEF FINANCIAL OFFICER.
|  | EXECUTIVE DIRECTOR.
| ASSOCIATE ADMINISTRATOR FOR RAILROAD SAFETY | ASSOCIATE ADMINISTRATOR FOR RAILROAD SAFETY/CHIEF SAFETY OFFICER.
| ADMINISTRATOR | EXECUTIVE DIRECTOR.
|  | EXECUTIVE SECRETARY, COMMITTEE ON MARINE TRANSPORTATION SYSTEMS.
| CHIEF COUNSEL | DEPUTY CHIEF COUNSEL.
| ASSOCIATE ADMINISTRATOR FOR STRATEGIC SEALIFT | DEPUTY ASSOCIATE ADMINISTRATOR FOR FEDERAL SEALIFT. DEPUTY ASSOCIATE ADMINISTRATOR FOR MARITIME EDUCATION AND TRAINING.
| ASSOCIATE ADMINISTRATOR FOR ENVIRONMENT AND COMPLIANCE | ASSOCIATE ADMINISTRATOR FOR ENVIRONMENT AND COMPLIANCE. DEPUTY ASSOCIATE ADMINISTRATOR FOR ENVIRONMENT AND COMPLIANCE.
| ADMINISTRATOR | DEPUTY ADMINISTRATOR AND SENIOR ADVISOR TO THE SECRETARY.
|  | DIRECTOR OF INNOVATIVE PROGRAM DELIVERY.
|  | EXECUTIVE DIRECTOR.
| OFFICE OF THE CHIEF FINANCIAL OFFICER | CHIEF FINANCIAL OFFICER. DEPUTY CHIEF FINANCIAL OFFICER AND CHIEF BUDGET OFFICER.
|  | DIRECTOR OFFICE OF CONTRACTS AND PROCUREMENT.
| OFFICE OF REAL ESTATE SERVICES | DIRECTOR, OFFICE OF REAL ESTATE SERVICES.
| ASSOCIATE ADMINISTRATOR FOR SAFETY | ASSOCIATE ADMINISTRATOR FOR SAFETY.
| OFFICE OF SAFETY RESEARCH AND DEVELOPMENT | DIRECTOR, OFFICE OF SAFETY RESEARCH, DEVELOPMENT AND TECHNOLOGY.
| ADMINISTRATOR | ASSISTANT ADMINISTRATOR/CHIEF SAFETY OFFICER.
|  | CHIEF FINANCIAL OFFICER.
| OFFICE OF LICENSING AND SAFETY INFORMATION | DIRECTOR, OFFICE FOR LICENSING AND SAFETY INFORMATION.
| OFFICE OF BUS AND TRUCK STANDARDS AND OPERATIONS | DIRECTOR, OFFICE OF BUS AND TRUCK STANDARDS AND OPERATIONS.
| OFFICE OF ENFORCEMENT AND COMPLIANCE | DIRECTOR, OFFICE OF ENFORCEMENT AND COMPLIANCE.
| ASSOCIATE ADMINISTRATOR FOR FIELD OPERATIONS | REGIONAL FIELD ADMINISTRATOR, MIDWEST REGION. REGIONAL FIELD ADMINISTRATOR, SOUTHERN REGION.
| ADMINISTRATOR | EXECUTIVE DIRECTOR.
| ASSOCIATE ADMINISTRATOR FOR REGIONAL OPERATIONS AND PROGRAM DELIVERY | ASSOCIATE ADMINISTRATOR FOR REGIONAL OPERATIONS AND PROGRAM DELIVERY.
| ASSOCIATE ADMINISTRATOR FOR ENFORCEMENT | ASSOCIATE ADMINISTRATOR FOR ENFORCEMENT. DIRECTOR, OFFICE OF DEFECTS INVESTIGATION.
|  | DIRECTOR, OFFICE OF VEHICLE SAFETY COMPLIANCE.
| SURFACE TRANSPORTATION BOARD | DIRECTOR OF PUBLIC ASST GOV AFFAIRS AND COMPLIANCE. DIRECTOR, OFFICE OF ECONOMICS.
|  | GENERAL COUNSEL.
|  | MANAGING DIRECTOR.
| OFFICE OF CHIEF SAFETY OFFICER | ASSISTANT ADMINISTRATOR AND CHIEF SAFETY OFFICER.
| OFFICE OF PIPELINE SAFETY | ASSOCIATE ADMINISTRATOR FOR PIPELINE SAFETY.
|  | DEPUTY ASSOCIATE ADMINISTRATOR FOR FIELD OPERATIONS.
|  | DEPUTY ASSOCIATE ADMINISTRATOR FOR POLICY AND PROGRAMS.
| OFFICE OF HAZARDOUS MATERIALS SAFETY | ASSOCIATE ADMINISTRATOR FOR HAZARDOUS MATERIALS SAFETY.
DEPARTMENT OF TRANSPORTATION OFFICE OF THE INSPECTOR GENERAL | OFFICE OF DEPUTY INSPECTOR GENERAL | DEPUTY INSPECTOR GENERAL.
| OFFICE OF ASSISTANT INSPECTOR GENERAL FOR LEGAL, LEGISLATIVE AND EXTERNAL AFFAIRS | ASSISTANT INSPECTOR GENERAL FOR LEGAL, LEGISLATIVE AND EXTERNAL AFFAIRS.
| OFFICE OF PRINCIPAL ASSISTANT INSPECTOR GENERAL FOR AUDITING AND EVALUATION | PRINCIPAL ASSISTANT INSPECTOR GENERAL FOR AUDITING AND EVALUATION.
| OFFICE OF ASSISTANT INSPECTOR GENERAL FOR AUDIT OPERATIONS AND SPECIAL REVIEWS | ASSISTANT INSPECTOR GENERAL FOR AUDIT OPERATIONS AND SPECIAL REVIEWS.
| OFFICE OF ASSISTANT INSPECTOR GENERAL FOR AVIATION AUDITS | ASSISTANT INSPECTOR GENERAL FOR AVIATION AUDITS. DEPUTY ASSISTANT INSPECTOR GENERAL FOR AVIATION AUDITS.
| OFFICE OF ASSISTANT INSPECTOR GENERAL FOR FINANCIAL AND INFORMATION TECHNOLOGY AUDITS | ASSISTANT INSPECTOR GENERAL FOR FINANCIAL AND INFORMATION TECHNOLOGY AUDITS.
| OFFICE OF ASSISTANT INSPECTOR GENERAL FOR SURFACE TRANSPORTATION AUDITS | ASSISTANT INSPECTOR GENERAL FOR SURFACE TRANSPORTATION AUDITS. DEPUTY ASSISTANT INSPECTOR GENERAL FOR SURFACE TRANSPORTATION AUDITS.
| OFFICE OF ASSISTANT INSPECTOR GENERAL FOR ACQUISITION AND PROCUREMENT AUDITS | ASSISTANT INSPECTOR GENERAL FOR ACQUISTION AND PROCUREMENT AUDITS.
| OFFICE OF PRINCIPAL ASSISTANT INSPECTOR GENERAL FOR INVESTIGATIONS | PRINCIPAL ASSISTANT INSPECTOR GENERAL FOR INVESTIGATIONS.
| OFFICE OF DEPUTY ASSISTANT INSPECTOR GENERAL FOR INVESTIGATIONS | DEPUTY ASSISTANT INSPECTOR GENERAL FOR INVESTIGATIONS.
| OFFICE OF ASSISTANT INSPECTOR GENERAL FOR ADMINISTRATION AND MANAGEMENT | ASSISTANT INSPECTOR GENERAL FOR ADMINISTRATION AND MANAGEMENT.
DEPARTMENT OF THE TREASURY | SECRETARY OF THE TREASURY | DIRECTOR, OFFICE OF SMALL AND DISADVANTAGED BUSINESS UTILIZATION.
| FISCAL ASSISTANT SECRETARY | DEPUTY ASSISTANT SECRETARY FOR FISCAL OPERATIONS AND POLICY.
|  | DEPUTY ASSISTANT SECRETARY, OFFICE OF ACCOUNTING POLICY AND FINANCIAL TRANSPARENCY.
|  | FISCAL ASSISTANT SECRETARY.
| BUREAU OF THE FISCAL SERVICE | COMMISSIONER, BUREAU OF THE FISCAL SERVICE. ASSISTANT COMMISSIONER (OFFICE OF MANAGEMENT SERVICES).
|  | ASSISTANT COMMISSIONER (PUBLIC DEBT ACCOUNTING).
|  | ASSISTANT COMMISSIONER, DEBT MANAGEMENT SERVICES.
|  | ASSISTANT COMMISSIONER, FEDERAL FINANCE.
|  | ASSISTANT COMMISSIONER, GOVERNMENTWIDE ACCOUNTING.
|  | ASSISTANT COMMISSIONER, INFORMATION AND SECURITY SERVICES (CHIEF INFORMATION OFFICER).
|  | ASSISTANT COMMISSIONER, MANAGEMENT (CHIEF FINANCIAL OFFICER).
|  | ASSISTANT COMMISSIONER, PAYMENT MANAGEMENT.
|  | ASSISTANT COMMISSIONER, WHOLESALE SECURITIES SERVICES.
|  | DEPUTY ASSISTANT COMMISSIONER (DEBT MANAGEMENT SERVICES).
|  | DEPUTY ASSISTANT COMMISSIONER (FISCAL ACCOUNTING OPERATIONS).
|  | DEPUTY ASSISTANT COMMISSIONER (SHARED SERVICES).
|  | DEPUTY ASSISTANT COMMISSIONER FOR INFORMATION SERVICES.
|  | DEPUTY ASSISTANT COMMISSIONER FOR INFRASTRUCTURE AND OPERATIONS (OFFICE OF INFORMATION AND SECURITY SERVICES).
|  | DEPUTY ASSISTANT COMMISSIONER FOR PROGRAM SOLUTIONS AND SUPPORT (TREASURY SECURITIES SERVICES).
|  | DEPUTY ASSISTANT COMMISSIONER FOR SECURITIES MANAGEMENT (TREASURY SECURITIES SERVICES).
|  | DEPUTY ASSISTANT COMMISSIONER, COMPLIANCE AND REPORTING GROUP.
|  | DEPUTY ASSISTANT COMMISSIONER, PAYMENT MANAGEMENT.
|  | DEPUTY CHIEF INFORMATION OFFICER.
|  | DEPUTY COMMISSIONER, ACCOUNTING AND SHARED SERVICES.
|  | DEPUTY COMMISSIONER, FINANCE AND ADMINISTRATION.
|  | DEPUTY COMMISSIONER, FINANCIAL SERVICES AND OPERATIONS.
|  | DIRECTOR, DEBT MANAGEMENT SERVICES OPERATIONS, EAST.
|  | DIRECTOR, DEBT MANAGEMENT SERVICES OPERATIONS, WEST.
|  | DIRECTOR, REGIONAL FINANCIAL CENTER (KANSAS CITY).
|  | DIRECTOR, REGIONAL FINANCIAL CENTER (PHILADELPHIA).
|  | DIRECTOR, REGIONAL FINANCIAL CENTER (SAN FRANCISCO).
|  | DIRECTOR, REVENUE COLLECTION GROUP.
|  | EXECUTIVE DIRECTOR (ADMINISTRATIVE RESOURCE CENTER).
|  | EXECUTIVE DIRECTOR (DO NOT PAY BUSINESS CENTER STAFF).
|  | EXECUTIVE DIRECTOR (MYRA).
|  | EXECUTIVE DIRECTOR, GOVERNMENT SECURITIES REGULATIONS.
| ASSISTANT SECRETARY FOR FINANCIAL INSTITUTIONS | DEPUTY DIRECTOR, FEDERAL INSURANCE OFFICE. DIRECTOR, FEDERAL INSURANCE OFFICE.
| ASSISTANT SECRETARY FOR TERRORIST FINANCING | DIRECTOR, EXECUTIVE OFFICE FOR ASSET FORFEITURE.
| FINANCIAL CRIMES ENFORCEMENT NETWORK | ASSOCIATE DIRECTOR, ENFORCEMENT DIVISION.
|  | ASSOCIATE DIRECTOR, INTELLIGENCE DIVISION.
|  | ASSOCIATE DIRECTOR, LIAISON DIVISION.
|  | ASSOCIATE DIRECTOR, MANAGEMENT PROGRAMS DIVISION.
|  | ASSOCIATE DIRECTOR, POLICY DIVISION.
|  | ASSOCIATE DIRECTOR, TECHNOLOGY SOLUTIONS AND SERVICES DIVISION/CHIEF INFORMATION OFFICER.
|  | DEPUTY DIRECTOR.
|  | DIRECTOR, FINANCIAL CRIMES ENFORCEMENT NETWORK.
| ASSISTANT SECRETARY FOR INTELLIGENCE AND ANALYSIS | DEPUTY ASSISTANT SECRETARY FOR SECURITY.
| GENERAL COUNSEL | CHIEF COUNSEL, FINANCIAL CRIMES ENFORCEMENT NETWORK.
| ASSISTANT SECRETARY (TAX POLICY) | DIRECTOR, ECONOMIC MODELING AND COMPUTER APPLICATIONS.
| ALCOHOL AND TOBACCO TAX AND TRADE BUREAU | ADMINISTRATOR, ALCOHOL AND TOBACCO TAX AND TRADE BUREAU. ASSISTANT ADMINISTRATOR INFORMATION RESOURCES/CHIEF INFORMATION OFFICER.
|  | ASSISTANT ADMINISTRATOR, EXTERNAL AFFAIRS/CHIEF OF STAFF.
|  | ASSISTANT ADMINISTRATOR, FIELD OPERATIONS.
|  | ASSISTANT ADMINISTRATOR, HEADQUARTER OPERATIONS.
|  | ASSISTANT ADMINISTRATOR, MANAGEMENT/CHIEF FINANCIAL OFFICER.
|  | ASSISTANT ADMINISTRATOR, PERMITTING AND TAXATION.
|  | DEPUTY ADMINISTRATOR, ALCOHOL AND TOBACCO TAX AND TRADE BUREAU.
| ASSISTANT SECRETARY FOR MANAGEMENT | DEPUTY CHIEF FINANCIAL OFFICER. DIRECTOR OFFICE OF MINORITY AND WOMEN INCLUSION.
|  | DIRECTOR, OFFICE OF PROCUREMENT.
| INTERNAL REVENUE SERVICE | ACCOUNTS MANAGEMENT FIELD DIRECTOR. ACCOUNTS MANAGEMENT FIELD DIRECTOR—ANDOVER.
|  | ACIO, AFFORDABLE CARE ACT PMO.
|  | AREA DIRECTOR, FIELD ASSISTANCE.
|  | AREA DIRECTOR, FIELD ASSISTANCE—ATLANTA.
|  | AREA DIRECTOR, STAKEHOLDER PARTNERSHIP, EDUCATION, AND COMMUNICATION.
|  | ASSISTANT DEPUTY COMMISSIONER (INTERNATIONAL).
|  | ASSISTANT DEPUTY COMMISSIONER COMPLIANCE INTEGRATION.
|  | ASSISTANT DEPUTY COMMISSIONER FOR SERVICES AND ENFORCEMENT.
|  | ASSISTANT DEPUTY COMMISSIONER GOVERNMENT ENTITIES AND SHARED SERVICES.
|  | ASSOCIATE CHIEF FINANCIAL OFFICER FOR INTERNAL FINANCIAL MANAGEMENT—NATIONAL HEADQUARTERS.
|  | ASSOCIATE CHIEF INFORMATION OFFICER FOR APPLICATIONS DEVELOPMENT.
|  | ASSOCIATE CHIEF INFORMATION OFFICER FOR ENTERPRISE OPERATIONS.
|  | ASSOCIATE CHIEF INFORMATION OFFICER FOR USER AND NETWORK SERVICES.
|  | ASSOCIATE CHIEF INFORMATION OFFICER, CYBERSECURITY.
|  | ASSOCIATE CHIEF INFORMATION OFFICER, ENTERPRISE INFORMATION TECHNOLOGY PROGRAM MANAGEMENT.
|  | ASSOCIATE CHIEF INFORMATION OFFICER, STRATEGY AND PLANNING.
|  | CHIEF FINANCIAL OFFICER, INTERNAL REVENUE SERVICE.
|  | CHIEF HUMAN CAPITAL OFFICER, INTERNAL REVENUE SERVICE.
|  | CHIEF INFORMATION OFFICER.
|  | CHIEF OF STAFF.
|  | CHIEF RISK OFFICER AND SENIOR ADVISOR.
|  | CHIEF, AGENCY-WIDE SHARED SERVICES.
|  | CHIEF, APPEALS.
|  | CHIEF, COMMUNICATIONS AND LIAISON.
|  | CHIEF, CRIMINAL INVESTIGATION.
|  | COMMISSIONER, LARGE AND MID-SIZED BUSINESS DIVISION.
|  | COMMISSIONER, SMALL BUSINESS AND SELF EMPLOYED.
|  | COMMISSIONER, TAX EXEMPT AND GOVERNMENT ENTITIES DIVISION.
|  | COMMISSIONER, WAGE AND INVESTMENT.
|  | COMPLIANCE SERVICES FIELD DIRECTOR.
|  | DEPUTY ASSOCIATE CHIEF FINANCIAL OFFICER FOR FINANCIAL MANAGEMENT.
|  | DEPUTY ASSOCIATE CHIEF INFORMATION OFFICER FOR APPLICATIONS DEVELOPMENT.
|  | DEPUTY ASSOCIATE CHIEF INFORMATION OFFICER FOR CYBERSECURITY.
|  | DEPUTY ASSOCIATE CHIEF INFORMATION OFFICER, ENTERPRISE OPERATIONS.
|  | DEPUTY CHIEF FINANCIAL OFFICER.
|  | DEPUTY CHIEF HUMAN CAPITAL OFFICER, INTERNAL REVENUE SERVICE.
|  | DEPUTY CHIEF INFORMATION OFFICER FOR OPERATIONS.
|  | DEPUTY CHIEF INFORMATION OFFICER FOR STRATEGY/MODERNIZATION.
|  | DEPUTY CHIEF OF STAFF.
|  | DEPUTY CHIEF PROCUREMENT OFFICER.
|  | DEPUTY CHIEF, APPEALS.
|  | DEPUTY CHIEF, CRIMINAL INVESTIGATION.
|  | DEPUTY COMMISSIONER (DOMESTIC), LARGE BUSINESS AND INTERNATIONAL.
|  | DEPUTY COMMISSIONER, OPERATIONS SUPPORT.
|  | DEPUTY COMMISSIONER, SMALL BUSINESS/SELF-EMPLOYED.
|  | DEPUTY COMMISSIONER, WAGE AND INVESTMENTS.
|  | DEPUTY DIRECTOR, ENTERPRISE COMPUTING CENTER.
|  | DEPUTY DIRECTOR, FACILITIES MANAGEMENT AND SECURITY SERVICES.
|  | DEPUTY DIRECTOR, RETURN INTEGRITY AND CORRESPONDENCE SERVICES.
|  | DEPUTY DIRECTOR, RETURN PREPARER OFFICE.
|  | DEPUTY DIRECTOR, STRATEGY AND FINANCE.
|  | DEPUTY DIRECTOR, SUBMISSION PROCESSING.
|  | DEPUTY DIVISION COMMISSIONER, TAX EXEMPT AND GOVERNMENT ENTITIES.
|  | DEPUTY DIVISION COUNSEL #2 (OPERATIONS)/SMALL BUSINESS AND SELF EMPLOYED.
|  | DEPUTY NATIONAL TAXPAYER ADVOCATE.
|  | DIRECTOR OF FIELD OPERATIONS.
|  | DIRECTOR OF FIELD OPERATIONS, HEAVY MANUFACTURING AND PHARMACEUTICALS, SOUTHEAST.
|  | DIRECTOR OF FIELD OPERATIONS—WESTERN AREA, CRIMINAL INVESTIGATION.
|  | DIRECTOR, ACCOUNTS MANAGEMENT, WAGE AND INVESTMENT.
|  | DIRECTOR, ADVANCE PRICING AND MUTUAL AGREEMENT.
|  | DIRECTOR, ADVANCED PRICING AND MUTUAL AGREEMENT.
|  | DIRECTOR, AFFORDABLE CARE ACT.
|  | DIRECTOR, APPEALS POLICY AND VALUATION.
|  | DIRECTOR, BUSINESS PLANNING AND RISK MANAGEMENT.
|  | DIRECTOR, BUSINESS SYSTEMS PLANNING.
|  | DIRECTOR, BUSINESS SYSTEMS PLANNING—LARGE AND MID-SIZE BUSINESS.
|  | DIRECTOR, CAMPUS COLLECTION FRESNO.
|  | DIRECTOR, CAMPUS COMPLIANCE OPERATIONS.
|  | DIRECTOR, CAMPUS OPERATIONS.
|  | DIRECTOR, CASE AND OPERATIONS SUPPORT.
|  | DIRECTOR, COLLECTION.
|  | DIRECTOR, COLLECTION—ANDOVER.
|  | DIRECTOR, COLLECTION—ATLANTA.
|  | DIRECTOR, COLLECTION—CAMPUS.
|  | DIRECTOR, COLLECTION—CENTRAL.
|  | DIRECTOR, COLLECTION—FIELD.
|  | DIRECTOR, COLLECTION—HEADQUARTERS.
|  | DIRECTOR, COLLECTION—QUALITY AND TECHNICAL SUPPORT.
|  | DIRECTOR, COLLECTION—SPECIAL.
|  | DIRECTOR, COLLECTION APPEALS.
|  | DIRECTOR, COLLECTION AREA—GULF STATE.
|  | DIRECTOR, COLLECTION POLICY.
|  | DIRECTOR, COLLECTION SOUTHWEST.
|  | DIRECTOR, COLLECTION STRATEGY AND ORGANIZATION.
|  | DIRECTOR, COMMUNICATION, ASSISTANCE, RESEARCH AND EDUCATION.
|  | DIRECTOR, COMPLIANCE STRATEGY AND POLICY.
|  | DIRECTOR, CONTACT CENTER SUPPORT DIVISION.
|  | DIRECTOR, CORPORATE DATA.
|  | DIRECTOR, CUSTOMER ACCOUNT SERVICES—WAGE AND INVESTMENT.
|  | DIRECTOR, CUSTOMER SERVICE.
|  | DIRECTOR, CUSTOMER SERVICE AND STAKEHOLDERS.
|  | DIRECTOR, CYBERSECURITY POLICY AND PROGRAMS.
|  | DIRECTOR, DATA DELIVERY SERVICES.
|  | DIRECTOR, DATA MANAGEMENT DIVISION.
|  | DIRECTOR, DATA MANAGEMENT SERVICES AND SUPPORT.
|  | DIRECTOR, DATA SOLUTIONS.
|  | DIRECTOR, DEMAND MANAGEMENT AND PROJECT GOVERNANCE.
|  | DIRECTOR, E-FILE SERVICES.
|  | DIRECTOR, EMERGING PROGRAMS AND INITIATIVES.
|  | DIRECTOR, EMPLOYEE PLANS.
|  | DIRECTOR, EMPLOYEE PLANS, RULINGS, AND AGREEMENTS.
|  | DIRECTOR, ENTERPRISE ACTIVITIES.
|  | DIRECTOR, ENTERPRISE ARCHITECTURE.
|  | DIRECTOR, ENTERPRISE CASE MANAGEMENT.
|  | DIRECTOR, ENTERPRISE NETWORKS OPERATIONS.
|  | DIRECTOR, ENTERPRISE SYSTEMS TESTING.
|  | DIRECTOR, ENTERPRISE TECHNOLOGY IMPLEMENTATION.
|  | DIRECTOR, EXAMINATION—CAMPUS.
|  | DIRECTOR, EXAMINATION—CENTRAL.
|  | DIRECTOR, EXAMINATION—GULF STATES.
|  | DIRECTOR, EXAMINATION—OGDEN.
|  | DIRECTOR, EXAMINATION—SPECIALITY TAX.
|  | DIRECTOR, EXAMINATION AREA.
|  | DIRECTOR, EXAMINATION AREA—NORTH ATLANTIC.
|  | DIRECTOR, EXAMINATION AREA MIDWEST.
|  | DIRECTOR, EXAMINATION FIELD.
|  | DIRECTOR, EXAMINATION HEADQUARTERS.
|  | DIRECTOR, EXAMINATION MIDWEST AREA.
|  | DIRECTOR, EXAMINATION SOUTHWEST AREA.
|  | DIRECTOR, EXEMPT ORGANIZATIONS.
|  | DIRECTOR, FACILITIES MANAGEMENT AND SEC SERVICES.
|  | DIRECTOR, FIELD ASSISTANCE—WAGE AND INVESTMENT.
|  | DIRECTOR, FIELD OPERATIONS EAST.
|  | DIRECTOR, FIELD OPERATIONS, ENGINEERING.
|  | DIRECTOR, FIELD OPERATIONS, NATURAL RESOURCES AND CONSTRUCTION—WEST.
|  | DIRECTOR, FIELD OPERATIONS, RETAIL FOOD, PHARMACEUTICALS, AND HEALTHCARE—WEST.
|  | DIRECTOR, FIELD OPERATIONS, RETAILERS, FOOD, TRANSPORTATION AND HEALTHCARE—EAST.
|  | DIRECTOR, FILING AND PREMIUM TAX CREDIT.
|  | DIRECTOR, FINANCIAL MANAGEMENT SERVICES.
|  | DIRECTOR, HUMAN RESOURCES.
|  | DIRECTOR, IDENTITY THEFT VICTIM ASSISTANCE.
|  | DIRECTOR, IMPLEMENTATION AND TESTING.
|  | DIRECTOR, INFRASTRUCTURE SERVICES.
|  | DIRECTOR, INTERNAL MANAGEMENT.
|  | DIRECTOR, INTERNET DEVELOPMENT SERVICES.
|  | DIRECTOR, JOINT OPERATIONS CENTER.
|  | DIRECTOR, KNOWLEDGE DEVELOPMENT AND APPLICATION.
|  | DIRECTOR, MAINFRAME SUPPORT AND SERVICES.
|  | DIRECTOR, MANAGEMENT SERVICES.
|  | DIRECTOR, MEDIA AND PUBLICATIONS (WASHINGTON, DC).
|  | DIRECTOR, MICROSOFT INITIATIVES PROGRAM.
|  | DIRECTOR, MODERNIZATION, DEVELOPMENT AND DELIVERY.
|  | DIRECTOR, NETWORK ENGINEERING.
|  | DIRECTOR, OFFICE OF PRIVACY, INFORMATION PROTECTION AND DATA SECURITY.
|  | DIRECTOR, OFFICE OF PROFESSIONAL RESPONSIBILITY.
|  | DIRECTOR, ONLINE SERVICES.
|  | DIRECTOR, OPERATIONS SERVICE SUPPORT.
|  | DIRECTOR, OPERATIONS SUPPORT.
|  | DIRECTOR, PASS THROUGH ENTITIES.
|  | DIRECTOR, PRIVACY AND INFORMATION PROTECTION.
|  | DIRECTOR, PROCUREMENT.
|  | DIRECTOR, PRODUCT MANAGEMENT.
|  | DIRECTOR, REFUND CRIMES.
|  | DIRECTOR, REFUNDABLE CREDITS EXAMINATION OPERATIONS.
|  | DIRECTOR, REFUNDABLE CREDITS POLICY AND PROGRAM MANAGEMENT.
|  | DIRECTOR, REPORTING COMPLIANCE.
|  | DIRECTOR, RESEARCH AND ORGANIZATIONAL.
|  | DIRECTOR, RESEARCH, APPLIED ANALYTICS AND STATISTICS.
|  | DIRECTOR, RETURN INTEGRITY AND COMPLIANCE SERVICES.
|  | DIRECTOR, RETURN PREPARER OFFICE.
|  | DIRECTOR, SECURITY OPERATIONS AND STANDARDS.
|  | DIRECTOR, SERVER SUPPORT AND SERVICES.
|  | DIRECTOR, SERVICE DELIVERY MANAGEMENT.
|  | DIRECTOR, SERVICEWIDE OPERATIONS.
|  | DIRECTOR, SOLUTION ENGINEERING.
|  | DIRECTOR, SPECIALIZED EXAMINATION PROGRAMS AND REFERRALS.
|  | DIRECTOR, STAKEHOLDER, PARTNERSHIP, EDUCATION AND COMMUNICATIONS.
|  | DIRECTOR, STATISTICS OF INCOME.
|  | DIRECTOR, STRATEGIC SUPPLIER MANAGEMENT.
|  | DIRECTOR, STRATEGY AND FINANCE.
|  | DIRECTOR, STRATEGY, RESEARCH AND PROGRAM PLANNING.
|  | DIRECTOR, SUBMISSION PROCESSING.
|  | DIRECTOR, TAX FORMS AND PUBLICATIONS.
|  | DIRECTOR, TECHNOLOGY SOLUTIONS.
|  | DIRECTOR, UNIFIED COMMUNICATIONS.
|  | DIRECTOR, WHISTLEBLOWER OFFICE.
|  | EXECUTIVE DIRECTOR, BUSINESS MODERNIZATION.
|  | EXECUTIVE DIRECTOR, CASE ADVOCACY INTAKE AND TECHNICAL SUPPORT.
|  | EXECUTIVE DIRECTOR, INVESTIGATIVE AND ENFORCEMENT OPERATIONS.
|  | EXECUTIVE DIRECTOR, OFFICE OF EQUITY, DIVERSITY, AND INCLUSION.
|  | FIELD DIRECTOR, SUBMISSION PROCESSING—OGDEN.
|  | FIELD DIRECTOR, SUBMISSION PROCESSING—FRESNO.
|  | INDUSTRY DIRECTOR—FINANCIAL SERVICES—LARGE AND MID SIZE BUSINESS.
|  | INTERNAL REVENUE SERVICE IDENTITY ASSURANCE EXECUTIVE.
|  | NATIONAL DIRECTOR LEGISLATIVE AFFAIRS.
|  | PROGRAM MANAGER.
|  | PROJECT DIRECTOR.
|  | PROJECT DIRECTOR FOR DEPUTY COMMISSIONER SERVICES AND ENFORCEMENT.
|  | PROJECT DIRECTOR, ENTERPRISE PROGRAM MANAGEMENT.
|  | SENIOR ADVISOR AND TECHNOLOGY ADVISOR.
|  | SENIOR DIRECTOR FOR OPERATIONS, AFFORDABLE CARE ACT.
|  | SPECIAL AGENT IN CHARGE.
|  | SPECIAL AGENT IN CHARGE—CRIMINAL INVESTIGATION (2).
|  | SPECIAL ASSISTANT.
|  | SPECIAL ASSISTANT TO THE CHIEF, APPEALS.
|  | SUBMISSION PROCESSING FIELD DIRECTOR.
| INTERNAL REVENUE SERVICE CHIEF COUNSEL | AREA COUNSEL (LARGE AND MID SIZE BUSINESS) (AREA 2) (HEAVY MANUFACTURING, CONSTRUCTION AND TRANSPORTATION).
|  | AREA COUNSEL (LARGE AND MID SIZE BUSINESS) (AREA 4) (NATURAL RESOURCES).
|  | AREA COUNSEL (LARGE BUSINESS AND INTERNATIONAL).
|  | AREA COUNSEL (LARGE BUSINESS AND INTERNATIONAL) (AREA 1).
|  | AREA COUNSEL (SMALL BUSINESS AND SELF EMPLOYED).
|  | AREA COUNSEL (SMALL BUSINESS AND SELF EMPLOYED) (AREA 7).
|  | AREA COUNSEL (SMALL BUSINESS AND SELF EMPLOYED)—CHICAGO.
|  | AREA COUNSEL (SMALL BUSINESS AND SELF EMPLOYED)—DENVER.
|  | AREA COUNSEL (SMALL BUSINESS AND SELF EMPLOYED)—JACKSONVILLE.
|  | AREA COUNSEL (SMALL BUSINESS AND SELF EMPLOYED)—LOS ANGELES.
|  | AREA COUNSEL (SMALL BUSINESS AND SELF EMPLOYED)—NEW YORK.
|  | AREA COUNSEL (SMALL BUSINESS AND SELF EMPLOYED)—PHILADELPHIA.
|  | AREA COUNSEL, LARGE AND MID SIZE BUSINESS (AREA 3) (FOOD, MASS RETAILERS, AND PHARMACEUTICALS).
|  | AREA COUNSEL, SMALL BUSINESS AND SELF EMPLOYED, AREA 9.
|  | ASSOCIATE CHIEF COUNSEL (CORPORATE).
|  | ASSOCIATE CHIEF COUNSEL (FINANCE AND MANAGEMENT).
|  | ASSOCIATE CHIEF COUNSEL (FINANCIAL INSTITUTIONS AND PRODUCTS).
|  | ASSOCIATE CHIEF COUNSEL (GENERAL LEGAL SERVICES).
|  | ASSOCIATE CHIEF COUNSEL (INCOME TAX AND ACCOUNTING).
|  | ASSOCIATE CHIEF COUNSEL (INTERNATIONAL).
|  | ASSOCIATE CHIEF COUNSEL (PASSTHROUGHS AND SPECIAL INDUSTRIES).
|  | ASSOCIATE CHIEF COUNSEL (PROCEDURE AND ADMINISTRATION).
|  | ASSOCIATE CHIEF COUNSEL (TAX EXEMPT AND GOVERNMENT ENTITIES).
|  | DEPUTY ASSOCIATE CHIEF COUNSEL #2 (INCOME TAX AND ACCOUNTING).
|  | DEPUTY ASSOCIATE CHIEF COUNSEL (CORPORATE).
|  | DEPUTY ASSOCIATE CHIEF COUNSEL (FINANCE AND MANAGEMENT).
|  | DEPUTY ASSOCIATE CHIEF COUNSEL (FINANCIAL INSTITUTIONS AND PRODUCTS).
|  | DEPUTY ASSOCIATE CHIEF COUNSEL (GENERAL LEGAL SERVICES).
|  | DEPUTY ASSOCIATE CHIEF COUNSEL (GENERAL LEGAL SERVICES) (LABOR AND PERSONNEL LAW).
|  | DEPUTY ASSOCIATE CHIEF COUNSEL (INTERNATIONAL FIELD SERVICE AND LITIGATION).
|  | DEPUTY ASSOCIATE CHIEF COUNSEL (INTERNATIONAL TECHNICAL).
|  | DEPUTY ASSOCIATE CHIEF COUNSEL (PROCEDURE AND ADMINISTRATION).
|  | DEPUTY ASSOCIATE CHIEF COUNSEL, (PASSTHROUGHS AND SPECIAL INDUSTRIES).
|  | DEPUTY ASSOCIATE CHIEF COUNSEL, OPERATIONS AND INTERNATIONAL PROGRAMS.
|  | DEPUTY ASSOCIATE CHIEF COUNSEL, TRANSFER PRICING AND INTERNATIONAL PROGRAMS.
|  | DEPUTY CHIEF COUNSEL (OPERATIONS).
|  | DEPUTY CHIEF COUNSEL (TECHNICAL).
|  | DEPUTY DIVISION COUNSEL (LARGE AND MID-SIZE BUSINESS).
|  | DEPUTY DIVISION COUNSEL (SMALL BUSINESS AND SELF EMPLOYED).
|  | DEPUTY DIVISION COUNSEL (TECHNICAL), LARGE BUSINESS AND INTERNATIONAL.
|  | DEPUTY DIVISION COUNSEL AND DEPUTY ASSOCIATE CHIEF COUNSEL (TAX EXEMPT AND GOVERNMENT ENTITIES).
|  | DEPUTY DIVISION COUNSEL, INTERNATIONAL (LARGE BUSINESS AND INTERNATIONAL).
|  | DEPUTY DIVISION COUNSEL/DEPUTY ASSISTANT CHIEF COUNSEL (CRIMINAL TAX).
|  | DEPUTY DIVISION COUNSEL/DEPUTY ASSOCIATE CHIEF COUNSEL.
|  | DEPUTY DIVISION COUNSEL/DEPUTY ASSOCIATE CHIEF COUNSEL (TAX EXEMPT AND GOVERNMENT ENTITIES).
|  | DEPUTY TO THE SPECIAL COUNSEL TO THE CHIEF COUNSEL.
|  | DIVISION COUNSEL (SMALL BUSINESS AND SELF EMPLOYED).
|  | DIVISION COUNSEL (TAX EXEMPT AND GOVERNMENT ENTITIES) DC.
|  | DIVISION COUNSEL (WAGE AND INVESTMENT).
|  | DIVISION COUNSEL, LARGE BUSINESS AND INTERNATIONAL.
|  | DIVISION COUNSEL/ASSOCIATE CHIEF COUNSEL (CRIMINAL TAX).
|  | HEALTHCARE COUNSEL (OFFICE OF HEALTHCARE).
|  | SPECIAL COUNSEL TO THE CHIEF COUNSEL.
|  | SPECIAL COUNSEL TO THE NATIONAL TAXPAYER ADVOCATE.
| UNITED STATES MINT | ASSOCIATE DIRECTOR FOR FINANCIAL MANAGEMENT/CHIEF FINANCIAL OFFICER.
|  | ASSOCIATE DIRECTOR FOR INFORMATION TECHNOLOGY (CHIEF INFORMATION OFFICER).
|  | ASSOCIATE DIRECTOR FOR MANUFACTURING.
|  | ASSOCIATE DIRECTOR, ENVIRONMENT, SAFETY AND HEALTH.
|  | CHIEF ADMINISTRATIVE OFFICER.
|  | DIRECTOR, OFFICE OF COIN STUDIES.
|  | PLANT MANAGER, PHILADELPHIA.
DEPARTMENT OF THE TREASURY OFFICE OF THE INSPECTOR GENERAL | IMMEDIATE OFFICE | DEPUTY INSPECTOR GENERAL. SPECIAL DEPUTY INSPECTOR GENERAL FOR SMALL BUSINESS LENDING FUND.
| OFFICE OF COUNSEL | COUNSEL TO THE INSPECTOR GENERAL.
| OFFICE OF MANAGEMENT | ASSISTANT INSPECTOR GENERAL FOR MANAGEMENT.
| OFFICE OF AUDIT | ASSISTANT INSPECTOR GENERAL FOR AUDIT.
|  | DEPUTY ASSISTANT INSPECTOR GENERAL FOR AUDIT (FINANCE MANAGEMENT AND TRANSPARENCY AUDIT.
|  | DEPUTY ASSISTANT INSPECTOR GENERAL FOR AUDIT (FINANCIAL MANAGEMENT).
|  | DEPUTY ASSISTANT INSPECTOR GENERAL FOR AUDIT (FINANCIAL SECTOR AUDITS).
|  | DEPUTY ASSISTANT INSPECTOR GENERAL FOR AUDIT (PROGRAM AUDITS).
| OFFICE OF INVESTIGATIONS | ASSISTANT INSPECTOR GENERAL FOR INVESTIGATIONS.
|  | DEPUTY ASSISTANT INSPECTOR GENERAL FOR INVESTIGATIONS.
DEPARTMENT OF THE TREASURY SPECIAL INSPECTOR GENERAL FOR THE TROUBLED ASSET RELIEF PROGRAM | DEPARTMENT OF THE TREASURY SPECIAL INSPECTOR GENERAL FOR THE TROUBLED ASSET RELIEF PROGRAM | ASSISTANT DEPUTY SPECIAL INSPECTOR GENERAL FOR AUDIT AND EVALUATION. ASSISTANT DEPUTY SPECIAL INSPECTOR GENERAL FOR INVESTIGATIONS. DEPUTY SPECIAL INSPECTOR GENERAL AUDIT.
|  | DEPUTY SPECIAL INSPECTOR GENERAL OPERATIONS.
|  | DEPUTY SPECIAL INSPECTOR GENERAL, INVESTIGATIONS.
|  | GENERAL COUNSEL FOR SPECIAL INSPECTOR GENERAL FOR THE TROUBLED ASSET RELIEF PROGRAM.
DEPARTMENT OF THE TREASURY TAX ADMINISTRATION OFFICE OF THE INSPECTOR GENERAL | DEPARTMENT OF THE TREASURY TAX ADMINISTRATION OFFICE OF THE INSPECTOR GENERAL | ASSISTANT INSPECTOR GENERAL FOR AUDIT, COMPLIANCE AND ENFORCEMENT OPERATIONS. ASSISTANT INSPECTOR GENERAL FOR AUDIT, MANAGEMENT SERVICES AND EXEMPT ORGANIZATIONS.
|  | ASSISTANT INSPECTOR GENERAL FOR AUDIT, MANAGEMENT, PLANNING AND WORKFORCE DEVELOPMENT.
|  | ASSISTANT INSPECTOR GENERAL FOR AUDIT, RETURNS PROCESSING AND ACCOUNTING SERVICES.
|  | ASSISTANT INSPECTOR GENERAL FOR AUDIT, SECURITY AND INFORMATION TECHNOLOGY SERVICES.
|  | ASSISTANT INSPECTOR GENERAL FOR INVESTIGATIONS.
|  | ASSISTANT INSPECTOR GENERAL FOR INVESTIGATIONS-FIELD.
|  | ASSISTANT INSPECTOR GENERAL FOR INVESTIGATIONS, CYBER, OPERATIONS AND INVESTIGATIVE SUPPORT DIRECTORATE.
|  | ASSISTANT INSPECTOR GENERAL FOR INVESTIGATIONS, FIELD DIVISIONS.
|  | ASSISTANT INSPECTOR GENERAL FOR INVESTIGATIONS, THREAT, AGENT SAFETY AND SENSITIVE INVESTIGATIONS DIRECTORATE.
|  | CHIEF COUNSEL.
|  | CHIEF INFORMATION OFFICER.
|  | DEPUTY ASSISTANT INSPECTOR GENERAL FOR INVESTIGATIONS-FIELD.
|  | DEPUTY CHIEF COUNSEL.
|  | DEPUTY INSPECTOR GENERAL FOR AUDIT.
|  | DEPUTY INSPECTOR GENERAL FOR INSPECTIONS AND EVALUATIONS.
|  | DEPUTY INSPECTOR GENERAL FOR INVESTIGATIONS.
|  | DEPUTY INSPECTOR GENERAL FOR MISSION SUPPORT/CHIEF FINANCE OFFICER.
|  | PRINCIPAL DEPUTY INSPECTOR GENERAL.
UNITED STATES AGENCY FOR INTERNATIONAL DEVELOPMENT | OFFICE OF THE GENERAL COUNSEL | ASSISTANT GENERAL COUNSEL, CHIEF INNOVATION COUNSEL. ASSISTANT GENERAL COUNSEL, ETHICS AND ADMINISTRATION.
|  | DEPUTY GENERAL COUNSEL.
| OFFICE OF SECURITY | DIRECTOR, OFFICE OF SECURITY.
| OFFICE OF SMALL AND DISADVANTAGED BUSINESS UTILIZATION | DIRECTOR, OFFICE OF SMALL AND DISADVANTAGE BUSINESS UTILIZATION.
| BUREAU FOR DEMOCRACY, CONFLICT, AND HUMANITARIAN ASSISTANCE | DEPUTY DIRECTOR, OFFICE OF FOREIGN DISASTER ASSISTANCE.
| OFFICE OF BUDGET AND RESOURCE MANAGEMENT | DIRECTOR, BUDGET AND RESOURCE MANAGEMENT.
| BUREAU FOR MANAGEMENT | CHIEF FINANCIAL OFFICER.
|  | CHIEF INFORMATION OFFICER.
|  | DEPUTY ASSISTANT ADMINISTRATOR.
|  | DEPUTY CHIEF FINANCIAL OFFICER.
|  | DEPUTY DIRECTOR, ACCOUNTABILITY, COMPLIANCE, TRANSPARENCY AND SYSTEM SUPPORT.
|  | DEPUTY DIRECTOR, OAA OPERATIONS.
|  | DIRECTOR, OFFICE OF MANAGEMENT, POLICY, BUDGET AND PERFORMANCE.
| HUMAN CAPITAL TALENT MANAGEMENT | CHIEF HUMAN CAPITAL OFFICER.
|  | DEPUTY CHIEF HUMAN CAPITAL OFFICER.
UNITED STATES AGENCY FOR INTERNATIONAL DEVELOPMENT OFFICE OF THE INSPECTOR GENERAL | UNITED STATES AGENCY FOR INTERNATIONAL DEVELOPMENT OFFICE OF THE INSPECTOR GENERAL | ASSISTANT INSPECTOR GENERAL FOR AUDIT. ASSISTANT INSPECTOR GENERAL FOR INVESTIGATIONS. ASSISTANT INSPECTOR GENERAL FOR MANAGEMENT.
|  | COUNSELOR TO THE INSPECTOR GENERAL.
|  | DEPUTY ASSISTANT INSPECTOR GENERAL FOR AUDIT.
|  | DEPUTY ASSISTANT INSPECTOR GENERAL FOR INVESTIGATIONS.
|  | DEPUTY ASSISTANT INSPECTOR GENERAL FOR MANAGEMENT.
|  | DEPUTY INSPECTOR GENERAL.
UNITED STATES INTERNATIONAL TRADE COMMISSION | OFFICE OF THE GENERAL COUNSEL | GENERAL COUNSEL.
| OFFICE OF ADMINISTRATIVE SERVICES | CHIEF ADMINISTRATIVE OFFICER.
| OFFICE OF EXTERNAL RELATIONS | DIRECTOR, OFFICE OF EXTERNAL RELATIONS.
| OFFICE OF OPERATIONS | DIRECTOR OFFICE OF OPERATIONS.
| OFFICE OF ECONOMICS | DIRECTOR OFFICE OF ECONOMICS.
| OFFICE OF INDUSTRIES | DIRECTOR OFFICE OF INDUSTRIES.
| OFFICE OF INVESTIGATIONS | DIRECTOR, OFFICE OF INVESTIGATIONS.
| OFFICE OF TARIFF AFFAIRS AND TRADE AGREEMENTS | DIRECTOR, OFFICE TARIFF AFFAIRS AND TRADE AGREEMENTS.
| OFFICE OF UNFAIR IMPORT INVESTIGATIONS | DIRECTOR, OFFICE OF UNFAIR IMPORT INVESTIGATIONS.
| OFFICE OF THE CHIEF FINANCIAL OFFICER | CHIEF FINANCIAL OFFICER.
| OFFICE OF THE CHIEF INFORMATION OFFICER | CHIEF INFORMATION OFFICER.
| OFFICE OF THE INSPECTOR GENERAL | INSPECTOR GENERAL.
DEPARTMENT OF VETERANS AFFAIRS | OFFICE OF THE SECRETARY AND DEPUTY | DEPUTY EXECUTIVE DIRECTOR, ACCOUNTABILITY AND WHISTLEBLOWER PROTECTION.
|  | DEPUTY EXECUTIVE DIRECTOR, OFFICE OF SMALL AND DISADVANTAGED BUSINESS UTLIZATION.
|  | EXECUTIVE DIRECTOR, OFFICE OF SMALL AND DISADVANTAGED BUSINESS UTILIZATION.
|  | EXECUTIVE DIRECTOR, EMPLOYEE DISCRIMINATION COMPLIANCE.
| OFFICE OF ACQUISITIONS, LOGISITICS AND CONSTRUCTION | ASSOCIATE EXECUTIVE DIRECTOR, ACQUISITION PROGRAM SUPPORT. ASSOCIATE EXECUTIVE DIRECTOR, FACILITIES ACQUISITIONS.
|  | ASSOCIATE EXECUTIVE DIRECTOR, FACILITIES PLANNING.
|  | ASSOCIATE EXECUTIVE DIRECTOR, NATIONAL HEALTHCARE ACQUISITION.
|  | ASSOCIATE EXECUTIVE DIRECTOR, OFFICE OF OPERATIONS.
|  | ASSOCIATE EXECUTIVE DIRECTOR, PROCUREMENT POLICY, SYSTEMS AND OVERSIGHT.
|  | ASSOCIATE EXECUTIVE DIRECTOR, PROGRAMS AND PLANS.
|  | ASSOCIATE EXECUTIVE DIRECTOR, RESOURCE MANAGEMENT.
|  | ASSOCIATE EXECUTIVE DIRECTOR, STRATEGIC ACQUISITION CENTER.
|  | ASSOCIATE EXECUTIVE DIRECTOR, TECHNOLOGY ACQUISITION CENTER.
|  | EXECUTIVE DIRECTOR, CONSTRUCTION AND FACILITIES MANAGEMENT.
|  | EXECUTIVE DIRECTOR, OFFICE OF ACQUISITION AND LOGISTICS.
|  | PRINCIPAL EXECUTIVE DIRECTOR.
| BOARD OF VETERANS' APPEALS | CHIEF COUNSEL, BOARD OF VETERANS; APPEALS. DEPUTY VICE CHAIRMAN.
|  | VICE CHAIRMAN.
| OFFICE OF THE GENERAL COUNSEL | CHIEF COUNSEL. CHIEF COUNSEL COLLECTIONS NATIONAL PRACTICE GROUP.
|  | CHIEF COUNSEL COURT OF APPEALS FOR VETERANS CLAIMS LITIGATION GROUP.
|  | CHIEF COUNSEL HEALTH LAW GROUP.
|  | CHIEF COUNSEL REAL PROPERTY LAW GROUP.
|  | CHIEF COUNSEL, BENEFITS LAW GROUP.
|  | CHIEF COUNSEL, DISTRICT CONTRACTING.
|  | CHIEF COUNSEL, ETHICS LAW GROUP.
|  | CHIEF COUNSEL, INFORMATION LAW GROUP.
|  | CHIEF COUNSEL, LOAN GUARANTY.
|  | CHIEF COUNSEL, PERSONNEL LAW GROUP.
|  | CHIEF COUNSEL, PROCUREMENT LAW GROUP.
|  | CHIEF COUNSEL, SOUTHEAST DISTRICT—NORTH.
|  | CHIEF COUNSEL, TORTS AND ADMINISTRATIVE LAW.
|  | COUNSELOR/ADVISOR.
|  | DEPUTY GENERAL COUNSEL, GENERAL LAW.
|  | DEPUTY GENERAL COUNSEL, LEGAL OPERATIONS.
|  | DEPUTY GENERAL COUNSEL, VETERANS PROGRAMS.
|  | EXECUTIVE DIRECTOR, MANAGEMENT PLANNING AND ANALYSIS.
|  | EXECUTIVE DIRECTOR, OFFICE OF ACCOUNTABILITY REVIEW.
|  | REGIONAL COUNSEL.
|  | SENIOR ADVISOR (STRATEGIC PLANNING).
| OFFICE OF THE ASSISTANT SECRETARY FOR MANAGEMENT | ASSOCIATE DEPUTY ASSISTANT SECRETARY FOR FINANCE, OFFICE OF FINANCE. ASSOCIATE DEPUTY ASSISTANT SECRETARY FOR FINANCIAL BUSINESS OPERATIONS, OFFICE OF FINANCE.
|  | ASSOCIATE DEPUTY ASSISTANT SECRETARY FOR FINANCIAL POLICY, OFFICE OF FINANCE.
|  | ASSOCIATE DEPUTY ASSISTANT SECRETARY FOR FINANCIAL PROCESS IMPROVEMENT AND AUDIT READINESS, OFFICE OF FINANCE.
|  | ASSOCIATE DEPUTY ASSISTANT SECRETARY, BUDGET OPERATIONS.
|  | ASSOCIATE DEPUTY ASSISTANT SECRETARY, PROGRAM BUDGETS.
|  | DEPUTY ASSISTANT SECRETARY FINANCIAL MANAGEMENT BUSINESS TRANSFORMATION, OFFICE OF FINANCE.
|  | DEPUTY ASSISTANT SECRETARY FOR BUDGET.
|  | DEPUTY ASSISTANT SECRETARY FOR FINANCE, OFFICE OF FINANCE.
|  | DEPUTY DIRECTOR, ASSET ENTERPRISE MANAGEMENT.
|  | EXECUTIVE DIRECTOR, ASSET ENTERPRISE MANAGEMENT.
|  | EXECUTIVE DIRECTOR, DEBT MANAGEMENT CENTER.
|  | EXECUTIVE DIRECTOR, FINANCIAL SERVICES CENTER, OFFICE OF FINANCE.
|  | EXECUTIVE DIRECTOR, OFFICE OF ACQUISITION OPERATIONS.
|  | EXECUTIVE DIRECTOR, OFFICE OF BUSINESS OVERSIGHT.
|  | PRINCIPAL DEPUTY ASSISTANT SECRETARY FOR MANAGEMENT.
| OFFICE OF HUMAN RESOURCES MANAGEMENT | ASSOCIATE DEPUTY ASSISTANT SECRETARY FOR HUMAN RESOURCES MANAGEMENT.
|  | EXECUTIVE DIRECTOR FOR LABOR MANAGEMENT RELATIONS.
| OFFICE OF RESOLUTION MANAGEMENT | DEPUTY ASSISTANT SECRETARY FOR RESOLUTION MANAGEMENT.
| OFFICE OF CORPORATE SENIOR EXECUTIVE MANAGEMENT | EXECUTIVE DIRECTOR.
| OFFICE OF THE ASSISTANT SECRETARY FOR INFORMATION AND TECHNOLOGY | CHIEF FINANCIAL OFFICER. CHIEF FINANCIAL OFFICER, INFORMATION TECHNOLOGY BUDGET AND FINANCE. DEPUTY CHIEF INFORMATION OFFICER.
|  | DEPUTY CHIEF INFORMATION SECURITY OFFICER.
|  | EXECUTIVE DIRECTOR, FIELD SECURITY SERVICE.
|  | EXECUTIVE DIRECTOR, INFORMATION SECURITY POLICY AND STRATEGY.
|  | EXECUTIVE DIRECTOR, INFRASTRUCTURE OPERATIONS.
|  | EXECUTIVE DIRECTOR, PRIVACY.
|  | EXECUTIVE DIRECTOR, SECURITY OPERATIONS.
| NATIONAL CEMETERY ADMINISTRATION | DEPUTY UNDER SECRETARY FOR FINANCE AND PLANNING/CFO.
| VETERANS BENEFITS ADMINISTRATION | CHIEF FINANCIAL OFFICER. DEPUTY CHIEF FINANCIAL OFFICER.
|  | DEPUTY EXECUTIVE DIRECTOR FOR POLICY AND PROCEDURES.
|  | DEPUTY EXECUTIVE DIRECTOR FOR OPERATIONS.
|  | EXECUTIVE DIRECTOR, LOAN GUARANTY SERVICE.
|  | EXECUTIVE DIRECTOR, OFFICE OF PERFORMANCE ANALYSIS AND INTEGRITY.
| VETERANS HEALTH ADMINISTRATION | ASSOCIATE CHIEF FINANCIAL OFFICER. ASSOCIATE CHIEF FINANCIAL OFFICER FOR MANAGERIAL COST ACCOUNTING.
|  | ASSOCIATE CHIEF FINANICAL OFFICER, FINANCIAL MANAGEMENT AND ACCOUNTING SYSTEMS.
|  | CHIEF COMPLIANCE AND BUSINESS INTEGRITY OFFICER.
|  | CHIEF FINANCIAL OFFICER.
|  | CHIEF OPERATING OFFICER VETERANS CANTEEN SERVICE.
|  | CHIEF PROCUREMENT AND LOGISTICS OFFICER.
|  | DEPUTY CHIEF FINANCIAL OFFICER.
|  | DEPUTY CHIEF PROCUREMENT OFFICER.
|  | DIRECTOR SERVICE AREA OFFICE (CENTRAL).
|  | DIRECTOR, SERVICE AREA OFFICE (EAST).
|  | DIRECTOR, SERVICE AREA OFFICE (WEST).
|  | EXECUTIVE DIRECTOR VETERANS CANTEEN SERVICE.
| MEDICAL CENTER DIRECTORS | MEDICAL CENTER DIRECTOR (ADVISORY).
| OFFICE OF OPERATIONS, SECURITY AND PREPAREDNESS | ASSOCIATE DEPUTY ASSISTANT SECRETARY, EMERGENCY MANAGEMENT AND RESILIENCE. EXECUTIVE DIRECTOR FOR SECURITY AND LAW ENFORCEMENT.
|  | EXECUTIVE DIRECTOR, OFFICE OF PERSONNEL SECURITY AND IDENTITY MANAGEMENT.
|  | PRINCIPAL DEPUTY ASSISTANT SECRETARY, OPERATIONS, SECURITY AND PREPAREDNESS.
DEPARTMENT OF VETERANS AFFAIRS OFFICE OF THE INSPECTOR GENERAL | IMMEDIATE OFFICE OF THE INSPECTOR GENERAL | CHIEF OF STAFF FOR HEALTHCARE OVERSIGHT INTEGRATION. COUNSELOR TO THE INSPECTOR GENERAL.
|  | DEPUTY COUNSELOR TO THE INSPECTOR GENERAL.
|  | DEPUTY INSPECTOR GENERAL.
| OFFICE OF THE ASSISTANT INSPECTOR GENERAL FOR INVESTIGATIONS | ASSISTANT INSPECTOR GENERAL FOR INVESTIGATIONS. DEPUTY ASSISTANT INSPECTOR GENERAL FOR INVESTIGATIONS (FIELD OPERATIONS).
|  | DEPUTY ASSISTANT INSPECTOR GENERAL FOR INVESTIGATIONS (HEADQUARTERS OPERATIONS).
| OFFICE OF THE ASSISTANT INSPECTOR GENERAL FOR AUDITS AND EVALUATIONS | ASSISTANT INSPECTOR GENERAL FOR AUDITS AND EVALUATIONS. DEPUTY ASSISTANT INSPECTOR GENERAL FOR AUDITS AND EVALUATIONS (FIELD OPERATIONS).
|  | DEPUTY ASSISTANT INSPECTOR GENERAL FOR AUDITS AND EVALUATIONS (HEADQUARTERS MANAGEMENT AND INSPECTIONS).
| OFFICE OF THE ASSISTANT INSPECTOR GENERAL FOR MANAGEMENT AND ADMINISTRATION | ASSISTANT INSPECTOR GENERAL FOR MANAGEMENT AND ADMINISTRATION. DEPUTY ASSISTANT INSPECTOR GENERAL FOR MANAGEMENT AND ADMINISTRATION.
| OFFICE OF THE ASSISTANT INSPECTOR GENERAL FOR HEALTHCARE INSPECTIONS | ASSISTANT INSPECTOR GENERAL FOR HEALTHCARE INSPECTIONS. DEPUTY ASSISTANT INSPECTOR GENERAL FOR HEALTHCARE INSPECTIONS.
|  | DEPUTY ASSISTANT INSPECTOR GENERAL FOR HEALTHCARE INSPECTIONS (CLINICAL CONSULTATION).

Authority: 5 U.S.C. 3132.

Office of Personnel Management.
Alexys Stanley,
Regulatory Affairs Analyst.

[FR Doc. 2020-02924 Filed 2-18-20; 8:45 am]

BILLING CODE 6325-39-P